DEPARTMENT OF HOMELAND SECURITY

Coast Guard

33 CFR Parts 1, 20, 70, 95, 101, 110, 141, 155, 156, 160, 162, 163, 164, and 165

46 CFR Parts 1, 4, 5, 10, 11, 12, 13, 14, 15, 16, 26, 28, 30, 31, 35, 42, 58, 61, 78, 97, 98, 105, 114, 115, 122, 125, 131, 151, 166, 169, 175, 176, 185, 196, 199, 401 and 402

Docket No. USCG-2006-24371

RIN 1625-AB02

Consolidation of Merchant Mariner Qualification Credentials

AGENCY: United States Coast Guard, DHS.

ACTION: Supplemental notice of proposed rulemaking.

SUMMARY: The Coast Guard issues this Supplemental Notice of Proposed Rulemaking (SNPRM) for the Consolidation of Merchant Mariner Qualification Credentials rulemaking project to amend its Notice of Proposed Rulemaking (NPRM) published in May 2006. The purpose of this SNPRM is to address comments received from the public on the NPRM, revise the proposed rule based on those comments, and provide the public with an additional opportunity to comment on the proposed revisions. This revised proposed rule would work in tandem with the joint final rule published by the Coast Guard and the Transportation Security Administration (TSA) published elsewhere in today's Federal Register entitled “Transportation Worker Identification Credential (TWIC) Implementation in the Maritime Sector; Hazardous Materials Endorsement for a Commercial Driver's License”.

DATES: Comments and related material must reach the Docket Management Facility on or before April 25, 2007.

ADDRESSES: You may submit comments identified by Coast Guard docket number USCG-2006-24371 to the Docket Management Facility at the U.S. Department of Transportation. To avoid duplication, please use only one of the following methods:

(1) Web Site: http://dms.dot.gov.

(2) Mail: Docket Management Facility, U.S. Department of Transportation, 400 Seventh Street SW., Room PL-401, Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

See SUPPLEMENTARY INFORMATION for format and other information about comment submissions.

FOR FURTHER INFORMATION CONTACT: For questions concerning this proposed rule, call Mr. Luke Harden (G-PSO-1), United States Coast Guard, 2100 Second Street, SW., Washington, DC 20593; telephone 1-877-687-2243.

For questions concerning viewing or submitting material to the docket, call Renee V. Wright, Program Manager, Docket Management System, U.S. Department of Transportation, Room Plaza 401, 400 Seventh Street SW., Washington, DC 20590-0001; telephone (202) 493-0402.

SUPPLEMENTARY INFORMATION:

Table of Contents

I. Public Participation and Request for Comments

II. Background and Purpose

III. Discussion of the Proposed Rulemaking

IV. Quick Summary of Differences Between this SNPRM and the Current Regulations

V. Discussion of Comments and Changes

A. Comments From the Docket or Public Meetings

1. Comments Regarding TWIC

2. General Objections to the Rulemaking

3. Course of the Rulemaking

4. Appeals

5. Applicability

6. Application Process

7. Authority

8. Burden

9. Citizenship

10. Concurrent Processing of Applications

11. Continuity Licenses

12. Definitions

13. Editing

14. Expiration dates

15. Format of the MMC

16. General

17. International Agreements

18. Information Sharing

19. Interim Credentials

20. Invalid Credentials

21. License Creep

22. Loss of License as Separate Credential

23. Medical

24. National Driver Register

25. Port Access

26. Posting

27. Preemption

28. Personal Privacy

29. Public Meetings

30. Regulatory Requirements

31. Renewals and Duplicates

32. Suspension and Revocation

33. Safety and Suitability

34. Miscellaneous Comments Outside the Scope of this Rulemaking

35. Support for the Rulemaking

36. Travel

37. Vetting

B. Recommendations from Advisory Committees

1. MERPAC strongly recommends that TSA remove mariners from the TWIC project.

2. Given the size, complexity, and impact of these three rulemaking proposals; MERPAC recommends an extension of the comment period for at least another ninety days.

3. MERPAC recommends that the Coast Guard delay implementation of the MMC, separating the implementation of the MMC from the TWIC implementation.

4. MERPAC believes that this rulemaking exceeds the authority of the Coast Guard to create a consolidated credential.

5. Page 29464 states that there are no changes to the qualifications, experience, examinations, classes and other requirements needed, and that this is just a reorganization of existing regulations.

6. The Coast Guard needs to protect a mariner's financial information by removing the requirement to place the applicants Social Security Number on the face of the form of payment.

7. MERPAC suggests the removal of the language in section 10.211(e).

8. Section 10.217 allows the Coast Guard to designate other Coast Guard locations to provide service to applicants for MMCs, and MERPAC applauds this addition.

9. Section 10.225 states that mariners must surrender their old MMC, but 10.227 states that the mariner can retain an expired document.

10. MERPAC recommends that the Coast Guard create an MMC that is convenient for the mariner.

11. MERPAC recommends that the Coast Guard begin a new rulemaking that would harmonize the criminal background checks with TSA standards.

12. MERPAC recommends that Coast Guard remove the self-disclosure portion of the application process.

13. MERPAC has concerns about the appeal process, and encourages the agencies to further define and explain this process.

14. MERPAC recommends that Coast Guard redesign the rulemaking to assure that mariners can make application for their TWIC and their MMC simultaneously.

15. MERPAC recommends that the Coast Guard and TSA develop an interim clearance process be provided to a mariner, and that mariners be allowed to train and work, while awaiting a final determination.

C. Additional Changes Made in this SNPRM

1. Purpose of rules in this part. (10.101)

2. Definitions in Subchapter B. (10.107)

3. General characteristics of the Merchant Mariner Credential. (10.201)

4. Requirement to hold a TWIC and a Merchant Mariner Credential. (10.203)

5. Validity of a Merchant Mariner Credential. (10.205)

6. General application procedures. (10.209)

7. Criminal record review. (10.211)

8. Medical and physical requirements. (10.215)

9. MMC application and examination locations. (10.217)

10. Fees. (10.219)

11. Citizenship. (10.221)

12. Modification or removal of limitations or scope (10.223)

13. Requirements for originals. (10.225)

14. Requirements for renewal. (10.227)

15. Requirements for raises of grade or new endorsements. (10.231)

16. Obligations of the holder of a Merchant Mariner Credential. (10.233)

17. Suspension or revocation of Merchant Mariner Credentials. (10.235)

18. Right of appeal. (10.237)

19. Quick reference table for MMC requirements. (10.239)

20. Application process

21. Amendatory Instructions

22. Eligibility for officer endorsements, general. (11.201)

23. Identification Credentials for Persons Requiring Access to Waterfront Facilities or Vessels. (33 CFR part 125)

24. Amendments from the TWIC Final Rule. (10.113, 12.01-11 and 15.415)

25. Other Corrections Outside 46 CFR part 10

VI. Regulatory Evaluation

A. Executive Order 12866 (Regulatory Planning and Review)

B. Regulatory Flexibility Act

C. Assistance for Small Entities

D. Collection of Information

E. Executive Order 13132 (Federalism)

F. Unfunded Mandates Reform Act

G. Executive Order 12630 (Taking of Private Property)

H. Executive Order 12988 (Civil Justice Reform)

I. Executive Order 13045 (Protection of Children)

J. Executive Order 13175 (Indian Tribal Governments)

K. Executive Order 13211 (Energy Effects)

L. Technical Standards

M. National Environmental Policy Act

I. Public Participation and Request for Comments

We encourage you to participate in this rulemaking by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2006-24371), indicate the specific section of this document to which each comment applies, and give the reason for each comment. You may submit your comments and material by electronic means, mail, fax, or delivery to the Docket Management Facility at the address under ADDRESSES; but please submit your comments and material only once. If you submit them by mail or delivery, submit them in an unbound format, no larger than 8½ inches by 11 inches, suitable for copying and electronic filing. If you submit them by mail and would like the Coast Guard to acknowledge receipt, please enclose a stamped, self-addressed postcard or envelope. We will consider all comments and material received during the comment period. We may change this proposed rule in view of them.

Viewing comments and documents: To view comments, as well as documents mentioned in this preamble as being available in the docket, go to http://dms.dot.gov at any time, click on “Simple Search,” enter the last five digits of the docket number for this rulemaking [24371], and click on “Search.” You may also visit the Docket Management Facility in Room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement published in the Federal Register on April 11, 2000 (65 FR 19477), or you may visit http://dms.dot.gov.

II. Background and Purpose

On May 22, 2006, the Coast Guard published a Notice of Proposed Rulemaking (NPRM) in the Federal Register titled “Consolidation of Merchant Mariner Qualification Credentials.” (71 FR 29462). The NPRM included a 45-day comment period, and announced four public meetings that were held in Newark, NJ, Tampa, FL, St. Louis, MO, and Long Beach, CA.

During the comment period for the NPRM, the Coast Guard received over 100 requests, both in writing in the docket for this rulemaking and in person at the public meetings, for additional time to comment. These requests came from individuals, large and small businesses, industry organizations, and members of Congress. Among other things, these comments stated that the 45 day comment period did not provide enough time to comment on the NPRM or on the accompanying Transportation Worker Identification Credential (TWIC) Implementation in the Maritime Sector; Hazardous Materials Endorsement for a Commercial Driver's License rule (“TWIC rule”) NPRM published the same day (71 FR 29395). Concerns were raised that the 45 day public review period prevented a thorough analysis of the proposed rulemakings.

After considering these requests, the Coast Guard chose not to extend the comment period on the NPRM, but instead to publish this Supplementary Notice of Proposed Rulemaking (SNPRM). This SNPRM should provide the public with more opportunity to participate in the rulemaking process than would have been provided by an extension of the comment period for the NPRM. This SNPRM addresses those substantive comments received during the NPRM comment period, proposes changes to the regulatory text as a result of those comments, solicits additional input on key points of interest, and most importantly, provides an additional opportunity for the public to comment on these proposed regulatory changes.

Public comment is sought on all proposed regulatory changes, not just those that are newly introduced in this SNPRM. The changes that were proposed in the NPRM were discussed in that document and are not discussed again in the preamble to this SNPRM. The regulatory text at the end of this document reflects the combination of the changes proposed in the NPRM as well as those changes that were made to the NPRM as a result of public comments and additional Coast Guard review. The Coast Guard seeks public comment on the regulatory text provided in this SNPRM, not the text provided in the NPRM. The preamble of the NPRM should be referenced as an aid, however, because it discusses changes that may not have been altered between the NPRM and SNPRM, and it is a useful tool to locate where proposed text originated in our current regulations. Because of the large number of amendatory instructions and numerous changes made to the proposed regulations since the NPRM, to further aid the public's review of this SNPRM, a redline version of the rule text, showing all changes to the text from the NPRM to the SNPRM, is available in the public docket for this rulemaking.

III. Discussion of the Proposed Rulemaking

This rulemaking was precipitated by the promulgation of the Maritime Transportation Security Act (MTSA), which included a requirement in 46 U.S.C. 70105 that the Secretary of the Department of Homeland Security issue a biometric transportation security card to, among others, every “individual issued a license, certificate of registry, or merchant mariners document under part E of subtitle II of this title”. The Secretary designated the TWIC as this biometric security card, and tasked the Transportation Security Administration (TSA) to promulgate regulations implementing TWIC. Similarly, on October 13, 2006, the Security and Accountability for Every Port Act of 2006 (SAFE Port Act) (Pub.L. 109-347) was enacted. Among other things, the SAFE Port Act mandates concurrent processing of a mariner's TWIC and MMD by TSA and the Coast Guard. This mandate was not created for license applicants, however the Coast Guard has voluntarily extended concurrent processing to licenses as well, as discussed below.

TSA, with support from the Coast Guard, published a joint final rule for the TWIC regulatory project elsewhere in today's Federal Register. That final rule sets out the application requirements and implementation schedule for the TWIC. TSA will soon begin issuing the TWIC and will enroll port and vessel employees over a period of 18 months in over 125 TWIC enrollment centers.

All credentialed merchant mariners are required by 46 U.S.C. 70105 and the TWIC rule to apply for and obtain a TWIC. To apply for a TWIC, a mariner must appear in person at a TWIC enrollment center to be fingerprinted, photographed and show proof of identification. The new TWIC application requirements are duplicative for mariners. Currently, all mariners applying for a merchant mariner's document (MMD), merchant mariner's license (license) and/or certificate of registry (COR) must appear in person at a Coast Guard Regional Examination Center (REC) to be fingerprinted by and show proof of identification to an REC employee. The appearance requirement in the TWIC rule is less burdensome on mariners, however, because there will be over 125 TWIC enrollment centers vice the 17 RECs. This rule proposes to remove the requirement that mariners appear at an REC. As proposed in this SNPRM, once a mariner appears in person to apply for their TWIC, they can complete their entire MMC application process by mail unless an examination is required. Also, since TSA will be verifying the identity of and conducting a security threat assessment for all TWIC applicants, this rulemaking also proposes to remove the Coast Guard security and identity vetting requirements for mariners. This proposed rulemaking would remove those application requirements made duplicative by the TWIC rule.

The creation of the TWIC requirement increases the number of credentials that a mariner may be required to carry to five. To streamline the process and lessen the number of credentials that a mariner must carry, this rulemaking proposes to consolidate the license, MMD, COR and STCW endorsement into one credential, called the Merchant Mariner Credential (MMC). The MMC would be issued to every qualified mariner and would contain the mariner's photograph and other identity information currently shown on the MMD as well as endorsements reflecting the individual's particular job qualifications. The mariner's job qualifications would appear in the form of endorsements on the MMC. Endorsements currently associated with a License or COR would be referred to as officer endorsements, those currently provided on the MMD would be referred to as rating endorsements, and those currently appearing on the STCW endorsement would continue to be referred to as STCW endorsements. A full list of the available endorsements is provided in proposed 46 CFR 10.109. If this rulemaking goes into effect, mariners would hold two separate, but linked credentials: a TWIC as the MTSA-required biometric security card, and the MMC as the consolidated qualification credential for merchant mariners.

To consolidate the merchant mariner qualification documents into one, it is necessary to consolidate the Coast Guard's application and procedural regulatory requirements for MMDs, licenses, CORs and STCW endorsements that are currently contained in 46 CFR parts 10 and 12. As proposed in this rulemaking, part 10 would contain only those application and procedural requirements necessary to obtain the MMC for all applicants. Those requirements for licenses, that are currently in part 10 but are not directly applicable to all credential applicants, have been moved to create a new part 11. Part 12 would continue to hold only those requirements exclusive to ratings that do not directly apply to the procedures for application.

In this proposed rulemaking, although there are a large number of terminology changes proposed throughout titles 33 and 46 CFR, almost all of the proposed substantive changes were made in part 10. The large number of changes outside part 10 contain mostly editorial changes, removing references to the terms “license”, “MMD”, “COR”, “certificate”, “document”, etc that would no longer be appropriate, and replacing them with the terms “MMC”, “credential”, “endorsement”, “officer endorsement”, “rating endorsement”, etc. as appropriate.

Throughout this rulemaking, where possible, existing regulatory language was retained to minimize changes to the qualifications, experience, examinations, classes and other requirements needed to serve as a merchant mariner. At times, however, it was necessary to make substantive changes to the regulatory text in order to consolidate the application requirements for ratings and officers, or to simplify the application process.

The regulatory changes proposed in this SNPRM are intended to serve as a benefit to merchant mariners. This rulemaking is intended to take advantage of the TWIC requirement, and use it to reduce the travel burden on mariners and consolidate the credentialing process. It is not only expected to reduce the financial burden on mariners by removing the requirement that they travel to one of 17 Coast Guard RECs, but also improve clarity, reduce the processing time currently creating backlogs at the RECs, and reduce the number of fees paid to the Coast Guard by mariners.

If the regulatory changes proposed in this SNPRM are made final, it is not expected that they would become effective until approximately August, 2008. The delay in effectiveness coincides with the TWIC roll out schedule and is necessary to allow all mariners to obtain a TWIC before it is a prerequisite for the MMC. In addition, it allows for the construction and testing of the system that would transmit all applicants' personal data from TSA to the Coast Guard.

IV. Quick Summary of Differences Between This SNPRM and the Coast Guard's Current Regulations

This list is not intended to include every proposed change to the regulations, but provides a quick reference summary of some of the most important changes proposed.

General

• Creates the merchant mariner credential (MMC), which would contain the elements of the MMD, license, COR and STCW endorsement, reducing the total number of credentials a mariner could be required to hold to two: The MMC and the TWIC.

• Phases in the MMC over a period of five years to begin approximately August 2008.

• Transfers the security and identity vetting portion of the merchant mariner credentialing process entirely to TSA.

• Provides a complete list of officer, rating and STCW endorsements that a mariner could have on their MMC.

• Reorganizes 46 CFR parts 10 and 12, and adds a new part 11.

• Combines the definitions for Subpart B in part 10, with the exception of those in part 16.

• Makes non-substantive, linguistic changes throughout titles 33 and 46 of the CFR to reflect the new MMC, endorsements, and TWIC.

Fees

• Reduces the number of $45 issuance fees a mariner would have to pay.

• Includes a credit card as an acceptable method of payment.

• Removes the requirement that a full social security number be written on the face of all checks and money orders.

Application Process

• Requires an applicant to apply for a TWIC before they can apply for an MMC, but the applications may be processed simultaneously.

• Requires that an applicant must hold a TWIC before an MMC will be issued.

• Provides that an applicant's fingerprints, photograph, proof of citizenship and, if applicable, FBI number, criminal record, and/or proof of legal resident alien status will be received by the Coast Guard from TSA, not directly from the applicant.

Travel

• Removes the requirement for mariners to appear in person at a Coast Guard REC to be fingerprinted by, and show proof of identification to, an REC employee.

• Allows mariners to apply for an MMC entirely by mail unless an examination is required.

• Allows oaths to be taken by a notary and submitted by mail.

• Creates the ability for the Coast Guard to designate other facilities, in addition to RECs, to provide MMC services to applicants.

Citizenship

• Revises the regulations to clearly state that cadets at the United States Merchant Marine Academy are allowed to receive MMCs regardless of citizenship or alien status. This is a statutory requirement and is currently done under our regulations, but is not expressly stated.

Criminal Record Review

• Removes the criminal record review requirement for duplicates.

• Changes the Coast Guard criminal record review to remove crimes against national security.

Medical and Physical Requirements

• Resolves contradictory requirements for those who may currently perform exams for MMDs and licenses, and adds licensed nurse practitioners to the list of those who may perform, witness or review mariner tests, exams or demonstrations.

• Restates the requirement that pilots and those serving as pilots submit their annual physical to the Coast Guard, previously implemented through a Federal Register Notice.

• Restates the requirement that pilots and those serving as pilots submit their annual chemical test for dangerous drugs to the Coast Guard, previously implemented through a Federal Register notice.

• Clarifies the requirements for demonstrations of physical ability.

• Clarifies the STCW physical requirements for those mariners who would serve on vessels to which STCW applies.

• Requires hearing tests when the medical practitioner conducting the general medical exam has concerns that an applicant's ability to hear may impact maritime safety.

• Adds specifics about the hearing tests to provide information for medical professionals and applicants.

• Requires a demonstration of physical ability if the medical practitioner conducting the general medical exam is concerned that an applicant's physical ability may impact maritime safety, or if the mariner must pass a demonstration of physical ability but not a general medical exam.

• Specifies that if a state license issued to a medical doctor or professional nurse contains limitations, any staff officer endorsement issued will reflect the same limitation.

Expiration Dates

• Consolidates all expiration dates into one so that mariners do not have multiple qualification credentials or endorsements expiring on multiple days. (However, the TWIC and MMC expiration dates need not match.)

Memorabilia

• Requires mariners to return MMCs to the Coast Guard upon expiration, issuance of a duplicate and issuance of a renewal, but if the mariner submits a written request with their credential, the Coast Guard will return the cancelled MMC to the mariner.

Duplicates

• Requires proof that a mariner holds a valid TWIC before a duplicate MMC will be issued.

• Provides that during the five year phase in of the MMC, if a mariner requests a duplicate of their MMD, COR, STCW endorsement or license, the duplicate will be issued in the form of an MMC.

Renewal

• Removes the 1 year limitation on renewals.

• Introduces the Document of Continuity to replace the continuity endorsement placed on a license or MMD. The Document of Continuity would have no expiration date or fee unlike the current continuity endorsement.

Suspension, Revocation, and Appeal

• Includes failure to hold a TWIC as a basis for suspension and revocation of a mariner's MMC, MMD, license, COR and/or STCW endorsement.

• States that a mariner who has either been denied issuance of a TWIC or whose TWIC has been revoked by TSA will be deemed by the Coast Guard to be a security risk.

• Advises that the Coast Guard will not review TSA decisions to deny or revoke a TWIC.

V. Discussion of Comments and Changes

As discussed above, the Coast Guard conducted four public meetings for this rulemaking. We also received over 200 documents in the written docket. The Towing Safety Advisory Committee (TSAC) and the Merchant Marine Personnel Advisory Committee (MERPAC) were also asked to provide recommendations to the Coast Guard on the NPRM (USCG-2006-24371). This section addresses those comments and recommendations received.

A. Comments From the Docket or Public Meetings

The following comments were either submitted in writing to the docket for the MMC NPRM or orally at one of the four public meetings. All written comments received and transcripts from the public meetings are available for inspection in the public docket for this rulemaking.

1. Comments Regarding TWIC

We received numerous comments to the docket regarding the TWIC. Because this rulemaking project has its own docket number (USCG-2006-24371) and the TWIC rulemaking project has two dockets, one for the Coast Guard portion (USCG-2006-24196) and one for the TSA portion (TSA-2006-24191), there were three dockets in which the public could comment. Most commenters submitted their comments to both rulemaking projects in one document, submitted to all three dockets. Comments regarding the TWIC rulemaking are inappropriate for discussion in this rulemaking. They are not addressed in this SNPRM, but are addressed in the TWIC final rule.

2. General Objection to the Rulemaking

We received six comments generally objecting to the NPRM that did not provide enough specificity for individual response. We do not agree with these comments, and are proceeding with this SNPRM.

3. Course of the Rulemaking

We received one comment recommending that the Coast Guard proceed with an Interim Rule rather than a Final Rule, two comments recommending that we go forward with a SNPRM and four comments requesting that the Coast Guard withdraw the rulemaking and propose an alternative.

We agree with the two comments that sought an SNPRM, and as previously discussed, this SNPRM provides a 90 day comment period to allow for public comment on our revised proposed rule. An Interim Rule would be inappropriate at this time as Interim Rules would not allow us to take into account the comments received by the public before becoming effective and they typically become effective upon publication, or soon thereafter. This SNPRM proposes that these regulatory changes not go into effect until approximately August 2008. This delay will allow the Coast Guard to accept and apply additional public comments before the proposed regulations go into effect as well as provide all mariners ample time to obtain TWICs before making the TWIC mandatory for issuance of the MMC. As for withdrawing the rulemaking, the Coast Guard believes that this rulemaking is beneficial and is opposed to withdrawal.

4. Appeals

We received seven comments either requesting a clarification of the appeal process for TWICs and MMCs, or requesting that an appeal process be created. We also received 12 comments asking that an Administrative Law Judge review the appeals on rejection of the TWIC, and/or expressing displeasure over the automatic loss of the MMC if a mariner's TWIC is revoked.

An individual who is denied a TWIC should not be working as a credentialed merchant mariner. According to the language of 46 U.S.C. 70105, a TWIC will be issued to an individual unless that individual poses a security risk. 46 U.S.C. 7703 and 7702, which provide for the suspension or revocation of mariner credentials, state that a mariner's credential may be suspended or revoked if the holder is a security risk who poses a threat to the safety or security of a vessel or to a public or commercial structure located within or adjacent to the marine environment. Allowing the Coast Guard to suspend or revoke a mariner's MMC or other credential for failure to hold a valid TWIC, is therefore, necessary and appropriate. The Coast Guard has determined, however, that automatically invalidating a mariner's credential upon notification from TSA that a mariner's TWIC has been revoked, or that their application has been denied, without a hearing, is improper. The language of 46 CFR 10.203(b) has been changed to remove the automatic invalidation.

If an MMC is issued, unless the situation calls for temporary suspension under 46 U.S.C. 7702, or the circumstances call for suspension and revocation for a reason other than security, the Coast Guard would not begin suspension and revocation proceedings until we were notified that the applicant had fully exhausted his or her TSA appeal rights. If the Coast Guard is notified by TSA that final agency action has occurred and a mariner has either been denied a TWIC or their TWIC has been revoked, the Coast Guard would begin suspension and revocation action against the individual's MMC. The suspension and revocation procedures for the MMC would remain the same as those presently used. The Coast Guard will not review a TSA decision regarding the issuance or revocation of a TWIC. Decisions regarding the issuance and revocation of TWICs are solely the responsibility of TSA. The Coast Guard does not have the authority to review, in any way, TSA decisions with respect to the issuance or revocation of TWICs. Language to this effect has been added to the proposed regulations in this SNPRM at 46 CFR 10.235(g) and 10.237(c).

The appeal processes for the MMC would remain the same as those presently used; the right of appeal for an applicant receiving an unfavorable decision during the application process remains in 46 CFR 1.03. The right of appeal associated with suspension and revocation remains as stated in 46 CFR 5.701. The proposed regulations have retained the paper appeal process for the Coast Guard's refusal to issue an MMC. Similarly, if a mariner is issued a license or document, he or she would be a “holder” of that license or document, and would be given a hearing before an Administrative Law Judge (ALJ) before adverse action, such as suspension and revocation, would be taken against that credential.

All appeals regarding the issuance or revocation of TWICs would be handled by TSA under the TWIC appeal process. That process involves a paper appeal for all denials, and the use of an ALJ for appeals of waiver decisions. For more information on the TWIC appeal process, please see the TWIC Final Rule published elsewhere in today's Federal Register.

5. Applicability

We received six comments opposing the proposed regulatory requirement that all merchant mariners hold a TWIC. Exemptions were requested for cadets, entry level ratings, officers serving aboard vessels that do not need a vessel security plan, and captains of Subchapter T (46 CFR parts 175 to 185) or smaller vessels.

The requirement for all credentialed mariners to hold a TWIC is contained in 46 U.S.C. 70105 and implemented in the TWIC final rule published elsewhere in today's Federal Register. By the terms of that statute, all mariners issued a credential under part E of subtitle II of Title 46 U.S.C. (currently the MMD, license and COR, and if this proposed rule becomes effective, the MMC), as well as all individuals seeking unescorted access to secure areas of 33 CFR Subchapter H vessels or facilities must obtain a TWIC. This is a statutory requirement imposed by Congress that the Coast Guard cannot alter through regulation. In addition to the statutory mandate, exempting classes of credentialed mariners from the TWIC requirement would be problematic because it would exempt those individuals from the identity and security review which would no longer be performed by the Coast Guard. No changes have been made in this SNPRM to exempt certain classes of mariners from the TWIC or MMC requirements.

One comment requested clarification on how the proposed 46 CFR 10.211 would affect requirements in section 312 of the Coast Guard and Maritime Transportation Act of 2006 that allow foreign riding gangs for 60 days at a time.

Section 10.211 discusses the criminal record review process for the MMC. If the foreign riding gangs are currently required to obtain a U.S. MMD, license, COR or STCW endorsement, they would be required to obtain an MMC. This includes passing all requirements for the MMC, including the criminal record review, citizenship and TWIC requirements. This proposed regulation would not change the population of people who must obtain a mariner credential.

One comment requested clarification on how 46 CFR 10.211 would affect foreign security teams who are not mariners, but provide security services on U.S.-flagged vessels and need unescorted access on the vessel.

Generally, individuals who are not merchant mariners and are not currently required to hold a MMD, license, COR or STCW endorsement would not be required to get an MMC. The MMC merely changes the form in which the MMD, license, COR and STCW endorsements appear by consolidating them into one document. Anyone who currently has to hold one or more of those credentials would be required to hold an MMC. Individuals who are not required to get an MMC will not be required to undergo the criminal record review set out in section 10.211. More specifically, individuals who are engaged, employed, or serve on board a vessel of at least 100 gross tons, as measured under 46 U.S.C. 14502, or an alternate tonnage measured under section 14302 (except as set out in 46 U.S.C. 8701(a)) are currently required to obtain an MMD. In general this is interpreted by the Coast Guard to mean that any individual engaged or employed in the business of the ship, or a person whose efforts contribute to accomplishing the ships' business whether or not the person is involved with the operation of the vessel, must obtain an MMD, and therefore would be required to obtain an MMC. For additional information on the requirements for seamen on U.S. documented vessels and foreign vessels within U.S. jurisdiction, see Commandant Instruction M16000.8B, Marine Safety Manual Volume III, chapter 20, section E.

6. Application Process

We received one comment regarding the complexity of the application process and requesting that it be streamlined. We received eight comments that this rulemaking will hurt the ability of industry to recruit and retain qualified mariners.

The Coast Guard believes that the consolidation of the 46 U.S.C., subtitle II, part E credentials and the removal of the requirement that mariners travel to one of the 17 REC locations will serve as a benefit to mariners, and therefore, aid the industry's ability to recruit and retain employees. This rulemaking seeks to streamline the application process by removing the appearance requirement; through the consolidation and clarification of existing requirements; by reducing the number of issuance fees that must be paid to the Coast Guard; and through the sharing of information between TSA and the Coast Guard.

This proposed rulemaking should remove duplication of effort by the government and applicants resulting in a cost savings. The requirement that all merchant mariners obtain a TWIC, and the cost and burden associated with that requirement, is contained in the TWIC final rule which is published elsewhere in today's Federal Register and will go into effect even before the comment period on this SNPRM will close. If you believe that the regulatory changes in this proposed rulemaking, not the TWIC rulemaking, will add a burden, or will limit your ability to recruit and retain qualified mariners, please submit a comment to the docket explaining your concerns in detail.

Two comments requested a web-based application process and tracking.

This is something that the Coast Guard is contemplating. Although such a process is not in place at this time, 46 CFR 10.209(d) as currently proposed would support such an option, as it states that the written portion of the application may be submitted by mail, fax, “or other electronic means.”

One comment sought a single application process for the TWIC and MMC and another comment sought a more streamlined process stating “there is nearly a 50 percent failure rate in applying for the MMD due to multiple forms and information”. Finally, there were four comments received that were concerned that the consolidation would result in an increase in paperwork.

We acknowledge that the new requirement to apply for a TWIC will result in an increase in the overall number of applications that must be submitted by mariners because they will need to submit an application for the TWIC and a separate application for the MMC. We are making every feasible attempt to reduce the burden on applicants from the requirement added by the TWIC rule. Because TSA will share the fingerprint, photograph, proof of citizenship and, if applicable, FBI number, criminal record and/or proof of legal resident alien status with the Coast Guard, we propose to remove the requirement that all merchant mariners travel to one of 17 RECs. Instead, the proposed regulation would allow mariners to apply for the MMC by mail after applying for a TWIC and visiting one of the approximately 125 TWIC enrollment centers located throughout the country. The restructuring of the merchant mariner credentialing process is an ongoing and incremental process. This proposed consolidation of credentials and the associated TWIC rulemaking are only a small piece in the envisioned effort. The restructuring of the National Maritime Center (NMC), the publishing of additional Navigation and Vessel Inspection Circulars (NVICs), guidance documents, and future rulemaking projects are all intended to improve and streamline the merchant mariner credentialing process, reduce the review periods, and lower the application failure rate.

It is not feasible at this time for TWIC enrollment centers to receive and analyze the safety and suitability information necessary to determine whether a mariner should be issued an MMC. The Coast Guard is cooperating with TSA to shift the responsibility for reviewing the identification and security threat portion of the application for MMCs from the Coast Guard to TSA. However, because more than identity and security related issues are involved with merchant mariner credentialing, the Coast Guard will remain in control of those portions of the evaluation that address whether an individual is a safe and suitable person who should be authorized to serve in the merchant marine. Maintenance of the merchant marine is an area in which the Coast Guard has a long-standing history of regulation, and is one which we are inherently more qualified to manage. On the other hand, the security of our nation's transportation industry is the statutory responsibility of TSA, and should not be taken over by the Coast Guard. The creation of an identification credential which could span all sectors of the transportation industry is outside the scope of Coast Guard responsibility and expertise. The TWIC is best left in the hands of TSA with Coast Guard assistance with respect to vessels, ports, and merchant mariners. Due to the vastly different purpose and need associated with the TWIC and the MMC, the Coast Guard and TSA have opted not to consolidate their application processes and reviews into one.

One comment was received that sought walk-in service at the RECs, not only a mail submission process.

Mariners will have the option of submitting their MMC application entirely by mail, and would not be required to visit one of the 17 RECs unless an examination is required for the endorsement they seek. Some endorsements require written examination as currently provided in 46 CFR 10.901 (proposed § 11.901, in this SNPRM). The RECs, however, will remain open and accessible to mariners for purposes other than the examinations. Mariners will still be able to walk into an REC to submit their applications in person, ask questions, and seek in-person guidance.

We received one comment that mariners will be required to hold both an MMD and a TWIC until the phase-in period is complete.

While this is true, it is temporary and necessary in order to facilitate a smooth transition while reducing the burden on mariners as much as possible. The Coast Guard is honoring the five year validity period of a mariner's current MMD, license, COR or STCW endorsement to meet our statutory obligations under 46 U.S.C. 7107 and 7302, as well as prevent mariners from undergoing an unnecessary early renewal. The MMC will be phased in over a five-year period, because it will be issued as mariners' current credentials expire.

During the five-year phase-in period of the MMC, when a mariner's MMD expires, he or she will apply for an MMC, not another MMD. The Coast Guard envisions that we will begin issuing MMCs exclusively once the TWIC becomes mandatory for all mariners. According to the TWIC implementation schedule, the TWIC will be phased in over an 18 month period, during which time individuals will be enrolled in the TWIC program at locations across the country. Although other vessel/facility workers are required to apply for a TWIC during their particular vessel/facility's scheduled enrollment period, merchant mariners are allowed to visit any of the TWIC enrollment centers at any time during the 18 month initial enrollment period. It is important to note, however, that vessels or facilities may begin to use the TWIC for access control once enrollment has been completed in their geographic location. Because mariners are inherently mobile, they may need to visit one of the vessels or facilities that have begun requiring the TWIC for access control before the end of the 18 month period. An interim measure has been created in the TWIC rule that will give mariners access to secure areas of 33 CFR Subchapter H regulated vessels and facilities with their MMD, or their license or COR and a valid photo ID until full TWIC enrollment has been completed.

The Coast Guard does not envision that this rule will become effective until TWICs are mandatory for all credentialed mariners. Because the Coast Guard will continue to issue MMDs, licenses, CORs and STCW endorsements under our current regulations until this rule becomes effective, for up to five years after the TWIC becomes mandatory individuals holding MMDs will also hold a TWIC until their MMD expires. The TWIC is an identity credential that Congress made mandatory for all merchant mariners as well as those seeking unescorted access to secure areas of 33 CFR Subchapter H regulated vessels and facilities. It does not contain the rating endorsements that appear on the MMD. Conversely, the MMD does not contain the electronic biometric information found on the TWIC, and does not satisfy the goal of having one unique credential for unescorted access. Until an MMC is issued containing the mariner's rating information, mariners will have to hold both a TWIC and an MMD.

In this SNPRM the Coast Guard is proposing to begin issuing MMCs in approximately August 2008. This 20 month delay coincides with the completion of the TWIC initial enrollment period. It is possible that the Coast Guard could begin issuing mariner credentials in the form of MMCs within the TWIC enrollment period if the credentialing material and production machinery is available before that time. In addition, it is possible that the Coast Guard and TSA could begin sharing application information before August 2008 if the technology infrastructure has been established and fully tested before that date.

7. Authority

We received 20 comments alleging that the Coast Guard lacks the legal authority to consolidate the MMD, COR and license into the MMC. More specifically, 13 of these 20 comments focused on the authority to change licenses to officer endorsements. We received one additional comment that claimed the Coast Guard is “attempting a regulatory short cut” through this regulation rather than through a legislative change proposal.

The proposed change will not affect the legal standing of merchant marine officers. Section 10.201 in the proposed rulemaking describes the characteristics and purpose of the MMC, explaining that it combines the elements of the MMD, COR, license and any other required endorsements (such as STCW) into a single document. This is a valid exercise of the Coast Guard's broad authority under 46 U.S.C. Part E. With respect to licenses, 46 U.S.C. 7101 provides the Coast Guard authority to issue licenses to various classes of qualified applicants. The Code is not specific regarding the required form of the mariner's credentials, including the license, allowing the Coast Guard to exercise discretion through the rulemaking process.

“Merchant Mariner Credential” is merely the term used to describe the document issued by the Coast Guard that incorporates the mariner's license with the MMD and other endorsements into one; with endorsements listed on it depending on the mariner's qualifications. The term “Officer Endorsement” is merely the term used to describe the qualifications of the mariner which are defined as licenses in the current regulations. The mariner's actual capacity to serve in the merchant marine as specified by the endorsements on his or her MMC is unchanged by this proposed rulemaking.

8. Burden

We received 17 comments that generally objected to the additional cost associated with this rulemaking, three comments that objected to the regulatory burden on mariners and one comment that complained of duplicative fees and costs to mariners. We received six comments that these proposed rules will seriously burden the operation of U.S.-flagged vessels and mariners without providing a genuine increase in security. We received three comments that the TWIC and MMC program costs would affect U.S. commerce negatively.

The Coast Guard disagrees with these comments. This proposed rule should neither create an additional cost or burden on mariners or U.S.-flagged vessels, nor should it negatively affect U.S. commerce. This rulemaking is intended to reduce the burdens on mariners and streamline the credentialing process. It should have little or no effect on the operation of U.S.-flagged vessels or U.S. commerce as these vessels are already required to hire only properly qualified and credentialed merchant mariners. If a mariner must currently hold a MMD, license, COR or STCW endorsement, he or she will be required to get an MMC in lieu of the MMD, license, COR or STCW endorsement. It does not add to, or subtract from, the population of mariners who would need to apply for credentials. It should not have a negative impact on employers, and if anything, it should be seen as a benefit because mariners would no longer need to take time away from work to travel to an REC to apply for their credential. In addition, the determination of security risk associated with the TWIC is no more stringent than that analysis currently employed for any of those four current credentials. Mariners should actually see at least two tangible benefits from this rule: (1) A reduction in issuance fees for those holding multiple mariner credentials; and (2) the reduction of the cost and burden associated with the requirement to travel to an REC.

It is important to note that although this rule relies upon the TWIC rule to function properly, it is separate and distinct from the TWIC rule and that rule's statutory mandate requiring the issuance of a biometric transportation security card. Costs associated with the TWIC are discussed in that rulemaking and should not be attributed to this rulemaking.

Under the current regulations, applicants pay a $45 issuance fee for each credential that they apply for. Under the proposed rulemaking applicants would only apply for a single MMC and as a result would only be required to pay one $45 issuance fee regardless of the number of endorsements that they carry. Any mariner who would, under the current rules, require multiple mariner qualification documents, would benefit from this change in the fee structure. In addition, approximately 14,000 mariners have more than one credential without aligned expiration dates. The differences in these expiration dates would require multiple trips to an REC. The issuance of the MMC would be of particular benefit to those mariners as it would require them to track and update only one document. In addition, there would be no user fee charged, at all, for the issuance of a Document of Continuity, which is the proposed replacement for the license or MMD with a continuity endorsement. The Document of Continuity is discussed below in the comments received about continuity.

This rulemaking also proposes to remove the requirement that all mariners travel to an REC to be fingerprinted by, and show proof of identification to, an REC employee. Instead, since the proposed TWIC rule would require these same individuals to visit one of the many TWIC enrollment centers to supply this information, the Coast Guard and TSA have agreed to electronically share the information necessary to complete the Coast Guard's safety and suitability analysis. The TWIC rule anticipates that there will be more than 125 initial TWIC enrollment centers established nation-wide for enrollment. Although the final number of TWIC enrollment centers that will remain open after initial enrollment is not known at this time, it is almost certain that there will be significantly more than the 17 Coast Guard RECs. By allowing mariners to visit TWIC enrollment centers instead of RECs, this proposed rule would provide a potential benefit to mariners by reducing their time and travel costs currently required to receive a credential.

The Coast Guard asserts that the overall cost for mariners associated with this rulemaking would actually decrease or remain the same and would serve to provide more flexibility to mariners since there would be more TWIC enrollment centers than RECs.

We received one comment alleging that the rule is an unfunded mandate that does not provide for appropriate partnership between government and industry.

The Coast Guard disagrees, and does not believe that this proposed rulemaking will result in an unfunded mandate. The Unfunded Mandates Reform Act of 1995 (2 U.S.C. 1531-1538) addresses actions that may result in the expenditure by a State, local, or tribal government, in the aggregate, or by the private sector of $100,000,000 or more in any one year. As discussed above, this rulemaking is actually expected to reduce costs associated with the credentialing of merchant mariners. In addition, it should not affect any cost expenditure upon a State, local or tribal government or private sector entity, and if it does create an increase in cost to any of those entities it should be well below $100,000,000 in any one year.

We received one comment that sought a particular economic review of the financial impact of the rule on tall ship operators, and one that sought an economic review of the financial impact of the rule on training vessels.

The economic impact of this proposed rulemaking is addressed in detail in the Regulatory Evaluation section below. Further economic review will take place between this SNPRM and any further rulemaking. If you believe that the consolidation of merchant mariner credentials (not the requirement that merchant mariners must obtain a TWIC) will negatively affect your business, please submit a detailed comment to this SNPRM. If such information is confidential commercial information, please mark the comment accordingly and submit it to Mr. Luke Harden at the address listed above in FOR FURTHER INFORMATION CONTACT.

9. Citizenship

One comment noted that the citizenship exemption for Operator of Uninspected Passenger Vessels (OUPV) was removed from the regulatory text although the preamble table stated that it was retained.

This error has been corrected. In accordance with 46 U.S.C. 7102, licenses and CORs for individuals on documented vessels may be issued only to citizens of the United States. The Coast Guard has historically interpreted the statute to allow an exemption for alien OUPVs who do not work on documented vessels. Removal of this exemption from the regulatory text was unintentional. Corrections have been made to 46 CFR 10.221, table 10.239 and 11.467 accordingly. These individuals will still be required to meet the citizenship requirements for the TWIC set out in that rule in the new 49 CFR 1572.17. Although the Coast Guard does not believe that requiring a TWIC for OUPVs on undocumented vessels will cause many individuals to lose their mariner credentials, we are unable to create an exception from the TWIC requirement. It is clear in 46 U.S.C. 70105 that all credentialed merchant mariners must hold a TWIC. If an individual holds a license or an MMC with an officer endorsement as OUPV, they must have a TWIC. Since this proposed regulation is not expected to become effective until approximately August 2008, foreign mariners should have time to meet the requirements to obtain a TWIC, if possible.

On October 17, 2006, Congress passed the John Warner National Defense Authorization Act for Fiscal Year 2007 (Pub. L. 109-364). In that Act, Congress amended 46 U.S.C. 8103 to permit an alien allowed to be employed in the U.S. under the Immigration and Nationality Act who meets additional requirements for service as a steward aboard large passenger vessels to obtain an MMD. Although language has not been proposed in this rulemaking to address this new statutory authority, the Coast Guard is aware of it and is initiating a separate rulemaking to address these new requirements.

We received four comments inquiring about the citizenship requirements for the crews of Offshore Supply Vessels (OSVs) and Mobile Offshore Drilling Units (MODUs) in foreign waters.

This question appears to seek clarification as to the language of 46 CFR 15.720(a) and (b), which provide for the waiver of the citizenship requirements in 46 U.S.C. 8103(a) and (b). The substance of 15.720(a) and (b) has not been removed in this proposed regulation. In the SNPRM, citizenship requirements continue to be waived for OSVs operating in a foreign port and MODUs operating beyond the water above the U.S. Outer Continental Shelf as they are in the Coast Guard's current regulations.

One comment expressed displeasure that lawful non-immigrants with work authorizations would be precluded from obtaining a credential even though they may be lawfully employed on certain U.S.-flagged vessels and may require an endorsement in the performance of their duties. Four comments objected to limiting the issuance of MMCs to aliens admitted for permanent residence.

No changes to the regulations have been made as a result of these comments. The citizenship and alien status requirements are set by statute and cannot be changed by the Coast Guard through regulation. Statutory requirements in 46 U.S.C. 7102 mandate that licenses may only be issued to U.S. citizens. The Coast Guard has carved out of that language an exception for OUPVs serving on undocumented vessels, but the statutory language provides no additional room for exception. With respect to MMDs, 46 U.S.C. 8103 restricts the issuance of MMCs to aliens who present acceptable documentary evidence that they are lawfully admitted to the U.S. for permanent residence and cadets enrolled at the U.S. Merchant Marine Academy. The proposed 10.221 would not change the current requirements except that it now clearly states that credentials may be issued to cadets enrolled at the U.S. Merchant Marine Academy. This would not be a change from our statutory requirement or current practice.

Four comments requested a clarification of the immigration status requirements for the TWIC and their relationship to the MMC.

A full discussion of the immigration status requirements for the TWIC is beyond the scope of this rulemaking. That said, all merchant mariners holding a MMD, license, COR or STCW endorsement are required to obtain a TWIC. Therefore all credentialed merchant mariners must be U.S. citizens or would be required to meet the immigration requirements for the TWIC which are contained in the proposed TWIC rulemaking at 49 CFR 1572.105. Mariners who are not U.S. citizens and cannot meet those citizenship requirements, will not be issued a TWIC, and will be unable to obtain an MMC. With the exception of some alien holders of OUPV licenses, however, all mariners who are currently able to meet the citizenship or immigration requirements for the MMD or license will be able to meet the citizenship or immigration requirements for the TWIC.

10. Concurrent Processing of Applications

We received 32 comments about the current processing time for Coast Guard merchant mariner credentials. We received two comments that this rulemaking would increase the backlog of applications, and eight comments that the TWIC and MMC will slow the documentation process. Four comments were unclear as to whether the TWIC was required before the MMC. One comment suggested that the Coast Guard issue the MMC without the requirement for having a TWIC. Finally, we received 60 comments requesting concurrent processing of applications.

The Coast Guard acknowledges that mariners are dissatisfied with the current processing time for merchant mariner applications. This proposed rulemaking is one of the many ongoing projects that the Coast Guard is undertaking in an effort to streamline the process and reduce backlog. This proposed consolidation of credentials and the associated TWIC rulemaking are only a piece of this effort. The restructuring of the NMC, the creation of additional NVICs, guidance documents, as well as current and future rulemaking projects are all intended to reduce the evaluation period.

In addition to the Coast Guard's voluntary effort at restructuring the mariner credentialing process and attempting to reduce processing time, the recently passed SAFE Port Act mandates concurrent processing of a mariner's TWIC and MMD by TSA and the Coast Guard. The Coast Guard agrees that processing the MMC only after the TWIC has been issued could potentially increase this backlog and be overly burdensome to the mariner. As a result, changes have been made to 46 CFR 10.225(b)(2) to allow new applicants to apply for their MMC if they either hold a valid TWIC or can prove that they have applied for one in the past 30 days. The MMC application could be processed simultaneously with the individual's TWIC application. However, because of the Coast Guard's need to obtain biometric and biographic information submitted by the applicant at a TWIC enrollment center, the TWIC application must be submitted before the MMC application. In addition, because of the need to ensure that the applicant's identity has been verified and that he or she has been determined not to pose a security risk, the Coast Guard proposes to retain the requirement that the TWIC be issued to the applicant before an MMC would be issued. Because applicants for renewals, duplicates, or modifications should already hold a valid TWIC, concurrent processing should not be an issue for those applicants.

11. Continuity Licenses

One commenter was concerned about the loss of the continuity license. Another comment stated that the proposed certificate of continuity would be insufficient to meet the “significant amount of pride in the maritime industry evidenced by holding a license”, and recommended that we issue the MMC with continuity endorsement but exempt it from the TWIC requirement.

Although the actual continuity license has been removed from the regulations in this proposed rulemaking, the concept of the continuity license was retained. The concept existed in the NPRM at 46 CFR 10.227(i), and continues to exist in this SNPRM at 46 CFR 10.227(e), but has been revised substantially from the language proposed in the NPRM.

As proposed in this SNPRM, the Document of Continuity would take the place of the inactive “continuity” license or MMD renewal. The Coast Guard recognizes that one of the main purposes for the continuity document is to allow those mariners temporarily working ashore to apply as a renewal rather than as an original should they decide to return to active status after a period of inactivity. The language of the MTSA at 46 U.S.C. 70105, however, requires all holders of merchant mariner credentials issued under title 46 U.S.C. subtitle II, part E (the MMD, license, COR, and MMC) to hold a TWIC. The continuity license is a license, and is issued under 46 U.S.C. subtitle II, part E, therefore all mariners holding a continuity license must get a TWIC. The Coast Guard does not have the authority to limit this statutory requirement to certain classes of mariners. We thought it over-burdensome and unnecessary to require individuals who are not serving as merchant mariners to undergo the expense and burden of obtaining a TWIC, and thought that the addition of a TWIC requirement could reduce the number of mariners that would be available for service in a time of national need.

To avoid imposing the TWIC requirement on inactive mariners, we created the concept of a Document of Continuity. The Document of Continuity would not be an MMC, MMD, license or COR, and would not authorize a mariner to serve. It would not be issued under 46 U.S.C. subtitle II, part E. It is technically a receipt, issued by the OCMI, acknowledging that the mariner once held a valid credential. To obtain a Document of Continuity, a mariner would submit the same paperwork to the Coast Guard as they would currently submit to get a license or MMD with a continuity endorsement, except that mariners would also be required to return the credential being renewed so that it can be canceled. Since a Document of Continuity will be issued only as a means to reserve an inactive mariner's ability to apply as a renewal at some time in the future, the mariner should not need to work under the authority of that credential while the Coast Guard processes their application and should not be burdened by the requirement to submit their current credential for cancellation. Photocopies would no longer be accepted.

The Document of Continuity would be issued free of charge (applicants for licenses or MMDs with a continuity endorsement are currently charged $45), and the Document of Continuity would have no expiration date (licenses or MMDs with a continuity endorsement are currently valid for only 5 years). Mariners who are working on shore and are not serving as merchant mariners, but who would prefer to hold an MMC may apply for and receive an MMC after meeting all of the requirements for renewal set out in 46 CFR10.227, including but not limited to obtaining a TWIC, meeting the medical and physical requirements in 46 CFR 10.215 and being drug tested.

12. Definitions

Four comments requested a definition of the term “entry level mariner”. A definition has been added to proposed 46 CFR 10.107 of this SNPRM.

One comment requested a definition of “DDE”. The definition for the term “designated duty engineer” existed in section 10.107 of the NPRM; we added the acronym for the term (“DDE”) to the definition in this SNPRM.

Four comments requested a definition of the term “U.S.C.G sector”. The term has been removed in favor of retaining the broader term “Officer in Charge, Marine Inspection”, or “OCMI”, which is defined in section 10.107.

One comment requested revision of the definition of “conviction” to read “a final judgment of guilty in a criminal case”. We have chosen to retain the definition of the term “conviction” as the requested language is too vague and would omit many convictions that the Coast Guard currently uses to determine whether an individual is safe and suitable to serve in the merchant marine.

13. Editing

Many small editorial changes were requested throughout the NPRM. Due to the large number of these requests, and because of their non-substantive nature, they are not discussed here individually. Most of the requested changes were made in the SNPRM. The following is a discussion of some of the more in-depth comments requesting editorial changes:

One comment pointed out an inconsistent use of the term “valid” through out the regulations. Although the Coast Guard recognizes that the regulations in Subchapter B could be written more clearly, since most of the language and inconsistency exists in the current regulations, this change is one that would be best handled in a separate rulemaking when the Coast Guard revises Subchapter B to make such linguistic changes throughout the subchapter.

Four comments requested a clarification of the intent behind 46 CFR 10.217(c)(3), and four comments noted that that section uses the undefined terms “regular certificates”, “temporary permit”, and “permanent certificate”.

The language regarding Merchant Marine Details at locations other than the RECs came directly from the current 46 CFR 12.02-3(b). In the NPRM, the language was expanded from “Coast Guard Merchant Marine Details abroad” to “Coast Guard Merchant Marine Details”, to allow for more operational flexibility. Upon additional review of the intent and language of the provision, the term “abroad” has been reinserted into the regulation in this SNPRM. Also, this provision currently exists for unlicensed personnel only, and was inadvertently extended to all mariners in the NPRM. Language has been added in this SNPRM to restrict this provision to ratings. Currently, 46 CFR 12.02-3(b) is intended to allow mariners who require a replacement or renewal of a Coast Guard issued credential to obtain temporary certificates from Coast Guard facilities while overseas. This provision is rarely used, and is typically associated with the need to support mariners assisting in international conflicts. It was last used during Operation Iraqi Freedom. Because the terms used in this section were merely carried over from the existing regulations, definitions of the terms noted in the comment were not added at this time.

Four comments requested a clarification of the relationship of 46 CFR 14.205 to 46 U.S.C. 8103(e).

The proposed change to 46 CFR 14.205 merely adds the TWIC and replaces the word “license” with “credential” for those items that a merchant mariner must present to the master or individual in charge of the vessel before engagement for a voyage upon which shipping articles are required. Individuals must present all those items that are “required by law for the service the mariner would perform”. If the mariner is required by law to carry a credential, he or she will have to present it before signing shipping articles. This requirement stems from the requirement in 46 U.S.C. 10306 which requires mariners to exhibit an MMD before signing shipping articles. Since the MMD will now be in the form of an MMC, and a TWIC is a requirement for an MMC, the TWIC and any other required “credential” must be exhibited. 46 U.S.C. 8103(e) involves the waiver of citizenship requirements for individuals (other than master and radio officer) on a documented vessel on a foreign voyage which must hire foreign mariners to fill a vacancy until the vessel returns to a port where a U.S. citizen can be obtained for the position. The current and proposed Coast Guard regulations include this waiver provision in 46 CFR 15.720(a).

We received one comment requesting that 46 CFR 10.219 be revised to allow payment with cash and credit cards when applying by mail, to conform to the allowable payment options for personal appearance.

As a result of this comment, 46 CFR 10.219(d) has been revised in this SNPRM, and credit card payment is proposed as an acceptable form of payment. Due to the risk of theft, the Coast Guard will not accept cash payment through the mail.

Three commenters requested that references to shipping commissioners be removed throughout the regulations to be consistent with amended statutes since shipping commissioners no longer exist.

46 CFR 12.10-1 has been revised in this SNPRM to remove the term shipping commissioner. The removal of that term throughout the Coast Guard's regulations will be considered in a separate rulemaking.

Two comments noted an inconsistent use of quotation marks throughout the NPRM.

We disagree. When quotation marks are used in conjunction with directions to the Federal Register, such as remove the word “the” and add, in its place, the word “for”, the quotation marks all appear to be used consistently. Quotation marks have also been used around the actual endorsement placed upon the MMC, such as an endorsement as “Master”. This is the proper use of quotation marks. We recognize that throughout the regulations, quotations have not been placed around the endorsement in this fashion. This is an editorial change that will be considered in the contemplated Subchapter B revision.

Four comments stated that the list of endorsements in proposed 10.109 are incomplete and restrictive.

We agree, and have revised 46 CFR 10.109 to include the missing endorsements.

Two comments requested a title for 46 CFR Part 11.

We have entitled Part 11 “OFFICER ENDORSEMENTS”.

One comment requested that we replace the words “not more than” with the words “less than”.

We disagree with this request. Because the term “not more than” includes “equal to”, and “less than” does not, this would change the meaning of the terminology as well as the current tonnage endorsements, and it would change the regulated populations of the various officer tonnage categories. A further review of these terms is envisioned in the STCW rulemaking that is currently in development.

14. Expiration Dates

We received two comments seeking an explanation of how the validity date for training certificates would align with the uniform expiration date of the MMC. We received three additional comments that the radar observer endorsement should align with the MMC expiration date.

As proposed in this rulemaking, there is no relationship between the expiration date of the MMC and the underlying training certificates. The MMC, and any endorsements on it, will be valid for a set 5 year period. It will be the mariner's responsibility to ensure that at the time of application their training is up to date, and that they ensure that their training certificates remain valid throughout the period of endorsement. Changes have been made to 46 CFR 11.480(g) to remove the requirement that the month and year of the radar-observer certificate appear on the MMC. Similarly, section 11.480(k) has been removed because it will be unnecessary to synchronize dates when there will only be one date on the new MMC. Finally, 46 CFR 15.815 has been revised to require mariners to have readily available evidence that they hold a valid radar-observer certificate. This will allow mariners the flexibility to maintain the actual certificate at home or at an employer's office, but still allow them to provide proof of compliance to inspectors.

Four comments were received that opposed aligning the expiration dates of the TWIC and MMC, and one comment was received in favor of making the expiration dates align.

It is not expected that mariners will be required to align the expiration dates for the TWIC and MMC. A mariner must hold a valid TWIC before an MMC will be issued, and failure to hold a valid TWIC may be grounds for suspension and revocation of an MMC, but the expiration dates do not need to match. Requiring them to match would cause the period of validity of the MMC to be shorter than five years due to the time it takes to apply for and process the TWIC and MMC applications. It would also remove the ability for the Coast Guard to allow mariners to apply for a renewal MMC at any time during the validity period (and up to 1 year after expiration) as proposed in this rulemaking, because the renewal periods for a TWIC remain limited. If mariners are required to match the expiration dates of their credentials, they would have to renew their MMC on the same schedule as their TWIC. Mariners are not prohibited from voluntarily aligning their expiration dates, but it is not required.

15. Format of the MMC

We received a large number of comments on the format of the MMC. Five comments wanted the biometric TWIC card to also contain the qualification information proposed for the MMC. Four comments wanted to do away with the TWIC, and instead, modify the MMC to include biometric data and an embedded chip. Nine comments wanted to retain the MMD, but modify it to include biometrics and an embedded chip. One comment generally objected to having a TWIC in addition to the MMC. One comment generally requested one card for the MMC/MMD and TWIC. One comment stated that the MMD is sufficient for mariners because the criminal record and immigration status are already reviewed. Finally one comment sought a more thorough analysis of why a single card cannot be issued.

Through 46 U.S.C. 70105, Congress has directed the Secretary of the Department of Homeland Security to issue a biometric transportation security card to all individuals who need unescorted access to secure areas designated in a vessel or facility security plan; individuals issued credentials under part E of subtitle II of Title 46 U.S.C. (credentialed mariners); vessel pilots; individuals working on a towing vessel that pushes, pulls, or hauls alongside a tank vessel; certain individuals with access to security sensitive information; and other individuals engaged in port security activities.

The House Committee Report, written when the statute was still a bill, but contained the language that was passed, states “Section 70105 establishes a national standard for issuance of biometric transportation security cards whose purpose is to control access to secure terminal areas to only authorized personnel.” The Department of Homeland Security has interpreted this language, and the language of the statute itself, to exhibit a Congressional intent that the Secretary create a single biometric identification credential. This national biometric transportation security card is to be used at all 33 CFR Subchapter H regulated vessels and facilities by everyone to whom the statute applies. Such a uniform requirement would improve security and reduce fraud through the creation of a single, recognizable identity credential instead of multiple credentials that would be dependant on the type of function that the individual would serve at the vessel or facility.

The population of individuals covered by 46 U.S.C. 70105 includes a large number of individuals outside of the merchant marine. Altering the MMD to include biometric capabilities would not only fail to satisfy the requirement for all of the people to whom the Secretary must issue the credential, but it would not even cover the entire population of mariners that are affected by the statutory mandate. Altering the MMD to include biometric capabilities would cover only those people who carry an MMD. As of December 31, 2005, of the total estimated 205,000 merchant mariner population, 67,637 held only an MMD; 41,343 mariners held both a license and MMD; and 27,790 mariners held a license, MMD and STCW endorsement (the remainder hold a license only, which is not an identity document).

Allowing the MMD to serve as an alternate to TWIC would violate this concept of a single uniform nationwide credential for all. Also for this reason, we have opted not to consolidate the merchant mariner credentials into the MMC with a biometric chip. Although this option would be more expansive because it would at least create a uniform biometric credential for all merchant mariners, it would not reach the other categories of people included under the 46 U.S.C. 70105 requirement, and would therefore violate the intent and benefits that could be derived from a single nationwide standard.

There are many other reasons why the Department of Homeland Security has chosen not to place a biometric on the MMD or MMC in an attempt at satisfying this statutory mandate. One of these reasons is cost. The process proposed in this SNPRM would allow all mariners to apply for their MMC entirely by mail. Mariners would apply for their TWIC by going to one of the over 125 TWIC enrollment centers to be fingerprinted, photographed, and show proof of identification and citizenship status. TSA would then share this information electronically with the Coast Guard. This proposed regulation would result in a cost savings for mariners because it would completely remove the need for all mariners to travel to one of the 17 Coast Guard RECs. As proposed, the Coast Guard would no longer conduct identity verification and security vetting. If the MMD or MMC was to be re-vamped to include a TWIC-like biometric chip, then those mariners who would get the MMD or MMC would have to travel to one of the 17 RECs, instead of the 125 TWIC enrollment centers, to submit their application information. This would be more of an inconvenience to the mariner, as 125 locations are more likely to provide a shorter travel distance than the Coast Guard's current 17 REC locations.

TWIC enrollment centers are for the gathering of information from TWIC applicants only. Even if that were not the case, the collection of application information, security vetting and the maintenance of the database make up most of TSA's TWIC program expenses. If mariners were allowed to register for a biometric MMD or MMC at a TWIC enrollment center, they would still incur the security and application costs even if they weren't applying for a TWC. In that situation, the cost to mariners would increase, while the security benefit of a uniform credential would be lost.

The addition of a biometric chip to either the MMD or MMC would also significantly increase the costs to produce the card. Right now, this SNPRM does not propose to change the fees for the MMC from those that are currently charged for the license and MMD. If the Coast Guard changed the MMD or MMC to conform to the TWIC technology, the cost of the credential would increase.

The final option considered was to incorporate all of the merchant mariner qualification information onto the TWIC. This is a goal that the Coast Guard hopes to reach some time in the future; however, it is simply not feasible at this time. STCW requires foreign port state control officers to be able to read a mariner's qualification credentials, and not all countries have the ability to read smart cards. It is impractical, and for some it may be impossible, to print all of the information that will appear on an MMC on the face of the TWIC. In addition, although the technology continues to advance, the type of technology used for the TWIC does not offer sufficient storage for all of the information that the Coast Guard would need to put on the MMC. At some point in the future the Coast Guard hopes that new technology will be available, costs will be reduced, and international capabilities will exist to make this a viable alternative.

For these reasons, the Coast Guard and TSA have opted to present two separate, but linked credentials: a TWIC as the biometric security card required in 46 U.S.C. 70105, and the MMC as the consolidated qualification credential for merchant mariners.

We also received comments regarding the format of the MMC. One comment objected to a certificate suitable for framing, and sought a credential similar in size to the current MMD. One comment sought either a laminated card or a frameable document. Two comments requested a laminated card, and another two comments sought a smaller, wallet-size credential.

For the reasons stated above, a laminated wallet-sized card, much like the current MMD or the proposed TWIC, is not feasible at this time due to international requirements and technological limitations.

The Coast Guard is also considering a passport-style credential. The passport credential would have a thick, sturdy cover like the U.S. passport, would have a page with the individual's photograph and biographic information, and would have pages inside that would contain a mariner's endorsements. STCW endorsements, for example, could be contained on the center sheet and would contain all of the information necessary to meet the STCW convention and code requirements. Officer endorsements could be contained on opposing pages and would not contain personal privacy information so that the credential could be opened to that page for posting aboard vessels to satisfy the requirements of 46 U.S.C. 7110. Several other nations have already adopted a passport style document as the primary mariner qualification credential. The Coast Guard is currently investigating this option and the costs associated with this format. We are concerned that a credential that costs significantly more to produce could result in a future increase in user fees.

Finally, two comments stated that the proposed format does not meet the needs of blue-water or domestic mariners, and requested that the Coast Guard seek guidance from mariners on the format.

We explicitly request public input on this subject during the comment period for this SNPRM. Draft samples of a certificate format and passport style format are available for inspection in the public docket for this rulemaking. Please provide information as to the type of credential that would best serve your needs and still meet domestic and international requirements. Please provide comments on format, cost, production possibilities, technology availability, or any information you believe could help.

16. General

One commenter disagreed with the assertion that mariners could be required to carry up to five credentials.

The Coast Guard disagrees. A mariner could hold up to five credentials if the credentials are not consolidated. These five credentials are the MMD, license, COR, STCW endorsement and TWIC. For some mariners, the STCW endorsement is printed on the license, but in most cases the STCW endorsement is a separate document. As of July 16, 2006, 139,791 mariners held a license, 63,466 mariners held an MMD, 530 mariners held a COR, 49,994 mariners held an STCW endorsement, and 13 mariners held all four.

Ten commenters were completely against the consolidation of credentials.

The comments received to this point have not persuaded the Coast Guard to abandon our proposal to consolidate the merchant mariner credentials. This proposal will ultimately result in the simplification of procedures, increased national security, decreased costs and increased efficiency.

We received one comment that the Coast Guard has been unable to ascertain and report on the number and type of valid licenses and MMDs in existence at any time, suggesting a limitation on our ability to call on mariners in response to a national emergency.

We disagree that this information is not readily available, or that we have been unable to ascertain or report on this information. The Coast Guard maintains an electronic database with this information and can retrieve it whenever necessary. As stated above, as of July 16, 2006, 139,791 mariners held a license, 63,466 mariners held an MMD, 530 mariners held a COR, 49,994 mariners held an STCW endorsement, and 13 mariners held all four.

17. International Agreements

Seven comments stated that the proposed MMC fails to address the ILO 185 Convention, and two comments generally recommended that we harmonize the MMC with international standards.

The MMC will be harmonious with the International Convention on Standards of Training, Certification, and Watchkeeping for Seafarers, 1978 as amended (STCW). However, efforts will not be taken to conform the MMC to the requirements of the International Labour Organization Seafarers' Identity Document Convention (Revised), 2003 (ILO-185) at this time. As the United States is not a signatory to ILO-185, no plans have been made at this time to produce an identification document complying with that particular standard. The Coast Guard will ensure that the MMC conforms to those international agreements to which the United States is a party.

18. Information Sharing

We received one comment requesting a process where TSA routinely notifies CG of TWIC evaluations.

The process for transferring data between TSA and the Coast Guard has not been finalized at this time. As currently envisioned, however, TSA would have the ability to push information to the Coast Guard upon notification by the applicant that they are a merchant mariner or applying to become a merchant mariner, and the Coast Guard would have the ability to pull application data directly from TSA upon receipt of an MMC application. The Coast Guard would also have access to TSA's Identity Management System (IDMS) to allow us to verify that the applicant holds a valid TWIC. Furthermore, if a mariner's TWIC is revoked, TSA will notify the Coast Guard so that after the applicant exhausts the TWIC appeal process, we could initiate suspension and revocation action against the individual's MMC.

19. Interim Credentials

We received one comment recommending that 46 CFR 10.209 be amended to allow the issuance of an interim MMC for applicants who have been approved for a TWIC and have simultaneously applied for the MMC but are awaiting final MMC approval. An additional comment requested that the Coast Guard issue MMCs without a TWIC for seasonal workers.

The statutory requirements of 46 U.S.C. 70105 do not provide for the exemption of seasonal workers from the obligation for all credentialed merchant mariners to hold a TWIC. The general requirement to hold a TWIC is discussed further in the TWIC final rule published elsewhere in today's Federal Register. The Coast Guard seeks additional pubic comment with respect to the issuance of interim MMCs. In 46 U.S.C. 7302(g), the Coast Guard was given the statutory authority to issue an interim credential to the following people:

(1) An individual to be employed as gaming personnel, entertainment personnel, wait staff, or other service personnel on board a passenger vessel not engaged in foreign service, with no duties, including emergency duties, related to the navigation of the vessel or the safety of the vessel, its crew, cargo or passengers; or

(2) An individual seeking renewal of a rating endorsement, or qualifying for a supplemental rating endorsement.

This interim credential could only be valid for up to 120 days and could only be issued one time to the people covered in paragraph (1) above. This statute gives the Coast Guard the authority to issue these interim credentials, but does not make them mandatory.

At this time, the Coast Guard is not in favor of adding interim MMCs to the regulations. We have amended the proposed regulations to include concurrent applications, which should speed the application process, and we believe that adding in the processing time to issue an interim credential would add a burden onto REC personnel which would negate the time benefit created by this concurrent review change. In addition, it is imperative that the Coast Guard verify that an individual has all required qualifications before they are allowed to serve aboard a commercial vessel. Ensuring that the individual is not a security risk through the TWIC is only a part of the merchant mariner credentialing process. The potential risks to life and property and the inherently dangerous nature of a career in the merchant marine creates a heightened need to ensure that the individual is a safe and suitable person for the job.

Although the Coast Guard is not currently in favor of adding interim credentials to our regulations, we specifically seek public comment on this issue to aid us in making a final decision.

We received one comment requesting a transition period that would permit mariners to continue working even if their current credentials are expired, as long as they can demonstrate that they have applied for and are awaiting a TWIC.

As discussed above, the security review is only a part of the merchant mariner credentialing process. Expiration dates are created so that a mariner's background and professional qualifications can be re-evaluated every five years to ensure that they are still qualified to hold that credential. Under the proposed regulations, although mariners will not be allowed to work after the credential expires, they will be allowed to renew their credentials at any time before expiration and up to one year after expiration, so mariners are free to renew their MMC at whatever time is most convenient to them. It will be up to the mariner to ensure that he or she applies for renewal early enough to ensure that they always hold a valid MMC.

20. Invalid Credentials

Four comments requested that the Coast Guard require mariners to send an invalid credential to the Coast Guard for cancellation, but agree to return the canceled credential to the mariner for sentimental purposes; and two additional comments requested that we resolve the inconsistency in the NPRM regarding the return of cancelled credentials.

We have revised 10.209(g), 10.225(b)(5), 10.227(d)(4) and (e)(2)(i), 10.223(c)(5), 10.231(c)(5) and 10.233(c) in response to these comments. The requirement to return credentials that are expired, invalid, or have been renewed remains; however, mariners may request in writing, at the time of submission, that the canceled credential be returned to them after cancellation.

21. License Creep

We received five comments requesting that the MMC be effective upon the original renewal date regardless of when the mariner applied for renewal.

The Coast Guard is aware of the “license creep” problem, and is working to solve it. License creep occurs because although a mariner's credential is technically valid for a five year term, they must apply to renew that credential before the close of that five year term so that there will not be a gap between when their new credential is issued and the old one expires. Mariners frequently find themselves applying for renewal many months before the expiration of their credential to ensure that they will receive their new credential in time. Licenses, MMDs (and as proposed, MMCs) are valid for five years from the date of issuance. This means that if their renewal is issued before the expiration date of the credential being renewed, the mariner loses the period of time they could have served on their expiring credential measured from the date the new credential is issued to the expiration date of the expiring credential. Essentially, the five-year validity term “creeps” back with each renewal.

The comments suggested that the Coast Guard issue renewal credentials with an effective date that would match the expiration date of their expiring credential so that there is continuity in validity and the preservation of a full five-year validity term. We deliberated over this comment for quite some time. In the end, we determined that the solution presented by the comments requires further research due to possible legal implications. Statutory limitations were placed on the Coast Guard by Congress in 46 U.S.C. 7702 and 7703 that restrict those bases on which we may initiate suspension and revocation procedures against a mariner's credential. Certain paragraphs in those sections only allow the Coast Guard to seek suspension and revocation against a mariner's credential for actions that they take while acting under the authority of the credential. The concern is that a mariner cannot be acting under the authority of a credential that is not yet effective. The Coast Guard can initiate suspension and revocation actions against a mariner's current credential for those acts done while acting under the authority of that credential, but that suspension and revocation action may not legally apply to a renewed credential that has already been issued but would become effective at some point in the future.

Considering other methods of solving the license creep issue, we also thought about linking the MMC expiration date to an applicant's birth date, much like the method used for state driver's licenses. We realized that this option, too, would not be feasible. It would punish applicants who sought to renew early after applying for new endorsements in the middle of the credential's validity period. They would receive those endorsements, but they would not be effective until their next birthday, so they would not be able to work in those jobs until that date. The same problem would occur with respect to new applicants. Unless the credential was actually issued on their birthday, it would either be shorter than the five year period (validity began in the past) or there would be a gap during which the mariner would not be able to work (validity would begin at some point in the future). Furthermore, making the credential effective on their last birthday would not only fail to solve the problem, but it would be a clear violation of 46 U.S.C. 7106 and 46 U.S.C. 7302(f) which state that credentials issued must be valid for five year periods and may be renewed for five year periods. This language provides no leeway to shorten or lengthen the validity period of the credentials.

These are only two of the regulatory options the Coast Guard has considered to end the problem of license creep. We will continue to analyze this issue and will attempt to address it in the final rule if a legally sufficient solution can be arranged. We encourage public comment on this issue, and welcome any solutions that the public wishes to propose. In the meantime we suggest that mariners request delayed issuance, in writing, at the time they submit their renewal applications. According to National Maritime Center (NMC) Policy Letter 09-03, RECs have been directed by the Commanding Officer of the National Maritime Center (NMC) to delay issuance of renewed credentials upon written request from the applicant. This policy was created in direct response to the license creep problem and has been in effect at the RECs since 2003. A copy of this policy letter is available in the public docket for this rulemaking.

22. Loss of License as Separate Credential

We received six comments expressing displeasure that the Coast Guard is proposing to change the license to a generic credential, 10 comments objecting to the license being substituted by a card, and 23 comments objecting to the loss of a license as a separate credential.

The Coast Guard is considering various formats for the MMC. We expressly request input as to how the credential should be arranged, the form in which it should appear, and methods that could be employed to differentiate between officers and ratings. The final document must balance the recognition of a mariner's accomplishment with the benefits of efficiency and savings associated with combining multiple credentials into one document. As noted above, we have received comments requesting that the MMC come in various forms, including 8.5 x 11, passport size, card size, and laminated. We are taking all of these comments into consideration and are working to create a credential that will satisfy the needs of mariners while being as cost efficient as possible.

The Coast Guard is also considering a different format of the MMC for officers and ratings. If it was passport style, perhaps the cover of an MMC with officer endorsements would appear in a different color from that of an MMC without officer endorsements. If it were in an 8.5 x 11 format, perhaps the MMC containing officer endorsements could have a distinctive border around it, a seal, or some other feature that would distinguish it from an MMC without officer endorsements.

As discussed above, at this time the Coast Guard has not been persuaded that there is a compelling need to retain the separate credentialing process for officers and ratings which would outweigh the benefits associated with the combined credential. In addition to the cost benefits associated with the omission of the requirement to appear at an REC resulting from the integration of the TWIC, the combined credential would serve to reduce issuance fees, and would allow for more streamlined and efficient processing at the RECs. Also, the consolidation of the regulations would remove the many inconsistencies that currently exist between the requirements and process associated with approving MMDs and licenses in our current regulations. If a format other than an 8.5 x 11 non-laminated sheet of paper is selected, the combined credential would reduce the likelihood of tearing and water damage that is currently associated with the license. It would assist the Master of a vessel when determining a mariner's qualifications under 46 CFR 15.401. It would aid the mariner in the renewal process by providing only one credential with one expiration date vice many. Finally, as of December 31, 2005, 41,343 mariners held both a license and MMD, and as of July 16, 2006, 13 mariners actually held all four credentials; the consolidation would reduce the number of credentials that they have to carry and issuance fees that they have to pay. For these reasons, the Coast Guard continues to believe that the consolidation of credentials is a good idea and continues forward with the concept in this SNPRM.

23. Medical

We received four comments that objected to the incorporation of medical and physical guidance contained in Navigation and Vessel Inspection Circulars (NVICs) without public review.

Policy guidance regarding the regulatory medical and physical requirements is contained in NVIC 2-98 which is available to the public in many places including the Internet at http://www.uscg.mil/hq/g-m/nvic/index.htm. The Coast Guard is currently working on a revision of NVIC 2-98, which has been provided to the public for comment and is available through the Docket Management System at docket number USCG-2006-25080, but is not yet final as of the signature date of this SNPRM. This proposed regulation does not seek to incorporate either NVIC by reference. The intent of the sentence placed into 46 CFR 10.215(a) in the NPRM was to merely highlight that there is additional guidance on medical and physical competence issued by the Coast Guard. Due to the apparent confusion caused by that sentence, it has been removed.

One comment stated that 46 CFR 10.215 should address problems with medical issues, but provided insufficient information to determine what problems the commenter believed needs to be addressed.

One comment opposed allowing nurse practitioners to perform, witness, or review the required test, exam or demonstration in proposed section 10.215. Three comments, however, approved of the change and requested that nurse practitioners also be allowed to consult with the Coast Guard in the recommendation of a waiver.

Under our current regulations, licensed physician assistants are allowed to conduct these exams. There have been no problems with this policy. Licensed nurse practitioners are also recognized as independent mid-level practitioners within the medical community. No problems are contemplated with allowing nurse practitioners to provide this service as well. As a result, we have also amended proposed section 10.215(g) in this SNPRM to allow licensed nurse practitioners to consult with the Coast Guard with respect to medical waivers.

One comment suggested that we remove the table and text of section 10.215 or correct it to remove STCW standards that have been incorrectly applied to domestic mariners.

The table of section 10.215 provides a quick reference source for a mariner to determine what test, exam or demonstration applies to the endorsement sought. It is intended to supplement the regulatory text. Changes have been made to the table as a result of this comment to reflect the differences between the requirements for all mariners and those that apply only to individuals serving on vessels to which STCW applies.

The requirement for a demonstration of physical ability has been removed for staff officers, applicants seeking an endorsement for proficiency in survival craft, and food handlers serving on vessels to which STCW does not apply. As a practical matter, however, staff officers and those seeking endorsements for proficiency in survival craft typically will have rating or officer endorsements that would already require the applicant to satisfy this requirement. The language in the table was also revised to limit the requirement for ratings to pass a demonstration of physical ability. It now reads: “Ratings, including entry-level, serving on vessels to which STCW applies, other than those listed above”. This conforms to the exception for non-STCW mariners that existed in paragraph (e) in the NPRM and has carried over to the SNPRM. Also in the NPRM, the demonstration of physical ability was required for all food handlers, not just those to whom STCW applies. Food handlers have now been broken down to those to whom STCW applies, and those it does not.

Also, as a result of this comment, paragraph (e) was revised to further limit the demonstration of physical ability requirement to only those applicants whose medical practitioner, during the performance of the applicant's general medical exam, becomes concerned that the applicant's physical ability may impact maritime safety. It would also apply to those applicants who are not required to pass a general medical exam. This change was made because during the general medical exam, a medical practitioner should be able to determine whether an applicant's physical ability would impact maritime safety. If this is not a concern, requiring a demonstration of physical ability is not necessary. Finally, a new paragraph (h) has been added to the end of the section to specifically exclude individuals only seeking MMCs with staff officer endorsements from the requirements of section 10.215.

One comment recommended that the certifying person should be required to certify that they are familiar with the Coast Guard's physical standards and the rigors of marine employment.

The Coast Guard disagrees with this recommendation. Requiring medical professionals to sign such an additional statement is unnecessary. Forms CG-719K and CG-719K/E include a partial list of physical demands for performing the duties of a merchant mariner. In addition, medical professionals are referred to NVIC 2-98 discussed above, and the regulations. These notices should be sufficient to provide a minimal familiarization as to the Coast Guard's physical standards and the rigors of marine employment.

One comment sought penalties for mariners who supply false information to certifying physicians and/or employers or who fail to disclose material information about their physical condition.

The Coast Guard agrees with the general sentiment of this comment, but disagrees that such a change needs to be placed in our regulations. 18 U.S.C. 1001 provides criminal penalties for making a false official statement to the Federal government. That statutory penalty applies to any mariner that falsifies, conceals, or covers up by any trick, scheme, or device a material fact; makes any materially false, fictitious, or fraudulent statement or representation; or makes or uses any false writing or document knowing the same to contain any materially false, fictitious, or fraudulent statement or entry. The penalty is up to five years in prison and/or a $5,000 fine, and that increases if the offense involves international or domestic terrorism. This penalty would apply to any material misrepresentation or omission directly to the Coast Guard in the application, or any material misrepresentation or omission to the mariner's physician or employer that would affect the Coast Guard's credentialing decision.

We received 18 comments stating the inclusion of additional hearing standards in 10.215(c) are unnecessary, and one additional comment that the hearing test thresholds in that section are overly prescriptive and should be substituted with a more performance-based approach that is tied to the mariner's duties on the vessel.

Section 10.215(c) has been rewritten in this SNPRM. It has been revised to limit the categories of mariners who must undergo the hearing exam, and provides more information to medical professionals conducting the exam. In the NPRM, the introductory text to paragraph (c) referred to a different test than the hearing thresholds discussed in subparagraphs (c) (1) and (2). This was clarified and corrected in the SNPRM. In addition, in subparagraphs (c) (1) and (2), the word “should” was replaced with the word “must”, as the proposed hearing thresholds would be requirements, not general suggestions.

Finally, as a result of these comments, the newly proposed language would require a hearing test only if the medical professional conducting the general medical exam has concerns regarding the applicant's ability to hear, and a waiver may be requested if a mariner can pass one test but not another. We opted not to tie the hearing thresholds to each mariner's particular duties on the vessel in favor of minimal requirements that all mariners must meet. Such a standard for all mariners is less subjective and serves a safety purpose in that all mariners should be able to hear at the same minimum level.

We received 29 comments stating that the language of proposed 10.215(e) created an unnecessary burden on the mariner and physician by requiring the physician to travel to a vessel to document a mariner's physical ability.

The Coast Guard does not contemplate that every mariner must demonstrate physical ability, nor do we contemplate requiring medical professionals to travel to vessels to complete this test. It has, however, always been the responsibility of the medical professional to attest that the mariner is able to meet the physical requirements of the job. The information contained within 10.215(e) provides clarity as to the level of fitness necessary in the maritime industry and the level of satisfaction the medical professional must achieve to determine that the applicant meets these standards.

All eight of the enumerated abilities that must be satisfied to pass a demonstration of physical ability are able to be reviewed in a medical office. For example, a person standing on one leg anywhere can show no disturbance in the sense of balance; any ladder or staircase can be used to show ability to climb up and down vertical ladders and inclined stairs; and any obstruction of similar height can be used to show that a person can step over a door sill or coaming. Furthermore, weights can be used to show that the applicant would have the ability to grasp, lift and manipulate tools, and move hands and arms to open and close valve wheels; a general medical exam should detect a disease that would prevent normal movement and physical activity, or the ability to respond to a visual or audible alarm; finally, the ability to stand and walk for extended periods could be shown anywhere as could the determination as to whether the applicant is capable of normal conversation.

These enumerated abilities were taken from the STCW Code Table B-I/9-2, which is guidance on the assessment of minimum entry-level and in-service physical abilities for seafarers. These standards have been deemed effective minimum standards for mariners in the international community and the Coast Guard believes that they are good standards to employ in order to ensure that U.S. mariners have the physical ability to do their job without injuring themselves or others.

24. National Driver Register

We received one comment requesting that proposed 46 CFR 10.213(g)(1) be amended to add additional drug testing while on the vessel. Another comment requested that the three-year look back period in proposed 10.213(c) be extended to five years. Finally, another comment requested that land-based driving under the influence (DUI) convictions be given less weight than marine-based DUI convictions, and that the burden placed on the mariner to establish qualification should be changed so that the burden after a land-based DUI should not be as high as the burden associated with marine-based convictions.

The purpose of this rulemaking is to consolidate the merchant mariner qualification credentials. It is not intended to completely revise 46 CFR Subchapter B. These three comments are outside the scope of this rulemaking, but revisions to the drug testing requirements and evaluation criteria may be considered by the Coast Guard in subsequent rulemaking projects.

Twenty comments objected to an unlimited NDR check.

The Coast Guard did not intend to propose an unlimited NDR check in the NPRM. Paragraph 10.213(b) in the NPRM contained language that currently exists in our regulations regarding criminal record review, but was inadvertently moved into the NDR section of the NPRM. That section has been moved to 46 CFR 10.211(l) in this SNPRM. For the offenses described in section 205 of the National Driver Register Act of 1982, as amended, the Coast Guard will not be doing an unlimited look back in the NDR, but will only look at those crimes listed in that Act that are provided in the course of the criminal record review. The law allows the Coast Guard to look back beyond three years only when individuals have ongoing suspensions or revocation for NDR Act offenses. This is not an unlimited NDR check. The Coast Guard appreciates notification of this error.

25. Port Access

We received one comment that the Coast Guard should ensure that the international community accepts the TWIC as a replacement MMD for shore leave.

We agree and will provide information on the MMC and TWIC programs to the International Maritime Organization for communication to other parties.

One comment stated that the MMD, not the TWIC or MMC, should meet the standards for an identification credential and allow access to ports.

Under the statutory requirements of 46 U.S.C. 70105, a biometric identification credential (the TWIC) must be created by the Secretary to allow individuals unescorted access to all 33 CFR Subchapter H regulated vessels and facilities. The MMD does not satisfy the requirements of 46 U.S.C. 70105. For the reasons discussed above in “Format of the MMC”, the TWIC and MMD will not be combined at this time.

26. Posting

Seven comments stated that the requirement to post the license would be affected by this proposed rulemaking project.

The Coast Guard disagrees with these comments. We have not changed the requirement for posting an officer's qualification credential. This posting requirement is required by 46 U.S.C. 7110 and cannot be changed by Coast Guard regulation. The format of the MMC will be designed so that posting of the officer endorsement will be possible while also protecting the mariner's private personal information from view.

27. Preemption

One comment was received that States should not be allowed to permissibly bar a mariner access based on stricter criteria than the TWIC and MMC.

The MMC would be a qualification credential that would also contain a mariner's identity information, but would not be used to obtain access to port facilities. This comment, and the issues of State preemption, are discussed in the TWIC rulemaking and are beyond the scope of this MMC rulemaking.

28. Personal Privacy

Five comments objected to the requirement in the NPRM at 46 CFR 10.219(d) (2), that the front of all checks or money orders must contain the applicant's full social security number.

Although the social security number requirement proposed in section 10.219 in the NPRM was carried over from our current regulations, due to the increased concern over identity theft nationwide the Coast Guard is proposing an alternative in this SNPRM. Section 10.219(d)(4) has been revised to require that all checks and money orders contain the applicant's full legal name and last four digits of their social security number. The full legal name is necessary to link the individual to the payment, and the last four digits of the social security number would be used to differentiate between mariners who may have common names.

Two comments were received that stated a general concern for the protection of privacy information.

The Coast Guard is extremely concerned about the recent rise in identity theft and recognizes the need to protect personal privacy information. We have proposed several measures in this proposed rulemaking to protect that information. We have proposed an alternative to the social security number requirement discussed above, we intend to design the MMC so that personal privacy information will not be visible when posted under the requirement in 46 U.S.C. 7110, and we will develop and test a secure electronic data sharing system for the transmission of mariners' application information from TSA to the Coast Guard before this rule would become effective.

29. Public Meetings

We received 12 comments to the docket requesting additional public meetings on the MMC NPRM.

We encourage public participation in this rulemaking. However, the Coast Guard received a relatively small number of comments on this rulemaking during the joint MMC/TWIC public meetings held in May and June 2006, and additional public meetings will not be held on the TWIC rulemaking project during the 90 day comment period for this MMC SNPRM. For those reasons, the Coast Guard does not intend to hold additional public meetings on this rulemaking at this time. Written and oral comments are given equal weight in the rulemaking process. Please submit written comments to the docket for this rulemaking project, which is available by conducting a simple search for docket number 24371 at http://www.dms.dot.gov. If, after reading this SNPRM, you believe that additional public meetings would be beneficial, please submit a request to the docket explaining why one would be beneficial. If the Coast Guard determines that additional public meetings would aid this rulemaking, we will provide advance notice in the Federal Register.

30. Regulatory Requirements

We received five comments that this rulemaking fails to resolve outstanding issues in the STCW Interim Rule published June 26, 1997 at 62 FR 34505.

This rulemaking is not intended to close or finalize the STCW rulemaking project. A Coast Guard rulemaking team is currently working on a Supplementary Notice of Proposed Rulemaking for that project that will address the public comments received on that Interim Rule, propose additional changes to the regulations to conform U.S. regulations to the STCW Code and Convention, and take additional public comment.

We received two comments that this rulemaking fails to resolve outstanding issues within the MMD and Licensing Interim Rules.

This rulemaking project is not intended to close or finalize either the Validation of Merchant Mariner's Vital Information and Issuance of Coast Guard Merchant Mariner's Documents (MMDs) (docket number USCG-2003-14500, the “MMD rule”), or Validation of Merchant Mariner's Vital Information and Issuance of Coast Guard Merchant Mariner's Licenses and Certificates of Registry (docket number USCG-2004-17455, the “Licensing rule”), projects. The Coast Guard intends to publish final rules on those projects to address the public comments received, and make any appropriate adjustments to the regulatory text as a result of those comments. This MMC rulemaking would, however, effectively address the bulk of the negative comments received to those rulemaking projects by removing the requirement that mariners appear at least once at one of the 17 RECs to be fingerprinted by, and show identification to, an REC employee. The majority of the comments received in the dockets to those rulemakings complained that the location of the 17 RECs require mariners to travel a great distance.

This proposed MMC rulemaking would remove, or at least reduce, that burden on mariners by removing the REC requirement and allowing them to apply for the MMC entirely by mail unless an examination is required. Instead, mariners would complete the fingerprint and identification portion of the MMC application process at one of the many TWIC enrollment centers spread across the country. This rulemaking, although proposing to remove the appearance requirement, will not finalize or close either the MMD or Licensing rulemaking projects. Final rules for those projects are expected to be drafted and published after the completion of this rulemaking project and the STCW rulemaking project discussed above.

One comment stated that the current language of our regulations in Subchapter B is poorly written and contains many issues that have not been addressed by this rulemaking. It suggested that we start from scratch, rewriting the Subchapter, instead of continuing to use existing regulatory language.

In this rulemaking, the Coast Guard decided to use the existing regulatory language wherever possible. This was done in an effort to make as few substantive changes as possible while consolidating the credentials into one while also adapting the system to transfer the security and identity verification process to TSA. The Coast Guard is currently undertaking many different actions, both regulatory and non-regulatory, to improve the merchant mariner credentialing process. There are currently five open Coast Guard rulemaking projects involving Subchapter B: (1) This rule, (2) the MMD rule, (3) the Licensing rule, (4) Implementation of 1995 Amendments to the International Convention on Standards of Training, Certification and Watchkeeping for Seafarers, 1978 (docket number USCG-2004-17914, the “STCW rule”), and (5) Training and Service Requirements for Merchant Marine Officers (the “Radar rule”) (docket number USCG-2006-26202). Each of these rulemaking projects is intended to address different issues within Subchapter B. Once these five rulemaking projects are completed, the Coast Guard intends to open a sixth rulemaking project unofficially referred to as the Subchapter B Revision, which would clean up the entire subchapter, to improve upon clarity, readability, correct editorial inconsistencies and make non-substantive procedural changes.

Three comments pointed out that the MMC NPRM did not appear in the Spring 2006 Regulatory Agenda.

The commenters are correct. At the time that information for the Spring 2006 Regulatory Agenda data call was requested, the substance of this regulation was incorporated into the TWIC rulemaking project, so it was not independently referenced. Now that it has been separated from TWIC and is an independent rulemaking project, it has been assigned Regulatory Identification Number 1625-AB02 and was included in the Fall 2006 Regulatory Agenda.

Three comments requested that the Coast Guard slow implementation of the TWIC and MMC.

Discussion of the implementation schedule of the TWIC is outside the scope of this rulemaking however, implementation of the card reader requirements has been delayed. A discussion of the TWIC implementation schedule and the delay in implementation of the reader requirements is provided in the TWIC final rule published elsewhere in today's Federal Register.

With respect to the MMC, if made effective, the proposed regulations in this SNPRM would not be implemented until approximately August 2008. This long delay before implementation has been proposed to allow all merchant mariners to obtain a TWIC before this proposed regulation would make it mandatory for the issuance of an MMC. The delay would also allow time for the Coast Guard to develop the form of the new credential and produce a sufficient supply before the date of issuance. Furthermore, the delay would provide time to build and test the system that will transmit each MMC applicant's digital photograph, fingerprints, proof of identification, proof of citizenship, and if applicable, the applicant's criminal record and proof of legal resident alien status to the Coast Guard from TSA. The protection of this personal data is extremely important to the Coast Guard and TSA and we have planned this delay to allow sufficient time to test the system to ensure the security of that data. In addition, the new credential would be phased in over a five year period. A mariner would not be required to obtain an MMC until he or she either chooses to renew or upgrade their current MMD, license, COR or STCW endorsement, or they chose to apply for an MMC after this proposed rule is made effective. We find any additional delay to be unnecessary.

One comment stated that this is a substantive rulemaking.

We agree. This is a substantive, non-significant rulemaking. It proposes substantive changes to the Coast Guard's regulations that are not merely procedural or technical in nature, but will actually affect the public. Because this is a substantive rulemaking, the Coast Guard has published both an NPRM and SNPRM in the Federal Register and is seeking public comment to assist us in the rulemaking process.

We received one comment requesting that the Coast Guard hold the MMC regulatory project in abeyance until the TWIC regulatory project becomes final.

We agree in part with the commenter. The TWIC regulatory project published a final rule elsewhere in today's Federal Register. That final rule will become effective 60 days from today. This SNPRM, however, will remain open for a 90 day comment period after which it will be withdrawn, amended, or made effective through the publication of a final rule. At this time, the Coast Guard expects that a final rule would not be published for this rulemaking until some time in 2007, and that it would not become effective until approximately August 2008. This long period of time will allow enough time for the receipt and analysis of public comments, and would allow mariners to obtain a TWIC before this rulemaking would make them mandatory for the issuance of MMCs. The estimated August 2008 time period coincides with the expected close of the TWIC initial rollout period as established by today's TWIC final rule. As the MMC is reliant upon the TWIC enrollment, not the TWIC card readers, we are not tying this MMC rule to the card reader portion of the TWIC rulemaking project.

31. Renewals and Duplicates

We received one comment that requested a lower standard of safety and suitability review for renewals and duplicates than that required for originals; one comment that requested no safety and suitability review for renewals and duplicates; and one comment stating that a mandatory criminal history review for duplicates will add unnecessary time to the application review process.

We agree in part. We agree that requiring a mariner to undergo an additional safety and suitability review simply to obtain a duplicate credential with the same expiration date as the lost credential is unnecessary. A mariner who has undergone a safety and suitability review to obtain his or her five-year credential should not have to undergo an entirely new review, and the time associated with that review, simply because he or she lost the first credential. Changes have been made in this SNPRM to sections 10.211(b) and 10.229(f) to remove that requirement. This change should result in a reduction in the processing time for duplicate credentials.

The Coast Guard disagrees that mariners seeking renewals should be exempt from a safety and suitability review or that they should be subjected to a lesser standard. As an example, an officer could be involved in a DUI in year three of his credential, and in year four, he or she could be convicted of another. Under the existing and proposed regulations, that mariner would no longer be eligible for a license or MMC with an officer endorsement. Exempting that mariner from the safety and suitability review at renewal would prohibit the Coast Guard from learning of those DUI offenses. The Coast Guard, industry and international community rely on the safety and suitability review in the credential application process to ensure that merchant mariners working aboard commercial vessels do not present a safety hazard, and that they actually have the qualifications necessary to serve in their applicable grade and/or rating. Simply because a mariner was deemed safe and suitable at the initial application for their credential does not mean that they should be held to a lesser standard for the remainder of their career. To do so would essentially make the expiration date on the credential meaningless. Subjecting renewal applicants to a lesser standard would only increase the possibility of more safety incidents at sea, which is something the Coast Guard is working hard to prevent.

The Coast Guard sees a need for, and a value in, each and every one of its safety and suitability related disqualifying offenses and qualification requirements. Creating a lesser standard or removing them entirely for renewals would almost certainly lead to an increase in safety incidents, and would not be in the best interests of safety of life at sea.

32. Suspension and Revocation

One commenter was concerned about the effect that suspension or revocation would have on the remaining endorsements to a mariner's MMC when some, but not all of that mariner's endorsements are suspended or revoked.

Amendments have been made to 46 CFR 10.235(b) and (d) to address this issue. If one or more of a mariner's endorsements are revoked, the Coast Guard will issue an MMC containing any remaining endorsements for which the holder is qualified.

33. Safety and Suitability

We received one comment that sought a change in the suspension period for operating a vessel under the influence of illegal drugs to greater than one year and an increase in the assessment period so that it is longer than that applied to shore-based violations.

This recommendation is beyond the scope of this rulemaking, which is not intended to alter the safety and suitability assessment requirements. This rulemaking is intended only to make those changes necessary to consolidate the credentials, and streamline the application process. This recommendation may be considered, however, in future rulemaking projects.

We received two comments that requested the Coast Guard recognize expungements.

Like the comment discussed above, this comment is outside the scope of this rulemaking; however, the reason the Coast Guard does not automatically recognize expungements is that each State varies in the crimes and associated time periods after which they will grant record expungements. Some States grant expungements in a shorter time period than the assessment periods in subchapter B. Because there is no set national standard for expungement of State crimes within our assessment period, the Coast Guard has chosen to continue to review criminal records regardless of expungement.

One commenter requested that the Coast Guard provide an exact methodology and judgment criteria for our safety and suitability review and how it is affected by TWIC.

The Coast Guard's safety and suitability review will not be affected by TWIC other than that if a mariner is not granted a TWIC he or she cannot be granted an MMC, therefore making the Coast Guard's safety and suitability determination unnecessary. The TWIC will remove the security review from the Coast Guard's credentialing process, but it will not otherwise affect the Coast Guard's determination as to whether an individual is a safe and suitable person to serve in the merchant marine. The crimes that will prohibit an applicant from receiving a TWIC are no more expansive than those that would prohibit an applicant from receiving an MMD or license under the Coast Guard's current regulations.

With respect to the methodology and judgment criteria for our safety and suitability review, the Coast Guard has the authority to review an applicant's safety and suitability under Chapters 71 and 73 of Title 46, United States Code. To determine whether a mariner is a safe and suitable person, the Coast Guard reviews that applicant's full application material. All training, sea service, medical evaluations, records, and criminal records are reviewed for this determination. A person fails to meet the safe and suitable person standard when the circumstances indicate that the person's character and habits of life would support the belief that permitting such a person to serve under the credential and/or endorsement sought would clearly be a threat to the safety of life or property, detrimental to good discipline, or adverse to the interests of the United States. The definition for “safe and suitable person” in 46 CFR.107 has been modified in this SNPRM to include these judgment criteria.

34. Miscellaneous Comments Outside the Scope of This Rulemaking

We received two comments requesting that we include well-control training program provisions to 46 CFR 10.470.

This request is outside the scope of this rulemaking as it does not involve the consolidation of credentials or the process for reviewing mariner credential applications. The Coast Guard has chosen not to include these program provisions in the regulations at this time.

We received one comment requesting the Coast Guard to revise the tonnage service requirements for license upgrades.

This too, is beyond the scope of this rulemaking; however, it will be addressed in the upcoming STCW rulemaking project.

We received one comment requesting consistency with respect to the 12-hour service time requirement.

Such a change is beyond the scope of this rulemaking; however, the Coast Guard has recently disseminated guidance to our application evaluators on this issue to assist in the consistent application of the 12-hour service time requirement. Additionally, in this SNPRM we have removed the language from the definition of “day” in 46 CFR 10.107.

35. Support for the Rulemaking

The Coast Guard received the following comments in support of the NPRM:

27 comments agreed with the need for increased rational national security measures.

One comment supported the proposal to renew credentials by mail.

One comment supported the proposal to allow oaths to be taken before a notary public and be submitted by mail.

Two comments supported the consolidation of credentials into one document and the associated $45 reduction in cost associated with renewing multiple credentials.

One comment supported the five year phase in period, saying that it will greatly reduce the backlog of applications and give mariners the opportunity to complete the process at a convenient time.

Three comments supported the proposal for numerous mobile enrollment centers and the associated ease in staff burdens at the RECs. One of those commenters also encouraged TSA to establish an enrollment facility at large refineries and petrochemical facilities. The location of TSA's enrollment facilities are discussed in the TWIC rulemaking.

18 comments were generally in favor of consolidating the merchant mariner credentials, and four of those comments went further to state that in general, the changes proposed to the MMC are beneficial to the mariner and include several positive features that will make the systems simpler and more user friendly.

One comment encouraged the sharing of information between the Coast Guard and TSA.

One comment stated that the option to renew MMCs at any time prior to the expiration of the old credentials is common sense and more convenient for mariners.

36. Travel

We received one comment that sought an increase in the number of application and examination centers; one comment that showed a general confusion about the appearance requirement; and 10 comments complaining about the heavy burden on mariners caused by the requirement to travel to an REC.

If this proposed MMC regulation goes into effect, mariners will only have to travel to the REC if an examination is required. The MMC application process could be done entirely by mail. There would no longer be a requirement to appear at one of the 17 RECs at least once in the application process. Instead, mariners are required by the TWIC rule to travel to one of the approximately 125 TWIC enrollment centers spread across the country. It is expected that there will be approximately 125 TWIC enrollment centers for initial rollout, however, the exact number, their locations, and the number that will remain in operation after initial roll out has yet to be determined. This information will not be known until a contract is awarded, but the Coast Guard is working with TSA to locate them in areas that will reduce the travel burden on mariners.

The TWIC/MMC enrollment process would work like this: To begin, a mariner would have the option of going online to provide pre-enrollment information for the TWIC to reduce the amount of time at the TWIC enrollment center. They would then travel to one of the many TWIC enrollment centers to be fingerprinted, photographed, show proof of ID and complete the TWIC application process. At any time after they have applied for their TWIC, the mariner would be able to mail his or her MMC application to the Coast Guard. The Coast Guard would then contact TSA to obtain electronic copies of the applicant's fingerprints, photograph, ID, and if applicable criminal record, FBI number and proof of alien status. If an examination is required, the mariner would be contacted to schedule the examination after the initial evaluation is completed. Once the TWIC has been issued, the MMC application approved, and the examination(s), if necessary, are completed, the MMC would be mailed to the applicant.

The RECs would remain open and mariners would be allowed to apply in person or seek assistance from REC personnel if they choose. Although the RECs would remain available to the mariner, mandatory appearance would no longer be required. This proposed change should result in a cost savings to mariners. The reduction in burden and the expected cost benefits from this proposed rulemaking are discussed further in the Regulatory Evaluation section below.

We received one comment seeking more detail on how mariners can select an application location.

The TWIC enrollment center locations will be established by TSA. Just like the current process with Coast Guard RECs, merchant mariners would be allowed to appear at any TWIC enrollment center they choose. TSA will be conducting initial enrollment on a rolling basis, standing up enrollment centers in different locations in phases. Merchant mariners are allowed to visit any of the TWIC enrollment centers at any time during the 18 month initial enrollment period. Some vessels or facilities may begin to use the TWIC for access control once enrollment has been completed in their geographic location. Because mariners are inherently mobile, they may need to visit one of the vessels or facilities that begin to use TWIC earlier in the initial enrollment period and a temporary exception has been created that will allow unescorted access to vessels and facilities with MMD or picture identification in addition to license or COR. This temporary exception only applies during the initial roll out period. All credentialed merchant mariners must obtain a TWIC by September 25, 2008. For more information on TWIC enrollment and the implications for merchant mariners, please read the TWIC final rule published elsewhere in today's Federal Register.

37. Vetting

One comment requested that the Coast Guard remove 46 CFR 10.211(e) because it applies to security vetting and mariners are entitled to disclosure of the reason for denial in all cases.

We agree in part. The entire paragraph has not been removed, but it has been amended. The language in question was inserted in the NPRM in case an applicant was refused a credential based on confidential national security information that was not releasable to the public, or even to the applicant. If this rulemaking becomes effective, the Coast Guard would only be vetting mariners for safety and suitability, no longer making a determination as to security threat, so there should not be a situation in which we would encounter such a protected reason for denial. Accordingly, paragraph 10.211(e) has been amended in this SNPRM to remove the words: “unless the Coast Guard determines that such disclosure of information is prohibited by law, regulation, or agency policy”. The language also appeared at 46 CFR 10.237(b) in the NPRM. That section has been moved in this SNPRM to 46 CFR 10.237(a) and has also been revised to remove this language.

One comment requested that the Coast Guard ensure consistency between the TWIC and MMC with respect to homicide.

In this instance, the Coast Guard believes that the inconsistency in the disqualifying crimes for TWIC and the MMC is appropriate. The TWIC regards murder as a permanently disqualifying crime for security vetting under 49 CFR 1572.103 of the proposed TWIC regulations. As with the current hazardous materials endorsement regulations, TWIC applicants will be allowed to seek waivers of disqualifying crimes. With respect to the hazardous materials endorsement, these waiver requests have been frequently granted. The Coast Guard has consistently split homicide into the categories of intentional (i.e., murder) and unintentional, with the assessment period for intentional homicide being a minimum of 7 to a maximum of 20 years. This assessment period has not been changed in these proposed regulations.

The crimes listed in 46 CFR table 10.211(g) rarely overlap with the TWIC disqualifying crimes, but when they do, it is because that crime has a link to national security as well as safety and suitability. The Coast Guard and TSA would be reviewing these crimes for very different purposes. A record that may not rise to the level of a national security threat may rise to the level of a safety risk. The Coast Guard believes that we must retain those crimes that have a nexus to safety in the event that they are waived by TSA after the determination that the individual does not pose a threat to national security. Because of the remote locations and isolation associated with the mariner's workplace, the Coast Guard intends to continue reviewing intentional and unintentional homicide convictions in our safety and suitability review as we have for decades.

One comment stated that the Coast Guard should accept the American Bureau of Shipping (ABS) identification process and background check as meeting the TWIC process and issue TWIC cards based on it.

The background check and issuance of the TWIC is outside the scope of this rulemaking. Discussion of the TWIC background check and requirements for issuance can be found in the TWIC final rule published elsewhere in today's Federal Register.

One commenter stated that the current vetting process conducted by the Coast Guard for mariners meets or exceeds the standards of the hazardous materials endorsement vetting process proposed for TWIC. We also received one comment that the Coast Guard should enhance our vetting process to meet the requirements of 46 U.S.C. 70105.

Since February 3, 2003 for MMDs, and January 13, 2006 for licenses, the Coast Guard vetting process has met the TWIC vetting standards with respect to merchant mariners. Because of this, we have worked with TSA to create an exemption from the criminal record review and a related reduction in the TWIC application fee for mariners holding credentials issued after those dates. To remove the duplication of effort, and reduce the size of the MMC review process, this SNPRM would completely remove the Coast Guard's security vetting process and transfer that review entirely to TSA. MMDs and licenses do not, however, meet the standards for the 46 U.S.C. 70105 mandated biometric identity credential. For the reasons discussed above in “Format of the MMC”, the MMD, license and proposed MMC will not be able to meet the format and readability standards that would exist with the TWIC.

We received 41 comments stating that the Coast Guard and TSA should not conduct duplicate background checks. We received five additional comments that only one background check should be conducted and that it should be done by the Coast Guard, and one comment generally objecting to the Coast Guard conducting background checks. We received one comment that the Coast Guard and TSA should not conduct duplicate identity verification.

At this time, the option of having either TSA or the Coast Guard conduct all required background checks for individuals who require both an MMC and the TWIC is not feasible. TSA has established a system and process for ensuring individuals applying for the TWIC undergo a consistent security threat assessment and the USCG already has the authority and process in place for conducting the required safety and suitability checks for mariners. To create a new and unique system of background checks for approximately one fifth of the expected initial TWIC population would create the need for additional infrastructure within one agency and raise costs for the government and the entire TWIC population. In addition, the Coast Guard has more expertise and authority over the merchant marine than TSA and is in a much better position to determine whether an applicant is safe and suitable to serve in the merchant marine at the grade or rating sought. At this time, the most efficient and cost effective method available for issuing TWICs to credentialed mariners is to have TSA conduct the security threat assessment and issue the identity document (TWIC) while the USCG issues qualifications on the MMC.

In addition, requiring only one criminal record review for both security and safety related crimes by one agency would negatively impact mariner flexibility. If only one background check were to occur, mariners would be required to apply for their MMC only at the time they applied for their TWIC. As currently proposed, the MMC and TWIC expiration dates need not align. This allows an individual who works at a port to decide later that he or she wants to become a merchant mariner. In addition, for those mariners who already hold a MMD, license or COR, they need not renew their credential upon the initial issuance of their TWIC because the effective period of their current credential is not affected by this proposed regulation. If we were to require only one background check by TSA for all mariners, the mariner credential would have to come into line with the expiration date of the TWIC. Requiring mariners who already hold credentials to renew so that their credential's expiration date matches their TWIC expiration date is currently impossible from a legal standpoint due to the statutory requirement that licenses and MMDs have a five year validity period under 46 U.S.C. 7106 and 46 U.S.C. 7302. Such a requirement would inherently shorten that five year duration. Finally, requiring only one security/safety/suitability criminal record review by TSA at the time of application would affect individuals who would like to seek raises in grade or new endorsements on their MMC during the five year validity period. The list of disqualifying offenses for officers is more extensive than that for ratings. Requiring TSA to run a new background check simply to determine a mariner's safety and suitability, when a TWIC application is not in process, would be improper.

Finally, both agencies will not verify the applicant's identity. The applicant will show proof of identity to TSA who will then share that identity information with the Coast Guard. The Coast Guard will trust TSA's identity verification determination. The only reasons we will require the identity information from TSA are (1) We need to affix the mariner's photograph to the MMC; (2) we need to verify the individual's age before issuing certain endorsements; and (3) we need to verify that the applicant meets the citizenship requirements for the endorsement sought because the citizenship requirements for the MMC are more strict than those required for the TWIC. The citizenship requirements for the MMC are established by statute in 46 U.S.C. chapters 71 and 73, and appear in proposed 46 CFR 10.221. These requirements have not been changed from the current citizenship requirements for MMDs, licenses or CORs.

On October 17, 2006, Congress passed the John Warner National Defense Authorization Act for Fiscal Year 2007 (Pub. L. 109-364). In that Act, Congress amended 46 U.S.C. 8103 to permit an alien allowed to be employed in the U.S. under the Immigration and Nationality Act who meets additional requirements for service as a steward aboard large passenger vessels to obtain an MMD. Although language has not been proposed in this rulemaking to address this new statutory authority, the Coast Guard is aware of it and is initiating a separate rulemaking to address these new requirements.

We received three comments expressing concern that the TWIC background check will prevent an individual from obtaining an MMC.

With very few exceptions, the TWIC requirements are equal to, if not less than, those requirements currently in Coast Guard regulations for MMDs, licenses and CORs. Furthermore, TWIC applicants are allowed to seek a waiver of any disqualifying offense, and appeals of negative waiver determinations are determined by an Administrative Law Judge. By the language of 46 U.S.C. 70105, “The Secretary shall issue a biometric transportation security card to an individual specified in paragraph (2), unless the Secretary decides that the individual poses a security risk under subsection (c) warranting denial of the card.” If, under the current Coast Guard regulatory program, an individual applies for a MMD, license, COR or STCW endorsement, and that individual is deemed a security risk, the individual's application will be denied. If the individual is deemed ineligible for a TWIC, they should not be granted an MMC.

We received one comment expressing concern that applicants would be able to get a TWIC but would be denied an MMC because of higher standards.

The standards for the MMC and the TWIC are intentionally different, because the intent and purpose of the credentials are different. The TWIC is intended to prevent individuals who pose a terrorism security risk from gaining access to secure areas of title 33 CFR Subchapter H regulated vessels and facilities. The MMC, however, is intended to serve as a certificate of identity and a certificate of service, specifying the grade and rating in which the holder is qualified to serve on board commercial vessels. More individuals will qualify to receive a TWIC (because they do not pose a security risk) than would possess all of the qualifications necessary to serve as a merchant mariner aboard commercial vessels.

The qualification standards for the MMC have been kept, in large part, the same as those that are currently required to obtain an MMD, license, COR or STCW endorsement. With few exceptions as set out in this SNPRM, and the NPRM published May 22, 2006 in the Federal Register at 71 FR 29462, the standards for mariners have remained the same. Just as in the current regulations, if a mariner poses either a safety risk, or a security risk, he or she would be denied a mariner credential. Higher qualification standards are necessary for the MMC than for the TWIC as it will include a safety and suitability assessment due to the inherently dangerous nature of a career in the merchant marine, and the remote location and isolated workplaces associated with maritime transportation.

We received two comments that mariner fingerprints are already on file with the Coast Guard and therefore there should be no need for mariners to travel to a TWIC enrollment center to provide them again.

Although mariners are currently required to visit Coast Guard RECs to be fingerprinted, because the Coast Guard has had no use for the fingerprints other than to obtain the applicant's Federal Bureau of Investigation (FBI) criminal record, these fingerprints are not stored by the Coast Guard. The fingerprint images are immediately transferred to the FBI for processing, where they become property of the FBI. These fingerprints are not returned to the Coast Guard.

We received one comment that MMCs should not be denied based on statutes that impose strict criminal liability or liability based upon ordinary negligence or criminal violations of environmental law.

We disagree. The crimes listed in 46 CFR 10.211(g) were not changed from the Coast Guard's current credentialing regulations, because of their nexus to safety and the determination of suitability for the merchant marine. The only crimes that do not appear in these proposed regulations but exist in our current regulations are those involving national security. Those crimes would be removed because TSA is reviewing them and the Coast Guard does not need to conduct a duplicate review of those offenses.

As for crimes based on statutes that impose strict criminal liability or liability based on ordinary negligence, the Coast Guard has determined that lack of intent should not exempt individuals from being considered a risk to safety or considered unsuitable for the rank or rating sought. Acting negligently, or failing to take reasonable care to meet a specific standard of conduct established to protect against an unreasonable risk of harm to others, resulting in a conviction for one or more of the offenses listed in 10.211(g) is certainly behavior that could denote an increased likelihood that the individual could pose a risk to safety. Furthermore, engaging in inherently dangerous activity is typically associated with strict liability crimes, and shows that the individual is likely to act in reckless or risky behavior that could result in a safety incident or otherwise make the individual unsuitable for the merchant marine.

Finally, the Coast Guard believes that individuals who have criminal violations of environmental laws involving the improper handling of pollutants or hazardous materials could pose a risk to the safety of the environment and could be unsuitable to serve in the merchant marine. Individuals with prior records of improper handling of pollutant materials have an increased likelihood of causing further damage to the environment if provided access to the large amount of pollutant material and possibly hazardous material aboard commercial vessels. The disqualifying criminal offenses have not been altered in this proposed rulemaking with respect to criminal violations of environmental laws.

We received four comments that opposed the Coast Guard's requirement for self disclosure of criminal convictions.

The Coast Guard disagrees, and has not eliminated the requirement for applicants to disclose possible or actual disqualifying crimes for several reasons. First, there is no guarantee that an arrest and conviction are documented in automated police records, particularly those police records maintained at the State and local levels. Disclosure of this information provides the Coast Guard the ability to know where to start looking in the correct Federal, State or local databases, either electronically or by mail, if records are not accessible through electronic means. Second, people assume new identities to either hide on-going or past criminal activities, or just as a matter of course (marriage, nickname, etc.) which makes it difficult to locate records and verify that they actually relate to the applicant. Third, there is no worldwide criminal record database. Without personal disclosure of foreign convictions, it is extremely difficult for the Coast Guard to know which countries to approach for records. Finally, requiring full disclosure from applicants supported by background checks demonstrate that the Coast Guard is putting as many processes in place as possible to ensure that the highest standards are met before issuing something as important as merchant mariner credentials. We welcome comments on the possibility of limiting this disclosure requirement to only those convictions not previously disclosed on a merchant mariner application.

B. Recommendations From Advisory Committees

The following recommendations were received from the Towing Safety Advisory Committee:

1. Extend the Public Comment Period 90 Days

As discussed above, in lieu of extending the public comment period on the NPRM 90 days, we have published this SNPRM addressing the comments already received, and providing additional changes to the proposed regulation in light of those comments. A 90 day comment period has been provided for this SNPRM.

2. Provide for Additional Public Meetings in the Gulf Coast, Great Lakes and Northwest

We encourage public participation in this rulemaking, however, the Coast Guard received a relatively small number of comments on this rulemaking during the joint TWIC/MMC public meetings held in May and June 2006, and additional public meetings will not be held on the TWIC rulemaking project during the 90 day comment period for this SNPRM. For those reasons, the Coast Guard does not intend to hold additional public meetings on this rulemaking at this time.

Written and oral comments are given equal weight in the rulemaking process. Please submit written comments to the docket for this rulemaking project, which is available by conducting a simple search for docket number 24371 at http://www.dms.dot.gov. If, after reading this SNPRM, you believe that additional public meetings would be beneficial, please submit a request to the docket explaining why one would be beneficial. If the Coast Guard determines that additional public meetings would aid this rulemaking, we will provide advance notice in the Federal Register.

The following recommendations were received from the Merchant Marine Personnel Advisory Committee (MERPAC):

1. MERPAC strongly recommends that TSA remove mariners from the TWIC project. TSA should modify the existing credential that most mariners already have, as this document, with the photo of each mariner already meets the standards called for in 46 U.S.C. 70105. By updating and creating new biometrics in the existing MMD, or creating a new MMC, mariners could meet the intent of TSA without the duplicative effort of the TWIC.

Through 46 U.S.C. 70105, Congress has directed the Secretary of the Department of Homeland Security to issue a biometric transportation security card to all individuals who need unescorted access to secure areas designated in a vessel or facility security plan; individuals issued credentials under part E of subtitle II of Title 46 U.S.C. (credentialed mariners); vessel pilots; individuals working on a towing vessel that pushes, pulls, or hauls alongside a tank vessel; certain individuals with access to security sensitive information; and other individuals engaged in port security activities.

The House Committee Report, written when the statute was still a bill, but contained the language that was passed, states “Section 70105 establishes a national standard for issuance of biometric transportation security cards whose purpose is to control access to secure terminal areas to only authorized personnel.” The Department of Homeland Security has interpreted this language, and the language of the statute itself, to exhibit a Congressional intent that the Secretary create a single biometric identification credential. This national biometric transportation security card is to be used at all 33 CFR Subchapter H regulated vessels and facilities by everyone to whom the statute applies. Such a uniform requirement would improve security and reduce fraud through the creation of a single, recognizable identity credential instead of multiple credentials that would be dependant on the type of function that the individual would serve at the vessel or facility.

The population of individuals covered by 46 U.S.C. 70105 includes a large number of individuals outside of the merchant marine. Altering the MMD to include biometric capabilities would not only fail to satisfy the requirement for all of the people to whom the Secretary must issue the credential, but it would not even cover the entire population of mariners that are affected by the statutory mandate. Altering the MMD to include biometric capabilities would cover only those people who carry an MMD. As of December 31, 2005, of the total estimated 205,000 merchant mariner population, 67,637 held only an MMD; 41,343 mariners held both a license and MMD; and 27,790 mariners held a license, MMD and STCW endorsement (the remainder hold a license only, which is not an identity document).

Allowing the MMD to serve as an alternate to TWIC would violate this concept of a single uniform nation-wide credential for all. Also for this reason, we have opted not to consolidate the merchant mariner credentials into the MMC with a biometric chip. Although this option would be more expansive because it would at least create a uniform biometric credential for all merchant mariners, it would not reach the other categories of people included under the 46 U.S.C. 70105 requirement, and would therefore violate the intent and benefits that could be derived from a single nation-wide standard.

There are many other reasons why the Department of Homeland Security has chosen not to place a biometric on the MMD or MMC in an attempt at satisfying this statutory mandate. One of these reasons is cost. The process proposed in this SNPRM would allow all mariners to apply for their MMC entirely by mail. Mariners would apply for their TWIC by going to one of the over 125 TWIC enrollment centers to be fingerprinted, photographed, show proof of identification and citizenship status. TSA would then share this information electronically with the Coast Guard. This proposed regulation would result in a cost savings for mariners because it would completely remove the need for all mariners to travel to one of the 17 Coast Guard RECs. As proposed, the Coast Guard would no longer conduct identity verification and security vetting. If the MMD or MMC was to be re-vamped to include a TWIC-like biometric chip, then those mariners who would get the MMD or MMC would have to travel to one of the 17 RECs, instead of the 125 TWIC enrollment centers, to submit their application information. This would be more of an inconvenience to the mariner as 125 locations are more likely to provide a shorter travel distance than the Coast Guard's current 17 REC locations.

TWIC enrollment centers are for the gathering of information from TWIC applicants only. Even if that were not the case, the collection of application information, security vetting and the maintenance of the database make up most of TSA's TWIC program expenses. The only cost that would be saved if mariners were allowed to apply there but not required to actually hold a TWIC would be the actual production cost of the TWIC card itself. Because those expenses must be recovered in user fees, this would result in a fee to mariners even if a TWIC card wasn't actually issued.

Adding a chip to either the MMD or MMC would also add costs. Adding a biometric chip to either the MMD or MMC would be more expensive to produce. Right now, this SNPRM does not propose to change the fees for the MMC from those that are currently charged for the license and MMD. If the Coast Guard changed the MMD or MMC to conform to the TWIC technology, the cost of the credential would increase.

The final option considered was to incorporate all of the merchant mariner qualification information onto the TWIC. This is a goal that the Coast Guard hopes to reach some time in the future; however, it is simply not feasible at this time. STCW requires foreign port state control officers to be able to read a mariner's qualification credentials, and not all countries have the ability to read smart cards. It is impractical, and for some it may be impossible, to print all of the information that will appear on an MMC on the face of the TWIC. At some point in the future the Coast Guard hopes that new technology will be available, costs will be reduced, and international capabilities will exist to make this a viable alternative.

For these reasons, the Coast Guard and TSA have opted to present two separate, but linked credentials: a TWIC as the biometric security card required in 46 U.S.C. 70105, and the MMC as the consolidated qualification credential for merchant mariners.

2. Given the size, complexity, and impact of these three rulemaking proposals, MERPAC recommends an extension of the comment period for at least another ninety days. For example, many U.S. mariners are onboard vessels for over three months at a time. They will not have an opportunity to comment under this truncated comment period. U.S. mariners are low-risk, there does not seem to be any overriding national security interest that would necessitate such a short comment period. It is better to implement it correctly the first time.

We agree with the need to provide merchant mariners additional time to comment on these complex regulations. For that reason, we have published this SNPRM, addressing the comments received to date and republishing the complete proposed regulatory text reflecting changes made in light of those comments. The Coast Guard has provided a 90 day comment period to collect comments to this SNPRM.

3. MERPAC recommends that the Coast Guard delay implementation of the MMC, separating the implementation of the MMC from the TWIC implementation, until the TWIC program is deemed successful.

Delay has been built into the timeline for the proposed implementation of this rulemaking. If made effective, the proposed regulations in this MMC SNPRM would not be implemented until approximately August 2008. This long delay before implementation has been proposed to allow all merchant mariners to obtain a TWIC before this proposed regulation would make it mandatory for the issuance of an MMC. The delay would also allow time for the Coast Guard to develop the form of the new credential and produce a sufficient supply before the date of issuance. Furthermore, the delay would provide time to build and test the system that will transmit each MMC applicant's digital photograph, fingerprints, proof of identification, proof of citizenship, and if applicable, the applicant's criminal record and proof of legal resident alien status to the Coast Guard from TSA. The protection of this personal data is extremely important to the Coast Guard and TSA and we have planned this delay to allow sufficient time to test the system to ensure the security of that data. In addition, the new credential would be phased in over a five year period. A mariner would not be required to obtain an MMC until he or she either chooses to renew or upgrade their current MMD, license, COR or STCW endorsement, or they chose to apply for an MMC after this proposed rule is made effective. We find any additional delay unnecessary.

4. MERPAC believes that this rulemaking exceeds the authority of the Coast Guard to create a consolidated credential, eliminating the existing system of documents and licenses, without amending the existing U.S. Code. We believe that a more thorough review of this change and its effect on all aspects of licensing and application is needed.

The proposed change will not affect the legal standing of merchant mariners. 46 CFR 10.201 in the proposed rulemaking describes the characteristics and purpose of the MMC, explaining that it combines the elements of the MMD, COR, license and any other required endorsements (such as STCW) into a single document. This is a valid exercise of the Coast Guard's broad authority under 46 U.S.C. Part E, Chapters 71, 73, 75 and 77. With respect to licenses, 46 U.S.C. 7101 provides the Coast Guard authority to issue licenses to various classes of applicants found so qualified. The Code is not specific regarding the required form of the mariner's credentials, including the license, allowing the Coast Guard to exercise discretion through the rulemaking process.

“Merchant Mariner Credential” is merely the term used to describe the certificate issued by the Coast Guard that incorporates the mariner's license with the MMD and other endorsements into one document with endorsements to be listed on the document depending on the mariner's qualifications. The term “Officer Endorsement” is merely the term used to describe the qualifications of the mariner, which are described as licenses in the current regulations. The mariner's actual capacity to serve in the merchant marine as specified by the endorsements on the MMC is unchanged by this proposed rulemaking.

5. Page 29464 of the May 22, 2006, proposed rule states that there are no changes to the qualifications, experience, examinations, classes and other requirements needed, and that this is just a reorganization of existing regulations. As there are new and changed requirements, such as physical standards and hearing standards, this statement should be honored and all changes removed. Accordingly, the text of 10.215 and Table 10.215(a) should be removed or corrected to assure that STCW standards are not incorrectly applied to domestic mariners. MERPAC believes this guidance to be confusing, incomplete, incorrect and damaging to the domestic mariners as written.

The intent of that preamble statement in the NPRM was to advise that this rulemaking is intended to accomplish a reorganization of the regulatory text, amend the regulations to consolidate the MMD, license, COR, STCW endorsement, and consolidate the application procedures. Its purpose is not to overhaul the qualification, experience, training or other requirements set out in parts 10 and 12. It is true, however, that some substantive changes were necessary to accomplish this task. In addition, we acknowledge that there have been a number of proposed changes to the medical standards section (46 CFR 10.215) that were not necessary for the consolidation, but were made to add clarification or improve upon the regulations. Many changes to section 10.215 have been made in this SNPRM to remove changes that were proposed in the NPRM, or to alter those recommended changes.

6. The Coast Guard needs to protect a mariner's financial information by removing the requirement to place the applicant's Social Security Number on the face of the form of payment. Fees should be collected by credit card through the mail or by phone.

The requirement that applicants write their full social security number on the face of checks or money orders has been removed. The social security number requirement proposed in 46 CFR 10.219 in the NPRM was carried over from our current regulations, but due to the increased concern over identity theft nationwide the Coast Guard is proposing an alternative in this SNPRM. Section 10.219(d)(4) has been revised to require that all checks and money orders contain the applicant's full legal name and last four digits of their social security number. The full legal name is necessary to link the individual to the payment, and the last four digits of the social security number would be used to differentiate between mariners who may have common names. In addition, 10.219(d)(2) has been revised in this SNPRM to propose credit cards as an acceptable form of payment.

7. MERPAC suggests the removal of the language in section 10.211(e). Since the Coast Guard will not be conducting background checks for disqualification due to security and terrorism, this paragraph seems inappropriate. The language here states, “The applicant will be notified in writing of the reason or reasons for disapproval, unless the Coast Guard determines that the disclosure of information is prohibited by law, regulation or agency policy, in which case the reason(s) will not be disclosed.” Mariners are entitled to due process, and denial based on the crimes in table 10.211(g) should be transparent to the mariner, in order to respond with the appeal that this rule authorizes.

We agree. The first portion of that statement in 10.211(e) was retained in this SNPRM, but the second half was removed. The language in question was inserted in the NPRM in case an applicant was refused a credential based on confidential national security information that was not releasable to the public, or even to the applicant. If this rulemaking becomes effective, the Coast Guard would only be vetting mariners for safety and suitability, no longer making a determination as to security threat, so there should not be a situation in which we would encounter such a protected reason for denial. Accordingly, paragraph 10.211(e) has been amended in this SNPRM to remove the words: “unless the Coast Guard determines that such disclosure of information is prohibited by law, regulation or agency policy”. The language also appeared at 46 CFR 10.237(b) in the NPRM. That section has been moved in this SNPRM to 46 CFR 10.237(a) and has also been revised to remove this language.

8. Section 10.217 allows the Coast Guard to designate other Coast Guard locations to provide service to applicants for MMCs, and MERPAC applauds this addition.

We appreciate this comment, and thank you for the recognition of this benefit.

9. Section 10.225 states that mariners must surrender their old MMC, but 10.227 states that the mariner can retain an expired document. Mariners should be allowed to keep expired documents and licenses.

We agree and have revised 10.209(g), 10.225(b)(5), 10.227(d)(4) and (e)(2)(i), 10.223(c)(5), 10.231(c)(5), and 10.233(c) accordingly. The requirement to return credentials that are expired, invalid, or have been renewed remains; however, mariners may request in writing, at the time of submission, that the canceled credential be returned to them after cancellation.

10. MERPAC recommends that the Coast Guard create an MMC that is convenient for the mariner. They should consider a small document that is either wallet sized, or resembles a passport, that is more durable and easier for the mariner to transport.

Thank you for your support and assistance. We look forward to working with MERPAC as we develop the new credential.

11. MERPAC recommends that the Coast Guard begin a new rulemaking that would harmonize the criminal background checks with TSA standards so that mariners are only subject to one background check, at one cost. The Coast Guard should use the same standards of criminal conviction as TSA.

At this time, the option of having either TSA or the Coast Guard conduct all required background checks for individuals who require both an MMC and the TWIC is not feasible. TSA has established a system and process for ensuring individuals applying for the TWIC undergo a consistent security threat assessment and the USCG already has the authority and process in place for conducting the required safety and suitability checks for mariners. To create a new and unique system of background checks for approximately one fifth of the expected initial TWIC population would create the need for additional infrastructure within one agency and raise costs for the government and the entire TWIC population. In addition, the Coast Guard has more expertise and authority over the merchant marine than TSA and is in a much better position to determine whether an applicant is safe and suitable to serve in the merchant marine at the rate or rating sought. At this time, the most efficient and cost effective method available for issuing TWICs to credentialed mariners is to have TSA conduct the security threat assessment and issue the identity document (TWIC) while the USCG issues qualifications on the MMC.

In addition, requiring only one criminal record review for both security and safety related crimes by one agency would negatively impact mariner flexibility. If only one background check were to occur, mariners would be required to apply for their MMC only at the time they applied for their TWIC. As currently proposed, the MMC and TWIC expiration dates need not align. This allows an individual who works at a port to decide later that he or she wants to become a merchant mariner. In addition, for those mariners who already hold a MMD, license or COR, they need not renew their credential upon the initial issuance of their TWIC because the effective period of their current credential is not affected by this proposed regulation. If we were to require only one background check by TSA for all mariners, the mariner credential would have to come into line with the expiration date of the TWIC. Requiring mariners who already hold credentials to renew so that their credential's expiration date matches their TWIC expiration date is currently impossible from a legal standpoint due to the statutory requirement that licenses and MMDs have a five-year validity period under 46 U.S.C. 7106 and 46 U.S.C. 7302. Such a requirement would inherently shorten that five-year duration. Finally, requiring only one security/safety/suitability criminal record review by TSA at the time of application would affect individuals who would like to seek raises in grade or new endorsements on their MMC during the five-year validity period. The list of disqualifying offenses for officers is more extensive than that for ratings. Requiring TSA to run a new background check simply to determine a mariner's safety and suitability when a TWIC application is not in process would be improper.

Finally, the Coast Guard disagrees that the disqualifying crimes for the TWIC should match those for the MMC. The standards for the MMC and the TWIC are intentionally different as the intent behind the need for the credentials are diverse. The TWIC is intended to prevent individuals who pose a terrorism security risk from gaining access to secure areas of 33 CFR Subchapter H regulated vessels and facilities. The MMC, however, is intended to serve as a certificate of identification and a certificate of service, specifying the grade and rating in which the holder is qualified to serve on board commercial vessels. It should be inherently obvious that more individuals would qualify to receive a TWIC because they do not pose a security risk, than would qualify to serve as a merchant mariner aboard commercial vessels.

The qualification standards for the MMC have been kept, in large part, the same as were required to obtain an MMD, license, COR or STCW endorsement. With few exceptions as set out in this SNPRM and the NPRM published May 22, 2006 in the Federal Register at 71 FR 29462, the standards for mariners have remained the same. Just as in the current regulations, if a mariner poses a safety risk, but not a security risk, he or she would be denied a mariner credential. Higher standards are necessary for the MMC as it will include a safety and suitability assessment due to the inherently dangerous nature of a career in the merchant marine, and the remote location and isolated workplaces associated with maritime transportation.

12. MERPAC recommends that Coast Guard remove the self-disclosure portion of the application process. The TWIC search will discover sufficient criminal convictions that should be applied by both agencies.

The Coast Guard disagrees, and has not eliminated the requirement for applicants to disclose possible or actual disqualifying crimes for several reasons. First, there is no guarantee that an arrest and conviction are documented in automated police records, particularly those police records maintained at the State and local levels. Disclosure of this information provides the Coast Guard the ability to know where to start looking in the correct Federal, State or local databases, either electronically or by mail, if records are not accessible through electronic means. Second, people assume new identities to either hide on-going or past criminal activities, or just as a matter of course (marriage, nickname, etc.) which makes it difficult to locate records and verify that they actually relate to the applicant. Third, there is no worldwide criminal record database. Without personal disclosure of foreign convictions, it is extremely difficult for the Coast Guard to know which countries to approach for records.

Finally, requiring full disclosure of applicants supported by background checks demonstrate that the Coast Guard is putting as many processes in place to ensure the highest standards are met before issuing something as important as merchant mariner credentials. We welcome comments on the possibility of limiting this disclosure requirement to only those convictions not previously disclosed on a merchant mariner application.

13. MERPAC has concerns about the appeal process, and encourages the agencies to further define and explain this process. We believe that the process as described will result in all of the expense and burden of proof being placed on the applicant, even if the information is found to be in error. There should be a recovery process for expenses if the applicant is denied a document due to mistakes made by the government.

If an MMC is issued, unless the situation calls for temporary suspension under 46 U.S.C. 7702, or the circumstances call for suspension and revocation for a reason other than security, the Coast Guard would not begin suspension and revocation proceedings until we were notified that the applicant had fully exhausted his or her TSA appeal rights. If the Coast Guard is notified by TSA that final agency action has occurred and a mariner has either been denied a TWIC or their TWIC has been revoked, the Coast Guard would begin suspension and revocation action against the individual's MMC. The suspension and revocation procedures for the MMC would remain the same as those presently used. The Coast Guard will not review a TSA decision regarding the issuance or revocation of a TWIC. Decisions regarding the issuance and revocation of TWICs are solely the responsibility of TSA. The Coast Guard does not have the authority to review, in any way, TSA decisions with respect to the issuance or revocation of TWICs. Language to this effect has been added to the proposed regulations in this SNPRM at 46 CFR 10.235(g) and 10.237(c).

The appeal processes for the MMC would remain the same as those presently used; the right of appeal for an applicant receiving an unfavorable decision during the application process remains in 46 CFR 1.03. The right of appeal associated with suspension and revocation remains as stated in 46 CFR 5.701. The proposed regulations have retained the paper appeal process for the Coast Guard's refusal to issue an MMC. Similarly, if a mariner is issued a license or document, he or she would be a “holder” of that license or document, and would be given a hearing before an Administrative Law Judge (ALJ) before adverse action, such as suspension and revocation, would be taken against that credential.

All appeals regarding the issuance or revocation of TWICs would be handled by TSA under the TWIC appeal process. That process involves a paper appeal for all denials, and the use of an ALJ for appeals of waiver decisions. For more information on the TWIC appeal process, please see the TWIC Final Rule published elsewhere in today's Federal Register.

Provisions for the reimbursement of costs to mariners after a successful administrative appeal will not be added to the regulations at this time. The right to administrative appeal is offered to mariners as a due process right. A cost recovery process is available to mariners under the Equal Access to Justice Act (Pl. 96-481).

14. MERPAC recommends that Coast Guard redesign the rulemaking to assure that mariners can make application for their TWIC and their MMC simultaneously, allowing the two processes to move forward concurrently, and not make the mariner wait for the delivery and activation of the TWIC card before applying for their MMC.

The Coast Guard agrees that processing the MMC only after the TWIC has been issued could potentially increase this backlog and be overly burdensome to the mariner. As a result, changes have been made 46 CFR 10.225(b)(2) to allow new applicants to apply for their MMC if they can prove that they either hold a valid TWIC or have applied for one in the past 30 days. The MMC application could be processed simultaneously with the individual's TWIC application. However, because of the Coast Guard's need to obtain biometric and biographic information submitted by the applicant at a TWIC enrollment center, the TWIC application must be submitted before the MMC application. In addition, because of the need to ensure that the applicant's identity has been verified and that he or she has been determined not to pose a security risk, the Coast Guard proposes to retain the requirement that the TWIC be issued to the applicant before an MMC would be issued.

15. MERPAC recommends that the Coast Guard and TSA develop an interim clearance process, and that mariners be allowed to train and work, while awaiting a final determination.

The Coast Guard has decided not to allow merchant mariners to serve prior to the issuance of their MMC. We have amended the proposed regulations to include concurrent applications, which should speed the application process, however, it is imperative that the Coast Guard verify that an individual has the required qualifications before they are allowed to serve aboard a commercial vessel. The potential risks to life and property and the inherently dangerous nature of a career in the merchant marine creates a heightened need to ensure that the individual is a safe and suitable person for the job in addition to the security review provided by the TWIC. Mariners are not allowed to obtain interim credentials under our current regulations, and we believe it would be inappropriate to create such an interim measure in these proposed regulations.

In addition to the safety risk associated with allowing mariners to work without undergoing a full vetting process, there are also administrative burdens involved. In the past, the Coast Guard issued temporary MMDs to applicants who provided a letter from a shipping company stating that they would hire the person if the Coast Guard were to issue them an MMD. The process led to abuse and put the applicant in the position of trying to get a job before they had the proper credentials. Furthermore, the industry complained of added administrative overhead because they often issued a letter of commitment of employment to people who would sail for a short time, then quickly leave the industry.

In the late 70's or early 80's, the Coast Guard issued temporary MMDs in the form of a letter that allowed an applicant to sail for six months during which he or she could decide if they wanted to remain a seafarer. No commitment of employment was required. This soon became an administrative burden on the Coast Guard. Mariners would sail for a short time then find better employment ashore and few continued to be employed at sea. The Coast Guard had many records of temporary issuance credentials with no closure because the applicant never returned to apply for a final MMD.

For these administrative burden reasons, the safety concerns noted above, and because of the additional administrative overhead of having to prepare and issue a second MMC, the Coast Guard has chosen not to create an interim clearance process at this time.

C. Additional Changes Made in This SNPRM

Although not prompted by public comment or an Advisory Committee recommendation, the following changes have also been made to the proposed regulatory text published in the NPRM. This discussion does not include those changes that have already been discussed above.

1. Purpose of Rules in This Part. (10.101)

References to the Coast Guard verifying a mariner's identity were removed from paragraphs (a) and (c). Paragraph (c) was modified to reference only the security vetting process of the TWIC, and a new paragraph (d) was created to collect the language removed from previous paragraph (c) regarding the requirements that a mariner be a safe and suitable person and qualified as to character and habits of life.

2. Definitions in Subchapter B. (10.107)

Small non-substantive tense, grammatical, or citation changes were made in some of the definitions. In addition to those minor changes, the following substantive changes have been made:

Edits were made to the definition of the term “day” to remove confusion as to watchstanders.

Edits were made to the definition of the term “directly supervised” to ensure that the definition only applies to those seeking a tankerman endorsement. This definition exists in our current regulations only once, in the part applicable only to tankermen at 46 CFR 13.103. There is no current definition for the term “directly supervised” with respect to any other type of endorsement, and none has been created in this SNPRM.

The definition for the term “invalid credential” was expanded to include the MMD, license, COR and STCW endorsement, not just the MMC, because during the five-year phase in period, mariners could hold any combination of these credentials. It was also revised to remove the words “or was issued fraudulently” as one of the reasons a credential could be invalid. Credentials should not be issued fraudulently, and if for some reason there is fraud involved in the application process that results in invalidation of the credential, except for the originally issued credential, it will occur after a suspension and revocation proceeding and the credential will be confiscated by the Coast Guard.

The definition for the term “Merchant Mariner Credential or “MMC” was revised to include the fact that the MMC is not only a qualification document, but that under 46 U.S.C. 7302, it also serves as the mariner's certificate of identification and certificate of service. It was also revised to change the grammar from future to present tense.

The definition for “merchant vessel” was removed as it does not exist in our current regulations, is needlessly limiting, and should not have appeared in the NPRM.

The definition for the term “Officer in Charge, Marine Inspection (OCMI)” was modified to remove the reference to 46 CFR 10.217. The REC locations are no longer listed in 10.217, so the reference here is no longer appropriate.

The definition for the terms “operate, operating or operation” has been modified to limit the definition to the manning requirements of vessels carrying passengers. Now that the definitions for the entire subchapter are contained in one location, the broad definition used in the NPRM was likely to cause confusion with respect to vessels not carrying passengers whose regulations use these terms. An example of regulatory language using the term “operating” with respect to vessels not carrying passengers can be found in 46 CFR 15.610.

The definitions for “officer endorsement”, “rating endorsement”, and “STCW endorsement” have been amended to clarify that these endorsements will act as the license, MMD, or STCW qualification that was previously issued as a separate document.

In the definition for “undocumented vessel” the word “document” was replaced with “certificate of documentation” to refer to the correct term for the document required.

3. General Characteristics of the Merchant Mariner Credential. (10.201)

Paragraph (a) was amended to add a reference to the fact that the MMC would also consolidate the STCW endorsement, not just the MMD, license and COR; and the second sentence was amended to change the tense from future tense to present tense. Paragraph (b) was deleted because it was duplicative of 46 CFR 10.203(d).

Paragraph (c) was added to the SNPRM. This language was added to the current 46 CFR 12.02-3(a) in a technical amendment published in the Federal Register, and states that MMDs may be issued at the NMC or at any REC during usual business hours. The technical amendment was published in between the NPRM and SNPRM on August 21, 2006 at 71 FR 48480. Because this rulemaking proposes to make the entire credentialing process possible through the mail (unless an examination is required), the language in paragraph (c) also clearly states that an MMC can be issued through the mail. Since the MMC will not be the mariner's primary identification credential, and the mariner will already have to hold a TWIC, personal appearance should not be required for the issuance of the MMC.

4. Requirement To Hold a TWIC and a Merchant Mariner Credential. (10.203)

Paragraph (b) was rewritten entirely to remove the automatic invalidation of a mariner's MMC, MMD, license, COR or STCW endorsement if the mariner either fails to obtain a TWIC or if their TWIC is revoked by TSA. It was determined that an automatic invalidation would violate a mariner's Constitutional right to due process. It now states that failure to obtain or hold a valid TWIC may serve as a basis for the Coast Guard to deny a mariner's application. Although a mariner must provide proof that they hold a valid TWIC before an MMC will be issued, the Coast Guard should be able to officially deny an application once we receive word from TSA that it has issued its final agency action denying or revoking the applicant's TWIC.

Also, language has been added that if a mariner fails to hold a valid TWIC their MMC, MMD, license, COR or STCW endorsement could be subject to suspension and revocation under 46 U.S.C. 7702 and 7703. Those statutes provide for the suspension or revocation of a mariner's credential if they have violated or fail to comply with any other law or regulation intended to promote marine safety or to protect navigable waters as well as individuals who are a security risk that poses a threat to the safety or security of a vessel or a public or commercial structure located within or adjacent to the marine environment. The language of 46 U.S.C. 70105 requires all credentialed mariners to obtain a biometric transportation security card (the TWIC) and states that the Secretary must issue that biometric transportation security card (the TWIC) to an individual unless the Secretary decides that the individual poses a security risk warranting denial of the card. Individuals who are denied a TWIC, therefore, must have been deemed a security risk by TSA, and should not be holding merchant mariner credentials. Those who have not applied for a TWIC also should not be holding merchant mariner credentials as the identity and security vetting done during the TWIC application process is an essential part of the MMC vetting. Mariners should not be credentialed without first undergoing a security review and identity verification.

Paragraph (d) was amended to make it clear that the MMD and the MMC serve as certificates of identification under 46 U.S.C. 7302, but that the TWIC is the mariner's primary identification document and must be shown to an authorized official as proof of identity when requested.

5. Validity of a Merchant Mariner Credential. (10.205)

In paragraph (d) the word “void” was changed to “invalid” to conform to the use of the term “valid” in other parts of the regulation. In paragraph (h), the words “STCW Certificate” were changed to “STCW Endorsement” to reflect the proper name of the document.

Paragraph (e) was amended to include “other duly authorized Coast Guard officials” as those who may sign an MMC to make it valid. This change was made because the Coast Guard's National Maritime Center was recently given credentialing authority, but not full OCMI authority.

6. General Application Procedures. (10.209)

This section was renamed “General application procedures”. It was determined that listing all of the application requirements for renewal, duplicate and raise in grade in 10.209, resulted in the unintentional inclusion of additional application requirements. When we attempted to list all of the requirements for originals that renewals, duplicates and/or raises in grade are exempted from, we found the maze of cross references to be needlessly confusing. The SNPRM has been changed so that the application requirements, contained in 10.209(c) in the NPRM, have been moved and restated in 10.225(b), the section for original applications (a new section added to this SNPRM), in 10.227(d) the section for renewals, in 10.223 the section for modification or removal of limitations and scope, and in 10.231(b) for raises in grade (called “Requirements for raises of grade or new endorsements and raise of grade” in this SNPRM).

Since paragraph (c) has been deleted in this SNPRM, the language from 10.225(a) and 10.227(c) was moved to fill its place. This is the statement that applications are valid for 12 months from the date of approval. It is a general application requirement that seems more appropriate in this section, than in sections 10.225 and 10.227.

In paragraph (d), the items that may be submitted by mail have been expanded to include the consent for NDR check and the oath. A new subparagraph (7) was added to paragraph (d) that allows mariners to submit by mail any certificates or other supplementary materials required to show that the mariner meets the mandatory requirements for the specific endorsement sought, as established in parts 11, 12 or 13 of this chapter. This general statement is intended to catch any miscellaneous training certificates or other documents not otherwise captured, such as the firefighting certificate required by 11.205(d). Finally, note that in paragraph (d)(6), the requirement that the MMC issued with endorsements as a medical doctor or professional nurse will reflect any limitations listed on their state medical license. This change was made in the NPRM, but inadvertently omitted from the preamble table of changes.

With the reorganization of this section, a new paragraph (e) has been written to reflect those things that must be made a part of the application before an MMC application can be approved, but are not required to be submitted by the applicant. These items include the NDR check, criminal record review and information obtained from TSA, and are all generated or obtained by the Coast Guard from sources other than the applicant. The requirements for an NDR check and criminal record review have been amended to restrict the requirement to only MMCs issued as an original, reissued with a new expiration date, and new officer endorsements NDR checks and criminal record reviews are not required for duplicates.

For organizational purposes, paragraphs (f) and (g) have been added to 10.209 in the SNPRM. These paragraphs were moved from paragraphs 10.225 (c) and (d) in the NPRM. Paragraph (f) states that when the Coast Guard determines that an applicant meets all of the requirements for an MMC or endorsement, the Coast Guard will issue the properly endorsed MMC to the applicant. Paragraph (g) contains the requirement from 10.225(d) that mariners return their old credentials to the Coast Guard once a new MMC is issued, but it has been amended to state that upon written request submitted at the time of application, the cancelled, previously issued credentials will be returned to the applicant.

7. Criminal Record Review. (10.211)

Paragraph (c) was modified to reflect all of the information submitted to the Coast Guard by TSA from the applicant's TWIC application that could be used by the Coast Guard to determine whether the applicant has a record of a criminal conviction. Depending on the length of time between when the applicant applied for the TWIC and the submission of the MMC or endorsement application, the Coast Guard may opt to review the criminal record report generated by TSA in the TWIC application process. If the applicant applied for their TWIC more than two years before the MMC application, however, the Coast Guard may opt to use the mariner's fingerprints, or FBI number if applicable, to receive a new criminal record report from the FBI. An individual will only have an FBI number if they have a criminal record. Applicants who have a clean record will not have an FBI number.

Paragraph (f) has been amended to insert the words “except as provided elsewhere in this section” after the statement that no person who has been convicted of a violation of the dangerous drug laws of the United States, the District of Columbia, any State, territory, or possession of the United States, or a foreign country, by any military or civilian court, is eligible for an MMC. Without that exception, the blanket disqualification statement conflicted with the exemptions contained elsewhere in section 10.211. The language “No person who has ever been the user of, or addicted to the use of a dangerous drug, or” was also added to this paragraph because it is language that exists in our current regulations, but was unintentionally omitted from the NPRM.

Paragraph (f) was also amended to move the language inadvertently inserted into 10.213(b) in the NPRM. That paragraph contains the ineligibility of individuals who have ever been convicted of an NDR offense because of addiction to or abuse of alcohol, without furnishing satisfactory evidence of suitability for service. That paragraph's inadvertent relocation to the NDR section unintentionally created an indefinite look back period for NDR reviews, when the look back was intended to review those crimes that appeared on one's criminal record, not their NDR record. Its inclusion in section 10.211 corrects that error.

The table at 10.211(g) has been revised to reflect the difference in criminal conviction requirements for officers and ratings. Officers are currently held to a higher standard than ratings with respect to criminal convictions. This table has been revised to reflect that difference in standards. It should no longer contain any substantive change from our current regulations, other than with respect to the removal of the crimes involving national security which are reviewed by TSA, and the way that we handle the crime of robbery. Although robbery is a listed offense in our current regulations at 10.201(h) for licenses, robbery is not one of the listed offenses in the table for MMDs in the current 46 CFR 12.02-4(c). As a practical matter, however, robbery is included in the “other crimes against persons” specifically referenced in our current table, and is taken into consideration by the evaluator when reviewing applications for both MMDs and licenses. Robbery has been included in the “Crimes Against Persons” section of the table in the SNPRM for conformity and is not considered a substantive change.

Paragraph (m) was deleted entirely. This paragraph dealt with the automatic suspension of a mariner's credential if, after issuance, the Coast Guard learns of disqualifying information on the applicant's criminal record. The language of this paragraph, as written in our current regulations at 10.205(f)(4), is contained in proposed 11.205(c)(vi). As written in our current regulations and this SNPRM, that section applies to original licenses, CORs and STCW endorsements only. Its inclusion in part 10 of the NPRM did not limit its application to only original issuance, and it expanded it to include rating endorsements. The procedures set out in that paragraph should only be applied in cases where the action occurred before the issuance of the officer endorsement. For crimes committed after issuance, the suspension and revocation procedures in 10.235 would apply. The changes to the text as well as the inclusion of it in section 10.211 as well as 11.205 had unintended consequences, so it has been removed entirely from 10.211 in this SNPRM.

8. Medical and Physical Requirements. (10.215)

This entire section was revised based on public comments and comments from Coast Guard medical personnel.

In the introductory text to paragraph (a), a statement about table 10.215(a) was added, the reference to the availability of any other Coast Guard guidance or material regarding the medical and physical requirements was removed, and the words “(including a doctor of osteopathy)” were removed from the last sentence because they were redundant and added no value. Language was added to allow medical doctors, licensed physician assistants, and licensed nurse practitioners to not only perform and witness any required test, exam or demonstration, but to review them as well. This change was made to account for any test, exam or demonstration that may be conducted by a specialist or other medical professional by referral and the results reviewed by the certifying doctor, physician assistant or nurse practitioner.

Paragraph (a)(1) was amended to include the submission of annual physical examinations to the Coast Guard not only by licensed first class pilots but also those serving as pilots, pursuant to section 15.812, on vessels and tank barges of 1600 GRT or more. The group of mariners serving as pilots was unintentionally omitted from this section in the NPRM. In addition, unless exempt by 46 CFR 16.220, licensed first class pilots and those serving as pilots must also submit passing results of a chemical test for dangerous drugs to the Coast Guard. The National Transportation Safety Board (NTSB), in their report on the 2003 allision of the Staten Island Ferry ANDREW J. BARBERI, recommended that the Coast Guard require submission of annual pilot physicals and drug tests. The Coast Guard agrees with the NTSB that it is not effective to require pilots to undergo annual physical examinations and drug tests without an affirmative obligation for pilots to actually submit them to the Coast Guard for review.

Title 46 CFR 10.709 (proposed 11.709 in this SNPRM) currently requires that first class pilots on vessels of 1600 GRT or more provide the Coast Guard with a copy of their most recent annual physical examination upon request. This includes those individuals who “serve as” pilots in accordance with Title 46 CFR 15.812(b)(3) and (c). On September 28, 2006, the Coast Guard issued a Notice in the Federal Register at (71 FR 56999) advising that we request submission of the most recent physical examination from these mariners. The requirement that individuals licensed as first class pilots submit an annual physical examination was placed in the NPRM, but unintentionally omitted from the preamble table. Similarly, the language of 46 CFR 16.220 currently states that unless excepted under 46 CFR 16.220(c), each pilot who is required to complete an annual physical examination must also pass a chemical test for dangerous drugs, and that he or she must submit the passing results of the chemical test to the Coast Guard when applying for license renewal, or when requested by the Coast Guard. This includes first class pilots on vessels greater than 1600 GRT, and those individuals who “serve as” pilots in accordance with 46 CFR 15.812(b)(3) and (c) on vessels greater than 1600 GRT. On December 12, 2006, the Coast Guard issued a Notice in the Federal Register at (71 FR 74552) advising that all first class pilots on vessels greater than 1600 GRT, and all other individuals who “serve as” pilots in accordance with 46 CFR 15.812(b)(3) and (c) on vessels greater than 1600 GRT, must provide the passing results of their annual chemical tests for dangerous drugs to the Coast Guard, unless they provide satisfactory evidence that they have met the exceptions stated in 46 CFR 16.220(c).

Both 46 CFR 10.709 and 16.220 have also been revised in this SNPRM to remove the requirement that chemical tests for dangerous drugs and annual physical exams be submitted to the Coast Guard “upon request” since the Coast Guard is already requesting this information from all pilots and those who act as pilots as discussed above.

In table 10.215(a), the citations in the vision test column were corrected, the requirements for Food Handlers were broken out into those that are required for those serving on vessels to which STCW applies, and those that do not, and the last row in the table was amended to limit the requirement for demonstrations of physical ability to only those ratings serving on vessels to which STCW applies.

Paragraph (b) was amended to allow the Coast Guard to approve additional tests to determine color sense. The Coast Guard needs the flexibility to approve alternate tests as new medical technology becomes available.

Paragraph (c) was amended to require the hearing test only if the medical practitioner conducting the general medical exam required in paragraph (d) has concerns that an applicant's ability to adequately hear may impact maritime safety. The hearing test should be administered by an audiologist or other hearing specialist, and should consist of an audiometer test and/or a speech discrimination test, as appropriate. The particular test ordered has been left to the professional judgment of the medical provider. The requirements for the audiometer test and speech discrimination test have been set out in paragraphs (c)(1) and (2). Although these test requirements were provided in the NPRM, it was unclear that they referenced requirements for separate tests, and that they would be required only at the medical provider's discretion. Additional threshold information has also been provided to aid medical professionals.

In paragraph (d), food handlers have been exempted from the general medical examination requirement except that they must obtain a statement from a licensed physician, physician assistant or nurse practitioner attesting that they are free of communicable diseases. This communicable disease requirement exists in the current regulations at 46 CFR 12.25-20. The currently proposed language creates no change from the current requirements for food handlers.

In paragraph (e), the requirement for a demonstration of physical ability has been changed. As currently proposed, it will only be required if the medical practitioner, conducting the general medical examination required in paragraph (d), is concerned that an applicant's physical ability may impact maritime safety. As stated in the discussion of public comments above, the requirements that an applicant must satisfactorily demonstrate have been written to allow a medical professional to certify that the applicant has the ability to complete those tasks without actually requiring the medical professional to board a vessel to witness the demonstration.

In paragraph (g), the language “vision does not meet the requirements in § 10.227(1)(i) and (1)(ii)” was replaced with “corrected vision in the better eye is not at least 20/40 for deck officers or 20/50 for engineer officers”. Section 10.227(l)(i) does not exist. The language inserted has been taken directly out of our current regulations at 10.205(d)(4).

9. MMC Application and Examination Locations. (10.217)

Several linguistic edits were made, for example replacing “certificate” with the more appropriate term “credential” and “sector” with “OCMI”. One sentence in paragraph (3) was rewritten for clarity. Also, paragraph (a) was changed to reflect the language of a technical amendment that removed the list of REC locations and inserted the website and contact information for the National Maritime Center. The technical amendment was published in between the NPRM and SNPRM on August 21, 2006 at 71 FR 48480.

10. Fees. (10.219)

Paragraph (e)(3), was rewritten for clarification. Instead of stating that one issuance fee would be charged for each MMC application, it was revised to state that only one issuance fee will be charged for each MMC issued, regardless of the number of endorsements placed on the credential. The intent of the subparagraph is to explain that a $45 issuance fee will not be charged for each endorsement issued. The issuance fee is tied to the number of MMCs issued, not to the endorsements. Issuance fees will be charged for original, duplicate, raise in grade, and renewal MMCs. A sentence was also added to make it clear that there is no fee for a document of continuity. As discussed elsewhere in this preamble, the document of continuity has been created to replace the continuity endorsement that is currently written on licenses pursuant to the Coast Guard's current regulations at 10.209(g) and for MMDs at 12.02-27(g). Under current Coast Guard regulations, a $45 issuance fee is charged for the continuity endorsement. Since the document of continuity will not be in the form of an MMD, MMC or license, the Coast Guard has opted not to charge the $45 issuance fee for it, and will issue the document free of charge.

The civil penalty in paragraph (g) was changed from $5,000 to $6,500 to adjust for inflation per 33 CFR 27.3. The penalty for failure to pay, currently reflected in 46 CFR 10.111, is based upon 46 U.S.C. 2110(e). In the table to 33 CFR 27.3, the adjustment for inflation for 46 U.S.C. 2110(e) shows an increase from $5K to $6.5K. The change in this SNPRM is merely technical to conform to that inflationary change.

In paragraph (h)(2), the words “Commanding Officer” were deleted as a technical change for consistency.

11. Citizenship. (10.221)

The title of this section was changed from “Applications submitted by aliens” to “Citizenship” to account for the fact that it contains the proof of citizenship requirements for all applicants, not only aliens. Also, this section was re-written to include the OUPV citizenship exemption discussed in the response to comments above, as well as to include the exemption for foreign nationals who are enrolled in the United States Merchant Marine Academy (USMMA). The proposed regulation now retains the Coast Guard's regulatory exemption for OUPVs created from the language of 46 U.S.C. 7102, and allows USMMA cadets to obtain rating endorsements on a documented vessel, irrespective of their nationality, as provided in 46 U.S.C. 8103.

In addition, changes were made to reflect the new TWIC requirement that mariners submit their proof of citizenship to TSA during the TWIC enrollment process. By requiring mariners to submit their proof of citizenship to TSA, the agencies remove all need for mariners to appear in person at one of the Coast Guard RECs. TSA will scan the proof of citizenship and other identity information into its database and forward it to the Coast Guard electronically as discussed elsewhere in this preamble.

We also changed the acceptable proofs of citizenship to reduce the likelihood of submission of fraudulent documents, and to conform to the TWIC citizenship requirements. The following proofs of citizenship would no longer be acceptable for rating endorsements: baptismal certificate or parish record recorded within one year after birth; statement of a practicing physician certifying the physician's attendance at the birth and who possesses a record showing the date and location at which it occurred; delayed certificate of birth issued under a state seal in the absence of any collateral facts indicating fraud in its procurement; applicant's affidavit; report of the Census Bureau showing the earliest available record of age or birth; affidavits of parents, other relatives, or two or more responsible citizens of the U.S. stating citizenship; school records; immigration records; or insurance policies. The acceptable proofs of citizenship for officers have not changed from those currently required in 46 CFR 10.205. We are aware that the proofs of citizenship were changed by the Licensing Interim Rule published January 13, 2006 at 71 FR 2154. As with other changes made in that interim rule or the MMD Interim Rule published January 6, 2004 at 69 FR 526, all comments submitted to those rulemaking projects and any changes that could be made as a result of those comments will be addressed in the final rules associated with those rulemaking projects.

Requirements have also been proposed for cadets enrolled in the United States Merchant Marine Academy. Although these individuals are currently issued MMDs pursuant to the statutory authority in 46 U.S.C. 8103, Coast Guard regulations do not currently establish acceptable documents to prove enrollment or identity. This SNPRM proposes that the Coast Guard would accept an original letter from the USMMA, signed by the Superintendent attesting to the individual's enrollment along with an unexpired foreign passport issued by the government of the country in which the alien is a citizen or subject, with a valid U.S. visa affixed to the passport. All of the proposed acceptable proofs of citizenship have been coordinated with TSA to ensure that all individuals who would be authorized to hold an MMC would also be able to meet the citizenship/alien status requirements for the TWIC.

Finally, on October 17, 2006, Congress passed the John Warner National Defense Authorization Act for Fiscal Year 2007 (Pub. L. 109-364). In that Act, Congress amended 46 U.S.C. 8103 to permit an alien allowed to be employed in the U.S. under the Immigration and Nationality Act who meets additional requirements for service as a steward aboard large passenger vessels to obtain an MMD. Although language has not been proposed in this rulemaking to address this new statutory authority, the Coast Guard is aware of it and is initiating a separate rulemaking to address these new requirements.

12. Modification or Removal of Limitations or Scope. (10.223)

The title to this section has been revised to include modification or removal of scope. This section includes, for example, increasing from Chief Engineer (limited-near coastal) to Chief Engineer, adding to Qualified Member of the Engine Department (QMED), extending route, or horsepower increases.

The language of paragraph (b) was deleted because the substance of that paragraph was duplicative of paragraph (c) of the NPRM (now paragraph (d)), and is better explained in the paragraph that has been retained. In its place, language has been added to explain that the modification or removal of limitations or scope on an existing MMC will not change the expiration date of that MMC unless the applicant renews all endorsements on the MMC. Because of the statutory requirement in 46 U.S.C. 7106, 7107 and 7302(f) that the identification and qualification credentials appearing in the form of the MMC must be valid for no more and no less than five years, the addition, subtraction or modification of endorsements on the MMC will not change the expiration date unless the mariner renews all endorsements on his or her MMC.

New paragraph (c) contains the requirements for a complete application, and was taken in large part from the former 10.209(c) in the NPRM. The language of the NPRM also included requirements that must be met before an MMC may be issued, but which are added to the applicant's record by the Coast Guard. These requirements (criminal record review, National Driver Register review, and information supplied by TSA) must still be met before the modification or removal will be granted, but have been moved to a new paragraph (e) in 10.209 because they are not submitted by the applicant. Here, the NDR provision has been replaced with the requirement that applicants submit the form providing consent to a check of the NDR. This is a requirement that is currently in the Coast Guard regulations and is also required by 46 U.S.C. 7101(g) and 7302(c).

The language requiring the submission of a signed application has been amended. Instead of requiring a signed “written” application, we now require a “completed”, signed application. This change will allow for the submission of a digitally signed electronic form, should the Coast Guard system be changed to create this option.

The requirement to submit a continuous discharge book, certificate of identification, MMD, MMC, license, STCW endorsement or COR, if one or more of those credentials are valid at the time of application, has been amended to allow for the submission of photocopies. The change will preclude mariners from having to mail in their credentials while they are still valid and needed to serve. The photocopies must be of the front and back of all pages of the credentials and attachments. If the credential is expired, mariners will be required to submit the original credential to the Coast Guard for invalidation, but at the time they submit their application mariners may request that the invalid credential be returned to them once the new credential is issued.

13. Requirements for Originals. (10.225)

As discussed earlier in the discussion of the changes to section 10.209, instead of creating a list of all requirements for a complete application in section 10.209 and then exempting or adding requirements by reference in later sections, we broke out the application requirements for originals, duplicates, renewals, modification or removal of limitations and scope, and new endorsements. Since 10.225 in the NPRM contained general requirements about the issuance of the MMC, we moved the substance of 10.225 as proposed in the NPRM into section 10.209 (with the exception of the oath) and rewrote section 10.225 to list the requirements for original applications.

For clarity, in paragraph (a) we defined those instances in which an applicant would be required to apply for an original MMC, rather than for a duplicate, modification or removal of limitation or scope, renewal, or new endorsement.

As discussed earlier, paragraphs (c) and (d) were moved to section 10.209 and amended. These are the paragraphs stating that when the Coast Guard determines that an applicant meets all of the requirements for an MMC or endorsement, the Coast Guard will issue the properly endorsed MMC to the applicant (paragraph c), and the requirement that mariners return their old credential to the Coast Guard once a new MMC is issued (paragraph d).

New paragraph (b) is the substance of the former 10.209(c) from the NPRM. This paragraph contains the requirements for a complete application. The language of the NPRM, however, included requirements that must be met before an MMC may be issued, but which are added to the applicant's record by the Coast Guard. These requirements (criminal record review, National Driver Register review, and information supplied by TSA) have been removed from this paragraph and moved to a new paragraph (e) in 10.209. The NDR provision has been replaced with the requirement that applicants submit the form providing consent to a check of the NDR. This is a requirement that is currently in the Coast Guard regulations and is also required by 46 U.S.C. 7101(g) and 7302(c).

The language requiring the submission of a signed application has been amended. Instead of requiring a signed “written” application, we now require a “completed”, signed application. This change will allow for the submission of a digitally signed electronic form, should the Coast Guard system be changed to create this option.

The requirement to submit a continuous discharge book, certificate of identification, MMD, MMC, license, STCW Endorsement or COR, if one or more of those credentials are valid at the time of application, as been amended to allow for the submission of photocopies. The change will prevent mariners from having to mail in their credentials while they are still valid and needed to serve. The photocopies must be of the front and back of the credentials. If a passport-style format is chosen for the MMC, this language will be amended to require “a photocopy of all pages and attachments, front and back”. If the credential is expired, mariners will be required to submit the original credential to the Coast Guard for invalidation, but the mariner may request that the invalid credential be returned to them once the new credential is issued.

This section has also been revised to add new paragraph (b)(10). The oath, because it would be submitted in writing rather than done in person, would be required to be submitted with the application for original applicants. The oath is not a requirement for other types of applications such as renewals or duplicates.

14. Requirements for Renewal. (10.227)

As discussed above, section 10.227 was revised in this SNPRM to include a clear list of the application requirements for renewal. As written in the NPRM, all applicants were required to meet the requirements of section 10.209 as well as the requirements in section 10.227. This would have had the effect of creating more requirements for renewals than for originals. The language of this section has been revised to include a list of all the elements needed for renewal applications. The requirements should be no more expansive or restrictive than the requirements for renewal in the Coast Guard's current regulations at sections 10.209(c) and 12.02-27(c).

The application requirements are contained in paragraph (d). The language of the NPRM included requirements that must be met before an MMC may be issued, but which are added to the applicant's record by the Coast Guard. These requirements (criminal record review, National Driver Register review, and information supplied by TSA) have been removed from paragraph and moved to a new paragraph (e) in section 10.209. The NDR provision has been replaced with the requirement that applicants submit the form providing consent to a check of the NDR. This is a requirement that is currently in the Coast Guard regulations and is also required by 46 U.S.C. 7101(g) and 7302(c).

The language requiring the submission of a signed application has been amended. Instead of requiring a signed “written” application, we now require a “completed”, signed application. This change will allow for the submission of a digitally signed electronic form, should the Coast Guard system be changed to create this option.

The requirement to submit a continuous discharge book, certificate of identification, MMD, MMC, license, STCW endorsement or COR, if one or more of those credentials are valid at the time of application, has been amended to allow for the submission of photocopies. The change will preclude mariners from having to mail in their credentials while they are still valid and needed to serve. The photocopies must be of the front and back of the credentials. If a passport-style format is chosen for the MMC, this language will be amended to require “a photocopy of all pages and attachments, front and back”. If the credential is expired, mariners will be required to submit the original credential to the Coast Guard for invalidation, but the mariner may request that the invalid credential be returned to them once the new credential is issued.

In reviewing the professional requirements, we noticed that we failed to list those endorsements that do not require professional requirements for renewal. Paragraph (d)(8)(viii) was added to list those exempted endorsements. These endorsements should be no more expansive or restrictive than those exempted from the professional requirements in our current regulations at section 12.02-27(c) or 10.209(c).

We also noticed that we failed to carry over the requirement that an applicant seeking to renew a tankerman endorsement must meet the additional requirements listed in section 13.120 of this chapter. The omission of this language in the NPRM was an oversight. It has been added to the SNPRM as (d)(8)(vii).

Finally, in paragraph (l) from the NPRM has been deleted. That section contained a list of those portions of the application that could be submitted by mail. Section 10.209(d) lists that information. Since section 10.209 is a general section applying to all applicants, it made proposed paragraph (l) duplicative and unnecessary.

15. Requirements for Raises of Grade or New Endorsements. (10.231)

The title of this section has been renamed to include new endorsements, not only those endorsements obtained as a result of a raise in grade.

A new paragraph (a) has been added to set out the type of applicants to whom the section would apply. The section is intended to apply to applicants who already hold a valid credential (MMC, license, MMD, COR or STCW endorsement) and want to add a new endorsement or obtain a raise of grade of an existing endorsement.

A new paragraph (b) has been added to explain that new endorsements or raises of grade of existing endorsements added to an existing MMC will not change the expiration date of that MMC unless the applicant renews all endorsements on the MMC. Because of the statutory requirement in 46 U.S.C. 7106, 7107 and 7302(f) that the identification and qualification credentials appearing in the form of the MMC must be valid for no more and no less than five years, the addition of new endorsements to the MMC will not change the expiration date of the MMC unless the mariner renews all endorsements on his or her MMC.

As discussed above, as written in the NPRM, all applicants were required to meet the requirements of section 10.209 as well as the requirements for raises of grade. This would have had the effect of creating more requirements for raises of grade than for originals. The language of this section has been revised to include a list of all the elements needed for raise of grade and new endorsement applications.

The application requirements are contained in paragraph (c). The language of the NPRM included requirements that must be met before an MMC may be issued, but which are added to the applicant's record by the Coast Guard. These requirements (criminal record review, National Driver Register review, and information supplied by TSA) have been removed from paragraph and moved to a new paragraph (e) in section 10.209. The NDR provision has been replaced with the requirement that applicants submit the form providing consent to a check of the NDR. This is a requirement that is currently in the Coast Guard regulations and is also required by 46 U.S.C. 7101(g) and 7302(c).

The language requiring the submission of a signed application has been amended. Instead of requiring a signed “written” application, we now require a “completed”, signed application. This change will allow for the submission of a digitally signed electronic form, should the Coast Guard system be changed to create this option.

The requirement to submit a continuous discharge book, certificate of identification, MMD, MMC, license, STCW Endorsement or COR, if one or more of those credentials are valid at the time of application, has been amended to allow for the submission of photocopies. The change will preclude mariners from having to mail in their credentials while they are still valid and needed to serve. The photocopies must be of the front and back of the credentials. If a passport-style format is chosen for the MMC, this language will be amended to require “a photocopy of all pages and attachments, front and back”. If the credential is expired, mariners will be required to submit the original credential to the Coast Guard for invalidation, but the mariner may request that the invalid credential be returned to them once the new credential is issued.

The requirement to provide evidence of vision, hearing, medical and/or physical exams as required by section 10.215, has been limited in this SNPRM to only those applicants who have not submitted proof of passing those tests within the past three years. This three year limitation conforms to the Coast Guard's current regulations in section 10.207(e)(1).

All other information contained in this section in the NPRM has been retained, but moved to paragraphs (d) and (e) with the following exceptions:

The general requirements that were contained in the NPRM at paragraphs (a), (b), and (c)(1) are included in the application requirements contained elsewhere in the regulations, so the language was removed from this section.

The requirement that appeared in paragraph (c)(1) of the NPRM that applicants for raise of grade must appear at a REC to present their letters, discharges or other official documents certifying to the amount and character of their experience and the names of the vessels on which acquired was removed. The documents proving that applicants meet the sea service requirements for original and new officer endorsements may be submitted by mail. It seemed inappropriate to require travel to a REC for personal submission just because the new officer endorsement is sought as a result of a raise in grade application.

Paragraphs (d)(2) and (e) from the NPRM have been removed. Those paragraphs contained the location of requirements for radar observer endorsements and endorsements for which a firefighting certificate is required. These paragraphs were duplicative and unnecessary since paragraph (c)(3) already requires that applicants submit all supplementary materials required to show that the mariner meets the mandatory requirements for the new endorsement(s) sought.

The information in paragraph (d) was carried over from the Coast Guard's current regulations at 46 CFR 10.207 and the NPRM at 10.231(c)(3) through (d)(2).

16. Obligations of the Holder of a Merchant Mariner Credential. (10.233)

Paragraph (a) was amended for clarity and to include the MMD and COR in the list of credentials that could be subject to suspension and revocation.

17. Suspension or Revocation of Merchant Mariner Credentials. (10.235)

Paragraph (g) was revised in the SNPRM. The NPRM tied the validity of the MMC to the validity of a TWIC. The Coast Guard has determined that due process demands that unless allowed by statute, a mariner must be provided the right to appeal before their mariner credential is invalidated. The SNPRM removes this automatic invalidation upon the loss or denial of a TWIC.

As proposed in the SNPRM, if the Coast Guard is advised by TSA that a mariner has either been denied a TWIC or that their TWIC has been revoked, the Coast Guard will initiate suspension and revocation proceedings against the mariner's MMC, license, MMD, and COR under 46 U.S.C. 7702 and 7703. Sections 7702 and 7703 allow for suspension and revocation of a mariner's credentials if they have been convicted of an offense that would prevent the issuance or renewal of the credential or if the mariner has been deemed a security risk that poses a threat to the safety or security of a vessel or a public or commercial structure located within or adjacent to the marine environment. Because a TWIC will only be denied or revoked if TSA decides that the individual poses a security risk, if the mariner has been deemed ineligible for a TWIC, the Coast Guard would initiate suspension and revocation actions against their credential.

Language was also added to paragraph (g) because a mariner whose TWIC is revoked by TSA will not be able to appeal that agency's decision through the Coast Guard MMC appeal process. Although mariners must hold a TWIC to get an MMC, these credentials are separate and distinct and the Coast Guard cannot overturn a decision by TSA with respect to its TWIC. Mariners have a separate right of appeal under the TWIC. It includes a paper appeal process much like the Coast Guard process in 46 CFR 1.03 for initial denials and revocations; and a hearing before an Administrative Law Judge for appeals of waiver denials. The TWIC final rule, published elsewhere in today's Federal Register, provides additional information on the TWIC appeal process. Once a mariner has exhausted TSA's TWIC appeal process that decision is final and the Coast Guard cannot review it.

A new paragraph (h) was added to this SNPRM. It is a direct reference to 46 U.S.C. 7702(d)(1)(iv), which calls for the immediate suspension of credentials for not more than 45 days if a mariner is deemed a security risk that poses a threat to the safety or security of a vessel or a public or commercial structure located within or adjacent to the marine environment. For the reasons discussed above, if a TWIC is denied or revoked by TSA, the Coast Guard will deem the individual a security risk, and may avail itself of this statutory provision to suspend the mariner's credential.

18. Right of Appeal. (10.237)

Paragraphs (a) and (b) were swapped for better organization. A new paragraph (c) was added to advise that Coast Guard appeals will not review a decision by TSA with respect to their TWIC as discussed in section 10.235 above.

19. Quick Reference Table for MMC Requirements. (10.239)

In the NPRM, we proposed to move table 10.203 to section 11.203; however, after further consideration, we now propose to move that quick reference table to the end of the general requirements in Part 10 because it references requirements for both officers and ratings, as well as multiple sections of Parts 10, 11, and 12.

20. Application Process

The way an applicant's information is envisioned to be transferred to the Coast Guard from TSA has changed. The process discussed on page 29464 of the NPRM involved the mariner checking a box on the TWIC application form to notify TSA to push the data to the Coast Guard. This method, however, would not alert TSA to send information when a TWIC holder decided to become a mariner at some point in the middle of the TWIC validity period. The new process envisioned involves both the pushing of data to the Coast Guard when TSA receives an application from a mariner as well as the ability for the Coast Guard to pull data should a TWIC applicant later decide to become a mariner. If the pull function were to be used, the Coast Guard would notify TSA when we receive an applicant's MMC application, which would trigger the transfer.

21. Amendatory Instructions

The amendatory instructions to the regulatory text of the NPRM was drafted according to the style established by the National Archives and Records Administration in the Federal Register Document Drafting Handbook, and were written properly. We acknowledge, however, that long amendatory instructions advising where to remove language and insert new language into existing text may be confusing. To aid the public in their review of this SNPRM, the Coast Guard has decided to follow the amendatory instructions as provided in the NPRM to re-write the regulatory text amended for those sections whose amendatory instructions in the NPRM were greater than or equal to one full column of Federal Register text. This change has been applied to the following sections: 11.201, 11.205, 11.304, 11.401, 11.462, 11.464, 11.465, 11.467, 11.470, 11.503, 12.02-7 and 15.812.

22. Eligibility for Officer Endorsements, General. (11.201)

In subparagraph (i), the words “on its face” were removed. Although the authority granted by an officer endorsement will be restricted to reflect any modifications made by the OCMI to satisfy the unique qualification requirements of an applicant, the language “on its face” seemed to imply a one page document. If the format of the MMC ends up being a multi-page document, the words “on its face” would be inappropriate. If a single paged document is chosen as the format of the MMC, this language would likely be reinserted at the final rule stage.

23. Identification Credentials for Persons Requiring Access to Waterfront Facilities or Vessels. (33 CFR part 125)

The proposed changes to this section were removed because they have already been made in the TWIC final rule published elsewhere in today's Federal Register.

24. Amendments From the TWIC Final Rule. (10.113, 12.01-11 and 15.415)

These sections are new sections that are added to title 46 by the TWIC final rule published elsewhere in today's Federal Register. This SNPRM proposes to remove 46 CFR sections 10.113, 12.01-11 and 15.415 as they will be duplicative and will no longer be necessary if the proposed regulatory text in this SNPRM becomes effective.

25. Other Corrections Outside 46 CFR Part 10

We removed the amendatory instruction for 46 CFR 5.15. The proposed change is no longer necessary because it has already been made by a technical amendment entitled Mariner Licensing and Documentation Program Restructuring and Centralization published on August 21, 2006 at 71 FR 48480.

In 46 CFR 11.467(h), we made a correction for clarification. Where it previously read “An applicant * * * who intends to serve only in the vicinity of Puerto Rico, and who speaks Spanish only, may be issued an endorsement * * *” we changed it to read “who speaks Spanish but not English”. The correction was made because we do not intend to restrict individuals who speak multiple languages from obtaining this endorsement.

The table in section 10.403 (now 11.403) was revised to reflect the change from license to officer endorsements. The table, with changes, has been added to this SNPRM.

VI. Other Regulations

Since the publication of the NPRM, on November 24, 2006 the Department of State (DOS) published its “Documents Required for Travelers Departing From or Arriving in the United States at Air Ports-of-Entry From Within the Western Hemisphere” final rule (71 FR 68412). In that rulemaking, DOS implemented new documentation requirements for certain U.S. citizens and nonimmigrant aliens entering the U.S. The DOS designated the MMD in addition to the passport as sufficient to denote identity and citizenship and acceptable for air and sea travel. A TWIC was deemed insufficient for this purpose. In its rule, DOS noted the proposed 5 year phase out of the MMD, but made no determination as to whether the MMC would also be deemed sufficient. The Coast Guard will provide DOS with a sample MMC and information regarding the credential once it is available.

V. Regulatory Evaluation

A. Executive Order 12866 (Regulatory Planning and Review)

Executive Order 12866, “Regulatory Planning and Review”, 58 FR 51735, October 4, 1993, requires a determination whether a regulatory action is “significant” and therefore subject to review by the Office of Management and Budget (OMB) and subject to the requirements of the Executive Order. This proposed rule is not significant under Executive Order 12866 and has not been reviewed by OMB.

This proposed rule makes substantive changes to the requirements in 46 CFR parts 10, 12, 13, 14, and 15 for the form on which the mariner's qualifications appear and the credential that would serve as the mariner's primary identification credential, and makes many non-substantive nomenclature changes throughout Titles 33 and 46 of the Code of Federal Regulations. Title 46 lays out the standards for merchant mariners, including eligibility and training requirements to obtain credentials needed to serve in one of the many roles in the merchant marine; whereever possible, this rulemaking would not change these qualification requirements. This rulemaking would combine the elements of the Merchant Mariner's License (License), Merchant Mariner's Document (MMD), Standards of Training, Certification and Watchkeeping (STCW) Endorsement, and Certificate of Registry (COR) into one document, called the Merchant Mariner Credential (MMC). Although it technically serves as a certificate of identification, practically, the MMC would serve as the mariner's qualification document.

This Supplementary Notice of Proposed Rulemaking (SNPRM) is published in conjunction with a joint Final rule published by the Coast Guard and the Transportation Security Administration entitled “Transportation Worker Identification Credential (TWIC) Implementation in the Maritime Sector; Hazardous Materials Endorsement for a Commercial Driver's License” (the “TWIC rule”). This SNPRM and the TWIC rule follow the publication of a Notice of Proposed Rulemaking for this rulemaking published May 22, 2006 at 71 FR 29462, and a joint Notice of Proposed Rulemaking published by the Coast Guard and the Transportation Security Administration for the TWIC rule published the same day at 71 FR 29396.

The TWIC rule implements requirements required by the 46 U.S.C. 70105 and would require all merchant mariners holding an active License, MMD, COR or STCW Endorsement to hold a TWIC. The TWIC is a biometric identification card. With this consolidation of credentials, the TWIC would replace the MMD as the mariner's primary identity document, and the MMD, License, COR, and STCW Endorsement would consolidate into the MMC, which would serve as the mariner's qualification document. All current qualification and suitability requirements associated with Licenses, MMDs, STCW Endorsements, and CORs would remain the same with only minor exceptions.

Currently, all four credentials (MMD, License, COR, and STCW Endorsement) are issued at one of 17 Coast Guard Regional Examination Centers (RECs). For first time applicants, the process of obtaining an MMD, License, COR, or STCW Endorsement requires at least two visits to an REC. During the first visit, an applicant must be fingerprinted by, and establish his or her identity and legal presence in the U.S., to an REC employee.

After the successful completion of a safety and security review, verification of an applicant's identity, and verification that the applicant has satisfied all other requirements for the particular credential sought, an REC will issue the credential to the applicant. All first time applicants must then return to the REC a second time to receive their credential and take an oath to faithfully perform all duties required of them by law. Individuals renewing credentials do not need to restate the oath and may receive their renewed credentials by mail. However, all applicants, those seeking new credentials as well as those seeking to renew their credentials, must travel to an REC once in the application process to be fingerprinted by, and show proof of identification to an REC employee.

The requirements to receive a TWIC are similar to the requirements to receive an MMD. In order for an applicant to receive a TWIC, the applicant is required to travel to a designated TWIC enrollment center to submit fingerprints, proofs of identity, citizenship and alien status (if applicable). A background check is conducted to determine that the applicant is not a security risk. Once the applicant has been approved, they must return to the TWIC enrollment center to pick up the TWIC and prove their identity by a one to one match of their fingerprint against the electronic fingerprint stored on the card. TSA will submit to the Coast Guard the applicant's fingerprints, photograph, proof of citizenship, proof of alien status (if applicable), and FBI number and criminal record (if applicable) provided with the individual's TWIC application.

Since the applicant's fingerprints, photograph and proofs of citizenship and identity will have been verified by TSA, this proposed rulemaking would no longer require the merchant mariner to travel to an REC to submit this information. In addition to allowing the merchant mariner to mail in their application, this proposed rule would also allow new applicants to mail in their notarized oath, which would be a nominal cost to the applicant. This would remove the requirement for a second trip to the REC to pick up their card and take the oath. This rulemaking proposes to create the possibility for a mariner to receive his or her MMC entirely through the mail. Written examinations would still occur at RECs, and the RECs would remain accessible to mariners should they choose to seek their services in person.

This rulemaking would also remove the $45 issuance fee for continuity licenses and MMDs. These documents are issued to applicants for renewal of licenses and MMDs that are endorsed with qualified ratings who are unwilling or otherwise unable to meet all the requirements to serve, and allows the mariner to renew the license or MMD with the following restrictive endorsement placed on the license: “License renewed for continuity purposes only; service under the authority of this license is prohibited.” Merchant mariner's documents are issued with the following restrictive endorsement: “Continuity only; service under document prohibited.”

The following sections discuss the baseline population of applicants that will be affected by this rulemaking and provides an assessment of the impacts to merchant mariners by this proposed rulemaking.

Baseline Population

The Coast Guard data for the number of affected merchant mariners came from the National Maritime Center (NMC), which provides credentialing, training, and certification services to all merchant mariners. There are approximately 205,000 credentialed merchant mariners. The NMC also estimates that the current population of mariners with a continuity document is approximately 4,500. In addition to the current population of merchant mariners there are a number of new applicants every year.

Assessment

Under the current rule, applicants pay a $45 issuance fee for each credential that they apply for. Under the proposed rulemaking the applicants would only apply for a single credential (the MMC) and as a result would only be required to pay one $45 issuance fee regardless of the number of endorsements that they carry. This change is not a reduction in any fee that a mariner must pay, but a reduction in the number of fees that the mariner must pay. Any mariner that would, under the current rules, solicit multiple mariner qualifying documents, would benefit from this change in the fee structure.

If the merchant mariner has not synchronized the expiration dates of his or her current credentials then they may currently be traveling to an REC multiple times. The issuance of the MMC would require mariners to track and update only one document and would potentially eliminate the need to travel to an REC entirely. This would provide greater flexibility to the mariner. Currently, approximately 13,843 mariners have more than one credential and have not aligned their expiration dates. These mariners would not only receive a benefit from reduced application fees but also from fewer, if any, trips to an REC.

In order to reduce the burden of traveling and having to apply for a new MMC before the mariner's current MMD, license, COR or STCW endorsement expires, this proposed rulemaking would allow mariners to apply for an MMC at the time that their current credentials expire, which would essentially phase in the MMC over a five-year period. Since all currently issued credentials are valid for five-year periods, all mariners would have to renew their credentials by the close of the five-year grace period. When a mariner applies to renew his or her MMD, License, COR, or STCW endorsement, they would instead be issued an MMC, which would reflect all of their qualifications in the form of endorsements on the MMC. This would allow mariners to apply over a longer period of time and would not create an additional burden by requiring mariners to make an extra trip to the RECs. Mariners whose credentials do not expire simultaneously may choose to wait to renew the credentials that have yet to expire, but if the applicant later chooses to renew that credential, the expiration date of the MMC on which the endorsement would be added would not change unless the mariner also renews all other endorsements on the MMC.

Currently, mariners may only renew their credentials within 12 months of their expiration date. This proposed rulemaking would allow mariners to apply for renewal anytime before their current credentials expire, and up to one year after the expiration date. As a result, this rulemaking would provide greater flexibility to mariners by allowing them to apply for an MMC at the time they choose.

In the Licensing rule, published on January 13, 2006 (71 FR 2154), it was estimated that approximately 60 percent of current mariners live within one-day roundtrip travel to an REC, 30 percent live within overnight roundtrip travel (one night and two days) to an REC, and 10 percent live at a distance greater than overnight roundtrip travel (greater than one night and two days) to an REC. This was derived from national percentages for all mariners who have addresses on file with the NMC. In the TWIC rule, TSA and the Coast Guard foresee that there would be many more TWIC centers than Coast Guard RECs. By allowing mariners to visit TWIC enrollment centers instead of RECs, this proposed rule would provide a potential benefit to mariners by reducing their current travel costs and time currently required to receive a credential.

In the Licensing rule, the cost for mariners to travel to and from one of 17 RECs was estimated. The travel cost to mariners for a one-day roundtrip travel to and from an REC is $387. The estimated cost to mariners for overnight roundtrip travel is $911. Applicants who live distances greater than 200 miles and must travel for more than one night would incur the maximum estimated cost of $1,185.

The TWIC has the effect of transferring the cost of travel from an REC to the cost of travel to a TWIC enrollment center, but that cost is associated with the TWIC rule, not with this rule. The overall cost for mariners associated with this rulemaking would decrease or remain the same and would serve to provide more flexibility to mariners since there will be more TWIC enrollment centers than RECs, so the distance required and the amount of time spent traveling would be reduced. Based on the percentages above, 60 percent of the mariners that live within one-day roundtrip travel would potentially receive the economic benefits of having a TWIC enrollment center located closer to them than one of the current RECs. The remaining 30 percent of mariners that live within an overnight round-trip travel and the 10 percent of mariners that live a distance greater than an overnight roundtrip travel have an increased likelihood of having a TWIC enrollment center located closer to them than one of the current RECs and would potentially receive an even greater benefit in travel cost savings from this proposed rule.

In addition to these benefits, the removal of the issuance fee for continuity documents would provide mariners who choose to apply for a continuity document a savings of $45.

B. Regulatory Flexibility Act

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

We do not expect this proposed rule to have a significant impact on a large number of small entities. This rulemaking consolidates the number of credentials merchant mariners must carry and streamlines the application process in a way that would help prevent abuse, reduce cost and assist the Coast Guard in its effort to help secure U.S. marine infrastructure, commercial activities, and the free flow of trade.

The Coast Guard certifies under 5 U.S.C. 605(b) that this proposed rule will not have a significant economic impact on a substantial number of U.S. small entities. If you think that your business, organization, or governmental jurisdiction qualifies as a small entity and that this rulemaking will have a significant economic impact on it, please submit a comment to the Docket Management Facility at the address under ADDRESSES. In your comment, explain why you think your business qualifies and how and to what degree this rulemaking would economically affect it.

C. Assistance for Small Entities

Under section 213(a) of the Small Business Regulatory Enforcement Fairness Act of 1996 (Pub. L. 104-121), we offer to assist small entities in understanding the proposed rule so that they could better evaluate its effects on them and participate in the rulemaking. If this proposed rule would affect your small business, organization, or governmental jurisdiction and you have questions concerning its provisions or options for compliance, please contact the individuals listed in above in the section titled FOR FURTHER INFORMATION CONTACT.

Small businesses may send comments on the actions of Federal employees who enforce, or otherwise determine compliance with Federal regulations, to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a collection of information under the Paperwork Reduction Act of 1995, Title 44, United States Code (44 U.S.C.) sections 3501-3520. This rulemaking will require the modification of one or more credentialing program collections of information currently approved by the Office of Management and Budget (OMB) under OMB Control Numbers 1625-0040, 1625-0012, 1625-0078 and 1625-0079. A number of policy decisions must be made before the changes to those collections can be finalized such as methods of submission, the format of the application form, and the format of the MMC itself. Because the proposed regulatory changes in this SNPRM would not go into effect until approximately August 2008, approval for revisions to these OMB Control Numbers will not be submitted to OMB until these policy decisions have been made. This submission will occur, however, prior to the publication of any Final Rule.

We request public comment on the collection of information to help us determine how useful the information is; whether it can help us perform our functions better; whether it is readily available elsewhere; how accurate our estimate of the burden of collection is; how valid our methods for determining burden are; how we can improve the quality, usefulness, and clarity of the information; and how we can minimize the collection burden.

If you submit comments on the collection of information, submit them to both OMB and the Docket Management Facility where indicated under ADDRESSES, by the date under DATES.

You need not respond to a collection of information unless it displays a currently valid control number from OMB. Before the requirements for this collection of information become effective, we will publish notice in the Federal Register of OMB's decision to approve, modify, or disapprove the collection.

E. Executive Order 13132 (Federalism)

This rule will not have substantial direct effects on the States, on the relationship between the National Government and the States, or on the distribution of power and responsibilities among the various levels of government. Therefore, in accordance with section 6 of Executive Order 13132, the Coast Guard certifies that this proposed rule does not have sufficient federalism implications to warrant the preparation of a federalism summary impact statement.

The law is well settled that States may not regulate in categories expressly reserved for regulation by the Coast Guard. The law also is well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See United States v. Locke and Intertanko v. Locke, 529 U.S. 89, 120 S.Ct. 1135 (March 6, 2000). Since this proposed rule involves the credentialing of merchant mariners, it relates to personnel qualifications and is foreclosed from regulation by the States. Because the States may not regulate within this category, this rule does not present new preemption issues under Executive Order 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. The Coast Guard does not expect this rule to result in such an expenditure.

G. Executive Order 12630 (Taking of Private Property)

This proposed rule will not effect a taking of private property or otherwise have taking implications under Executive Order 12630, Governmental Actions and Interference with Constitutionally Protected Property Rights.

H. Executive Order 12988 (Civil Justice Reform)

This proposed rule meets applicable standards in sections 3(a) and 3(b)(2) of Executive Order 12988, Civil Justice Reform, to minimize litigation, eliminate ambiguity, and reduce burden.

I. Executive Order 13045 (Protection of Children)

We have analyzed this proposed rule under Executive Order 13045, Protection of Children from Environmental Health Risks and Safety Risks. This proposed rule is not an economically significant rule and does not create an environmental risk to health or safety that may disproportionately affect children.

J. Executive Order 13175 (Indian Tribal Governments)

This proposed rule does not have tribal implications under Executive Order 13175, Consultation and Coordination with Indian Tribal Governments because it does not have a substantial direct effect on one or more Indian tribes, on the relationship between the Federal Government and Indian tribes, or on the distribution of power and responsibilities between the Federal Government and Indian tribes.

K. Executive Order 13211 (Energy Effects)

The Coast Guard has analyzed this rule under Executive Order 13211, Actions Concerning Regulations That Significantly Affect Energy Supply, Distribution, or Use. We have determined that it is not a “significant energy action” under that Order. This rule would affect only the issuance of credentials to merchant mariners and therefore is not likely to have a significant adverse effect on the supply, distribution, or use of energy.

The Administrator of the Office of Information and Regulatory Affairs for the Office of Management and Budget has not designated this proposed rule as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, the Coast Guard did not consider the use of voluntary consensus standards.

M. National Environmental Policy Act

The Coast Guard has analyzed this proposed rule under Commandant Instruction M16475.1D, which guides the Coast Guard in complying with the National Environmental Policy Act of 1969 (NEPA) (42 U.S.C. 4321-4370f). We have concluded that there are no factors in this case that would limit the use of a categorical exclusion under section 2.B.2 of the Instruction. Therefore, we believe this rule should be categorically excluded from further environmental documentation under Figure 2-1, paragraph (34) (c) of the Instruction. This rule involves the training, qualifying, licensing and disciplining of maritime personnel and involves matters of procedure only; it consolidates the credentials issued to merchant mariners and revises the application process for issuing those credentials. An “Environmental Analysis Check List” and a “Categorical Exclusion Determination” are available in the docket where indicated under ADDRESSES.

List of Subjects

33 CFR Part 1

Administrative practice and procedure, Authority delegations (Government agencies), Freedom of information, Penalties.

33 CFR Part 20

Administrative practice and procedure, Hazardous substances, Oil pollution, Penalties, Water pollution control.

33 CFR Part 70

Navigation (water) and Penalties.

33 CFR Part 95

Alcohol abuse, Drug abuse, Marine safety, and Penalties.

33 CFR Part 101

Harbors, Maritime security, Reporting and recordkeeping requirements, Security measures, Vessels, Waterways.

33 CFR Part 110

Anchorage grounds.

33 CFR Part 141

Citizenship and naturalization, Continental shelf, Employment, Reporting and recordkeeping requirements.

33 CFR Part 155

Alaska, Hazardous substances, Oil pollution, Reporting and recordkeeping requirements.

33 CFR Part 156

Hazardous substances, Oil pollution, Reporting and recordkeeping requirements, Water pollution control.

33 CFR Part 160

Administrative practice and procedure, Harbors, Hazardous materials transportation, Marine safety, Navigation (water), Reporting and recordkeeping requirements, Vessels, Waterways.

33 CFR Part 162

Navigation (water) and Waterways.

33 CFR Part 163

Cargo vessels, Harbors, Navigation (water), Waterways.

33 CFR Part 164

Marine safety, Navigation (water), Reporting and recordkeeping requirements, Waterways.

33 CFR Part 165

Harbors, Marine safety, Navigation (water), Reporting and recordkeeping requirements, Security measures, Waterways.

46 CFR Part 1

Administrative practice and procedure, Organization and functions (Government agencies), Reporting and recordkeeping requirements.

46 CFR Part 4

Administrative practice and procedure, Drug testing, Investigations, Marine safety, Nuclear vessels, Radiation protection, Reporting and recordkeeping requirements, Safety, Transportation.

46 CFR Part 5

Administrative practice and procedure, Alcohol abuse, Drug abuse, Investigations, Seamen.

46 CFR Part 10

Penalties, Reporting and recordkeeping requirements, Seamen, Transportation worker identification card.

46 CFR Part 11

Penalties, Reporting and recordkeeping requirements, Schools, Seamen.

46 CFR Part 12

Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 16

Drug testing, Marine safety, Reporting and recordkeeping requirements, Safety, Transportation.

46 CFR Part 26

Marine safety, Penalties, Reporting and recordkeeping requirements.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 35

Cargo vessels, Marine safety, Navigation (water), Occupational safety and health, Reporting and recordkeeping requirements, Seamen.

46 CFR Part 42

Penalties, Reporting and recordkeeping requirements, Vessels.

46 CFR Part 58

Reporting and recordkeeping requirements, Vessels.

46 CFR Part 61

Reporting and recordkeeping requirements, Vessels.

46 CFR Part 78

Marine safety, Navigation (water), Passenger vessels, Penalties, Reporting and recordkeeping requirements.

46 CFR Part 97

Cargo vessels, Marine safety, Navigation (water), Reporting and recordkeeping requirements.

46 CFR Part 98

Cargo vessels, Hazardous materials transportation, Marine safety, Reporting and recordkeeping requirements, Water pollution control.

46 CFR Part 105

Cargo vessels, Fishing vessels, Hazardous materials transportation, Marine safety, Petroleum, Seamen.

46 CFR Part 114

Marine safety, Passenger vessels, Reporting and recordkeeping requirements.

46 CFR Part 115

Fire prevention, Marine safety, Passenger vessels, Reporting and recordkeeping requirements.

46 CFR Part 122

Marine safety, Passenger vessels, Penalties, Reporting and recordkeeping requirements.

46 CFR Part 125

Administrative practice and procedure, Cargo vessels, Hazardous materials transportation, Marine safety, Seamen.

46 CFR Part 131

Cargo vessels, Fire prevention, Marine safety, Navigation (water), Occupational safety and health, Reporting and recordkeeping requirements.

46 CFR Part 151

Cargo vessels, Hazardous materials transportation, Marine safety, Reporting and recordkeeping requirements, Water pollution control.

46 CFR Part 166

Schools, Seamen, Vessels.

46 CFR Part 169

Fire prevention, Marine safety, Reporting and recordkeeping requirements, Schools, Vessels.

46 CFR Part 175

Marine safety, Passenger vessels, Reporting and recordkeeping requirements.

46 CFR Part 176

Fire prevention, Marine safety, Passenger vessels, Reporting and recordkeeping requirements.

46 CFR Part 185

Marine safety, Passenger vessels, Reporting and recordkeeping requirements.

46 CFR Part 196

Marine safety, Oceanographic research vessels, Reporting and recordkeeping requirements.

46 CFR Part 199

Cargo vessels, Marine safety, Oil and gas exploration, Passenger vessels, Reporting and recordkeeping requirements.

46 CFR Part 401

Administrative practice and procedure, Great lakes, Navigation (water), Penalties, Reporting and recordkeeping requirements, Seamen.

46 CFR Part 402

Great Lakes, Navigation (water), Seamen.

The Amendments

For the reasons listed in the preamble, the Coast Guard proposes to amend 33 CFR parts 1, 20, 70, 95, 101, 110, 141, 155, 156, 160, 162, 163, 164, and 165; 46 CFR parts 1, 4, 5, 10, 12, 13, 14, 15, 16, 26, 28, 30, 31, 35, 42, 58, 61, 78, 97, 98, 105, 114, 115, 122, 125, 131, 151, 166, 169, 175, 176, 185, 196, 199, 401 and 402; and in 46 CFR, add a new part 11 as follows:

33 CFR Chapter I

PART 1—GENERAL PROVISIONS

1. The authority citation for part 1 continues to read as follows:

Authority: 14 U.S.C. 633; 33 U.S.C. 401, 491, 525, 1321, 2716, and 2716a; 42 U.S.C. 9615; 49 U.S.C. 322; 49 CFR 1.45(b), 1.46; section 1.01-70 also issued under the authority of E.O. 12580, 3 CFR, 1987 Comp., p. 193; and sections 1.01-80 and 1.01-85 also issued under the authority of E.O. 12777, 3 CFR, 1991 Comp., p. 351.

§ 1.08-5 [Amended]

2. In § 1.08-5(b)(1), after the word “licensed”, add the words “or credentialed”.

§ 1.25-1 [Amended]

3. In § 1.25-1(a), remove the words “documents, certificates, or licenses” and add, in their place, the words “merchant mariner credentials, merchant mariner documents, licenses or certificates”.

PART 20—RULES OF PRACTICE, PROCEDURE, AND EVIDENCE FOR FORMAL ADMINISTRATIVE PROCEEDINGS OF THE COAST GUARD

4. The authority citation for part 20 continues to read as follows:

Authority: 33 U.S.C. 1321; 42 U.S.C. 9609; 46 U.S.C. 7701, 7702; 49 CFR 1.46.

5. In § 20.102—

a. In the definition for “Complaint”, after the word “merchant”, add the words “mariner credential,”;

b. In the definition for “Suspension and revocation proceeding or S&R proceeding”, after the words “merchant mariner's”, add the word “credential,”; and

c. Add definitions for the terms “credential” and “Merchant mariner credential or MMC”, in alphabetical order, to read as follows:

§ 20.102 Definitions.

* * * * *

Credential means any or all of the following:

(1) Merchant mariner's document.

(2) Merchant mariner's license.

(3) STCW endorsement.

(4) Certificate of registry.

(5) Merchant mariner credential.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

§ 20.904 [Amended]

6. In § 20.904—

a. In paragraph (e)(1) introductory text, after the words “certificate of registry” remove the word “or”; and, after the word “document”, add the words “, credential, or endorsement”;

b. In paragraph (e)(1)(i)(B), after the word “certificate” remove the word “or”; and, after the word “document”, add the words “, credential, or endorsement”;

c. In paragraph (f) introductory text, after the words “revocation of a”, add the words “credential, endorsement,”; and

d. In paragraph (f)(1), after the words “issuance of a new” remove the words “license, certificate, or document” and add, in their place the words “merchant mariner credential with appropriate endorsement”.

§ 20.1201 [Amended]

7. In § 20.1201—

a. In paragraph (a), remove the word “merchant mariner's license, certificate of registry, or document” and add, in their place, the words “mariner's credential”;

b. In paragraph (b) introductory text, before the words “license, certificate, or document” wherever they appear, add the words “merchant mariner credential,”; and

c. In paragraph (b)(2)(ii), after the words “renewal of the”, add the words “merchant mariner credential,”.

§ 20.1202 [Amended]

8. In § 20.1202(a), before the words “license, certificate of registry, or document”, add the word “credential,”.

§ 20.1205 [Amended]

9. In § 20.1205—

a. In the section heading, before the words “license, certificate of registry, or document”, add the words “merchant mariner credential,”;

b. In paragraph (a), after the words “move that his or her”, add the words “merchant mariner credential,”; and

c. In paragraph (b), after the words “return of the suspended”, add the word “credential,”.

§ 20.1307 [Amended]

10. In § 20.1307 paragraph (c)(2), after words “merchant mariner's license”, add the words “, merchant mariner credential,”.

PART 70—INTERFERENCE WITH OR DAMAGE TO AIDS TO NAVIGATION

11. The authority citation for part 70 continues to read as follows:

Authority: Secs. 14, 16, 30 Stat. 1152, 1153; secs. 84, 86, 92, 633, 642, 63 Stat. 500, 501, 503, 545, 547 (33 U.S.C. 408, 411, 412; 14 U.S.C. 84, 86, 92, 633, 642).

§ 70.05-10 [Amended]

12. In § 70.05-10—

a. In the section heading, after the words “Revocation of”, add the words “merchant mariner credential officer endorsement or”; and

b. In the text of the section, after the words “shall also have his”, add the words “merchant mariner credential officer endorsement or”.

PART 95—OPERATING A VESSEL WHILE UNDER THE INFLUENCE OF ALCOHOL OR A DANGEROUS DRUG

13. Revise the authority citation for part 95 to read as follows:

Authority: 33 U.S.C. 2071; 46 U.S.C. 2302; Department of Homeland Security Delegation No. 0170.1.

§ 95.015 [Amended]

14. In § 95.015(b), remove the words “a licensed individual” and add, in their place, the words “an officer”.

§ 95.045 [Amended]

15. In § 95.045 introductory text, remove the words “a licensed individual” and add, in their place, the words “an officer”.

PART 101—MARITIME SECURITY: GENERAL

16. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

17. In § 101.105—

a. In the definitions for “Master” and “Operator, Uninspected Towing Vessel”, before the word “license”, wherever it appears, add the words “merchant mariner credential or”; and

b. Add a definition for the term “Merchant mariner credential or MMC” to read as follows:

§ 101.105 Definitions.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

PART 110—ANCHORAGE REGULATIONS

18. The authority citation for part 110 is revised to read as follows:

Authority: 33 U.S.C. 471, 1221 through 1236, 2030, 2035, 2071; 33 CFR 1.05-1(g); Department of Homeland Security Delegation No. 0170.1.

§ 110.186 [Amended]

19. In § 110.186(b)(3), after the words “English speaking licensed”, add the words “or credentialed”.

§ 110.188 [Amended]

20. In § 110.188(b)(10), after the word “licensed”, add the words “or credentialed”.

§ 110.214 [Amended]

21. In § 110.214(a)(3)(i), after the word “licensed” add the words “or credentialed”.

PART 141—PERSONNEL

22. The authority citation for part 141 is revised to read as follows:

Authority: 43 U.S.C. 1356; 46 U.S.C. 70105; 49 CFR 1.46(z) .

§ 141.5 [Amended]

23. In § 141.5(b)(1) remove the words “licensed officers, and unlicensed crew” and add, in their place, the words “crew, and officers holding a valid license or MMC with officer endorsement”.

24. In § 141.10, add a definition for the term “Transportation Worker Identification Credential or TWIC”, in alphabetical order, to read as follows:

§ 141.10 Definitions.

* * * * *

Transportation Worker Identification Credential or TWIC means an identification credential issued by the Transportation Security Administration according to 49 CFR part 1572.

§ 141.25 [Amended]

25. In § 141.25—

a. In paragraph (a) introductory text, remove the word “The” and add, in its place, the words “For the purposes of this part, the”; and

b. In paragraph (a)(1), before the words “merchant mariner's document”, add the word “valid”, and remove the words “under 46 CFR Part 12”.

§ 141.30 [Amended]

26. In § 141.30—

a. In the introductory text, remove the first appearance of the word “The” and add, in its place, the words “For the purposes of this part, the”;

b. In paragraph (a), before the words “merchant mariner's document”, add the word “valid”, and remove the words “under 46 CFR Part 12”; and

c. In paragraph (b), remove the words “Immigration and Naturalization Service” and add, in their place, the words “Immigration and Customs Enforcement Agency”; and

d. Add a new paragraph (d) to read as follows:

§ 141.30 Evidence of status as a resident alien.

* * * * *

(d) A valid Transportation Worker Identification Credential.

§ 141.35 [Amended]

27. In § 141.35(a)(1), after the words “merchant mariner's document”, add the words, “Transportation Worker Identification Credential,”.

PART 155—OIL OR HAZARDOUS MATERIAL POLLUTION PREVENTION REGULATIONS FOR VESSELS

28. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380.

29. Revise § 155.110 to read as follows:

§ 155.110 Definitions.

Except as specifically stated in a section, the definitions in part 151 of this chapter, except for the word “oil”, and in part 154 of this chapter, apply to this part. The following definition also applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 155.710 [Amended]

30. In § 155.710—

a. In paragraph (a)(2), after the word “license”, add the words “or officer endorsement”;

b. In paragraph (e)(1), remove the words “a licensed person” and add, in their place, the words “an officer”; after the words “holds a valid license”, add the words “or merchant mariner credential”; remove the words “part 10” and add, in their place, the words “chapter I, subchapter B,”; and after the words “merchant mariner's document”, add the words “or merchant mariner credential”;

c. In paragraph (f), after the word “MMD”, add the words “ or merchant mariner credential”; and after the words “either a license”, add the words “, officer endorsement,”; and

d. In paragraph (g), after the words “need not hold any of the”, add the words “merchant mariner credentials,”.

§ 155.815 [Amended]

31. In § 155.815(b), after the word “licensed” add the words “or credentialed”.

PART 156—OIL AND HAZARDOUS MATERIAL TRANSFER OPERATIONS

32. The authority citation for part 156 continues to read as follows:

Authority: 33 U.S.C. 1231, 1321(j); 46 U.S.C. 3703a, 3715; E.O. 11735, 3 CFR 1971-1975 Comp., p. 793. Section 156.120(bb) and (ee) are also issued under 46 U.S.C. 3703.

§ 156.210 [Amended]

33. In § 156.210(d), remove the words “a licensed individual” and add, in their place, the words “an officer”.

PART 160—PORTS AND WATERWAYS SAFETY—GENERAL

34. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.113 [Amended]

35. In § 160.113(b)(4), remove the word “licensed”.

PART 162—INLAND WATERWAYS NAVIGATION REGULATIONS

36. The authority citation for part 162 is revised to read as follows:

Authority: 33 U.S.C. 1231; Department of Homeland Security Delegation No. 0170.1.

37. Add a new § 162.5 to read as follows:

§ 162.5 Definitions.

The following definition applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 162.130 [Amended]

38. In § 162.130(c), in the definition for “Master”, after the words “means the”, remove the word “licensed”; and, after the words “vessel not requiring”, remove the words “licensed personnel” and add, in their place, the words “persons holding licenses or merchant mariner credential officer endorsements”.

PART 163—TOWING OF BARGES

39. The authority citation for part 163 continues to read as follows:

Authority: 33 U.S.C. 152, 2071; 49 CFR 1.46(n).

§ 163.01 [Amended]

40. In § 163.01(b), after the word “license”, add the words “or merchant mariner credential”.

41. Add a new § 163.03 to read as follows:

§ 163.03 Definitions.

The following definition applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

PART 164—NAVIGATION SAFETY REGULATIONS

42. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.13 [Amended]

43. In § 164.13—

a. In paragraph (b), remove the words “a licensed engineer” and add, in their place, the words “an engineer with a properly endorsed license or merchant mariner credential”; and

b. In paragraph (c), after the words “at least two”, remove the word “licensed”; after the words “deck officers” add the words “with a properly endorsed license or merchant mariner credential”; and, after the words “must be an individual”, remove the word “licensed” and add, in its place, the words “holding an appropriately endorsed license or merchant mariner credential”.

44. In § 164.70, add a new definition for the term “Merchant mariner credential or MMC”, in alphabetical order, to read as follows:

§ 164.70 Definitions.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

PART 165—REGULATED NAVIGATION AREAS AND LIMITED ACCESS AREAS

45. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

46. Add a new § 165.3 to read as follows:

§ 165.3 Definitions.

The following definitions apply to this part:

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 165.120 [Amended]

47. In § 165.120(b)(1), remove the words “ the Licensed Federal Pilot” and add, in their place, the words “an individual holding a valid merchant mariner's license or merchant mariner credential endorsed as pilot”.

§ 165.153 [Amended]

48. In § 165.153(d)(6) and (d)(7), remove the word “licensed” wherever it appears.

§ 165.810 [Amended]

49. In § 165.810(f)(1), remove the words “licensed engineer” and add, in their place, the words “appropriately licensed or credentialed engineer officer”.

§ 165.1310 [Amended]

50. In § 165.1310(f)(2), remove the word “licensed” and add, in its place, the words “holding a license or merchant mariner credential issued”.

46 CFR Chapter I

PART 1—ORGANIZATION, GENERAL COURSE AND METHODS GOVERNING MARINE SAFETY FUNCTIONS

51. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

52. In § 1.01-05, add new paragraphs (d) and (e) to read as follows:

§ 1.01-05 Definitions.

* * * * *

(d) The term Credential means any or all of the following:

(1) Merchant mariner's document.

(2) Merchant mariner's license.

(3) STCW endorsement.

(4) Certificate of registry.

(5) Merchant mariner credential.

(e) The term Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 1.01-10 [Amended]

53. In § 1.01-10, in paragraph (b)(1)(ii)(C), remove the words “licenses, documents or certificates” and add, in their place, the word “credentials”.

§ 1.01-15 [Amended]

54. In § 1.01-15—

a. In paragraph (a)(1), remove the words “licenses, certificates, and documents” and add, in their place, the word “credentials” and remove the words “licensing, certificating” and add, in their place, the word “credentialing”; and

b. In paragraph (b), remove the words “licensing, certificating” and add, in their place, the word “credentialing”, and after the words “misbehavior of persons holding”, remove the words “licenses, certificates, or documents” and add, in their place, the word “credentials”, and after the words “46 U.S.C. chapter 77 of”, remove the words “licenses, certificates and documents” and add, in their place, the word “credential”.

§ 1.01-25 [Amended]

55. In § 1.01-25—

a. In paragraph (b)(1), remove the words “licenses, certificates, or documents” and add, in their place, the word “credentials”; and

b. In paragraphs (c) introductory text and (c)(1) introductory text, remove the words “license, certificate or document” wherever they appear and add, in their place, the word “credential”.

PART 4—MARINE CASUALTIES AND INVESTIGATIONS

56. The authority citation for part 4 continues to read as follows:

Authority: 33 U.S.C. 1231, 1321; 43 U.S.C. 1333; 46 U.S.C. 2103, 2306, 6101, 6301, 6305; 50 U.S.C. 198; Department of Homeland Security Delegation No. 170.1. Authority for subpart 4.40: 49 U.S.C. 1903(a)(1)(E); Department of Homeland Security Delegation No. 0170.1.

57. Add § 4.03-75 to read as follows:

§ 4.03-75 Merchant mariner credential and credential.

The following definitions apply to this part:

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 4.07-1 [Amended]

58. In § 4.07-1(c)(3), remove the words “any licensed or certificated person” and add, in their place, the words “any person holding a Coast Guard credential”; and remove the words “license or certificate” and add, in their place, the word “credential”.

§ 4.07-10 [Amended]

59. In § 4.07-10(a)(3), remove the words “licenses or certificates” and add, in their place, the word “credentials”.

PART 5—MARINE INVESTIGATION REGULATIONS—PERSONNEL ACTION

60. The authority citation for part 5 continues to read as follows:

Authority: 46 U.S.C. 2103, 7101, 7301, 7701; Department of Homeland Security Delegation No. 0170.1.

§ 5.3 [Amended]

61. In § 5.3 text, remove the words “licenses, certificates or documents” and add, in their place, the words “credentials or endorsements”.

§ 5.5 [Amended]

62. In § 5.5 text, remove the word “certification” and add, in its place, the words “certificate, merchant mariner credential, endorsement,”.

§ 5.19 [Amended]

63. In § 5.19(b), remove the words “license, certificate or document” and add, in their place, the words “credential or endorsement”.

64. Add a new § 5.40 to read as follows:

§ 5.40 Credential and merchant mariner credential.

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 5.55 [Amended]

65. In § 5.55(a) introductory text, remove the words “license, certificate or document” and add, in their place, the word “credential”.

66. In § 5.57—

a. Revise the section heading and paragraph (b) to read as set out below;

b. In paragraph (a) introductory text, remove the words “license, certificate or document” wherever they appear and add, in their place, the words “credential or endorsement”; and

c. In paragraph (c), remove the words “license, certificate or document” and add, in their place, the words “credential or endorsement”.

§ 5.57 Acting under authority of Coast Guard credential or endorsement.

* * * * *

(b) A person is considered to be acting under the authority of the credential or endorsement while engaged in official matters regarding the credential or endorsement. This includes, but is not limited to, such acts as applying for renewal, taking examinations for raises of grade, requesting duplicate or replacement credentials, or when appearing at a hearing under this part.

* * * * *

§ 5.59 [Amended]

67. In § 5.59—

a. In the section heading, remove the words “licenses, certificates or documents” and add, in their place, the words “credentials or endorsements”; and

b. In the introductory text, remove the words “license, certificate or document” and add, in their place, the words “credential or endorsement”.

§ 5.61 [Amended]

68. In § 5.61—

a. In the section heading, remove the words “licenses, certificates or documents” and add, in their place, the word “credentials”; and

b. In paragraphs (a) introductory text and (b), remove the words “license, certificate or document” wherever they appear and add, in their place, the words “credential or endorsements”.

§ 5.101 [Amended]

69. In § 5.101(a) introductory text, (a)(1), and (a)(2), remove the words “license, certificate or document” wherever they appear and add, in their place, the words “credential or endorsement”.

§ 5.105 [Amended]

70. In § 5.105(b), (c), and (e), remove the words “license, certificate or document” and add, in their place, the words “credential or endorsement”.

Subpart E—[Amended]

71. In the heading to subpart E, remove the words “License, Certificate or Document” and add, in their place, the words “Coast Guard Credential or Endorsement”.

§ 5.201 [Amended]

72. In § 5.201(a), (b) introductory text, (b)(4), (c), and (d), remove the words “license, certificate or document” wherever they appear and add, in their place, the words “credential or endorsement”.

§ 5.203 [Amended]

73. In § 5.203(a), (b) introductory text, (b)(2), and (c), remove the words “license, certificate or document” wherever they appear and add, in their place, the words “credential or endorsement”.

§ 5.205 [Amended]

74. In § 5.205—

a. In the section heading, remove the words “license, certificate of registry, or merchant mariners document” and add, in their place, the words “credential or endorsement”; and

b. In paragraphs (a), (b) introductory text, (c) introductory text, and (d), remove the words “license, certificate or document” wherever they appear and add, in their place, the words “credential or endorsement”.

§ 5.501 [Amended]

75. In § 5.501, remove the words “license, certificate or document” and add, in their place, the words “credential or endorsement”.

§ 5.521 [Amended]

76. In § 5.521—

a. In the section heading, remove the words “license, certificate or document” and add, in their place, the word “credential”;

b. In paragraph (a), after the words “all valid”, remove the words “licenses, certificates, and/or documents” and add, in their place, the word “credentials”; and, after the words “alleges that”, remove the words “such license, certificate or document” and add, in their place, the word “credential”; and

c. In paragraph (b), remove the words “license, certificate, or document” and add, in their place, the word “credential”.

§ 5.567 [Amended]

77. In paragraphs (b), (c) introductory text, (d), and (e), remove the words “licenses, certificates or documents” wherever they appear and add, in their place, the words “credentials or endorsements”; and remove the words “license, certificate or document” wherever they appear and add, in their place, the words “credential or endorsement”.

§ 5.707 [Amended]

78. In § 5.707—

a. In the section heading, remove the words “license, certificate, or document” and add, in their place, the words “credential or endorsement”;

b. In paragraph (a), remove the words “license, certificate or document” wherever they appear and add, in their place, the words “credential or endorsement”;

c. In paragraph (c), remove the words “document or license” and add, in their place, the words “credential or endorsement”;

d. In paragraph (d), after the words “All temporary”, remove the word “documents” and add, in its place, the words “credentials or endorsements”; and, after the words “If a temporary”, remove the word “document” and add, in its place, the words “credential or endorsement”;

e. In paragraph (e), remove the word “document” and add, in its place, the words “credential or endorsement”; and

f. In paragraph (f), remove the word “documents” and add, in its place, the word “credential”.

§ 5.713 [Amended]

79. In § 5.713(a), remove the words “licenses, certificates, or documents” and add, in their place, the words “credentials or endorsements”.

§ 5.715 [Amended]

80. In § 5.715—

a. In the section heading, remove the words “document and/or license” and add, in their place, the words “credential and/or endorsement”;

b. In paragraph (a), remove the words “document or license” and add, in their place, the words “credential and/or endorsement”; and

c. In paragraph (c), remove the words “document and/or license” and add, in their place, the words “credential and/or endorsement”; and, after the words “order. This”, remove the word “document” and add, in its place, the words “credential and/or endorsement”.

Subpart L—[Amended]

81. In the heading to subpart L, remove the words “Licenses, Certificates or Documents” and add, in their place, the words “Credential or Endorsement”.

§ 5.901 [Amended]

82. In § 5.901(a), (c), (d) introductory text, and (e), remove the words “license, certificate or document” wherever they appear and add, in their place, the words “credential or endorsement”.

§ 5.903 [Amended]

83. In § 5.903(a), (c) introductory text, and (c)(2), remove the words “license, certificate or document” wherever they appear and add, in their place, the words “credential or endorsement”.

§ 5.905 [Amended]

84. In § 5.905(b), remove the words “license, certificate or document” and add, in their place, the words “credential or endorsement”.

PART 10—MERCHANT MARINER OFFICERS AND SEAMEN

85. The authority citation for part 10 is revised to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

PART 10—[REDESIGNATED AS PART 11]

86. Redesignate part 10, consisting of §§ 10.101 through 10.1105, as part 11, §§ 11.101 through 11.1105.

87. Add a new part 10 to subchapter B to read as follows:

PART 10—MERCHANT MARINER CREDENTIAL

Subpart A—General

Sec.

10.101 Purpose of rules in this part.

10.103 Incorporation by reference.

10.105 Paperwork approval. [Reserved].

10.107 Definitions in subchapter B.

10.109 Classification of endorsements.

Subpart B—General Requirements for All Merchant Mariner Credentials

10.201 General characteristics of the merchant mariner credential.

10.203 Requirement to hold a TWIC and a merchant mariner credential.

10.205 Validity of a merchant mariner credential.

10.207 Identification number.

10.209 General application procedures.

10.211 Criminal record review.

10.213 National Driver Register.

10.215 Medical and physical requirements.

10.217 MMC application and examination locations.

10.219 Fees.

10.221 Citizenship.

10.223 Modification or removal of limitations.

10.225 Requirements for original merchant mariner credentials.

10.227 Requirements for renewal.

10.229 Issuance of duplicate merchant mariner credentials.

10.231 Requirements for new endorsements.

10.233 Obligations of the holder of a merchant mariner credential.

10.235 Suspension or revocation of merchant mariner credentials.

10.237 Right of appeal.

10.239 Quick reference table for MMC requirements.

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

Subpart A—General

§ 10.101 Purpose of rules in this part.

The regulations in this part provide:

(a) A means of determining and verifying the qualifications an applicant must possess to be eligible for certification to serve on merchant vessels;

(b) A means of determining that an applicant is competent to serve under the authority of their merchant mariner credential (MMC);

(c) A means of confirming that an applicant does not pose a threat to national security through the requirement to hold a Transportation Worker Identification Credential (TWIC); and

(d) A means of determining whether the holder of an MMC is a safe and suitable person.

§ 10.103 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-3PSO), 2100 Second Street, SW., Washington, DC 20593-0001, and is available from the sources indicated in this section.

(b) International Maritime Organization (IMO), 4 Albert Embankment, London SE1 7SR, England:

(1) The STCW—International Convention on Standards of Training, Certification and Watchkeeping for Seafarers, 1978, as amended (the STCW Convention or the STCW), incorporation by reference approved for §§ 10.107, 10.109, 10.209, 10.215, and 10.277.

(2) The Seafarers' Training, Certification and Watchkeeping Code, as amended (the STCW Code), incorporation by reference approved for §§ 10.107, 10.109, 10.209, 10.215, and 10.277.

§ 10.105 Paperwork approval. [Reserved]

§ 10.107 Definitions in subchapter B.

(a) With respect to part 16 and § 15.1101 of this title only, if the definitions in paragraph (b) of this section differ from those set forth in either § 16.105 or § 15.1101, the definition set forth in either § 16.105 or § 15.1101, as appropriate, applies.

(b) As used in this subchapter, the following terms apply only to merchant marine personnel credentialing and the manning of vessels subject to the manning provisions in the navigation and shipping laws of the United States:

Apprentice mate (steersman) of towing vessels means a mariner qualified to perform watchkeeping on the bridge, while in training onboard a towing vessel under the direct supervision and in the presence of a master or mate (pilot) of towing vessels.

Approved means approved by the Coast Guard according to § 11.302 of this chapter.

Approved training means training that is approved by the Coast Guard or meets the requirements of § 11.309 of this chapter.

Assistance towing means towing a disabled vessel for consideration.

Assistant engineer means a qualified officer in the engine department.

Authorized official includes, but is not limited to, a Federal, State or local law enforcement officer.

Ballast control operator or BCO means an officer restricted to service on mobile offshore drilling units (MODUs) whose duties involve the operation of the complex ballast system found on many MODUs. When assigned to a MODU, a ballast control operator is equivalent to a mate on a conventional vessel.

Barge supervisor or BS means an officer restricted to service on MODUs whose duties involve support to the offshore installation manager (OIM) in marine-related matters including, but not limited to, maintaining watertight integrity, inspecting and maintaining mooring and towing components, and maintaining emergency and other marine-related equipment. A barge supervisor, when assigned to a MODU, is equivalent to a mate on a conventional vessel.

Boatswain means the leading seaman and immediate supervisor of deck crew who supervises the maintenance of deck gear.

Cargo engineer means a person holding an officer endorsement on a dangerous-liquid tankship or a liquefied-gas tankship whose primary responsibility is maintaining the cargo system and cargo-handling equipment.

Chief engineer means any person responsible for the mechanical propulsion of a vessel and who is the holder of a valid officer endorsement as chief engineer.

Chief mate means the deck officer next in seniority to the master and upon whom the command of the vessel will fall in the event of incapacity of the master.

Coast Guard-accepted means that the Coast Guard has officially acknowledged in writing that the material or process at issue meets the applicable requirements; that the Coast Guard has issued an official policy statement listing or describing the material or process as meeting the applicable requirements; or that an entity acting on behalf of the Coast Guard under a Memorandum of Agreement has determined that the material or process meets the applicable requirements.

Coastwise seagoing vessel means a vessel that is authorized by its Certificate of Inspection to proceed beyond the Boundary Line established in part 7 of this chapter.

Competent person as used in part 13 only, means a person designated as such under 29 CFR 1915.7.

Conviction means that the applicant for a merchant mariner credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant mariner's document.

(2) Merchant mariner's license.

(3) STCW endorsement.

(4) Certificate of registry.

(5) Merchant mariner credential.

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in 46 CFR part 153, table 2, of this chapter are not dangerous-liquid cargoes when carried by non-oceangoing barges.

Day means, for the purpose of complying with the service requirements of this subchapter, eight hours of watchstanding or day-working not to include overtime. On vessels where a 12-hour working day is authorized and practiced, each work day may be creditable as one and one-half days of service. On vessels of less than 100 gross register tons, a day is considered as eight hours unless the Coast Guard determines that the vessel's operating schedule makes this criteria inappropriate, in no case will this period be less than four hours. When computing service required for MODU endorsements, a day is a minimum of four hours, and no additional credit is received for periods served over eight hours.

Deck crew (excluding individuals serving under their officer endorsement) means, as used in 46 U.S.C. 8702, only the following members of the deck department: able seamen, boatswains, and ordinary seamen.

Designated areas means those areas within pilotage waters for which first class pilot's endorsements are issued under part 11, subpart G, of this chapter, by the Officer in Charge, Marine Inspection (OCMI). The areas for which first class pilot's endorsements are issued within a particular Marine Inspection Zone and the specific requirements to obtain them may be obtained from the OCMI concerned.

Designated duty engineer or DDE means a qualified engineer, who may be the sole engineer on vessels with a periodically unattended engine room.

Designated examiner means a person who has been trained or instructed in techniques of training or assessment and is otherwise qualified to evaluate whether an applicant has achieved the level of competence required to hold a merchant mariner credential (MMC) endorsement. This person may be designated by the Coast Guard or by a Coast Guard-approved or accepted program of training or assessment. A faculty member employed or instructing in a navigation or engineering course at the U.S. Merchant Marine Academy or at a State maritime academy operated under 46 CFR part 310 is qualified to serve as a designated examiner in his or her area(s) of specialization without individual evaluation by the Coast Guard.

Directly supervised, only when referring to issues related to tankermen, means being in the direct line of sight of the person-in-charge or maintaining direct, two-way communications by a convenient, reliable means, such as a predetermined working frequency over a handheld radio.

Disabled vessel means a vessel that needs assistance, whether docked, moored, anchored, aground, adrift, or underway, but does not mean a barge or any other vessel not regularly operated under its own power.

Drug test means a chemical test of an individual's urine for evidence of dangerous drug use.

Employment assigned to is the total period a person is assigned to work on MODUs, including time spent ashore as part of normal crew rotation.

Endorsement is a statement of a mariner's qualifications, which may include the categories of officer, staff officer, ratings, and/or STCW appearing on a merchant mariner credential.

Entry-level mariner means those mariners holding no rating other than ordinary seaman, wiper, or steward's department (F.H.)

Evaluation means processing an application, from the point of receipt to approval or rejection of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First assistant engineer means the engineer officer next in seniority to the chief engineer and upon whom the responsibility for the mechanical propulsion of the vessel will fall in the event of the incapacity of the chief engineer.

Great Lakes for the purpose of calculating service requirements for an officer endorsement, means the Great Lakes and their connecting and tributary waters including the Calumet River as far as the Thomas J. O'Brien Lock and Controlling Works (between mile 326 and 327), the Chicago River as far as the east side of the Ashland Avenue Bridge (between mile 321 and 322), and the Saint Lawrence River as far east as the lower exit of Saint Lambert Lock. For purposes of requiring merchant mariner credentials with rating endorsements, the connecting and tributary waters are not part of the Great Lakes.

Harbor assist means the use of a towing vessel during maneuvers to dock, undock, moor, or unmoor a vessel, or to escort a vessel with limited maneuverability.

Horsepower means, for the purpose of this subchapter, the total maximum continuous shaft horsepower of all the vessel's main propulsion machinery.

IMO means the International Maritime Organization.

Inland waters means the navigable waters of the United States shoreward of the Boundary Lines as described in part 7 of this chapter, excluding the Great Lakes, and, for towing vessels, excluding the Western Rivers. For establishing credit for sea service, the waters of the Inside Passage between Puget Sound and Cape Spencer, Alaska, are inland waters.

Invalid credential means a merchant mariner credential, merchant mariner's document, merchant mariner's license, STCW endorsement, or certificate of registry that has been suspended or revoked, or has expired.

Liquefied gas or LG means a cargo that has a vapor pressure of 172 kPa (25 psia) or more at 37.8 C (100 F).

Liquid cargo in bulk means a liquid or liquefied gas listed in § 153.40 of this chapter and carried as a liquid cargo or liquid-cargo residue in integral, fixed, or portable tanks, except a liquid cargo carried in a portable tank actually loaded and discharged from a vessel with the contents intact.

Lower level is used as a category of deck and engineer officer endorsements established for assessment of fees. Lower-level officer endorsements are other than those defined as upper level, for which the requirements are listed in subparts D, E, and G of part 11.

Marine chemist means a person certificated by the National Fire Protection Association.

Master means the officer having command of a vessel.

Mate means a qualified officer in the deck department other than the master.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

MMC application means the application for the MMC, as well as the application for any endorsement on an MMC.

Mobile offshore drilling unit or MODU means a vessel capable of engaging in drilling operations for the exploration for or exploitation of subsea resources. MODU designs include the following:

(1) Bottom bearing units, which include:

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drill ships.

Month means 30 days, for the purpose of complying with the service requirements of this subchapter.

National Driver Register or NDR means the nationwide repository of information on drivers maintained by the National Highway Traffic Safety Administration under 49 U.S.C. chapter 303.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near coastal means ocean waters not more than 200-miles offshore.

Oceans means the waters seaward of the Boundary Lines as described in 46 CFR part 7. For the purposes of establishing sea service credit, the waters of the Inside Passage between Puget Sound and Cape Spencer, Alaska, are not considered oceans.

Officer endorsement means an annotation on a merchant mariner credential that allows a mariner to serve in the capacities in § 10.109(a). The officer endorsement serves as the license and/or certificate of registry pursuant to 46 U.S.C. subtitle II part E.

Officer in Charge, Marine Inspection or OCMI means, for the purposes of this subchapter, the individual so designated at one of the Regional Examination Centers, or any person designated as such by the Commandant.

Offshore installation manager or OIM means an officer restricted to service on MODUs. An assigned offshore installation manager is equivalent to a master on a conventional vessel and is the person designated by the owner or operator to be in complete and ultimate command of the unit.

On location means that a mobile offshore drilling unit is bottom bearing or moored with anchors placed in the drilling configuration.

Operate, operating, or operation, as applied to the manning requirements of vessels carrying passengers, refers to a vessel anytime passengers are embarked whether the vessel is underway, at anchor, made fast to shore, or aground.

Operator means an individual qualified to operate certain uninspected vessels.

Orally assisted examination means an examination as described in part 11, subpart I of this chapter verbally administered and documented by an examiner.

Participation, when used with regard to the service on transfers required for tankerman by §§ 13.120, 13.203, or 13.303 of this chapter, means either actual participation in the transfers or close observation of how the transfers are conducted and supervised.

Passes a chemical test for dangerous drugs means that the result of a chemical test conducted according to 49 CFR part 40 is reported as “negative” by a Medical Review Officer according to that part.

PIC means a person in charge.

Pilot of towing vessels means a qualified officer of a towing vessel operated only on inland routes.

Pilotage waters means the navigable waters of the United States, including all inland waters and offshore waters to a distance of three nautical miles from the baseline from which the Territorial Sea is measured.

Practical demonstration means the performance of an activity under the direct observation of a designated examiner for the purpose of establishing that the performer is sufficiently proficient in a practical skill to meet a specified standard of competence or other objective criterion.

Qualified instructor means a person who has been trained or instructed in instructional techniques and is otherwise qualified to provide required training to candidates for a merchant mariner credential endorsement. A faculty member employed at a State maritime academy or the U.S. Merchant Marine Academy operated under 46 CFR part 310 and instructing in a navigation or engineering course is qualified to serve as a qualified instructor in his or her area of specialization without individual evaluation by the Coast Guard.

Qualified rating means various categories of able seaman, qualified member of the engine department, lifeboatman, or tankerman endorsements formerly issued on merchant mariner's documents.

Raise of grade means an increase in the level of authority and responsibility associated with an officer or rating endorsement.

Rating endorsement is an annotation on a merchant mariner credential that allows a mariner to serve in those capacities set out in § 10.109(b) and (c). The rating endorsement serves as the merchant mariner's document pursuant to 46 U.S.C. subtitle II part E.

Regional examination center or REC means a Coast Guard office that issues merchant mariners' credentials and endorsements.

Restricted tankerman endorsement means a valid tankerman endorsement on a merchant mariner credential restricting its holder as the Coast Guard deems appropriate. For instance, the endorsement may restrict the holder to one or a combination of the following: a specific cargo or cargoes; a specific vessel or vessels; a specific facility or facilities; a specific employer or employers; a specific activity or activities (such as loading or unloading in a cargo transfer); or a particular area of water.

Rivers means a river, canal, or other similar body of water designated as such by the Coast Guard.

Safe and suitable person means a person whose prior record, including but not limited to criminal record and/or NDR record, provides no information indicating that his or her character and habits of life would support the belief that permitting such a person to serve under the MMC and/or endorsement sought would clearly be a threat to the safety of life or property, detrimental to good discipline, or adverse to the interests of the United States.

Self propelled has the same meaning as the terms “propelled by machinery” and “mechanically propelled.” This term includes vessels fitted with both sails and mechanical propulsion.

Self-propelled tank vessel means a self-propelled tank vessel, other than a tankship.

Senior company official means the president, vice president, vice president for personnel, personnel director, or similarly titled or responsible individual, or a lower-level employee designated in writing by one of these individuals for the purpose of certifying employment and whose signature is on file at the REC at which application is made.

Service as, used when computing the required service for MODU endorsements, means the time period, in days, a person is assigned to work on MODUs, excluding time spent ashore as part of crew rotation. A day is a minimum of four hours, and no additional credit is received for periods served over eight hours.

Simulated transfer means a transfer practiced in a course meeting the requirements of § 13.121 of this chapter that uses simulation supplying part of the service on transfers required for tankerman by § 13.203 or 13.303 of this chapter.

Staff officer means a person who holds an MMC with an officer endorsement listed in § 10.109(a)(31).

Standard of competence means the level of proficiency to be achieved for the proper performance of duties onboard vessels according to national and international criteria.

STCW means the International Convention on Standards of Training, Certification and Watchkeeping for Seafarers, 1978, as amended (incorporated by reference in § 10.103).

STCW Code means the Seafarer's Training, Certification and Watchkeeping Code, as amended (incorporated by reference in § 10.103).

STCW endorsement means an annotation on a merchant mariner credential that allows a mariner to serve in those capacities under § 10.109(d). The STCW endorsement serves as evidence that a mariner has met the requirements of STCW.

Tank barge means a non-self-propelled tank vessel.

Tank vessel means a vessel that is constructed or adapted to carry, or that carries, oil or hazardous material in bulk as cargo or cargo residue, and that:

(1) Is a vessel of the United States;

(2) Operates on the navigable waters of the United States; or

(3) Transfers oil or hazardous material in a port or place subject to the jurisdiction of the United States.

Tankerman assistant means a person holding a valid “Tankerman-Assistant” endorsement to his or her merchant mariner credential.

Tankerman engineer means a person holding a valid “Tankerman-Engineer” endorsement to his or her merchant mariner credential.

Tankerman PIC means a person holding a valid “Tankerman-PIC” endorsement on his or her merchant mariner credential.

Tankerman PIC (Barge) means a person holding a valid “Tankerman-PIC (Barge)” endorsement to his or her merchant mariner credential.

Tankship means any tank vessel constructed or adapted primarily to carry oil or hazardous material in bulk as cargo or as cargo residue and propelled by power or sail.

Transfer means any movement of dangerous liquid or liquefied gas as cargo in bulk or as cargo residue to, from, or within a vessel by means of pumping, gravitation, or displacement. Section 13.127 of this chapter describes what qualifies as participation in a creditable transfer.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a certificate of documentation issued under the laws of the United States.

Upper level is used as a category of deck and engineer officer endorsements established for assessment of fees. Upper-level endorsements are those for which the requirements are listed in §§ 11.404 to 11.407 of this subchapter and §§ 11.510, 11.512, 11.514, and 11.516 of this subchapter.

Western rivers means the Mississippi River, its tributaries, South Pass, and Southwest Pass, to the navigational demarcation lines dividing the high seas from harbors, rivers, and other inland waters of the United States, and the Port Allen-Morgan City Alternate Route, and that part of the Atchafalaya River above its junction with the Port Allen-Morgan City Alternate Route including the Old River and the Red River, and those waters specified in 33 CFR 89.25.

Year means 360 days for the purpose of complying with the service requirements of this subchapter.

§ 10.109 Classification of endorsements.

(a) The following officer endorsements are established in part 11 of this subchapter. The endorsements indicate that an individual holding a valid MMC with this endorsement is qualified to serve in that capacity and the endorsement has been issued under the requirements contained in part 11 of this subchapter:

(1) Master.

(2) Chief mate.

(3) Second mate.

(4) Third mate.

(5) Mate.

(6) Master of towing vessel.

(7) Mate (pilot) of towing vessel.

(8) Apprentice mate (Steersman).

(9) Offshore installation manager (OIM).

(10) Barge supervisor (BS).

(11) Ballast control operator (BCO).

(12) Radio officer.

(13) Operator of uninspected passenger vessels (OUPV).

(14) Master of uninspected fishing industry vessels.

(15) Mate of uninspected fishing industry vessels.

(16) Master of offshore supply vessels.

(17) Chief mate of offshore supply vessels.

(18) Mate of offshore supply vessels.

(19) Chief engineer.

(i) Chief engineer (limited ocean).

(ii) Chief engineer (limited near coastal).

(20) First assistant engineer.

(21) Second assistant engineer.

(22) Third assistant engineer.

(23) Assistant engineer.

(24) Designated duty engineer (DDE).

(25) Chief engineer offshore supply vessel.

(26) Engineer offshore supply vessel.

(27) Chief engineer MODU.

(28) Assistant engineer MODU.

(29) Chief engineer uninspected fishing industry vessels.

(30) Assistant engineer uninspected fishing industry vessels.

(31) Staff officers who are registered in the following grades:

(i) Chief purser.

(ii) Purser.

(iii) Senior assistant purser.

(iv) Junior assistant purser.

(v) Medical doctor.

(vi) Professional nurse.

(vii) Marine physician assistant.

(viii) Hospital corpsman.

(b) The following rating endorsements are established in part 12 of this subchapter. The endorsements indicate that an individual holding a valid MMC with this endorsement is qualified to serve in that capacity and the endorsement has been issued under the requirements contained in part 12 of this subchapter:

(1) Able seaman.

(2) Ordinary seaman.

(3) Qualified member of the engine department (QMED).

(i) Refrigerating engineer.

(ii) Oiler.

(iii) Deck engineer.

(iv) Fireman/Watertender.

(v) Junior engineer.

(vi) Electrician.

(vii) Machinist.

(viii) Pumpman.

(ix) Deck engine mechanic.

(x) Engineman.

(4) Lifeboatman.

(5) Wiper.

(6) Steward's department.

(7) Steward's department (F.H.).

(8) Cadet.

(9) Student observer.

(10) Apprentice engineer.

(11) Apprentice mate.

(c) The following ratings are established in part 13 of this subchapter. The endorsements indicate that an individual holding a valid MMC with this endorsement is qualified to serve in that capacity and the endorsement has been issued under the requirements contained in part 13 of this subchapter:

(1) Tankerman PIC.

(2) Tankerman PIC (Barge).

(3) Restricted tankerman PIC.

(4) Restricted tankerman PIC (Barge).

(5) Tankerman assistant.

(6) Tankerman engineer.

(d) The following STCW endorsements are established by STCW and issued according to the STCW Code, STCW Convention and parts 11 and 12 of this subchapter. The endorsements indicate that an individual holding a valid MMC with this endorsement is qualified to serve in that capacity and the endorsement has been issued under the requirements contained in parts 11 or 12 of this subchapter as well as the STCW Code and STCW Convention (incorporated by reference see § 10.103):

(1) Master.

(2) Chief mate.

(3) Officer in charge of a navigational watch (OICNW).

(4) Chief engineer.

(5) Second engineer officer.

(6) Officer in charge of an engineering watch in a manned engineroom or designated duty engineer in a periodically unmanned engineroom (OICEW).

(7) Rating forming part of a navigational watch (RFPNW).

(8) Rating forming part of a watch in a manned engineroom or designated to perform duties in a periodically unmanned engineroom (RFPEW).

(9) Proficiency in survival craft and rescue boats other than fast rescue boats (PSC).

(10) Proficiency in fast rescue boats.

(11) Person in charge of medical care.

(12) Medical first aid provider.

(13) GMDSS at-sea maintainer.

(14) GMDSS operator.

Subpart B—General Requirements for all Merchant Mariner Credentials

§ 10.201 General characteristics of the merchant mariner credential.

(a) A merchant mariner credential (MMC) (Coast Guard Form CG-XXXX), is a credential combining the elements of the merchant mariner's document (MMD), merchant mariner's license (license), and certificate of registry (COR) enumerated in 46 U.S.C. subtitle II part E as well as the STCW endorsement issued pursuant to the STCW Convention and STCW Code incorporated by reference in § 10.103. MMDs, licenses, STCW endorsements and CORs are no longer issued as separate documents and all qualifications formerly entered on those separate documents appear in the form of an endorsement(s) on an MMC.

(b) An MMC authorizes the holder to serve in any capacity endorsed thereon, or in any lower capacity in the same department, or in any capacity covered by a general endorsement.

(c) An MMC may be issued to qualified applicants by the National Maritime Center or at any Regional Examination Center during usual business hours, or through the mail.

§ 10.203 Requirement to hold a TWIC and a merchant mariner credential.

(a) Any mariner required to hold a license, MMD, COR, and/or an STCW endorsement by a regulation in 33 CFR chapter I or 46 CFR chapter I must hold an MMC. A mariner may continue to serve under the authority of and within any restriction on their license, MMD, COR, and/or STCW endorsement until the first renewal or upgrade of that credential, but not later than [Insert date five years after effective date of the final rule].

(b) Failure to obtain or hold a valid TWIC serves as a basis for the denial of an application for an original, renewal, new endorsement, duplicate, or raise of grade of a mariner's credential and may serve as a basis for suspension and revocation under 46 U.S.C. 7702 and 7703.

(c) An MMC, license, MMD, COR, or STCW endorsement must be retained by the mariner to whom it was issued and, while valid, must be produced to verify qualifications when requested by an authorized official.

(d) Although an MMD and an MMC serve as certificates of identification, a TWIC must be retained by the mariner to whom it was issued and, while valid, serves as the mariner's primary identification document. The TWIC must be produced to verify identity when required by an authorized official.

§ 10.205 Validity of a merchant mariner credential.

(a) An MMC is valid for a term of five years from the date of issuance.

(b) All endorsements are valid until the expiration date of the MMC on which they appear.

(c) A mariner may not serve under the authority of an MMC past its expiration date. An expired MMC may be renewed during an administrative grace period of up to one year beyond its expiration date as per § 10.227(f) of this part.

(d) When an MMC is renewed or re-issued before its expiration date in accordance with § 10.227, the MMC that has been replaced becomes invalid.

(e) An MMC is not valid until signed by the applicant and a duly authorized Coast Guard official.

(f) A mariner's STCW endorsement is valid only when the related officer or rating endorsement is valid.

(g) A mariner's endorsements authorize the holder to serve in any capacity endorsed on the MMC, or in any lower capacity in the same department, or in any capacity covered by a general endorsement thereon.

(h) If a mariner chooses to renew his or her license, MMD, COR, or STCW endorsement and receive their first MMC, the Coast Guard may also renew all other credentials for which the mariner is qualified.

§ 10.207 Identification number.

For recordkeeping purposes only, a mariner's official MMC identification number is the individual's social security number. However, a unique serial number, and not the social security number, will appear on the credential.

§ 10.209 General application procedures.

(a) The applicant for an MMC, whether original, renewal, duplicate, raise of grade, or a new endorsement on a previously issued MMC, must establish to the Coast Guard that he or she satisfies all the requirements for the MMC and endorsement(s) sought before the Coast Guard will issue the MMC. This section contains the general requirements for all applicants. Additional requirements for duplicates, renewals, new endorsements, and raises of grade appear later in this part.

(b) The Coast Guard may refuse to process an incomplete MMC application. The requirements for a complete application for an original MMC are contained in § 10.225, the requirements for a renewal MMC application are in § 10.227, the requirements for a duplicate MMC application are contained in § 10.229, and the requirements for an application for a new endorsement or raise of grade are contained in § 10.231.

(c) Applications are valid for 12 months from the date that the Coast Guard approves the application.

(d) The portions of the application that may be submitted by mail, fax, or other electronic means may include:

(1) The application, consent for NDR check, and notarized oath on Coast Guard-furnished forms, and the evaluation fee required by § 10.219 of this part;

(2) The applicant's continuous discharge book, certificate of identification, MMD, MMC, license, STCW endorsement, COR, or, if it has not expired, a photocopy of the credential, including the back and all attachments;

(3) Proof, documented on a form provided by the Coast Guard, that the applicant passed the applicable vision, hearing, medical or physical exam as required by § 10.215 of this part;

(4) If the applicant desires a credential with a radar-observer endorsement in accordance with § 11.480 of this chapter, either the radar-observer certificate or a certified copy;

(5) Evidence of, or acceptable substitute for, sea service, if required;

(6) For an endorsement as a medical doctor or professional nurse as required in § 11.807, evidence that the applicant holds a currently valid, appropriate license as physician, surgeon, or registered nurse, issued under the authority of a state or territory of the United States, the Commonwealth of Puerto Rico, or the District of Columbia. Any MMC issued will retain any limitation associated with the medical license;

(7) Any certificates or other supplementary materials required to show that the mariner meets the mandatory requirements for the specific endorsement sought, as established in parts 11, 12 or 13 of this chapter; and

(8) An open-book exercise, in accordance with § 10.227(d)(8)(i) of this part.

(e) The following requirements must be satisfied before an original or renewal MMC, or new endorsement or a raise of grade added to a previously issued MMC, will be issued. These materials will be added to the individual's record by the Coast Guard:

(1) Determination of safety and suitability. No MMC will be issued as an original or reissued with a new expiration date, and no new officer endorsement will be issued if the applicant fails the criminal record review as set forth in § 10.211 of this part;

(2) NDR review. No MMC will be issued as an original or reissued with a new expiration date, and no new officer endorsement will be issued until the applicant has passed an NDR review as set forth in § 10.213 of this part; and

(3) Information supplied by the Transportation Security Administration (TSA). No MMC or endorsement will be issued until the Coast Guard receives the following information from the applicant's TWIC application: the applicant's fingerprints, FBI number and criminal record (if applicable), photograph, proof of citizenship, and proof of legal resident alien status (if applicable).

(f) Upon determining that the applicant satisfactorily meets all requirements for an MMC or an endorsement thereon, the Coast Guard will issue the properly endorsed MMC to the applicant. The Coast Guard will not issue an MMC until it has received proof that the mariner holds a valid TWIC.

(g) When a new MMC is issued, the mariner must return the previously issued MMC, license, MMD, COR, or STCW endorsement to the Coast Guard, unless the new MMC is being issued to replace a lost or stolen credential. Upon written request at the time of application, the cancelled, previously issued credential(s) will be returned to the applicant.

(h) Unless otherwise stated in this part, an applicant who fails a chemical test for dangerous drugs will not be issued an MMC.

§ 10.211 Criminal record review.

(a) The Coast Guard may conduct a criminal record review to determine the safety and suitability of an applicant for an MMC and any endorsements. An applicant conducting simultaneous MMC transactions will undergo a single criminal record review. At the time of application, each applicant must provide written disclosure of all prior convictions.

(b) A criminal record review is not required for applicants seeking a duplicate MMC under § 10.229.

(c) Fingerprints. The Transportation Security Administration (TSA) will provide to the Coast Guard the applicant's fingerprints submitted by the applicant with his or her TWIC application and, if applicable, the applicant's FBI number and criminal record generated in the TWIC review process. This information will be used by the Coast Guard to determine whether the applicant has a record of any criminal convictions.

(d) When a criminal record review leads the Coast Guard to determine that an applicant is not a safe and suitable person or cannot be entrusted with the duties and responsibilities of the MMC or endorsement applied for, the application may be denied.

(e) If an application is disapproved, the applicant will be notified in writing of that fact, the reason or reasons for disapproval, and advised that the appeal procedures in subpart 1.03 of part 1 of this chapter apply. No examination will be given pending decision on appeal.

(f) No person who has been convicted of a violation of the dangerous drug laws of the United States, the District of Columbia, any State, territory, or possession of the United States, or a foreign country, by any military or civilian court, is eligible for an MMC, except as provided elsewhere in this section. No person who has ever been the user of, or addicted to the use of a dangerous drug, or has ever been convicted of an offense described in section 205 of the National Driver Register Act of 1982, as amended (49 U.S.C. 30304) because of addiction to or abuse of alcohol is eligible for an MMC, unless he or she furnishes satisfactory evidence of suitability for service in the merchant marine as provided in paragraph (l) of this section. A conviction for a drug offense more than 10 years before the date of application will not alone be grounds for denial.

(g) The Coast Guard will use table 10.211(g) to evaluate applicants who have criminal convictions. The table lists major categories of criminal activity and is not to be construed as an all-inclusive list. If an applicant is convicted of an offense that does not appear on the list, the Coast Guard will establish an appropriate assessment period using the list as a guide. The assessment period commences when an applicant is no longer incarcerated. The applicant must establish proof of the time incarcerated and periods of probation and parole to the satisfaction of the Coast Guard. The assessment period may include supervised or unsupervised probation or parole.

Table 10.211(g).—Guidelines for Evaluating Applicants for MMCs Who Have Criminal Convictions
Crime ¹ | Minimum | Maximum
ASSESSMENT PERIODS FOR OFFICER AND RATING ENDORSEMENTS
| Assessment periods
Crimes Against Persons
Homicide (intentional) | 7 years | 20 years.
Homicide (unintentional) | 5 years | 10 years.
Assault (aggravated) | 5 years | 10 years.
Assault (simple) | 1 year | 5 years.
Sexual Assault (rape, child molestation) | 5 years | 10 years.
Robbery | 5 years | 10 years.
Other crimes against persons ².
Vehicular Crimes
Conviction involving fatality | 1 year | 5 years.
Reckless Driving | 1 year | 2 years.
Racing on the Highways | 1 year | 2 years.
Other vehicular crimes ².
Crimes Against Public Safety
Destruction of Property | 5 years | 10 years.
Other crimes against public safety ².
Dangerous Drug Offenses 3 4 5
Trafficking (sale, distribution, transfer) | 5 years | 10 years.
Dangerous drugs (Use or possession) | 1 year | 10 years.
Other dangerous drug convictions ⁶.
ASSESSMENT PERIODS FOR OFFICER ENDORSEMENTS ONLY
| Assessment periods
Crime ¹ | Minimum | Maximum
Criminal Violations of Environmental Laws
Criminal violations of environmental laws involving improper handling of pollutants or hazardous materials | 1 year | 10 years.
Crimes Against Property
Burglary | 3 years | 10 years.
Larceny (embezzlement) | 3 years | 5 years.
Other crimes against property ².
¹ Conviction of attempts, solicitations, aiding and abetting, accessory after the fact, and conspiracies to commit the criminal conduct listed in this table carry the same minimum and maximum assessment periods provided in the table.
² Other crimes will be reviewed by the Coast Guard to determine the minimum and maximum assessment periods depending on the nature of the crime.
³ Applicable to original applications only. Any applicant who has ever been the user of, or addicted to the use of, a dangerous drug shall meet the requirements of paragraph (f) of this section. Note: Applicants for reissue of an MMC with a new expiration date including a renewal or additional endorsement(s), who have been convicted of a dangerous drug offense while holding a license, MMC, MMD, STCW endorsement or COR, may have their application withheld until appropriate action has been completed by the Coast Guard under the regulations which appear in 46 CFR part 5 governing the administrative actions against merchant mariner credentials.
⁴ The Coast Guard may consider dangerous drug convictions more than 10 years old only if there has been another dangerous drug conviction within the past 10 years.
⁵ Applicants must demonstrate rehabilitation under paragraph (l) of this section, including applicants with dangerous drug use convictions more than 10 years old.
⁶ Other dangerous drug convictions will be reviewed by the Coast Guard on a case by case basis to determine the appropriate assessment period depending on the nature of the offense.

(h) When an applicant has convictions for more than one offense, the minimum assessment period will be the longest minimum in table 10.211(g) and table 10.213(c) of § 10.213 based upon the applicant's convictions; the maximum assessment period will be the longest shown in table 10.211(g) and table 10.213(c) of § 10.213 based upon the applicant's convictions.

(i) If a person with a criminal conviction applies before the minimum assessment period shown in table 10.211(g) or established by the Coast Guard under paragraph (g) of this section has elapsed, then the applicant must provide, as part of the application package, evidence of suitability for service in the merchant marine. Factors that are evidence of suitability for service in the merchant marine are listed in paragraph (l) of this section. The Coast Guard will consider the applicant's evidence submitted with the application and may issue the MMC and/or endorsement in less than the listed minimum assessment period if the Coast Guard is satisfied that the applicant is suitable to hold the MMC and/or endorsement for which he or she has applied. If an application filed before the minimum assessment period has elapsed does not include evidence of suitability for service in the merchant marine, then the application will be considered incomplete and will not be processed by the Coast Guard.

(j) If a person with a criminal conviction submits their MMC application during the time between the minimum and maximum assessment periods shown in table 10.211(g) or established by the Coast Guard under paragraph (g) of this section, then the Coast Guard will consider the conviction and, unless there are offsetting factors, will grant the applicant the MMC and/or endorsement for which he or she has applied. Offsetting factors include such factors as multiple convictions, failure to comply with court orders (e.g., child support orders), previous failures at rehabilitation or reform, inability to maintain steady employment, or any connection between the crime and the safe operation of a vessel. If the Coast Guard considers the applicant unsuitable for service in the merchant marine at the time of application, the Coast Guard may disapprove the application.

(k) If a person with a criminal conviction submits their MMC application after the maximum assessment period shown in table 10.211(g) or established by the Coast Guard under paragraph (g) of this section has elapsed, then the Coast Guard will grant the applicant the MMC or endorsement for which he or she has applied unless the Coast Guard considers the applicant still unsuitable for service in the merchant marine. If the Coast Guard disapproves an applicant with a conviction older than the maximum assessment period listed in table 10.211(g), the Coast Guard will notify the applicant in writing of the reason(s) for the disapproval. The Coast Guard will also inform the applicant, in writing, that the reconsideration and appeal procedures contained in subpart 1.03 of this chapter apply.

(l) If an applicant has one or more alcohol or dangerous drug related criminal or NDR-listed convictions, if the applicant has ever been the user of, or addicted to the use of, a dangerous drug, or if the applicant applies before the minimum assessment period has elapsed for his or her conviction, the Coast Guard may consider the following factors, as applicable, in assessing the applicant's suitability to hold an MMC. This list is intended as a guide for the Coast Guard. The Coast Guard may consider other factors appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

§ 10.213 National Driver Register.

(a) No MMC will be issued as an original or reissued with a new expiration date, and no new officer endorsement will be issued, unless the applicant consents to a check of the NDR for offenses described in section 205(a)(3) (A) or (B) of the NDR Act (i.e., operation of a motor vehicle while under the influence of, or impaired by, alcohol or a controlled substance; and any traffic violations arising in connection with a fatal traffic accident, reckless driving, or racing on the highways).

(b) The Coast Guard will not consider NDR-listed civil convictions that are more than three years old from the date of request unless that information relates to a current suspension or revocation of the applicant's license to operate a motor vehicle. The Coast Guard may determine minimum and maximum assessment periods for NDR-listed criminal convictions using table 10.213(c). An applicant conducting simultaneous MMC transactions is subject to only one NDR check.

(c) The guidelines in table 10.213(c) will be used by the Coast Guard in evaluating applicants who have drug or alcohol related NDR-listed convictions. Non-drug or alcohol related NDR-listed convictions will be evaluated by the Coast Guard under table 10.211(g) of § 10.211 as applicable.

Table 10.213(C).—Guidelines for Evaluating Applicants for MMCs Who Have NDR Motor Vehicle Convictions Involving Dangerous Drugs or Alcohol ¹
Number of convictions | Date of conviction | Assessment period
1 | Less than 1 year | 1 year from date of conviction.
1 | More than 1, less than 3 years | Application will be processed, unless suspension, or revocation ² is still in effect. Applicant will be advised that additional conviction(s) may jeopardize merchant mariner credentials.
1 | More than 3 years old | Not necessary unless suspension or revocation is still in effect.
2 or more | Any less than 3 years old | 1 year since last conviction and at least 3 years from 2nd most recent conviction, unless suspension or revocation is still in effect.
2 or more | All more than 3 years old | Application will be processed unless suspension or revocation is still in effect.
¹ Any applicant who has ever been the user of, or addicted to the use of, a dangerous drug shall meet the requirements of paragraph (a) of this section.
² Suspension or revocation, when referred to in table 10.213, means a State suspension or revocation of a motor vehicle operator's license.

(d) Any application may be disapproved if information from the NDR check leads the Coast Guard to determine that the applicant cannot be entrusted with the duties and responsibilities of the MMC or endorsement for which the application is made. If an application is disapproved, the Coast Guard will notify the applicant in writing of the reason(s) for disapproval and advise the applicant that the appeal procedures in subpart 1.03 of part 1 of this chapter apply. No examination will be given pending decision on appeal.

(e) Before disapproving an application because of information received from the NDR, the Coast Guard will make the information available to the applicant for review and written comment. The applicant may submit records from the applicable State concerning driving record and convictions to the Coast Guard REC processing the application. The REC will hold an application with NDR-listed convictions pending the completion of the evaluation and delivery by the individual of the underlying State records.

(f) If an applicant has one or more alcohol or dangerous drug related criminal or NDR-listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors, which it judges appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

§ 10.215 Medical and physical requirements.

(a) Medical and Physical Exams. To qualify for an MMC an applicant must meet the medical and physical standards in this section. Columns 2 through 5 of table 10.215(a) provide the specific exam, test, or demonstrations required to obtain the corresponding credential listed in column 1. Further clarifications of the requirements contained in the table are found throughout this section. Any required test, exam, or demonstration must have been performed, witnessed, or reviewed by a licensed medical doctor, licensed physician assistant, or licensed nurse practitioner.

(1) First-class pilots, and those serving as pilots under § 15.812 of this part, on vessels and tank barges of 1,600 GRT or more must satisfactorily complete annual medical exams and, unless exempt per 46 CFR 16.220, pass annual chemical tests for dangerous drugs and submit the results to the Coast Guard.

(2) Medical exams for Great Lakes Pilots must be conducted by a licensed medical doctor in accordance with the physical exam requirements in 46 CFR 402.210.

Table 10.215(A)
1 Credential | 2 Vision test | 3 Hearing test | 4 General medical exam | 5 Demonstration of physical ability
(i) Deck officer, including pilot | § 10.215(b)(1) | X | X | X
(ii) Engineering officer | § 10.215(b) (2) | X | X | X
(iv) Radio officer | § 10.215(b)(2) | X | X | X
(v) Offshore installation manager, barge supervisor, or ballast control operator | § 10.215(b)(2) | X | X | X
(vi) Able seaman | § 10.215(b)(1) | X | X | X
(vii) QMED | § 10.215(b)(2) | X | X | X
(viii) RFPNW | § 10.215(b)(1) | X | X | X
(ix) RFPEW | § 10.215(b)(2) | X | X | X
(x) Tankerman | § 10.215(b)(2) | X | X | X
(xi) Food handler serving on vessels to which STCW does not apply |  |  | § 10.215(d)(2) |
(xii) Food handler serving on vessels to which STCW applies |  |  | § 10.215(d)(2) | X
(xiii) Ratings, including entry level, serving on vessels to which STCW applies, other than those listed above |  |  |  | X

(b) Vision Test. (1) Deck Standard. An applicant must have correctable vision to at least 20/40 in one eye and uncorrected vision of at least 20/200 in the same eye. An applicant having lost vision in one eye must wait six months before application and provide a statement of demonstrated ability on his or her medical examination. The color sense must be determined to be satisfactory when tested by any of the following methods or an alternative test approved by the Coast Guard, without the use of color-sensing lenses:

(i) Pseudoisochromatic Plates (Dvorine, 2nd Edition; AOC; revised edition or AOC-HRR; Ishihara 16-, 24-, or 38-plate editions).

(ii) Eldridge—Green Color Perception Lantern.

(iii) Farnsworth Lantern.

(iv) Keystone Orthoscope.

(v) Keystone Telebinocular.

(vi) SAMCTT (School of Aviation Medicine Color Threshold Tester).

(vii) Titmus Optical Vision Tester. (viii) Williams Lantern.

(2) Engineering, radio operator, tankerman, and MODU standard. An applicant must have correctable vision of at least 20/50 in one eye and uncorrected vision of at least 20/200 in the same eye and need only have the ability to distinguish the colors red, green, blue and yellow.

(3) Any applicant whose uncorrected vision does not meet the standards listed above, and is granted a waiver in accordance with paragraph (g) of this section, may not serve under the authority of the endorsement unless corrective lenses are worn and spare lenses are carried onboard a vessel.

(c) Hearing test. If the medical practitioner conducting the general medical exam has concerns that an applicant's ability to hear may impact maritime safety, the examining medical practitioner must refer the applicant to an audiologist or other hearing specialist to conduct an audiometer test and/or a speech discrimination test, as appropriate.

(1) The audiometer test should include testing at the following thresholds: 500 Hz; 1,000 Hz; 2,000 Hz; and 3,000 Hz. The frequency responses for each ear should be averaged to determine the measure of an applicant's hearing ability. Applicants must demonstrate an unaided threshold of 20 decibels or less in each ear.

(2) The functional speech discrimination test should be carried out at a level of 55 decibels. For issuance of an original MMC or endorsement the applicant must demonstrate functional speech discrimination of at least 90%. For renewal or raise of grade, the applicant must demonstrate functional speech discrimination of at least 80%. An applicant who is unable to meet the standards of the audiometer test, but who can pass the functional speech discrimination test, may be eligible for a medical waiver in accordance with paragraph (g) of this section.

(d) General medical exam. (1) This exam must be documented and of such scope to ensure that there are no conditions that pose an inordinate risk of sudden incapacitation or debilitating complication. This exam must also document any condition requiring medication that impairs judgment or reaction time. Examples of physical impairment or medical conditions that could lead to disqualification include, but are not limited to, poorly controlled diabetes, myocardial infarctions, psychiatric disorders, and convulsive disorders.

(2) Food handlers are not required to submit to a general medical exam, but must obtain a statement from a licensed physician, physician assistant, or nurse practitioner attesting that they are free of communicable diseases.

(e) Demonstration of physical ability. (1) A demonstration of physical ability is required only if the medical practitioner conducting the general medical exam is concerned that an applicant's physical ability may impact maritime safety or if table 10.215(a) shows that the mariner must pass a demonstration of physical ability, but he or she is not required to pass a general medical exam.

(2) For an applicant to satisfactorily pass a demonstration of physical ability, the examiner must be satisfied that the applicant:

(i) Has no disturbance in the sense of balance;

(ii) Is able, without assistance, to climb up and down vertical ladders and inclined stairs;

(iii) Would be able, without assistance, to step over a door sill or coaming;

(iv) Would be able to grasp, lift, and manipulate various common shipboard tools; move hands and arms to open and close valve wheels in vertical and horizontal directions, and rotate wrists to turn handles;

(v) Does not have any impairment or disease that could prevent normal movement and physical activities;

(vi) Is able to stand and walk for extended periods;

(vii) Does not have any impairment or disease that could prevent response to a visual or audible alarm; and

(viii) Is capable of normal conversation.

(f) Reports of medical and physical exams, demonstrations, and tests. These reports must be submitted within 12 months from the date signed by the licensed medical professional. When submitted with a complete application package these reports remain valid for 12 months from the date of the application approval.

(g) Medical waivers. Where an applicant does not possess the vision, hearing, or general physical condition necessary, the Coast Guard, after consultation with the examining licensed physician, licensed physician assistant, or licensed nurse practitioner may grant a waiver if extenuating circumstances warrant special consideration. An applicant may submit to the Coast Guard additional correspondence, records, and reports in support of a waiver. In this regard, recommendations from agencies of the Federal Government operating government vessels, as well as owners and operators of private vessels, made on behalf of their employees, will be given full consideration. Waivers are not normally granted to an applicant whose corrected vision in the better eye is not at least 20/40 for deck officers or 20/50 for engineer officers.

(h) Individuals holding only a staff officer endorsement need not meet the medical and physical requirements of this section.

§ 10.217 Merchant mariner credential application and examination locations.

(a) Applicants may apply to the Coast Guard National Maritime Center or any of the Regional Examination Centers. Applicants may contact the National Maritime Center at 4200 Wilson Boulevard, Suite 630, Arlington, Virginia 22203-1804, or by telephone at 202-493-1002. A list of Regional Examination Center locations is available through the Coast Guard Web site at http://www.uscg.mil.

(b) Coast Guard-designated facilities. The Coast Guard may designate additional locations to provide services to applicants for MMCs.

(c) Exam Locations Abroad. (1) Coast Guard Merchant Marine Details abroad may conduct exams for ratings at locations other than the RECs, but are not prepared to conduct the physical examination where required. Merchant Marine Details may not issue regular rating endorsements, but temporary permits in lieu thereof. Merchant Marine Details will instruct the recipient of each temporary permit to present it to the OCMI, upon arrival in the first port in the United States in order to exchange it for a permanent credential.

(2) The temporary permit must be accepted by the OCMI as proof that the bearer has complied with the rules and regulations governing the issuance of credentials, except as noted in the body of the temporary permit. The requirements noted in the exceptions will be complied with as in the case of other applicants.

(3) The written examinations are forwarded to the National Maritime Center by Merchant Marine Details. When an applicant with a temporary permit appears before an OCMI, that OCMI may request and obtain the examination from the National Maritime Center. Any OCMI who doubts the propriety of issuing a permanent credential instead of a temporary permit which has been issued by an overseas Merchant Marine Detail must inform the National Maritime Center fully as to the circumstances.

§ 10.219 Fees.

(a) Use table 10.219(a) of this section to calculate the mandatory fees for MMCs and associated endorsements.

Table 10.219(a).—Fees
If you apply for | And you need . . .: Evaluation then the fee is . . . | And you need . . .: Examination then the fee is . . . | And you need . . .: Issuance then the fee is . . .
MMC with officer endorsement:
Original:
Upper level | $100 | $110 | $45.
Lower level | $100 | $95 | $45.
Renewal | $50 | $45 | $45.
Raise of grade | $100 | $45 | $45.
Modification or removal of limitation or scope | $50 | $45 | $45.
Radio officer endorsement:
Original | $50 | $45 | $45.
Renewal | $50 | n/a | $45.
Staff officer endorsements:
Original | $90 | n/a | $45.
Renewal | $50 | n/a | $45.
MMC with rating endorsement:
Original endorsement for ratings other than qualified ratings | $95 | n/a | $45.
Original endorsement for qualified rating | $95 | $140 | $45.
Upgrade or Raise of Grade | $95 | $140 | $45.
Renewal endorsement for ratings other than qualified ratings | $50 | n/a | $45.
Renewal endorsement for qualified rating | $50 | $45 | $45.
STCW certification:
Original | No fee | No fee | No fee.
Renewal | No fee | No fee | No fee.
Reissue, replacement, and duplicate | n/a | n/a | $45.¹
¹ Duplicate for MMC lost as result of marine casualty—No Fee.

(b) Fee payment procedures. Applicants may pay:

(1) All fees required by this section at the time the application is submitted; or

(2) A fee for each phase at the following times:

(i) An evaluation fee when the application is submitted.

(ii) An examination fee before the first examination section is taken.

(iii) An issuance fee before receipt of the MMC.

(c) If the examination is administered at a place other than an REC, the examination fee must be paid to the REC at least one week before the scheduled examination date.

(d) Unless the REC provides additional payment options, fees must be paid as follows:

(1) Fee payment(s) must be for the exact amount.

(2) Payments may be made by cash, check, money order, or credit card.

(3) Payments submitted by mail may not be made in cash.

(4) Checks or money orders must be made payable to the U.S. Coast Guard, and full legal name and last four digits of the applicant's security number must appear on the front of each check or money order.

(e) Unless otherwise specified in this part, when two or more endorsements are processed on the same application:

(1) Evaluation fees. If an applicant simultaneously applies for a rating endorsement and a deck or engineer officer's endorsement, only the evaluation fee for the officer's endorsement will be charged. If an applicant simultaneously applies for a staff officer or radio officer endorsement along with the deck or engineer officer's endorsement, only the evaluation fee for the deck or engineer officer's endorsement will be charged. No evaluation fee is charged for an STCW endorsement.

(2) Examination fees. One examination fee will be charged for each exam or series of exams for an original, raise of grade, or renewal of an endorsement on an MMC taken within one year from the date of the application approval. An examination fee will also be charged to process an open-book exercise used to renew an MMC. If an officer endorsement examination under part 11 of this chapter also fulfills the examination requirements in part 12 of this chapter for rating endorsements, only the fee for the officer endorsement examination is charged.

(3) Issuance fees. Only one issuance fee will be charged for each MMC issued, regardless of the number of endorsements placed on the credential. There is no fee for a Document of Continuity.

(f) The Coast Guard may assess additional charges to anyone to recover collection and enforcement costs associated with delinquent payments, failure to pay a fee, or returned checks. The Coast Guard will not provide credentialing services to a mariner who owes money for credentialing services previously provided.

(g) Anyone who fails to pay a fee or charge established under this subpart is liable to the United States Government for a civil penalty of not more than $6,500 for each violation.

(h) No-fee MMC for certain applicants.

(1) For the purpose of this section, a no-fee MMC applicant is a person who is a volunteer, or a part-time or full-time employee of an organization that is:

(i) Charitable in nature;

(ii) Not for profit; and

(iii) Youth oriented.

(2) Determination of eligibility.

(i) An organization may submit a written request to U.S. Coast Guard National Maritime Center, 4200 Wilson Boulevard, Suite 630, Arlington, VA 22203-1804, in order to be considered an eligible organization under the criteria set forth in paragraph (h)(1) of this section. With the written request, the organization must provide evidence of its status as a youth-oriented, not-for-profit, charitable organization.

(ii) The following organizations are accepted by the Coast Guard as meeting the requirements of paragraph (h)(1) of this section and need not submit evidence of their status: Boy Scouts of America, Sea Explorer Association, Girl Scouts of the United States of America, and Young Men's Christian Association of the United States of America.

(3) A letter from an organization determined eligible under paragraph (h)(2) of this section must also accompany the person's MMC application to the Coast Guard. The letter must state that the purpose of the person's application is solely to further the conduct of the organization's maritime activities. The applicant then is eligible under this section to obtain a no-fee MMC if other requirements for the MMC are met.

(4) An MMC issued to a person under this section is endorsed restricting its use to vessels owned or operated by the sponsoring organization.

(5) The holder of a no-fee MMC issued under this section may have the restriction removed by paying the appropriate evaluation, examination, and issuance fees that would have otherwise applied.

§ 10.221 Citizenship.

(a) (1) MMCs with officer Endorsements. Only individuals with valid U.S. citizenship may apply for officer endorsements, except individuals applying for endorsements as operators of uninspected passenger vessels authorizing service on undocumented vessels in accordance with § 11.201(d) of this part.

(2) All other MMCs. All other applicants must be either:

(A) Citizens of the United States;

(B) Aliens lawfully admitted to the United States for permanent residence; or

(C) Foreign nationals who are enrolled in the United States Merchant Marine Academy (USMMA).

(b) Proof of citizenship or alien status must be submitted to the Transportation Security Administration (TSA) with the applicant's TWIC application in accordance with 49 CFR 1572.17(a)(11).

(c) TSA and the Coast Guard may reject any evidence of citizenship that is not believed to be authentic. Acceptable evidence of citizenship may be an original or a copy certified as true by the agency responsible for issuing the document of the following:

(1) If the individual is applying for an officer endorsement (with the exception of those applying for an MMC endorsed only as Operator of an Uninspected Passenger Vehicle (OUPV) of an undocumented vessel), the individual must provide an original of any one of the following documents:

(i) Certified copy of a birth certificate, issued by a State, county, municipality or outlying possession of the U.S. bearing an official seal;

(ii) Unexpired U.S. passport;

(iii) Certificate of Citizenship issued by U.S. Citizenship and Immigration

Services or the Immigration and Naturalization Service;

(iv) Certificate of Naturalization issued by U.S. Citizenship and Immigration

Services or the Immigration and Naturalization Service; or

(v) Merchant mariner's document issued by the Coast Guard after February 3, 2003, that shows that the holder is a citizen of the United States.

(2) If the individual is applying for a rating endorsement and they hold one of the documents listed in paragraph (c)(1)(i) through (v) above, these documents are also acceptable as evidence of citizenship. If the individual does not hold any one of those documents listed in paragraph (c)(1)(i) through (v) above, the individual must provide an original unexpired foreign passport and an original of any one of the following documents:

(i) Alien registration receipt card issued by U.S. Citizenship and Immigration Services bearing the certification that the alien was admitted to the United States as an immigrant,

(ii) A declaration of intention to become a citizen of the United States issued by a naturalization court; or

(iii) A certificate issued by the consular representative of the country of which the alien is a citizen or subject.

(3) If the individual is the holder of or applying for a rating endorsement and the individual does not hold any of the documents listed in paragraphs (c)(1) or (2) above, proof of enrollment in the United States Merchant Marine Academy (USMMA) in the form of an original letter from the USMMA, signed by the Superintendent attesting to the individual's enrollment along with a an unexpired foreign passport issued by the government of the country in which the alien is a citizen or subject, with a valid U.S. visa affixed to the passport, will be acceptable evidence of lawful status in the United States.

(4) If the individual is applying for an MMC endorsed only as OUPV of an undocumented vessel, the individual must provide an original of any one of the documents enumerated in paragraphs (c)(1)(i) through (v) or (c)(2)(i) or (ii) above, or proof of acceptable alien status as provided in 49 CFR 1572.105.

§ 10.223 Modification or removal of limitations or scope.

(a) If the Coast Guard is satisfied by the documentary evidence submitted that an applicant is entitled by experience, training, and knowledge to an endorsement or increase in the scope of any MMC held, any limitations that were previously placed upon the MMC by the Coast Guard may be changed or removed. Such an increase in scope may include a change in horsepower or tonnage limitations, or geographic route restrictions.

(b) Modifications or removal of limitations or scope to MMC endorsement(s) under this section will not change the expiration date of the mariner's MMC unless the applicant renews all endorsements that would appear on the MMC under § 10.227 of this part.

(c) A complete application for modification or removal of limitation of scope must contain the following:

(1) A completed signed application;

(2) Proof that the mariner holds a valid TWIC;

(3) All supplementary materials required to show that the mariner meets the mandatory requirements for the transaction sought:

(i) The mandatory requirements for officer endorsements are contained in part 11 of this chapter.

(ii) The mandatory requirements for rating endorsements are contained in part 12 of this chapter.

(iii) The mandatory requirements for tankerman rating endorsements are contained in part 13 of this chapter.

(iv) The mandatory requirements for STCW endorsements are contained in parts 11 and 12 of this chapter and in the STCW Convention and Code (incorporated by reference, see § 10.103).

(4) The appropriate fee as set forth in § 10.219 of this part; and

(5) Any uncanceled MMD, MMC, license, STCW endorsement, or COR held by the applicant. If one or more of these credentials are still valid at the time of application, a photocopy, front and back of all pages, and all attachments, will satisfy this requirement. If the applicant submits a photocopy, upon the issuance of the new MMC, the applicant must surrender the old, original credential to the Coast Guard. If requested in writing at the time of submission, the old MMD, MMC, license, COR, or STCW endorsement may be returned to the applicant after cancellation.

(d) No limitation on any endorsement may be changed before the applicant has made up any deficiency in the experience prescribed for the endorsement or endorsement desired and passed any necessary examination.

§ 10.225 Requirements for original merchant mariner credentials.

(a) An applicant must apply as an original if the MMC sought is:

(1) The first credential issued to the applicant;

(2) The first credential issued to an applicant after their previous credential has expired and they do not hold a document of continuity under § 10.227(e) of this part or an equivalent unexpired continuity endorsement on their license or MMD; or

(3) The first credential issued to an applicant after their previous credential was revoked pursuant to § 10.235 of this part.

(b) A complete application for an original MMC must contain the following:

(1) A completed, signed application;

(2) Proof that the mariner either holds a valid TWIC or has applied for a TWIC within the past 30 days;

(3) All supplementary materials required to show that the mariner meets the mandatory requirements for all endorsements sought;

(i) The mandatory requirements for officer endorsements are contained in part 11 of this chapter.

(ii) The mandatory requirements for rating endorsements are contained in part 12 of this chapter.

(iii) For a tankerman rating endorsement, the applicant must also provide those documents or proofs required in part 13 of this chapter.

(iv) The mandatory requirements for STCW Endorsements are contained in parts 11 and 12 of this chapter and in the STCW Convention and Code (Incorporated by reference, see § 10.103).

(4) The appropriate fee as set forth in § 10.219 of this part;

(5) Any uncanceled MMD, MMC, license, STCW endorsement, or COR held by the applicant. If one or more of these credentials are still valid at the time of application, a photocopy, front and back and all attachments, will satisfy this requirement. If the applicant submits a photocopy, upon the issuance of the new MMC, the applicant must surrender the old original credential to the Coast Guard. If requested in writing at the time of submission, the old MMD, MMC, license, COR, or STCW endorsement may be returned to the applicant after cancellation;

(6) Evidence of having passed a chemical test for dangerous drugs or of qualifying for an exemption from testing in § 16.220 of this subchapter;

(7) Discharges or other documentary evidence of service indicating the name, tonnage, and propulsion power of the vessels, dates of service, capacity in which the applicant served, and on what waters, where sea service is required;

(8) Proof, documented on a form provided by the Coast Guard, that the applicant passed all applicable vision, hearing, medical and/or physical exams as required by § 10.215 of this part.

(9) Consent to a Coast Guard check of the NDR for offenses described in section 205(a)(3)(A) or (B) of the National Driver Register Act of 1982, as amended; and

(10) The oath as required in paragraph (c) below.

(c) Oath. Every person who receives an original MMC must first take an oath, before an official authorized to give such oath, that he or she will faithfully and honestly, according to his or her best skill and judgment, without concealment or reservation, perform all the duties required by law and obey all lawful orders of superior officers. An oath may be administered by any Coast Guard-designated individual or any person legally permitted to administer oaths in the jurisdiction where the person taking the oath resides. An oath administered at a location other than those listed in § 10.217 must be verified in writing by the administering official and submitted to the same REC where the applicant applied for his or her MMC. This oath remains binding for any subsequently issued MMC and endorsements added to the MMC unless specifically renounced in writing.

§ 10.227 Requirements for renewal.

(a) Except as provided in paragraph (e) of this section, an applicant for renewal of a credential must establish possession of all of the necessary qualifications before the renewal MMC will be issued.

(b) A credential may be renewed at any time during its validity and for one year after expiration.

(c) No credential will be renewed if it has been suspended without probation or revoked as a result of action under part 5 of this chapter or if facts that would render a renewal improper have come to the attention of the Coast Guard.

(d) Except as provided in paragraph (e) of this section, a complete application for renewal must contain the following:

(1) A completed, signed application;

(2) Proof that the mariner holds a valid TWIC;

(3) The appropriate fee as set forth in § 10.219 of this part;

(4) Any uncanceled MMD, MMC, license, STCW endorsement, or COR held by the applicant. If one or more of these credentials are still valid at the time of application, a photocopy, front and back and all attachments, will satisfy this requirement. If the applicant submits a photocopy, upon the issuance of the new MMC, the applicant must surrender the old original credential to the Coast Guard. If requested in writing at the time of submission, the old MMD, MMC, license, COR, or STCW endorsement may be returned to the applicant after cancellation;

(5) Evidence of having passed a chemical test for dangerous drugs or of qualifying for an exemption from testing in § 16.220 of this subchapter:

(6) Proof, documented on a form provided by the Coast Guard, that the applicant passed all applicable vision, hearing, medical and/or physical exams as required by § 10.215 of this part.

(7) Consent to a Coast Guard check of the NDR for offenses described in section 205(a)(3)(A) or (B) of the National Driver Register Act of 1982, as amended.

(8) Except as provided in sub-paragraph (viii) below, the applicant must meet the following professional requirements for renewal:

(i) The applicant must either—

(A) Present evidence of at least one year of sea service during the past five years;

(B) Pass a comprehensive, open-book exercise covering the general subject matter contained in appropriate sections of subpart I of this part;

(C) Complete an approved refresher training course; or

(D) Present evidence of employment in a position closely related to the operation, construction or repair of vessels (either deck or engineer as appropriate) for at least three years during the past five years. An applicant for a deck license or officer endorsement with this type of employment must also demonstrate knowledge on an applicable Rules of the Road open book exercise.

(ii) The qualification requirements for renewal of radar observer endorsement are in § 11.480 of this chapter.

(iii) Additional qualification requirements for renewal of an officer endorsement as first-class pilot are contained in § 11.713 of this chapter.

(iv) An applicant for renewal of a radio officer's endorsement must, in addition to meeting the requirements of this section, present a currently valid license as first-or second-class radiotelegraph operator issued by the Federal Communications Commission. This license will be returned to the applicant.

(v) An applicant for renewal of an endorsement as medical doctor or professional nurse must, in addition to meeting the requirements of this section, present evidence that he or she holds a currently valid, appropriate license as physician, surgeon, or registered nurse issued under the authority of a State or territory of the United States, the Commonwealth of Puerto Rico, or the District of Columbia. Any such renewal will retain the limitations placed upon the medical license by the issuing body. There are no professional requirements for renewal of an endorsement as marine physician assistant or hospital corpsman.

(vi) An applicant for renewal of an endorsement as master or mate (pilot) of towing vessels must submit satisfactory evidence of:

(A) Having completed a practical demonstration of maneuvering and handling a towing vessel to the satisfaction of a designated examiner; or

(B) Ongoing participation in training and drills during the validity of the license or MMC being renewed.

(vii) An applicant seeking to renew a tankerman endorsement must meet the additional requirements listed in § 13.120 of this chapter.

(viii) There are no professional requirements for renewal for the following endorsements: (A) Radio officer;

(B) Staff officers (all types);

(C) Ordinary seaman;

(D) Wiper;

(E) Steward's department (F.H.);

(F) Cadet;

(G) Student observer;

(H) Apprentice engineer;

(I) Apprentice mate (issued under Part 12 of this Subchapter);

(J) Person in charge of medical care;

(K) Medical first aid provider;

(L) GMDSS at-sea maintainer; and

(M) GMDSS operator.

(9) Except as otherwise provided, each candidate for a renewal of an STCW endorsement must meet the applicable requirements of § 11.202 of this chapter and must meet the requirements of Section A-VI/2, paragraphs 1 to 4 of the STCW Code.

(e) Document of continuity. (1) Applicants for renewal who are unwilling or otherwise unable to meet the requirements of paragraph (d) of this section, including but not limited to the medical and physical standards of § 10.215, drug tests, and TWIC may apply for a document of continuity issued by the Coast Guard. Documents of continuity do not expire and are issued solely to maintain an individual's eligibility for renewal. A document of continuity does not entitle an individual to serve as a merchant mariner. A holder of a document of continuity may obtain a properly endorsed, valid MMC at any time by satisfying the requirements for renewal as provided in paragraph (d).

(2) Applications for a document of continuity must include:

(i) The credential to be renewed. Upon written request, the Coast Guard will return the credential to the applicant after it has been cancelled; and

(ii) An application including a signed statement from the applicant attesting to an awareness of the limited purpose of the Document of Continuity, their inability to serve, and the requirements to obtain an MMC.

(f) Administrative grace period. Except as provided herein, a credential may not be renewed more than 12 months after it has expired. To obtain a reissuance of the credential, an applicant must comply with the requirements of paragraph (g) of this section. When an applicant's credential expires during a time of service with the Armed Forces and there is no reasonable opportunity for renewal, including by mail, this period may be extended. The period of military service following the date of expiration which precluded renewal may be added to the 12-month grace period. The 12-month grace period and any extensions do not affect the expiration date of the credential. A license, MMD, COR, STCW endorsement, MMC, and any endorsements thereon, are not valid for use after the expiration date.

(g) Re-issuance of expired credentials. (1) Whenever an applicant applies for re-issuance of an endorsement as deck officer, engineer officer, or qualified rating more than 12 months after expiration, instead of the requirements of paragraph (g) of this section, the applicant must demonstrate continued professional knowledge by completing a course approved for this purpose, or by passing the complete examination. The examination may be oral-assisted if the expired credential was awarded on an oral exam. The fees set forth in § 10.219 apply to these examinations. In the case of an expired radio officer's endorsement, the endorsement may be issued upon presentation of a valid first-or second-class radiotelegraph operator license issued by the Federal Communications Commission.

(2) An endorsement for chief purser, purser, senior assistant purser, junior assistant purser, hospital corpsman, marine physician assistant, medical doctor, or professional nurse that has been expired for more than 12 months shall be renewed in the same way as a current endorsement of that type. There are no additional requirements for reissuing endorsements for chief purser, purser, senior assistant purser, junior assistant purser, hospital corpsman, marine physician assistant, medical doctor, or professional nurse that have been expired for more than 12 months.

§ 10.229 Issuance of duplicate merchant mariner credentials.

(a) Upon request and without examination, a mariner may be issued a duplicate credential after submitting an application with an affidavit describing the circumstances of the loss. The Coast Guard will only issue the duplicate credential after confirming the validity of the mariner's credential and TWIC.

(b) The duplicate will have the same authority, wording, and expiration date as the lost credential. A duplicate credential will reference the serial number, type, place of issue, and date of issue of the replaced credential(s). The duplicate issued will be in the form of an MMC. Until [Insert date 5 years after the effective date of the final rule], if a mariner seeks a duplicate of more than one credential, the MMC issued will reflect endorsements for all credentials lost, and the expiration date will match the earliest expiration date of the credentials lost.

(c) If a person loses a credential by shipwreck or other casualty, a duplicate will be issued free of charge. The term “other casualty” includes any damage to a ship caused by collision, explosion, tornado, wreck, flooding, beaching, grounding, or fire; or personal loss associated with a federally declared natural disaster.

(d) If a person loses a credential by means other than those noted in paragraph (c) of this section and applies for a duplicate, the appropriate fee set out in § 10.219 must be paid.

(e) No application from an alien for a duplicate credential will be accepted unless the alien complies with the requirements of § 10.221 of this part.

(f) Applications for duplicate credentials will not be subject to a criminal record review.

§ 10.231 Requirements for raises of grade or new endorsements.

(a) This section applies to applicants who already hold a valid credential and want to make the following transaction(s):

(1) Add a new endorsement; or

(2) Raise of grade of an existing endorsement.

(b) New endorsements or raises of grade of existing endorsements on an MMC under this section will not change the expiration date of the MMC unless the applicant renews all endorsements that appear on the MMC under § 10.227 of this part.

(c) A complete application for a new endorsement or raise of grade must contain the following:

(1) A completed, signed application;

(2) Proof that the mariner holds a valid TWIC;

(3) All supplementary materials required to show that the mariner meets the mandatory requirements for the new endorsement(s) sought;

(i) The mandatory requirements for officer endorsements are contained in part 11 of this chapter and paragraph (d) of this section.

(ii) The mandatory requirements for rating endorsements are contained in part 12 of this chapter.

(iii) The mandatory requirements for tankerman rating endorsements are contained in part 13 of this chapter.

(iv) The mandatory requirements for STCW endorsements are contained in parts 11 and 12 of this chapter and in the STCW Convention and Code (incorporated by reference, see § 10.103).

(4) The appropriate fee as set forth in § 10.219 of this part;

(5) Any uncanceled MMD, MMC, license, STCW endorsement, or COR held by the applicant. If one or more of these credentials are still valid at the time of application, a photocopy, front and back and all attachments, will satisfy this requirement. If the applicant submits a photocopy, upon the issuance of the new MMC, the applicant must surrender the old original credential to the Coast Guard. If requested in writing at the time of submission, the old MMD, MMC, license, COR, or STCW endorsement may be returned to the applicant after cancellation;

(6) Applicants for the following endorsements must produce evidence of having passed a chemical test for dangerous drugs or of qualifying for an exemption from testing in § 16.220 of this subchapter:

(i) any officer endorsement; and

(ii) the first endorsement as able seaman, lifeboatman, qualified member of the engine department, or tankerman.

(7) An applicant for an endorsement where sea service is required must produce discharges or other documentary evidence of service, indicating the name, tonnage, and horsepower of the vessels, dates of service, capacity in which the applicant served, and on what waters;

(8) Applicants who have not submitted evidence within the past three years that they have passed all applicable vision, hearing, medical and/or physical exams required in § 10.215 for the particular endorsement sought, must submit proof, on a Coast Guard approved form, that the applicant has passed those medical/physical tests and exams; and

(9) Consent to a Coast Guard check of the NDR for offenses described in section 205(a)(3)(A) or (B) of the National Driver Register Act of 1982, as amended.

(d) Additional requirements for an applicant seeking a raise of grade of an officer endorsement:

(1) Sea service acquired before the issuance of an officer endorsement is generally not accepted as any part of the service required for a raise of grade of that endorsement. However, service acquired before issuance of an officer endorsement will be accepted for certain crossovers, endorsements, or increases in scope of an MMC, as appropriate. In the limited tonnage categories for deck officers, total accumulated service is a necessary criterion for most raises of grade; service acquired before the issuance of such officer endorsements will, therefore, be accepted.

(2) No raise of grade may be issued to any naturalized citizen on less experience in any grade than would have been required of a citizen of the United States by birth.

(3) Experience and service acquired on foreign vessels while holding a valid U.S. officer endorsement is creditable for establishing eligibility for a raise of grade, subject to evaluation by the Coast Guard to determine that it is a fair and reasonable equivalent to service acquired on merchant vessels of the United States, with respect to grade, tonnage, horsepower, waters, and operating conditions. An applicant who has obtained the qualifying experience on foreign vessels shall submit satisfactory documentary evidence of such service (including any necessary translations into English) in the forms prescribed by paragraph (c)(7) of this section.

(4) An applicant remains eligible for a raise of grade while on probation as a result of action under part 5 of this chapter. A raise of grade issued to a person on probation will be subject to the same probationary conditions imposed against the applicant's other credentials. The offense for which he or she was placed on probation will be considered on the merits of the case in determining fitness to hold the endorsement applied for. No applicant will be examined for a raise of grade during any period when a suspension without probation or a revocation imposed under part 5 of this chapter is effective against the applicant's credential or while an appeal from these actions is pending.

(5) Professional examination. (i) When the Coast Guard finds an applicant's experience and training for raise of grade to be satisfactory and the applicant is eligible in all other respects, the Coast Guard will authorize a professional examination.

(ii) Oral-assisted examinations may be administered in accordance with § 11.205(f) of this chapter. The Coast Guard will place in the applicant's file a record indicating the subjects covered.

(iii) The general instructions for administration of examinations and the lists of subjects for all officer endorsements appear in part 11, subpart I of this chapter.

§ 10.233 Obligations of the holder of a merchant mariner credential.

(a) The holder of a credential may not voluntarily part with it or place it beyond his or her personal control by pledging or depositing it with any other person. If the holder violates this section, the Coast Guard may pursue suspension or revocation of the license, MMD, COR, or MMC under the provisions of part 5 of this chapter.

(b) Whenever a mariner loses a credential, he or she must immediately report the loss to the Coast Guard. The report must be made in writing, giving the facts incident to its loss.

(c) Invalid credentials must be returned to the Coast Guard. Upon written request the Coast Guard will return the cancelled credential to the mariner.

§ 10.235 Suspension or revocation of merchant mariner credentials.

(a) Any MMC or endorsement is subject to suspension or revocation on the same grounds, in the same manner, and with like procedure as provided in 46 U.S.C. chapter 77.

(b) When any individual's credential is revoked, it is no longer valid for any purpose and any MMC subsequently requested must be applied for as an original. When an endorsement on an individual's MMC is revoked, it is no longer valid and any endorsement of the same type subsequently requested must be applied for as an original. When an officer's endorsement is revoked, the Coast Guard will issue an MMC containing any rating endorsement for which the holder is qualified.

(c) An applicant who has had a TWIC, credential, or endorsement revoked, and who is applying for a subsequent MMC or endorsement, must state in his or her application the date of revocation, the serial number of the document revoked, and the type of document or endorsement revoked.

(d) A person whose credential or endorsement has been revoked or suspended without probation may not be issued a replacement credential or endorsement without approval of the Commandant. If a mariner has multiple endorsements and one or more, but not all, of those endorsements are suspended or revoked, the mariner may apply for a replacement MMC reflecting those endorsements for which the mariner remains qualified.

(e) When a credential or endorsement that is about to expire has been suspended, the renewal of the credential or endorsement will be withheld until expiration of the suspension period.

(f) An applicant for renewal or return of a credential with endorsement as master or mate (pilot) of towing vessels whose most recent credential has been suspended or revoked by an administrative law judge for incompetence must complete the practical demonstration required under § 10.227(d)(8)(vi)(A).

(g) If the Coast Guard is advised by the Transportation Security Administration (TSA) that a mariner has either been denied a TWIC or their TWIC has been revoked, the Coast Guard may initiate suspension and revocation action against the mariner's MMC, license, MMD, and COR under 46 U.S.C. 7702 and 7703. During the subsequent suspension and revocation proceeding, the TSA decision to deny issuance of, or to revoke, a mariner's TWIC will not be subject to review and the mariner's failure to hold a TWIC will be treated by the Coast Guard as proof that the mariner constitutes a security threat.

(h) A mariner that has either been denied issuance of a TWIC or whose TWIC has been revoked will be deemed a security risk that poses a threat to the safety or security of a vessel or a public or commercial structure located within or adjacent to the marine environment.

§ 10.237 Right of appeal.

(a) If the Coast Guard refuses to grant an applicant an MMC or endorsement, a written statement listing the reason(s) for denial will be provided

(b) Any person directly affected by a decision or action taken under this subchapter, by or on behalf of the Coast Guard, may appeal under the provisions of subpart 1.03 of part 1 of this chapter.

(c) The Coast Guard will not review decisions made by the Transportation Security Administration to suspend, revoke or deny a mariner's TWIC.

§ 10.239 Quick reference table for MMC requirements.

Table 10.239 provides a guide to the requirements for officer endorsements. Provisions in the reference section are controlling.

Table 10.239.
Endorsement category | Minimum age | Citizenship | Medical and physical exam | Experience | Recommendations and character check | Firefighting | Professional exam | Demonstration of professional ability | Recency of service | First aid and CPR
Master, mates and operators of uninspected passenger vessels (original) | 21, 11.201(e) Note: exceptions | U.S., 11.201(d) Note: exception for OUPV | Yes, 10.215 Note: exceptions | Yes, 11.205 (b); subpart D | 11.205(c) | 11.205(d) Note: exceptions | Yes, 11.205 (f); 11.903; 11.910 Note: 11.903(b) | Yes, 11.205(g); 11.901(c); 11.903(c) | Yes, 3 months in past 3 years, 11.201(c) | 11.205(e) Note: exceptions.
Engineers (original) | 21, 11.201(e) Note: exceptions | U.S., 11.201(d) no exceptions | Yes, 10.215 Note: exceptions | Yes, 11.205(b); subpart E | 11.205(c) | 11.205(d) | 11.205(f); 11.903; 11.950 | Yes, 11.205(g); 11.901(c); 11.903(c) | Yes, 3 months in past 3 years, 11.201(c) | 11.205(e) Note: exceptions.
Officer raises of grade | 21, 11.201(e) Note: exceptions | U.S., 11.201(d) no exceptions | Yes, 10.215 Note: exceptions | Yes, 10.231 (c); subpart D and E | N/A | Yes; 10.231 (e) | Yes, 10.231(d); 11.903; 11.910; 11.920; 11.950 | Yes, 11.205(g); 11.901(c); 11.903(c) | Yes, 3 months in past 3 years, 11.201(c) | N/A.
Officer renewals | N/A | U.S., 11.201(d) no exceptions | Yes, 10.215 Note: exceptions | Yes, 10.227(g) Note: exceptions | N/A | N/A | 10.227(g) | Towing officers, 10.227(i) | Yes, 1 year in past 5, 10.227(g) Note: alternative | N/A.
Pilot | 21, 46 U.S.C. 7101 | U.S., 11.201(d) no exceptions | Yes, 10.215 Note: exceptions | Yes, 11.703 | 11.205(c) | N/A | 11.707; 11.903; 11.910 | N/A | Yes, 11.703, 11.75(e), 11.713 | 11.205(e) Note: exceptions.
Towing vessels | 21, Master 19, Mate 18, App. Mate 11.201(e) | U.S., 11.201(d) no exceptions | Yes, 10.215 Note: exceptions | Yes, 10.464; 10.465; 10.466 | 11.205(c) | Yes, 11.205(d) oceans | Yes, 11.205 (f); 11.903; 11.910 Note: 11.903(b) | Yes, 11.464; 11.465; 11.205(g); 11.901(c) | Yes, 3 months in past 3 years, 11.201(c) | 11.205(e) Note: exceptions.
Uninspected fishing industry vessels | 21, 11.201(e) Note: exceptions | U.S., 11.201(d) no exceptions | Yes, 10.215 Note: exceptions | Deck: 11.462; Eng: 11.530 | 11.205(c) | 11.205(d) Note: exceptions | Yes, 11.205 (f); 11.903; 11.910 Note: 11.903(b) | N/A | Yes, 3 months in past 3 years, 11.201(c) | 11.205(e) Note: exceptions.
Radio officer | 19, 11.201(e)(1) | U.S., 11.201(d) no exceptions | Yes, 10.215 Note: exceptions | 11.603 | 11.205(c) | N/A | N/A | N/A | N/A | 11.205(e) Note: exceptions.
Staff officer | N/A | U.S., 11.201(d) no exceptions | Yes, 10.215 Note: exceptions | 11.807 | 11.205(c) | N/A | N/A | N/A | N/A | N/A.
Staff officer renewals | N/A | U.S., 11.201(d) no exceptions | Yes, 10.215 Note: exceptions | 10.227(g)(5) | N/A | N/A | N/A | N/A | N/A | N/A.
Offshore installation manager, barge supervisor, ballast control operator | 21, 11.201(e) Note: exceptions | U.S., 11.201(d) no exceptions | Yes, 10.215 Note: exceptions | OIM: 11.470 B.S.: 11.472 BCO: 11.474 Eng: 11.540 | 11.205(c) | 11.205(d) | Yes, 11.205 (f); 11.903; 11.920 | N/A | Yes, 3 months in past 3 years, 11.201(c) | 11.205(e) Note: exceptions.
Able seamen | 18, 12.05-3 (a)(1) | U.S. or alien admitted for permanent residence, 10.221 | Yes, 10.215 Note: exceptions | 12.05-7 | N/A | N/A | Yes, 12.05-3 (a); 12.05-9 | Yes, 12.05-3 (c); 12.05-9 | Renewal only, 1 year in past 5, 10.227(g) Note: alternative | 12.05-3(b).
Qualified members of engine department | N/A | U.S. or alien admitted for permanent residence, 10.221 | Yes, 10.215 Note: exceptions | 12.15-7 | N/A | N/A | Yes, 12.15-9 | Yes, 12.15-3(d) | Renewal only, 1 year in past 5, 10.227(g) Note: alternative | 12.15-3(d).
Entry level ratings | N/A | U.S. or alien admitted for permanent residence, 10.221 | Yes, 10.215 Note: exceptions | N/A | N/A | N/A | N/A | N/A | N/A | N/A.

88. Revise the heading to newly redesignated part 11 to read as follows:

PART 11—REQUIREMENTS FOR OFFICER ENDORSEMENTS

89. The authority citation for part 11 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 11.107 is also issued under the authority of 44 U.S.C. 3507.

90. In newly redesignated § 11.101—

a. Revise paragraphs (a) introductory text and (a)(1) to read as set out below;

b. In paragraph (a)(2), remove the words “certificate or” and, after the words “as amended”, remove the words “in 1995”;

c. In paragraph (b), remove the word “licenses” and add, in its place, the words “officer endorsements”; remove the words “all licensed personnel shall” and add, in their place, the words “each officer credentialed under this part must”; and, after the words “characteristics of”, remove the word “each” and add, in its place, the word “a”; and

d. In paragraph (c)(1), remove the words “license or license endorsement” and add, in their place, the words “officer endorsement”:

§ 11.101 Purpose of regulations.

(a) These regulations provide—

(1) A means of determining the qualifications an applicant must possess to be eligible for an officer endorsement as a staff officer, deck officer, engineer, pilot, or radio officer on merchant vessels, or for an endorsement to operate uninspected passenger vessels; and

* * * * *

91. Revise newly redesignated § 11.102 to read as follows:

§ 11.102 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-3PSO), 2100 Second Street, SW., Washington, DC 20593-0001, and is available from the sources indicated in this section.

(b) International Maritime Organization (IMO), 4 Albert Embankment, London SE1 7SR, England:

(1) The International Convention on Standards of Training, Certification and Watchkeeping for Seafarers, 1978, as amended (the STCW Convention or the STCW), approved for incorporation by reference in §§ 11.202, 11.304, 11.603; 11.901, 11.903, 11.1005, and 11.1105.

(2) The Seafarers' Training, Certification and Watchkeeping Code, as amended (the STCW Code), approved for incorporation by reference in §§ 11.202, 11.304, 11.603, 11.901, 11.903, 11.1005, and 11.1105.

§ 11.103 [Removed and Reserved]

92. Remove and reserve newly redesignated § 11.103.

§ 11.105 [Removed and Reserved]

93. Remove and reserve newly redesignated § 11.105.

94. In newly redesignated § 11.107, revise paragraphs (b)(1), (2) and (3) to read as follows:

§ 11.107 Paperwork approval.

* * * * *

(b) * * *

(1) OMB 1625-0040-46 CFR 11.201, 11.202, 11.205, 11.470, 11.472, 11.474, 11.542, and 11.544.

(2) OMB 1625-028-46 CFR 11.302, 11.303, 11.304, 11.480.

(3) OMB 1625-0079-46 CFR 11.304 and 11.309.

§ 11.109 [Removed and Reserved]

95. Remove and reserve newly redesignated § 11.109.

§ 11.110 [Removed and Reserved]

96. Remove and reserve newly redesignated § 11.110.

§ 11.111 [Removed and Reserved]

97. Remove and reserve newly redesignated § 11.111.

§ 11.112 [Removed and Reserved]

98. Remove and reserve newly redesignated § 11.112.

§ 11.113 [Removed and Reserved]

99. Remove and reserve newly redesignated § 11.113.

Subpart B—[Amended]

100. In the heading to subpart B remove the words “All License and Certificates of Registry” and add in their place the words “Officer Endorsements”

101. Revise newly redesignated § 11.201 to read as follows:

§ 11.201 Eligibility for officer endorsements and STCW endorsements, general.

(a) In addition to the requirements of part 10 of this chapter, the applicant for an officer endorsement, whether original, renewal, duplicate, or raise of grade, must establish to the satisfaction of the Coast Guard that he or she possesses all the qualifications necessary (including but not limited to age, experience, character references and recommendations, physical health, citizenship, approved training, passage of a professional examination, a test for dangerous drugs, and when required by this part, a practical demonstration of skills) before the Coast Guard will issue a merchant mariner credential (MMC).

(b) Except as provided in § 11.467(h) this part, an applicant for an officer endorsement must demonstrate an ability to speak and understand English as found in the navigation rules, aids to navigation publications, emergency equipment instructions, machinery instructions, and radiotelephone communications instructions.

(c) An applicant for an officer endorsement must have at least three months of qualifying service on vessels of appropriate tonnage or horsepower within the three years immediately preceding the date of application.

(d) No officer endorsement may be issued to any person who is not a citizen of the United States with the exception of operator of uninspected passenger vessels limited to vessels not documented under the laws of the United States.

(e) Except as specified in this paragraph, no officer endorsement may be issued to a person who has not attained the age of 21 years. The required evidence of age may be established using any of the items submitted to establish citizenship set out in 49 CFR 1572.17 of this chapter:

(1) An endorsement may be granted to an applicant who has reached the age of 19 years as:

(i) Master of near coastal, Great Lakes and inland, inland, or river vessels of 25-200 GRT;

(ii) Third mate;

(iii) Third assistant engineer;

(iv) Mate of vessels of 200-1,600 GRT;

(v) Ballast control operator (BCO);

(vi) Assistant engineer (MODU);

(vii) Assistant engineer of fishing industry vessels;

(viii) Mate (pilot) of towing vessels;

(ix) Radio officer;

(x) Assistant engineer (limited oceans); or

(xi) Designated duty engineer of vessels of not more than 4,000 horsepower.

(2) An endorsement may be granted to an applicant who has reached the age of 18 years as:

(i) Limited master of near-coastal vessels of not more than 100 GRT;

(ii) Limited master of Great Lakes and inland vessels of not more than 100 GRT;

(iii) Mate of Great Lakes and inland vessels of 25-200 GRT;

(iv) Mate of near coastal vessels of 25-200 GRT;

(v) Operator of uninspected passenger vessels (OUPV);

(vi) Designated duty engineer of vessels of not more than 1,000 horsepower; or

(vii) Apprentice mate (steersman) of towing vessels.

(f) Persons serving or intending to serve in the merchant marine service are encouraged to take the earliest opportunity to ascertain, through examination, whether their visual acuity, color vision, hearing, and general physical condition where required, are such as to qualify them for service in that profession. Any physical impairment or medical condition which would render an applicant incompetent to perform the ordinary duties required of an officer at sea is cause for denial of an officer endorsement.

(g) Applications for an original officer's endorsement, raises of grade, extensions of route, or STCW endorsements must be current and up to date with respect to service and the physical examination, as appropriate. Physical examinations and applications are valid for 12 months from the date the application is approved.

(h) Applicants for an endorsement as OUPV must meet the requirements for an officer endorsement.

(i) The Officer in Charge, Marine Inspection (OCMI), may modify the service and examination requirements in this part to satisfy the unique qualification requirements of an applicant. The OCMI may also lower the age requirement for OUPV applicants. The authority granted by an officer endorsement will be restricted to reflect any modifications made under the authority of this paragraph. These restrictions may not be removed without the approval of the OCMI issuing the license or officer endorsement.

102. Revise newly redesignated § 11.202 to read as follows:

§ 11.202 STCW endorsements.

(a) General. When an original MMC is issued, renewed, upgraded, or otherwise modified, the OCMI will determine whether the applicant needs to have an STCW endorsement for service on a seagoing vessel and then, if the applicant is qualified, will issue the appropriate endorsement. The OCMI will also issue an STCW endorsement at other times, if circumstances so require and if the applicant is qualified to hold the endorsement.

(b) Basic safety training or instruction. Except as provided in paragraph (f) of this section, an STCW endorsement will be issued only when the candidate provides evidence of having achieved or, if training has been completed, having maintained the minimum standards of competence for the following four areas of basic safety within the previous five years upon assessment of a practical demonstration of skills and abilities:

(1) Personal survival techniques as set out in table A-VI/1-1 of the STCW Code (incorporated by reference in § 11.102).

(2) Fire prevention and firefighting as set out in table A-VI/1-2 of the STCW Code (incorporated by reference, see § 11.102).

(3) Elementary first aid as set out in table A-VI/1-3 of the STCW Code (incorporated by reference, see § 11.102).

(4) Personal safety and social responsibilities as set out in table A-VI/1-4 of the STCW Code (incorporated by reference § 11.102).

(c) Competence in the use of Automatic Radar-Plotting Aids (ARPA). (1) Subject to paragraphs (c)(2) and (f) of this section, each candidate for an STCW endorsement as master or mate for service on vessels in ocean or near-coastal service, must present a certificate of completion from an approved course or from accepted training on an ARPA simulator. The course or training must be sufficient to establish that the applicant is competent to maintain safe navigation through the proper use of ARPA, by correctly interpreting and analyzing the information obtained from that device and taking into account both the limitations of the equipment and the prevailing circumstances and conditions. The simulator used in the course or training must meet or exceed the performance standards established under STCW Regulation I/12.

(2) Training and assessment in the use of ARPA are not required for mariners serving exclusively on vessels not fitted with ARPA. However, when any mariner so serving has not completed it, his or her STCW endorsement will indicate this limitation.

(d) Endorsement for operator of radio in the Global Maritime Distress and Safety System (GMDSS). (1) Subject to paragraphs (d)(2) and (f) of this section, each candidate for an STCW endorsement as master or mate for service on vessels in ocean or near-coastal service, shall present:

(i) A certificate for operator of radio in the GMDSS issued by the Federal Communications Commission (FCC); and

(ii) A certificate of completion from a Coast Guard-approved or accepted course for operator of radio in the GMDSS or from another approved-or-accepted program of training and assessment covering the same areas of competence. The course or program must be sufficient to establish that the applicant is competent to perform radio duties on a vessel participating in the GMDSS and meets the standard of competence under STCW Regulation IV/2.

(2) Paragraph (d)(1) of this section does not apply to a candidate intending to serve only as a pilot, or intending to serve only on vessels not required to comply with the provisions of the GMDSS in Chapter IV of the Convention for the Safety of Life at Sea, 1974, as amended (SOLAS).

(3) Each candidate presenting a certificate described in paragraph (d)(1) of this section may receive a GMDSS endorsement.

(e) Procedures for bridge team work. Except as otherwise provided in paragraph (f) of this section, each candidate for an STCW endorsement as master or mate for service on vessels in ocean or near-coastal service, must present sufficient documentary proof that he or she understands and can effectively apply procedures for bridge team work as an essential aspect of maintaining a safe navigational watch, taking into account the principles of bridge-resource management enumerated in Section B-VIII/2 of the STCW Code.

(f) Notwithstanding paragraph (b) through (e) of this section, § 11.304, and § 11.901, each mariner found qualified to hold any of the following officer endorsements will also be entitled to hold an STCW endorsement corresponding to the service or other limitations on the MMC, because the vessels concerned are not subject to further obligation under STCW because of their special operating conditions as small vessels engaged in domestic voyages:

(1) Masters, mates, or engineers endorsed for service on small passenger vessels that are subject to subchapter T or K of this chapter and that operate beyond the boundary line.

(2) Masters, mates, or engineers endorsed for service on seagoing vessels of less than 200 gross register tons (GRT), other than passenger vessels subject to subchapter H of this chapter.

(g) No mariner serving on, and no owner or operator of any of the following vessels, need hold an STCW endorsement, because they are exempt from application of STCW:

(1) Uninspected passenger vessels as defined in 46 U.S.C. 2101(42).

(2) Fishing vessels as defined in 46 U.S.C. 2101(11)(a).

(3) Fishing vessels used as fish-tender vessels as defined in 46 U.S.C. 2101(11)(c).

(4) Barges as defined in 46 U.S.C. 2101(2), including non-self-propelled mobile offshore drilling units.

(5) Vessels operating exclusively on the Great Lakes or on the inland waters of the U.S. in the Straits of Juan de Fuca inside passage.

§ 11.203 [Removed and Reserved]

103. Remove and reserve newly redesignated § 11.203.

§ 11.204 [Removed and Reserved]

104. Remove and reserve newly redesignated § 11.204.

105. Revise newly redesignated § 11.205 to read as follows:

§ 11.205 Requirements for original officer endorsements and STCW endorsements.

(a) General. In addition to the requirements in part 10 of this chapter and §§ 11.201 through 11.203, the applicant for an original officer endorsement must also satisfy the requirements of this section.

(b) Experience or training. (1) All applicants for original officer or STCW endorsements shall present to the OCMI letters, discharges, or other documents certifying the amount and character of their experience and the names, tonnage, and horsepower of the vessels on which acquired. The OCMI must be satisfied as to the authenticity and acceptability of all evidence of experience or training presented. Certificates of discharge are returned to the applicant. The OCMI shall note on the application that service represented by these documents has been verified. All other documentary evidence of service, or authentic copies thereof, are filed with the application. An MMC is not considered as satisfactory evidence of any qualifying experience.

(2) No original officer or STCW endorsement may be issued to any naturalized citizen based on less experience in any grade or capacity than would have been required of a citizen of the United States by birth.

(3) Experience and service acquired on foreign vessels is creditable for establishing eligibility for an original officer or STCW endorsement, subject to evaluation by the OCMI to determine that it is a fair and reasonable equivalent to service acquired on merchant vessels of the United States, with respect to grade, tonnage, horsepower, waters, and operating conditions. An applicant who has obtained qualifying experience on foreign vessels shall submit satisfactory documentary evidence of such service (including any necessary translation into English) in the forms prescribed by paragraph (b)(1) of this section.

(4) No applicant for an original officer or STCW endorsement who is a naturalized citizen, and who has obtained experience on foreign vessels, will be given an original officer endorsement in a grade higher than that upon which he or she has actually served while acting under the authority of a foreign credential.

(c) Character check and references.

(1) Each applicant for an original officer or STCW endorsement must submit written recommendations concerning the applicant's suitability for duty from a master and two other individuals holding officer endorsements or licenses on vessels on which the applicant has served.

(i) For an officer endorsement as engineer or as pilot, at least one of the recommendations must be from the chief engineer or pilot, respectively, of a vessel on which the applicant has served.

(ii) For an officer endorsement as engineer where service was obtained on vessels not carrying a credentialed engineer and for an officer endorsement as master or mate (pilot) of towing vessels, the recommendations may be by recent marine employers with at least one recommendation from a master, operator, or person in charge of a vessel upon which the applicant has served.

(iii) For an officer endorsement as offshore installation manager, barge supervisor, or ballast control operator, at least one recommendation must be from an offshore installation manager of a unit on which the applicant has served.

(iv) Where an applicant qualifies for an endorsement through an approved training school or program, one of the character references must be an official of that school or program.

(v) For an endorsement for which no commercial experience may be required, such as master or mate 25-200 gross tons, OUPV, radio officer, or certificate of registry, the applicant may have the written recommendations of three persons who have knowledge of the applicant's suitability for duty.

(vi) A person may apply for an original officer or STCW endorsement, or officer or STCW endorsement of a different type, while on probation as a result of administrative action under part 5 of this chapter. The offense for which the applicant was placed on probation will be considered in determining his or her fitness to hold the endorsement applied for. An officer or STCW endorsement issued to an applicant on probation will be subject to the same probationary conditions as were imposed against the applicant's other credential. An applicant may not take an examination for an officer or STCW endorsement during any period when a suspension without probation or a revocation is effective against the applicant's currently held license, merchant mariner's document, or MMC, or while an appeal from these actions is pending.

(vii) If an original license, certificate of registry, or officer endorsement has been issued when information about the applicant's habits of life and character is brought to the attention of the OCMI, if such information warrants the belief that the applicant cannot be entrusted with the duties and responsibilities of the license, certificate of registry, or endorsement issued, or if such information indicates that the application for the license, certificate of registry, or endorsement was false or incomplete, the OCMI may notify the holder in writing that the license, certificate of registry, or endorsement is considered null and void, direct the holder to return the credential to the OCMI, and advise the holder that, upon return of the credential, the appeal procedures of § 10.237 of this chapter apply.

(d) Firefighting certificate. Applicants for officer endorsements in the following categories must present a certificate of completion from a firefighting course of instruction which has been approved by the Commandant. The course must meet both the basic and advanced sections of the International Maritime Organization's (IMO) Resolution A.437 (XI) Training of Crews in Firefighting. The course must have been completed within five years before the date of application for the officer endorsement requested.

(1) Officer endorsement as master on vessels of 200 GRT or less in ocean service.

(2) Officer endorsements as master or mate on vessels of over 200 GRT.

(3) All officer endorsements for master or mate (pilot) of towing vessels, except apprentice mate (steersman) of the vessels, on oceans.

(4) All officer endorsements for MODUs.

(5) All officer endorsements for engineers.

(e) First aid and cardiopulmonary resuscitation (CPR) course certificates. All applicants for an original officer endorsement, except as provided in §§ 11.429, 11.456, and 11.467 of this part, must present to the OCMI:

(1) A certificate indicating completion of a first aid course not more than one year from the date of application from:

(i) The American National Red Cross Standard First Aid and Emergency Care or Multi-media Standard First Aid course;

(ii) A Coast Guard-approved first aid training course; or

(iii) A course the OCMI determines meets or exceeds the standards of the American Red Cross courses; and

(2) A currently valid certificate of completion of a CPR course from either:

(i) The American National Red Cross;

(ii) The American Heart Association;

(iii) A Coast Guard approved CPR training course; or

(iv) A course the OCMI determines meets or exceeds the standards of the American Red Cross or American Heart Association courses.

(f) Professional Examination. (1) When the OCMI finds the applicant's experience and training to be satisfactory and the applicant is eligible in all other respects, the OCMI will authorize the examination in accordance with the following requirements:

(i) Any applicant for a deck or engineer officer endorsement limited to vessels not exceeding 500 GRT, or an officer endorsement limited to uninspected fishing-industry vessels, may request an oral-assisted examination in lieu of any written or other textual examination. If there are textual questions that the applicant has difficulty reading and understanding, the OCMI will offer the oral-assisted examination. Each officer endorsement based on an oral-assisted examination is limited to the specific route and type of vessel upon which the applicant obtained the majority of service.

(ii) The general instructions for administration of examinations and the lists of subjects for all officer endorsements appear in subpart I of this part. The OCMI will place in the applicant's file a record indicating the subjects covered.

(2) When the application of any person has been approved, the applicant should take the required examination as soon as practicable. If the applicant cannot be examined without delay at the office where the application is made, the applicant may request that the examination be given at another office.

(3) The qualification requirements for radar observer are contained in § 11.480.

(4) An examination is not required for a staff officer or radio officer endorsement.

(g) Practical demonstration of skills. Each candidate for an original STCW endorsement must successfully complete any practical demonstrations required under this part and appropriate to the particular endorsement concerned, to prove that he or she is sufficiently proficient in skills required under subpart I of this part. The OCMI must be satisfied with the authenticity and acceptability of all evidence that each candidate has successfully completed the demonstrations required under this part in the presence of a designated examiner. The OCMI will place a written or electronic record of the skills required, the results of the practical demonstrations, and the identification of the designated examiner in whose presence the requirements were fulfilled in the file of each candidate.

§ 11.207 [Removed and Reserved]

106. Remove and reserve newly redesignated § 11.207.

§ 11.209 [Removed and Reserved]

107. Remove and reserve newly redesignated § 11.209.

§ 11.210 [Removed and Reserved]

108. Remove and reserve newly redesignated § 11.210.

§ 11.211 [Amended]

109. In newly redesignated § 11.211—

a. In the section heading, remove the words “licensing purposes” and add, in their place, the words “officer endorsements”;

b. In paragraph (a), remove the words “licensing purposes” and add, in their place, the words, “the purposes of this part”; and remove the words “officials or licensed masters” and add, in their place, the words “officials, or individuals holding an officer endorsement or license as master”;

c. In paragraph (b) introductory text, remove the word “license” and add, in its place, the words “officer endorsement”;

d. In paragraph (c), after the words “raise of grade of” remove the word “license” and add, in its place, the words “officer endorsement”; and after the words “equivalent while holding”; remove the word “a” and add, in its place, the words “an officer endorsement or”; and, after the words “unlimited, nonrestricted” remove the word “licenses” and add, in its place, the words “officer licenses or endorsements”; and

e. In paragraph (d), after the words “raise of grade of any deck”, remove the word “licenses” and add, in its place, the words “officer endorsement”; and, after the words “required for an unlimited”, remove the word “license” and add, in its place, the words “officer endorsement”.

§ 11.213 [Amended]

110. In newly redesignated § 11.213—

a. In paragraph (a), after the words “in scope of all”, remove the word “licenses” and add, in its place, the words “officer endorsements”; and after the words “and limit of”, remove the word “license” and add, in its place, the words “officer endorsement”; and after the words “or chief engineer's unlimited”, remove the word “license” and add, in its place, the words “officer endorsement”;

b. In paragraph (b), remove the words “licensing purposes” wherever they appear and add, in their place, the words “the purposes of this part”;

c. In paragraph (d), remove the word “licenses” wherever it appears and add, in its place, the words “officer endorsements”; after the words “submitted for the” remove the word “license” and add, in its place, the word “endorsement”; and after the words “submitted for an original”, remove the word “license” and add, in its place, the words “officer endorsement”; and

d. In paragraph (e), after the words “in which a license”, add the words “or officer endorsement”.

§ 11.215 [Removed and Reserved]

111. Remove and reserve § 11.215.

§ 11.217 [Amended]

112. In newly redesignated § 11.217—

a. In the section heading, remove the word “licenses” and add, in its place, the words “officer endorsements”;

b. In paragraph (a)(1), after the words “deck and engineer unlimited”, remove the word “licenses” and add, in its place, the words “officer endorsements”, and remove the words “table 10.109 in § 10.109” and add, in their place, the words “table 10.219(a) in § 10.219 of this chapter”;

c. In paragraph (a)(2), after words “deck and engineer”, remove the words “license” and add, in its place, the words “officer endorsement”; and remove the words “table 10.109 in § 10.109” and add, in their place, the words “table 10.219(a) in § 10.219”; and

d. In paragraph (b), remove the word “license” and add, in its place, the word “endorsement”; and remove the words “the applicant is furnished” and add, in their place, the words “the Coast Guard will provide the applicant”.

§ 11.219 [Removed and Reserved]

113. Remove and reserve newly redesignated § 11.219.

§ 11.221 [Removed and Reserved]

114. Remove and reserve newly redesignated § 11.221.

§ 11.223 [Removed and Reserved]

115. Remove and reserve newly redesignated § 11.223.

§ 11.302 [Amended]

116. In newly redesignated § 11.302(e), remove the words “parts 10, 12, 13 or 15,” and add, in their place, the words “parts 10, 11, 12, 13, or 15”.

117. Revise newly designated § 11.304 paragraphs (a), (c), (d), (e), (f), (g)(6), (g)(7), (h) introductory text, (h)(5) and (h)(8) to read as follows:

§ 11.304 Substitution of training for required service, use of training-record books, and use of towing officer assessment records.

(a) Satisfactory completion of certain training courses approved by the Commandant may be substituted for a portion of the required service for many deck and engineer officer endorsements and for qualified rating endorsements. The list of all currently approved courses of instruction including the equivalent service and applicable endorsements is maintained by the National Maritime Center. Satisfactory completion of an approved training course may be substituted for not more than two-thirds of the required service on deck or in the engine department for deck or engineer officer endorsements, respectively, and qualified rating endorsements.

* * * * *

(c) Training obtained before receiving an officer endorsement may not be used for subsequent raises of grade.

(d) Simulator training in combination with a Coast Guard-approved training course may be submitted to the Commanding Officer, National Maritime Center for evaluation and determination of equivalency to required sea service. Simulator training cannot be substituted for recency requirements, but may substitute for a maximum of 25 percent of the required service for any officer endorsement transaction.

(e) Except as provided in § 11.202, when a candidate both applies for an STCW endorsement as OICNW, on the basis of training or sea service, and uses completion of approved training to substitute for required service, then not less than one year of the remaining service must be part of approved training that meets the appropriate requirements of Chapter II of STCW and the requirements of subpart C of this part. The training of a candidate must be documented in a Coast Guard-accepted training-record book.

(f) Except as provided in § 11.202, each candidate who applies for an STCW endorsement as an OICEW on the basis of training or sea service for service on seagoing vessels, shall complete onboard training as part of approved training that meets the appropriate requirements of Chapter III of STCW (incorporated by reference in § 11.102) and the requirements of subpart C of this part. The training must be documented in a Coast Guard-accepted training-record book.

(g) * * *

* * * * *

(6) The identity of each qualified instructor, including any MMC endorsements, license, or document held, and the instructor's signature.

(7) The identity of each designated examiner, when any assessment of competence is recorded, including any MMC endorsement, license, or document held, and the examiner's signature confirming that his or her initials certify that he or she has witnessed the practical demonstration of a particular task or skill by the candidate.

(h) Each applicant for an endorsement as master or mate (pilot) of towing vessels, and each master or mate of self-propelled vessels of greater than 200 GRT seeking an endorsement for towing vessels, shall complete a towing officers' assessment record that contains at least the following:

(1) * * *

* * * * *

(5) A place for a qualified instructor or credentialed officer (with authority to operate a towing vessel) to indicate by his or her initials that the candidate has received training in the proper performance of the tasks or skills.

* * * * *

(7) Identification of each qualified instructor or credentialed officer (with authority to operate a towing vessel) by full name, home address, employer, job title, ship name or business address, serial number of the TWIC, MMC, license, or document held, and personal signature.

(8) Identification of each designated examiner by full name, home address, employer, job title, ship name or business address, serial number of the TWIC, MMC, license, or document held, and personal signature confirming that his or her initials certify that he or she has witnessed the practical demonstration of a particular task or skill by the candidate.

* * * * *

§ 11.309 [Amended]

118. In newly redesignated § 11.309—

a. In paragraph (a) introductory text, remove the words “§ 10.302” and add, in their place, the words “§ 11.302”; after the words “hold an STCW”; remove the words “certificate or”; and remove the words “for service on or after February 1, 2002”;

b. In paragraph (a)(3)(iii), after the words “level of license,” add the word “officer”;

c. In paragraph (a)(4), after the words “maritime license”, add the words “, MMC,”;

d. In paragraph (b), remove the word “licenses” and add, in its place, the word “officer”;

e. In paragraph (c)(2), remove the words “(G-MOC)” and add, in their place, the words “(CG-3PCV)”; and

f. In paragraph (c)(3), remove the words “STCW endorsement” and add, in their place, the words “officer or STCW endorsements”.

Subpart D—[Amended]

119. In the heading for subpart D, remove the words “Officers” Licenses” and add in their place the word “Officers”.

120. Revise newly redesignated § 11.401 to read as follows:

§ 11.401 Ocean and near-coastal officer or STCW endorsements.

(a) Any license or MMC endorsement for service as master or mate on ocean waters qualifies the mariner to serve in the same grade on any waters, subject to the limitations of the endorsement.

(b) A license or MMC endorsement issued for service as master or mate on near-coastal waters qualifies the mariner to serve in the same grade on near-coastal, Great Lakes, and inland waters, subject to the limitations of the endorsement.

(c) Near-coastal endorsements for any gross tons require the same number of years of service as the ocean-unlimited endorsements. The primary differences in these endorsements are the nature of the service and the professional examination as explained in subpart I of this part.

(d) A mariner having a master or mate near-coastal license or MMC endorsement obtained with ocean service may have an MMC endorsed for ocean service by completing the appropriate examination deficiencies, provided that the additional service requirements of paragraph (e) of this section do not apply.

(e) Master or third mate near-coastal unlimited endorsements may be obtained by completing the prescribed examination in subpart I of this part and satisfying the requirements of paragraph (g) while holding a license or MMC endorsement as unlimited master or mate, respectively, upon Great Lakes and inland waters. To have a near-coastal-unlimited endorsement obtained in this manner endorsed for ocean service, the mariner must obtain 12 months of service as a deck-watch officer or higher on ocean waters on vessels of 1,600 GRT of over, in addition to completing the examination topics.

(f) Masters and mates endorsements for service on vessels of over 200 gross tons may be endorsed for sail or auxiliary sail as appropriate. The applicant must present the equivalent total qualifying service required for conventional officer endorsements including at least one year of deck experience on that specific type of vessel. For example, for an officer endorsement as a master of vessels of not more than 1,600 gross tons endorsed for auxiliary sail, the applicant must meet the total experience requirements for the conventional officer endorsement, including time as mate and the proper tonnage experience, including at least one year of deck service on appropriately sized auxiliary-sail vessels. For an endorsement to serve on vessels of 200 gross tons or less see individual endorsement requirements.

(g) In order to obtain a master or mate endorsement with a tonnage limit above 200 gross tons, or an endorsement for 200 gross tons or less with an ocean route, whether an original, raise in grade, or increase in the scope of the endorsement authority to a higher tonnage category, the applicant must successfully complete the following training and examination requirements:

(1) Approved firefighting course;

(2) Approved radar-observer course; and,

(3) Qualification as an able seaman unlimited or able seaman limited (able seaman special or able seaman offshore supply vessels satisfy the able seaman requirement for endorsements permitting service on vessels of 1,600 gross tons and less).

(h) Each applicant for a deck officer endorsement, which authorizes service on vessels above 1,600 gross tons on ocean or near-coastal waters, whether original or raise of grade, must pass a practical-signaling examination (flashing light). An applicant who fails in practical signaling, but passes every other part of the examination, may be issued an endorsement with a 1,600 gross ton limitation. The tonnage limitation can be removed upon successful completion of the signaling examination.

§ 11.402 [Amended]

121. In newly redesignated § 11.402—

a. In the section heading, remove the word “licenses” and add, in its place, the word “endorsements”;

b. In paragraph (a), remove the word “license” and add, in its place, the word “endorsement”;

c. In paragraph (b), remove the words “original or raise of grade of a license” and add, in their place, the word “endorsement” and remove the words “§ 10.407(c)” and add, in their place, the words “§ 11.407(c)”; after the words “is placed on the” remove the word “license” and add, in its place the word “endorsement”; before the words “is limited to”, remove the word “license” and add, in its place, the word “endorsement”; and after the words “an unlimited tonnage”, remove the word “license” and add, in its place, the word “endorsement”;

d. In paragraph (c)(1), remove the word “licensed” and add in its place, the word “endorsed”;

e. In paragraph (c)(2), remove the words “licensed capacity” and add, in their place, the words “capacity as an officer”; after the words “for which”, remove the word “licensed” and add, in its place, the word “endorsed”; after the words “next higher grade”, remove the word “license” and add, in its place, the word “endorsement”; and after the words “limited license”, add the words “or MMC endorsement”;

f. In paragraph (c)(3), after the words “a license”, add the words “or endorsement”; and after the words “third mate's license”, add the words “or MMC endorsement”; and

g. In paragraph (d), after the word “licenses”, wherever it appears, add the words “or endorsements”.

122. Revise § 11.403 to read as follows:

§ 11.403 Structure of deck officer endorsements.

The following diagram illustrates the deck officer endorsement structure, including cross over points. The section numbers on the diagram refer to the specific requirements applicable.

§ 11.404 [Amended]

123. In newly redesignated § 11.404—

a. In the introductory text, remove the word “license” and add, in its place, the words “an endorsement”; and

b. In paragraph (b) introductory text, after the words “holding a license”, add the words “or MMC endorsement”.

§ 11.405 [Amended]

124. In newly redesignated § 11.405, after the words “qualify an applicant for” remove the word “license” and add, in its place, the words “an endorsement”; and after the words “holding a license”, add the words “or MMC endorsement”.

§ 11.406 [Amended]

125. In newly redesignated § 11.406—

a. In the introductory text, remove the word “license” and add, in its place, the words “an endorsement”;

b. In paragraph (a), after the words “holding a license”, add the words “or endorsement”;

c. In paragraph (b) introductory text, after the words “holding a license”, add the words “or MMC endorsement”;

d. In paragraph (b)(2), after the words “holding a certificate”, add the words “or MMC endorsement”; and

e. In paragraph (c), remove the words “A licensed” and add, in their place, the words “An individual holding an endorsement or license as”; and after the words “may obtain”, remove the words “a license” and add, in their place, the words “an endorsement”.

§ 11.407 [Amended]

126. In newly redesignated § 11.407—

a. In paragraph (a) introductory text, remove the word “license” and add, in its place, the words “an endorsement”;

b. In paragraph (a)(1), after the words “a certificate”, add the words “or endorsement”; and remove the word “license” and add, in its place, the words “officer endorsement”;

c. In paragraph (b), remove the words “a license” and add, in their place, the words “an endorsement”; and

d. In paragraph (c), after the words “holding a license”, add the words “or MMC endorsement”; and after the words “qualify the applicant for”, remove the words “a license” and add, in their place, the words “an endorsement”.

§ 11.410 [Amended]

127. In newly redesignated § 11.410—

a. In the section heading, remove the word “licenses” and add, in its place, the words “officer endorsements”;

b. In paragraph (a) introductory text, remove the word “Licenses” and add, in its place, the word “Endorsements”;

c. In paragraph (b), remove the word “license” and add, in its place, the word “endorsement”; and

d. In paragraph (c), remove the words “A license” and add, in their place, the words “An officer's endorsement”.

§ 11.412 [Amended]

128. In newly redesignated § 11.412—

a. In the introductory text, remove the words “a license” and add, in their place, the words “an endorsement”;

b. In paragraph (a), after the words “holding a license”, add the words “or MMC endorsement”; and remove the words “ master, mate master or mate (pilot)” wherever they appear and add, in their place, the words “master, mate, master or mate (pilot)”; and

c. In paragraph (b), after the words “holding a license”, add the words “or MMC endorsement”; and after the words “eligible for this”, remove the word “license” and add, in its place, the word “endorsement”.

§ 11.414 [Amended]

129. In newly redesignated § 11.414—

a. In the introductory text, remove the words “a license” and add, in their place, the words “an endorsement”; and

b. In paragraph (a), after the words “holding a license” add the words “or MMC endorsement”; and remove the words “ master, mate master or mate (pilot)” wherever they appear and add, in their place, the words “master, mate, master or mate (pilot)”.

§ 11.416 [Amended]

130. In newly redesignated § 11.416 text, remove the words “a license” and add, in their place, the words “an endorsement”; and after the words “holding a certificate”, add the words “or endorsement”.

§ 11.418 [Amended]

131. In newly redesignated § 11.418—

a. In the introductory text, remove the words “a license” and add, in their place, the words “an endorsement”;

b. In paragraph (a), after the words “holding a license”, add the words “or MMC endorsement”;

c. In paragraph (b), after the words “The holder of a license”, add the words “or MMC endorsement”; and after the words “is eligible for”, remove the words “a license” and add, in their place, the words “an endorsement”.

§ 11.420 [Amended]

132. In newly redesignated § 11.420 text, after the words “qualify an applicant for” remove the words “a license” and add, in their place, the words “an endorsement”; and after the words “position while holding a license”, add the words “or endorsement”.

§ 11.421 [Amended]

133. In newly redesignated § 11.421 text, remove the words “a license” and add, in their place, the words “an endorsement”; and, after the words “holding a certificate”, add the words “or endorsement”.

§ 11.422 [Amended]

134. In newly redesignated § 11.422—

a. In the section heading, remove the word “licenses” and add, in its place, the word “endorsements”;

b. In paragraph (a), remove the word “licenses” and add, in its place, the word “endorsements”; and remove the word “license” and add, in its place, the word “endorsement”;

c. In paragraph (b) introductory text, remove the word “licenses” and add, in its place, the word “endorsements”;

d. In paragraphs (b)(1) and (b)(2), remove the word “license” wherever it appears and add, in its place, the word “endorsement”;

e. In paragraph (b)(3), remove the word “license” and add, in its place, the words “officer endorsement”;

f. In paragraph (b)(4), after the words “increment on the”, remove the word “license” and add, in its place, the words “officer's license or MMC endorsement”;

g. In paragraph (c), after the words “vessels upon which”, remove the words “licensed personnel are not required” and add, in their place, the words “no personnel need an officer endorsement or license”; and after the words “required to engage”, remove the words “licensed individuals” and add, in their place, the words “individuals with officer endorsements”; and

h. In paragraph (e), remove the word “license” and add, in its place, the words “officer endorsement”.

§ 11.424 [Amended]

135. In newly redesignated § 11.424—

a. In paragraph (a) introductory text, remove the words “a license” and add, in their place, the words “an officer endorsement”;

b. In paragraph (a)(1), after the words “holding a license”, add the words “or MMC endorsement”;

c. In paragraph (a)(2), remove the word “licensed”;

d. In paragraph (b), remove the words “endorsement on this license” and add, in their place, the words “officer endorsement”; and after the words “master's license”, add the words “or MMC endorsement”; and

e. In paragraph (c), remove the words “§ 10.401(g) of this subpart” and add, in their place, the words “§ 11.401(g)”.

§ 11.426 [Amended]

136. In newly redesignated § 11.426—

a. In paragraph (a) introductory text, remove the words “a license” and add, in its place, the words “an endorsement”;

b. In paragraph (a)(1), after the words “holding a license” add the words “or endorsement”;

c. In paragraph (a)(2), remove the word “licensed”; and

d. In paragraph (b), remove the words “an endorsement on this license” and add, in its place, the words “this officer endorsement”; and after the words “of the master's license”, add the words “or MMC endorsement”.

§ 11.427 [Amended]

137. In newly redesignated § 11.427—

a. In paragraph (a) introductory text, remove the word “license” and add, in its place, the word “endorsement”;

b. In paragraph (a)(2), after the words “holding a license”, add the words “or MMC endorsement”;

c. In paragraph (b), after the words “holder of a license”, add the words “or MMC endorsement”; and after the words “may obtain this”, remove the word “license” and add, in its place, the word “endorsement”;

d. In paragraph (c), remove the words “an endorsement on this license” and add, in its place, the words “this officer endorsement”;

e. In paragraph (d), after the words “A license”, add the words “or MMC endorsement”; and

f. In paragraph (e), after the words “a tonnage endorsement”, remove the word “of” and add, in its place, the word “for”.

§ 11.428 [Amended]

138. In newly redesignated § 11.428—

a. In paragraph (a), remove the words “a license” and add, in their place, the words “an endorsement”; and

b. In paragraph (b), remove the words “endorsement on this license” and add, in their place, the word “endorsement”; and after the words “issuance of the license”, add the words “or MMC endorsement”.

§ 11.429 [Amended]

139. In newly redesignated § 11.429—

a. In paragraph (a) introductory text after the words “Limited masters' ”, remove the word “licenses” and add, in its place, the word “endorsements”; after the words “educational institutions.”, remove the words “A license” and add, in their place, the words “An endorsement”; and, after the words “obtain this restricted”, remove the word “license” and add, in its place, the word “endorsement”;

b. In paragraph (a)(1), after the words “for which the” remove the word “license” and add, in its place, the word “endorsement”;

c. In paragraph (b), remove the words “§ 10.205(h) of this part” and add in their place, the words “§ 11.205(e)”; and

d. In paragraph (c), after the words “obtain an endorsement”, remove the words “on this license” and after the words “issuance of the license” add the words “or MMC endorsement”.

§ 11.430 [Amended]

140. In newly redesignated § 11.430—

a. In the section heading, remove the word “Licenses” and add, in its place, the word “Endorsements”; and

b. In the text, after the words “Any license”, wherever they appear, add the words “or MMC endorsement”; after the word “licenses”, wherever it appears, add the words “and MMC endorsements”; and, after the words “COLREGS or the”, remove the words “license must be endorsed with an exclusion from” and add, in their place, the words “endorsement must exclude”.

§ 11.431 [Amended]

141. In newly redesignated § 11.431—

a. In the section heading, remove the word “licenses”, and add, in its place, the word “endorsements”;

b. In paragraph (a), remove the word “licenses”, and add, in its place, the word “endorsements”; and

c. In paragraph (b), remove the word “licenses”, and add, in its place, the word “endorsements”; and remove the words “§ 10.402” and add, in their place, the place, the words “§ 11.402”.

§ 11.433 [Amended]

142. In newly redesignated § 11.433—

a. In the introductory text, remove the word “license” and add, in its place, the words “an endorsement”; and

b. In paragraph (c), after the words “holding a license”, add the word “or MMC endorsement”.

§ 11.435 [Amended]

143. In newly redesignated § 11.435—

a. In the introductory text, remove the word “license”, and add, in its place, the word “an endorsement”; and

b. In paragraph (b), after the words “mate/ first class pilot license”, add the words “or MMC endorsement”.

§ 11.437 [Amended]

144. In newly redesignated § 11.437—

a. In paragraph (a) introductory text, remove the word “license”, and add, in its place, the words “an endorsement”; and

b. In paragraph (a)(3), after the words “holding a license”, add the words “or MMC endorsement”.

§ 11.442 [Amended]

145. In newly redesignated § 11.442—

a. In the introductory text, remove the words “a license”, and add, in their place, the words “an endorsement”; and

b. In paragraphs (a) and (b), after the words “holding a license”, wherever they appear, add the words “or MMC endorsement”.

§ 11.444 [Amended]

146. In newly redesignated § 11.444—

a. In the introductory text, remove the word “license” and add, in its place, the words “an endorsement”;

b. In paragraph (a), after the words “holding a certificate”, add the words “or endorsement”; and

c. In paragraph (b), after the words “holding a license”, add the words “or MMC endorsement”.

§ 11.446 [Amended]

147. In newly redesignated § 11.446—

a. In the introductory text, remove the words “a license” and add, in their place, the words “an endorsement”;

b. In paragraph (a), after the words “holding a license”, add the words “or MMC endorsement”; and

c. In paragraph (b), after the words “holding a license”, wherever they appear, add the words “or MMC endorsement”; and after the words “eligible for this”, remove the word “license” and add, in its place, the word “endorsement”.

§ 11.448 [Amended]

148. In newly redesignated § 11.448 text, after the words “an applicant for”, remove the words “a license” and add, in their place, the words “an endorsement”; and after the words “holding a certificate”, add the words “or endorsement”.

§ 11.450 [Amended]

149. In newly redesignated § 11.450—

a. In the section heading, remove the word “licenses” and add, in its place, the word “endorsements”;

b. In paragraph (a), remove the word “licenses” and add, in its place, the word “endorsements”; and remove the text “§ 10.422” each time it appears and add, in its place, the text “§ 11.422”;

c. In paragraph (c), after the words “vessels upon which”, remove the words “licensed personnel” and add, in their place, the words “personnel with licenses or endorsements”; and, after the words “required to engage”, remove the words “licensed individuals” and add, in their place, the words “individuals with endorsements”; and

d. In paragraph (d), remove the word “license” and add, in its place, the word “endorsement”.

§ 11.452 [Amended]

150. In newly redesignated § 11.452—

a. In paragraph (a), after the words “qualify an applicant for”, remove the words “a license” and add, in their place, the words “an endorsement”; after the words “holding a license”, add the words “or MMC endorsement”; and after the words “otherwise the”, remove the word “license” and add, in its place, the word “endorsement”; and

b. In paragraph (b), after the words “In order to obtain an endorsement”, remove the words “on this license”; and after the words “master's license” add the words “or MMC endorsement”.

§ 11.454 [Amended]

151. In newly redesignated § 11.454—

a. In paragraph (a), after the words “qualify an applicant for”, remove the words “a license” and add, in their place, the words “an endorsement”; and after the words “otherwise the”, remove the word “license” and add, in its place, the word “endorsement”;

b. In paragraph (b), after the words “In order to obtain an endorsement”, remove the words “on this license”;

c. In paragraph (c), before the words “as master of steam”, remove the words “A license” and add, in their place, the words “An endorsement”; and

d. In paragraph (d), after the words “The holder of a license”, add the words “or MMC endorsement”; after the words “may obtain this”, remove the word “license” and add, in its place, the word “endorsement”; and after the words “otherwise the”, remove the word “license” and add, in its place, the word “endorsement”.

§ 11.455 [Amended]

152. In newly redesignated § 11.455—

a. In paragraph (a), after the words “qualify an applicant for”, remove the words “a license” and add, in their place, the words “an endorsement”; and after the words “otherwise the”, remove the word “license” and add, in its place, the word “endorsement”; and

b. In paragraph (b), after the words “In order to obtain an endorsement”, remove the words “on this license”; and after the words “issuance of the”, remove the word “license” and add, in its place, the word “endorsement”.

§ 11.456 [Amended]

153. In newly redesignated § 11.456—

a. In the introductory text, after the words “Limited masters' ”, remove the word “licenses” and add, in its place, the word “endorsements”; before the words “issued under this”, remove the words “A license” and add, in their place, the words “An endorsement”; and after the words “In order to obtain this restricted”, remove the word “license” and add, in its place, the word “endorsement”;

b. In paragraph (a), remove the word “license” and add, in its place, the word “endorsement”; and

c. In paragraph (d), after the words “required by”, remove the text “§ 10.205(h)” and add, in its place, the text “§ 11.205(e)”.

§ 11.457 [Amended]

154. In newly redesignated § 11.457—

a. In paragraph (a), after the words “An applicant for”, remove the words “a license” and add, in their place, the words “an endorsement”; and after the words “requirements of”, remove the text “§ 10.452” and add, in its place, the text “§ 11.452”; and

b. In paragraph (b), after the words “In order to obtain an endorsement”, remove the words “on this license”; and, after the words “issuance of the license”, add the words “or MMC endorsement”.

§ 11.459 [Amended]

155. In newly redesignated § 11.459—

a. In paragraph (a), after the words “An applicant for”, remove the words “a license” and add, in their place, the words “an endorsement”; and

b. In paragraph (b), after the words “An applicant for”, remove the words “a license” and add, in their place, the words “an endorsement”; and after the words “and inland steam or motor”, remove the word “license” and add, in its place, the word “endorsement”.

156. In newly designated § 11.462, revise the heading and paragraphs (a) introductory text, (b), (c) introductory text, (c)(1) through (3), (c)(4) introductory text, (c)(4)(v), (c)(4)(vi), (d)(1) through (3), (d)(4) introductory text, and (d)(4)(iv) through (vi) to read as follows:

§ 11.462 Endorsements for master or mate of uninspected fishing industry vessels.

(a) This section applies to endorsements for masters and mates of all vessels, however propelled navigating the high seas, which are documented to engage in the fishing industry, with the exception of:

* * * * *

(b) Endorsements as master or mate of uninspected fishing industry vessels are issued for either ocean or near-coastal routes, depending on the examination completed. To qualify for an uninspected fishing industry vessel endorsement, the applicant must satisfy the training and examination requirements of § 11.401(g) of this subpart.

(c) An applicant for an endorsement as master of uninspected fishing industry vessels must have four years of total service on ocean or near coastal routes. Service on Great Lakes or inland waters may substitute for up to two years of the required service. One year of the required service must have been as master, mate, or equivalent supervisory position while holding a license or MMC endorsement as master, mate, master or mate (pilot) of towing vessels, or OUPV.

(1) To qualify for an endorsement for not more than 500 gross tons, at least two years of the required service, including the one year as master, mate or equivalent, must have been on vessels of over 50 gross tons.

(2) To qualify for an endorsement for not more than 1,600 gross tons, at least two years of the required service, including the one year as master, mate, or equivalent, must have been on vessels of over 100 gross tons.

(3) To qualify for an endorsement for over 1,600 gross tons, but not more than 5,000 gross tons, the vessel tonnage upon which the four years of required service was obtained will be used to compute the tonnage. The endorsement is limited to the maximum tonnage on which at least 25 percent of the required service was obtained or 150 percent of the maximum tonnage on which at least 50 percent of the service was obtained, whichever is higher. Limitations are in multiples of 1,000 gross tons, using the next higher figure when an intermediate tonnage is calculated. An endorsement as master of uninspected fishing industry vessels authorizing service on vessels over 1,600 gross tons also requires one year as master, mate, or equivalent on vessels over 100 gross tons.

(4) The tonnage limitation for this endorsement may be raised using one of the following methods, but cannot exceed 5,000 gross tons. Limitations are in multiples of 1,000 gross tons, using the next higher figure when an intermediate tonnage is calculated.

* * * * *

(v) Two years of service as a deckhand on a vessel while holding a license or MMC endorsement as master results in a limitation on the MMC equal to 150% of the tonnage of that vessel up to 5,000 gross tons; or

(vi) One year of service as deckhand on a vessel while holding a license or MMC endorsement as master results in a limitation on the MMC equal to the tonnage of that vessel.

(d) An applicant for an endorsement as mate of uninspected fishing industry vessels must have three years of total service on ocean or near-coastal routes. Service on Great Lakes or inland waters may substitute for up to 18 months of the required service.

(1) To qualify for an endorsement of not more than 500 gross tons, at least one year of the required service must have been on vessels of over 50 gross tons.

(2) To qualify for an endorsement of not more than 1,600 gross tons, at least one year of the required service must have been on vessels of over 100 gross tons.

(3) To qualify for an endorsement of over 1,600 gross tons, but not more than 5,000 gross tons, the vessel tonnage upon which the three years of required service was obtained will be used to compute the tonnage. The endorsement is limited to the maximum tonnage on which at least 25 percent of the required service was obtained, or 150 percent of the maximum tonnage on which at least 50 percent of the service was obtained, whichever is higher. Limitations are in multiples of 1,000 gross tons, using the next higher figure when an intermediate tonnage is calculated.

(4) The tonnage limitation on this endorsement may be raised using one of the following methods, but cannot exceed 5,000 gross tons. Limitations are in multiples of 1000 gross tons, using the next higher figure when an intermediate tonnage is calculated.

* * * * *

(iv) One year of service as deckhand on vessels over 1,600 gross tons while holding a license or MMC endorsement as mate, results in raising the limitation on the MMC to 5,000 gross tons;

(v) Two years of service as a deckhand on a vessel while holding a license or MMC endorsed as mate results in a limitation on the MMC equal to 150% of the tonnage of that vessel up to 5,000 gross tons; or

(vi) One year of service as deckhand on a vessel while holding a license or MMC endorsement as mate results in a limitation on the MMC equal to the tonnage of that vessel.

* * * * *

§ 11.463 [Amended]

157. In newly redesignated § 11.463—

a. In the section heading, remove the words “licenses for” and add, in their place, the words “endorsements as”;

b. In paragraph (a) introductory text, remove the word “licenses” and add, in its place, the word “endorsements”; and

c. In paragraphs (b) and (c), remove the words “a license” wherever they appear and add, in their place, the words “an endorsement”.

158. In newly redesignated § 11.464, revise the section heading, paragraphs (a) through (e), including tables 11.464(a) and 11.464(b), and paragraphs (f) introductory text, (f)(2)(i), and (f)(3) to read as follows:

§ 11.464 Requirements for endorsements as master of towing vessels.

(a) If you would like to obtain an endorsement as master of towing vessels with a route listed in column 1 of table 11.464(a) of this section, then you must complete the service requirements indicated in columns 2 through 5. You may serve on the subordinate routes listed in column 6 without further endorsement.

Table 11.464(a).—Requirements for Endorsement as Master of Towing Vessels ¹
1: Route endorsed | 2: Total service ² | 3: TOS ³ on T/V as mate (pilot) | 4: TOS ³ T/V as mate (pilot) not as harbor assist | 5: TOS ³ particular route | 6: Subordinate route authorized
(1) OCEANS (O) | 48 | 18 of 48 | 12 of 18 | 3 of 18 | NC, GL-I.
(2) NEAR-COASTAL (NC) | 48 | 18 of 48 | 12 of 18 | 3 of 18 | PGL-I.
(3) GREAT LAKES-INLAND (GL-I) | 48 | 18 of 48 | 12 of 18 | 3 of 18
(4) WESTERN RIVERS (WR) | 48 | 18 of 48 | 12 of 18 | 3 of 18
¹ If you hold an endorsement as master of towing vessels you may have an endorsement-as mate (pilot) of towing vessels for a route superior to your current route on which you have no operating experience-placed on your MMC after passing an examination for that additional route. After you complete 90 days of experience and complete a Towing Officer's Assessment Record on that route, we will add it to your endorsement as master of towing vessels and remove the one for mate (pilot) of towing vessels.
² Service is in months.
³ TOS is time of service.

(b) If you would like to obtain an endorsement as master of towing vessels (limited), then you must complete the requirements listed in columns 2 through 5 of table 11.464(b) of this section.

Table 11.464(b).—Requirements for Endorsement as Master of Towing Vessels (Limited)
1: Route endorsed | 2: Total service ¹ | 3: TOS ² on T/V as limited apprentice mate (steersman) | 4: TOAR or an approved course | 5: TOS ² on particular route
Limited local area (LLA) | 36 | 18 of 48 | 12 of 18 | 3 of 18.
¹ Service is in months.
² TOS is time of service.

(c) If you hold a license or MMC endorsement as mate (pilot) of towing vessels, you may have master of towing vessels (limited) added to your MMC for a limited local area within the scope of your current route.

(d) Before you serve as master of towing vessels on the Western Rivers, you must possess 90 days of observation and training and have your MMC include an endorsement for Western Rivers.

(e) Each company must maintain evidence that every vessel it operates is under the direction and control of a mariner with the appropriate endorsement and experience, including 30 days of observation and training on the intended route other than Western Rivers.

(f) If you hold a license or MMC endorsement as a master of inspected, self-propelled vessels of greater than 200 gross register tons, you may operate towing vessels within any restrictions on your endorsement if you:

(1) * * *

(2) * * *

(i) Hold a completed Towing Officer's Assessment Record (TOAR) described in § 11.304(h) that shows evidence of assessment of practical demonstration of skills; or

* * * * *

(3) Your license or MMC does not need to include a towing endorsement if you hold a TOAR or a course completion certificate.

* * * * *

159. In newly redesignated § 11.465, revise the heading and paragraphs (a) through (c), including table 11.465(a), (d) introductory text, (d)(2), (d)(3), and (e) to read as follows:

§ 11.465 Requirements for endorsements as mate (pilot) of towing vessels.

(a) If you would like to obtain an endorsement as mate (pilot) of towing vessels endorsed with a route listed in column 1 of table 11.465(a) of this section, then you must complete the service in columns 2 through 5. If you hold a license or MMC endorsement as master of towing vessels (limited) and would like to upgrade it to mate (pilot) of towing vessels, then you must complete the service in columns 5 and 6. If you hold a license or MMC endorsement as mate (pilot) of towing vessels (limited) and would like to upgrade it to mate (pilot) of towing vessels, then you must complete the service in columns 2 through 5 and pass a limited examination. An endorsement with a route endorsed in column 1 authorizes service on the subordinate routes listed in column 7 without further endorsement.

Table 11.465(a).—Requirements for Endorsement as Mate (Pilot ¹) of Towing Vessels
1: Route endorsed | 2: Total service ² | 3: TOS ³ on T/V as apprentice mate (steersman) | 4: TOS ³ on particular route | 5: TOAR ⁴ or an approved course | 6: 30 Days of observation and training while holding mater (limited) and pass a limited examination | 7: Subordinate route authorized
(1) OCEANS (O) | 30 | 12 of 30 | 3 of 12 | YES | YES | NC, GL-I.
(2) NEAR-COASTAL (NC) | 30 | 12 of 30 | 3 of 12 | YES | YES | GL-I.
(3) GREAT LAKES-INLAND (GL-I) | 30 | 12 of 30 | 3 of 12 | YES | YES
(5) WESTERN RIVERS (WR) | 30 | 12 of 30 | 3 of 12 | YES | NO (90 days service required)
¹ For all inland routes, as well as Western Rivers, the endorsement as pilot of towing vessels is equivalent to that as mate of towing vessels. All qualifications and equivalencies are the same.
² Service is in months unless otherwise indicated.
³ TOS is time of service.
⁴ TOAR is Towing Officers' Assessment Record.

(b) Before you serve as mate (pilot) of towing vessels on the Western Rivers, you must possess 90 days of observation and training and have your MMC include an endorsement for Western Rivers.

(c) Each company must maintain evidence that every vessel it operates is under the direction and control of a mariner with the appropriate endorsement and experience, including 30 days of observation and training on the intended route other than Western Rivers.

(d) If you hold a license or MMC endorsement as a mate of inspected, self-propelled vessels of greater than 200 GRT or one as first-class pilot, then you may operate towing vessels within any restrictions on your credential if you:

(1) * * *

(2) Hold a completed Towing Officer's Assessment Record (TOAR) described in § 11.304(h) that shows evidence of assessment of practical demonstration of skills.

(3) Your license or MMC does not need to include a towing endorsement if you hold a TOAR or a course completion certificate.

(e) An approved training course for mate (pilot) of towing vessels must include formal instruction and practical demonstration of proficiency either onboard a towing vessel or at a shoreside training facility before a designated examiner, and must cover the material (dependent upon route) required by § 11.910-2 for apprentice mate (steersman), towing vessels on ocean and near coastal routes; apprentice mate (steersman), towing vessels on Great Lakes and inland routes; or, steersman, towing vessels on Western Rivers routes.

* * * * *

160. In newly redesignated § 11.466—

a. In the section heading, remove the word “licenses” and add, in its place, the word “endorsements”;

b. In paragraph (a), after the words “As Table” remove the word “10.466-1” and add, in its place, the word “11.466(a)”; and after the words “like to obtain”, remove the words “a license” and add, in their place, the words “an endorsement”;

c. Redesignate table 10.466-1 as table 11.466(a) and revise it to read as follows; and

d. In paragraph (b), after the words “hold a license” add the words “or endorsement”; after the words “endorsement will go on your”, remove the word “license” and add, in its place, the word “MMC”; and after the words “may have the”, remove the words “restricted endorsement” and add, in their place, the word “restriction”:

§ 11.466 Requirements for endorsements as apprentice mate (steersman) of towing vessels.

* * * * *

Table 11.466(a)—Requirements for Endorsement as Apprentice Mate (Steersman) of Towing Vessels
1: Endorsement | 2: Route endorsed | 3: Total service ¹ | 4: TOS ² on T/V | 5: TOS ² on particular route | 6: Pass Examination ³
(1) APPRENTICE MATE (STEERSMAN) | OCEANS (O) | 18 | 12 of 18 | 3 of 18 | YES.
| NEAR-COASTAL (NC) | 18 | 12 of 18 | 3 of 18 | YES.
| GREAT LAKES- | 18 | 12 of 18 | 3 of 18 | YES.
| INLAND (GL-I) | 18 | 12 of 18 | 3 of 18 | YES.
| WESTERN RIVERS (WR) | 18 | 12 of 18 | 3 of 18 | YES.
(2) APPRENTICE MATE (STEERSMAN) (LIMITED) | NOT APPLICABLE | 18 | 12 of 18 | 3 of 18 | YES.
¹ Service is in months.
² TOS is time of service.
³ The examination for apprentice mate is specified in subpart I of this part. The examination for apprentice mate (limited) is a limited examination.
⁴ For all inland routes, as well as Western Rivers, the endorsement as steersman is equivalent to that as apprentice mate. All qualifications and equivalencies are the same.

* * * * *

161. Revise newly redesignated § 11.467 to read as follows—

§ 11.467 Endorsement as operators of uninspected passenger vessels of less than 100 gross tons

(a) This section applies to an applicant for the endorsement to operate an uninspected vessel of less than 100 gross tons, equipped with propulsion machinery of any type, carrying six or less passengers.

(b) An endorsement for OUPV issued for ocean waters will be limited to near-coastal waters not more than 100 miles offshore. An endorsement issued for inland waters will include all inland waters, except Great Lakes. An endorsement may be issued for a particular local area under paragraph (g) of this section.

(c) For an endorsement as OUPV on near-coastal waters, an applicant must have a minimum of 12-months experience in the operation of vessels, including at least three-months service on vessels operating on ocean or near-coastal waters.

(d) For an endorsement as OUPV on the Great Lakes and inland waters, an applicant must have 12-months service on Great Lakes or inland waters, including at least three-months service operating vessels on Great Lakes waters.

(e) For an endorsement as OUPV on inland waters, an applicant must have a minimum of 12-months experience in the operation of vessels.

(f) An endorsement as OUPV, limited to undocumented vessels, may be issued to a person who is not a citizen of the United States.

(g) Limited OUPV endorsements may be issued to applicants to be employed by organizations such as formal camps, yacht clubs, educational institutions, and marinas. An endorsement issued under this paragraph will be limited to the specific activity and the locality of the camp, yacht club, or marina. In order to obtain this restricted endorsement, an applicant must:

(1) Have three-months service in the operation of the type of vessel for which the endorsement is requested;

(2) Satisfactorily complete a safe-boating course approved by the National Association of State Boating Law Administrators, or those public education courses conducted by the U.S. Power Squadron or the American National Red Cross or a Coast Guard-approved course;

(3) Pass a limited examination appropriate for the activity to be conducted and the route authorized; and

(4) The first aid and cardiopulmonary resuscitation (CPR) course certificates required by § 11.205(e) of this part will only be required when, in the opinion of the OCMI, the geographic area over which service is authorized precludes obtaining medical services within a reasonable time.

(h) An applicant for an endorsement as OUPV who intends to serve only in the vicinity of Puerto Rico, and who speaks Spanish but not English, may be issued an endorsement restricted to the navigable waters of the United States in the vicinity of Puerto Rico.

§ 11.468 [Amended]

162. In newly redesignated § 11.468—

a. In the section heading and text, remove the word “Licenses” wherever it appears and add, in its place, the words “Officer endorsements”; and

b. In the text, remove the word “license” and add, in its place, the word “endorsement”.

163. In newly redesignated § 11.470, revise the heading and paragraphs (a) introductory text, (b) introductory text, (b)(2)(i), (b)(2)(iv), (c), (d) introductory text, (d)(2)(i), (d)(2)(iv), (e), (f) introductory text, (f)(2)(i), (f)(2)(iii), (g) introductory text, (h) introductory text, (h)(2)(iii), (j) introductory text, (j)(2)(i), (j)(2)(iii), and (k) introductory text to read as follows:

§ 11.470 Officer endorsements as offshore installation manager.

(a) Officer endorsements as offshore installation manager (OIM) include:

* * * * *

(b) To qualify for an endorsement as OIM unrestricted, an applicant must:

(1) * * *

(2) * * *

(i) A certificate from a Coast Guard-approved stability course approved for a license or MMC endorsement as OIM unrestricted;

* * * * *

(iv) A certificate from a firefighting training course as required by § 11.205(d) of this part; and

* * * * *

(c) An applicant for an endorsement as OIM unrestricted who holds an unlimited license or MMC endorsement as master or chief mate must satisfy the requirements in paragraphs (b)(2) and (b)(3) of this section and have at least 84 days of service on surface units and at least 28 days of service on bottom bearing units.

(d) To qualify for an endorsement as OIM surface units on location, and applicant must:

(1) * * *

(2) * * *

(i) A certificate from a Coast Guard approved stability course approved for a license or MMC endorsement as OIM surface units;

* * * * *

(iv) A certificate from a firefighting training course as required by § 11.205(d) of this part.

(e) An applicant for an endorsement as OIM surface units on location who holds an unlimited license or MMC endorsement as master or chief mate must satisfy the requirements of paragraph (d)(2) of this section and have at least 84 days of service on surface units.

(f) To qualify for an endorsement as OIM surface units underway, an applicant must:

(1) * * *

(2) * * *

(i) A certificate from a Coast Guard-approved stability course approved for an OIM surface units endorsement;

* * * * *

(iii) A certificate from a firefighting training course as required by § 11.205(d) of this part.

(g) An applicant for endorsement as OIM surface units underway who holds an unlimited license or MMC endorsement as master or chief mate must satisfy the requirements in paragraph (f)(2) of this section and provide a company recommendation signed by a senior company official which:

* * * * *

(h) To qualify for an endorsement as OIM bottom bearing units on location, an applicant must:

(1) * * *

(2) * * *

(iii) A certificate from a firefighting training course as required by § 11.205(d) of this part.

(i) An applicant for an endorsement as OIM bottom bearing units on location who holds an unlimited license or MMC endorsement as master or chief mate must satisfy paragraph (h)(2) of this section and have at least 28 days of service on bottom bearing units.

(j) To qualify for an endorsement as OIM bottom bearing units underway, an applicant must:

(1) * * *

(2) * * *

(i) A certificate from a Coast Guard-approved stability course approved for a license or MMC endorsement as OIM bottom bearing units;

* * * * *

(iii) A certificate from a firefighting training course as required by § 11.205(d) of this part.

(k) An applicant for endorsement as OIM bottom bearing units underway who holds an unlimited license or MMC endorsement as master or chief mate must satisfy the requirements in paragraph (j)(2) of this section and provide a company recommendation signed by a senior company official, which:

* * * * *

§ 11.472 [Amended]

164. In newly redesignated § 11.472—

a. In the section heading, remove the words “License for” and add, in their place, the words “Officer endorsements as”;

b. In paragraph (a) introductory text, remove the words “a license or” and add, in their place, the word “an”;

c. In paragraph (a)(2)(i), remove the words “barge supervisor license or endorsement” and add, in their place, the words “license or MMC endorsement as barge supervisor”;

d. In paragraph (a)(2)(iii), remove the words “§ 10.205(g)” and add, in their place, the words “§ 11.205(d)”; and

e. In paragraph (b), after the words “unlimited license” add the words “or MMC endorsement”.

§ 11.474 [Amended]

165. In newly redesignated § 11.474—

a. In the section heading, remove the words “License for” and add, in their place, the words “Officer endorsements as”;

b. In paragraph (a) introductory text, remove the words “a license or” and add, in its place, the words “an”;

c. In paragraph (a)(1)(i) and (ii), remove the words “a licensed” wherever they appear and add, in their place, the words “an individual holding a license or MMC endorsement as”;

d. In paragraph (a)(2)(i), remove the words “barge supervisor or ballast control operator license or endorsement” and add, in their place, the words “license or MMC endorsement as barge supervisor or ballast control operator”;

e. In paragraph (a)(2)(iii), remove the words “§ 10.205(g)” and add, in their place, the words “§ 11.205(d)”;

f. In paragraph (b), after the words “unlimited license”, add the words “or MMC endorsement”; and remove the word “licensed” and add, in its place, the words “an individual holding an endorsement as”;

§ 11.476 [Removed and Reserved]

166. Remove and reserve § 11.476.

§ 11.480 [Amended]

167. In newly redesignated § 11.480—

a. In paragraph (b) introductory text, remove the words “deck officer's license” and add, in their place, the word “MMC”;

b. In paragraph (c), remove the words “Endorsement as” wherever they appear;

c. In paragraph (f), remove the last sentence;

d. Remove paragraphs (g) and (k) and redesignate paragraphs (h) through (j) as paragraphs (g) through (i);

e. In redesignated paragraph (h), after the words “a license”, add the words “or MMC”; and after the words “may renew”, remove the words “the license”; and

f. In redesignated paragraph (i), after the words “grade of a license” add the words “or MMC endorsement”.

§ 11.482 [Amended]

168. In newly redesignated § 11.482—

a. In paragraph (a), after the words “endorsement authorizing”, remove the words “an applicant” and add, in their place, the words “a mariner”; after the words “applies to all”, remove the words “licenses except those for” and add, in their place, the words “MMCs except”; before the words “master or mate authorizing”, remove the words “those for”; after the words “Holders of any of these”; remove the word “licenses” and add, in its place, the word “endorsements”; and remove the words “the licenses and without the endorsement” and add, in their place, the words “their MMC or license”;

b. In paragraph (c), remove the words “An assistance towing endorsement on a license as master, mate, or operator authorizes the holder” and replace them with “The holder of a license or MMC for master, mate, or operator endorsed for assistance towing is authorized”; and after the words “scope of the license”, add the words “or MMC”; and

c. In paragraph (d), after the words “same as the license”, add the words “or MMC”; remove the words “on which it is endorsed” and add, in their place, the words “on which it is included”; and after the words “renewed with the”, remove the word “license” and add, in their place, the word “MMC”.

§ 11.491 [Amended]

169. In newly redesignated § 11.491—

a. In the section heading, remove the word “Licenses” and add, in its place, the word “Officer endorsements”; and

b. In the text, before the words “for service on”, remove the word “license” and add, in its place, the words “officer endorsement”; and after the words “restrictions placed on the license”, add the words “or MMC”.

§ 11.493 [Amended]

170. In newly redesignated § 11.493(a), remove the words “a license” and add, in their place, the words “an endorsement”.

§ 11.495 [Amended]

171. In newly redesignated § 11.495(a), remove the words “a license” and add, in their place, the words “an endorsement”.

§ 11.497 [Amended]

172. In newly redesignated § 11.497(a), remove the words “a license” and add, in their place, the words “an endorsement”.

Subpart E—[Amended]

173. In the heading for subpart E, remove the words “Officers' Licenses” and add, in their place, the word “Officer”.

§ 11.501 [Amended]

174. In newly redesignated § 11.501—

a. In the section heading, remove the word “licenses” and add, in its place, the word “endorsements”;

b. In paragraph (a) introductory text, remove the word “Licenses” and add, in its place, the words “Engineer endorsements”;

c. In paragraph (b) introductory text, remove the word “licenses” and add, in its place, the word “endorsements”;

d. In paragraph (c) introductory text, after the words “Engineer licenses” add the words “or MMC endorsements”; and

e. In paragraph (d) introductory text, remove the words “Engineer licenses are endorsed to authorize” and add, in its place, the words “An engineer officer's license or MMC endorsement authorizes”; and after the words “vessels or may be”, remove the words “be endorsed for” and add, in their place, the word “authorize”; and

f. In paragraph (e), after the words “holding an engineer license” add the words “or MMC endorsement”; and after the words “limitations of the license”, add the words “or MMC”.

§ 11.502 [Amended]

175. In newly redesignated § 11.502—

a. In the section heading, remove the word “licenses” and add, in its place, the word “endorsements”;

b. In paragraph (a), after the words “engineer licenses” add the words “or MMC endorsements”;

c. In paragraph (b) introductory text, remove the words “a licensed applicant desires to obtain an endorsement on an engineer license in the other propulsion mode (steam or motor)” and add, in their place, the words “an applicant desires to add a propulsion mode to his or her endorsement”; and after the words “holding a license”, add the words “or MMC endorsement”;

d. In paragraph (b)(1), remove the words “licensed capacity” and add, in their place, the words “capacity as their endorsement”;

e. In paragraph (b)(2), remove the words “a licensed officer at a lower license level” and add, in their place, the words “an engineer officer at a lower level”; and

f. In paragraph (c), after the words “of an engineer license”, add the words “or MMC endorsement”; and remove the text “§ 10.205(g)” and add, in its place, the text “§ 11.205(d)”.

176. Revise newly redesignated § 11.503 to read as follows—

§ 11.503 Horsepower limitations.

(a) Engineer licenses and endorsements of all grades and types may be subject to horsepower limitations. Other than as provided in § 11.524 for the designated duty engineer (DDE), the horsepower limitation placed on a license or MMC endorsement is based on the applicant's qualifying experience considering the total shaft horsepower of each vessel on which the applicant has served.

(b) When an applicant for an original or raise of grade of an engineer license or MMC endorsement, other than a DDE, has not obtained at least 50 percent of the required qualifying experience on vessels of 4,000 or more horsepower, a horsepower limitation is placed on the MMC based on the applicant's qualifying experience. The endorsement is limited to the maximum horsepower on which at least 25 percent of the required experience was obtained, or 150 percent of the maximum horsepower on which at least 50 percent of the service was obtained, whichever is higher. Limitations are in multiples of 1,000 horsepower, using the next higher figure when an intermediate horsepower is calculated. When the limitation as calculated equals or exceeds 10,000 horsepower, an unlimited horsepower endorsement is issued.

(c) The following service on vessels of 4,000 horsepower or over will be considered qualifying for the raising or removing of horsepower limitations placed on an engineer license or MMC endorsement:

(1) Six months of service in the highest-grade endorsed: removal of all horsepower limitations.

(2) Six months of service as an officer in any capacity other than the highest grade for which licensed or endorsed: Removal of all horsepower limitations for the grade in which service is performed and raise the next higher grade endorsement to the horsepower of the vessel on which service was performed. The total cumulative service before and after issuance of the limited license or MMC endorsement may be considered in removing all horsepower limitations.

(3) Twelve months of service as oiler or junior engineer while holding a license or MMC endorsement as third assistant engineer or assistant engineer (limited oceans): removal of all horsepower limitations on third assistant engineer or assistant engineer's (limited oceans) endorsement.

(4) Six months of service as oiler or junior engineer while holding a license or MMC endorsement as second assistant engineer: removal of all horsepower limitations on third assistant engineer's endorsement.

(d) Raising or removing horsepower limitations based on service required by paragraph (c) of this section may be granted without further written examination providing the OCMI who issued the applicant's license or MMC endorsement, considers further examination unnecessary.

§ 11.504 [Amended]

177. In newly redesignated § 11.504—

a. In the section heading, remove the word “licenses” and add, in its place, the word “endorsements”; and

b. In the text, remove the words “a license” and add, in their place, the words “an endorsement”.

178. In newly redesignated § 11.505—

a. In the section heading, remove the word “license” and add, in its place, the word “officer”;

b. In the text, remove the word “license” and add, in its place, the word “endorsement”; and

c. Redesignate Figure 10.505 as Figure 11.505 and revise it to read as follows:

§ 11.505 Engineer officer structure.

BILLING CODE 4910-15-P

BILLING CODE 4910-15-C

§ 11.510 [Amended]

179. In newly redesignated § 11.510—

a. In the introductory text, remove the word “license” and add, in its place, the word “endorsement”; and

b. In paragraph (b), after the words “holding a license” add the words or MMC endorsement”.

§ 11.512 [Amended]

180. In newly redesignated § 11.512, after the words “qualify an applicant for”, remove the word “license” and add, in its place, the word “endorsement”; and after the words “holding a license”, add the words or MMC endorsement”.

§ 11.514 [Amended]

181. In newly redesignated § 11.514—

a. In the introductory text, after the words “qualify an applicant for” remove the word “license” and add, in its place, the word “endorsement”; and

b. In paragraphs (a) and (b) introductory text, after the words “holding a license”, wherever they appear, add the words “or MMC endorsement”.

§ 11.516 [Amended]

182. In newly redesignated § 11.516, in paragraph (a) introductory text, after the words “an applicant for”, remove the word “license” and add, in its place, the word “endorsement”.

183. Revise newly redesignated § 11.518 to read as follows:

§ 11.518 Service requirements for chief engineer (limited oceans) of steam and/or motor vessels.

The minimum service required to qualify an applicant for endorsement as chief engineer (limited oceans) of steam and/or motor vessels is five-years total service in the engineroom of vessels. Two years of this service must have been as an engineer officer. Thirty months of the service must have been as a qualified member of the engine department or equivalent supervisory position.

184. Revise newly redesignated § 11.520 to read as follows:

§ 11.520 Service requirements for chief engineer (limited near coastal) of steam and/or motor vessels.

The minimum service required to qualify an applicant for endorsement as chief engineer (limited near coastal) of steam and/or motor vessels is four-years total service in the engineroom of vessels. One year of this service must have been as an engineer officer. Two years of the service must have been as a qualified member of the engine department (QMED) or equivalent supervisory position.

185. Revise newly redesignated § 11.522 to read as follows:

§ 11.522 Service requirements for assistant engineer (limited oceans) of steam and/or motor vessels.

The minimum service required to qualify an applicant for endorsement as assistant engineer (limited oceans) of steam and/or motor vessels is three years of service in the engineroom of vessels. Eighteen months of this service must have been as a QMED or equivalent supervisory position.

186. Amend newly redesignated § 11.524 by revising paragraphs (a) and (b) introductory text to read as follows:

§ 11.524 Service requirements for designated duty engineer of steam and/or motor vessels.

(a) DDE endorsements are issued in three levels of horsepower limitations dependent upon the total service of the applicant and completion of appropriate examination. These MMCs are limited to vessels of not more than 500 gross tons on certain waters as specified in § 11.501.

(b) The service requirements for endorsements as DDE are:

* * * * *

187. Revise newly redesignated § 11.530 to read as follows:

§ 11.530 Endorsements for engineers of uninspected fishing industry vessels.

(a) This section applies to endorsements for chief and assistant engineers of all vessels, however propelled, navigating the high seas, which are documented to engage in the fishing industry, with the exception of:

(1) Wooden ships of primitive build;

(2) Unrigged vessels; and,

(3) Vessels of less than 200 gross tons.

(b) Endorsements as chief engineer and assistant engineer of uninspected fishing industry vessels are issued for ocean waters and with horsepower limitations in accordance with the provisions of § 11.503.

(c) For an endorsement as chief engineer, the applicant must have served four years in the engineroom of vessels. One year of this service must have been as an assistant-engineer officer or equivalent supervisory position.

(d) For an endorsement as assistant engineer, an applicant must have served three years in the engine room of vessels.

(e) Two-thirds of the service required under this section must have been on motor vessels.

(f) Applicants may request an orally assisted examination on the subjects listed in subpart I of this part.

188. Revise newly redesignated § 11.540 to read as follows:

§ 11.540 Endorsements for engineers of mobile offshore drilling units.

Endorsements as chief engineer (MODU) or assistant engineer (MODU) authorize service on certain self-propelled or non-self-propelled units of any horsepower where authorized by the vessel's certificate of inspection.

§ 11.542 [Amended]

189. In newly redesignated § 11.542—

a. In the section heading, remove the words “License for” and add, in their place, the words “Endorsement as”;

b. In the introductory text and paragraph (c), remove the words “a license” wherever they appear and add, in their place, the words “an endorsement”; and

c. In paragraph (b), remove the number “10.205(g)” and add, in its place, the number “11.205(d)”.

§ 11.544 [Amended]

190. In newly redesignated § 11.544—

a. In the section heading, remove the words “License for” and add, in their place, the words “Endorsement as”;

b. In the introductory text and paragraph (c), remove the words “a license” wherever they appear and add, in their place, the words “an endorsement”;

c. In paragraph (a)(3), remove the words “Commanding Officer” and add, in their place, the word “The”; and

d. In paragraph (b), remove the number “10.205(g)” and add, in its place, the number “11.205(d)”.

191. Revise newly redesignated § 11.551 to read as follows:

§ 11.551 Endorsements for service on offshore supply vessels.

Each endorsement for service on OSVs as chief engineer (OSV) or engineer (OSV) authorizes service on OSVs as defined in 46 U.S.C. 2101(19) and as interpreted under 46 U.S.C. 14104(b), subject to any restrictions placed on the MMC.

§ 11.553 [Amended]

192. In newly redesignated § 11.553(a), remove the words “a license” and add, in their place, the words “an endorsement”.

§ 11.555 [Amended]

193. In newly redesignated § 11.555(a), remove the words “a license” and add, in their place, the words “an endorsement”.

Subpart F—[Amended]

194. In the heading for subpart F, remove the word “Licensing” and add, in its place, the word “Credentialing”.

195. Revise newly redesignated § 11.601 to read as follows:

§ 11.601 Applicability.

This subpart provides for endorsement as radio officers for employment on vessels, and for the issue of STCW endorsements for those qualified to serve as radio operators on vessels subject to the provisions on the Global Maritime Distress and Safety System (GMDSS) of Chapter IV of SOLAS.

196. In newly redesignated § 11.603, revise the heading and paragraphs (a) and (c), and remove and reserve paragraph (b) to read as follows:

§ 11.603 Requirements for radio officers' endorsements and STCW endorsements for GMDSS radio operators.

(a) Each applicant for an original endorsement or renewal of license shall present a current first or second class radiotelegraph operator license issued by the Federal Communications Commission. The applicant shall enter on the endorsement application form the number, class, and date of issuance of his or her Federal Communications Commission license.

(b) [Reserved]

(c) Each applicant who furnishes evidence that he or she meets the standard of competence set out in STCW Regulation IV/2 (incorporated by reference in Sec. 11.102), including the competence to transmit and receive information using subsystems of GMDSS, to fulfill the functional requirements of GMDSS, and to provide radio services in emergencies is entitled to hold an STCW endorsement suitable for performing duties associated with GMDSS.

* * * * *

Subpart G—[Amended]

197. In the heading for subpart G, remove the words “Pilot Licenses” and add, in their place, the word “Pilots”.

198. Revise newly redesignated § 11.701 to read as follows:

§ 11.701 Scope of pilot endorsements.

(a) An applicant for an endorsement as first-class pilot need not hold any other officer endorsement issued under this part.

(b) The issuance of an endorsement as first-class pilot to an individual qualifies that individual to serve as pilot over the route(s) specified on the endorsement, subject to any limitations imposed under paragraph (c) of this section.

(c) The OCMI issuing an endorsement as first-class pilot, imposes appropriate limitations commensurate with the experience of the applicant, with respect to class or type of vessel, tonnage, route, and waters.

(d) A license or MMC endorsement issued for service as a master, mate, or operator of uninspected towing vessels authorizes service as a pilot under the provisions of § 15.812 of this subchapter. Therefore, first-class pilot endorsements will not be issued with tonnage limitations of 1,600 gross tons or less.

199. In newly redesignated § 11.703—

a. Revise paragraphs (a) introductory text and (c) to read as set out below; and

b. In paragraph (d), after the words “holding a license”, add the words “or MMC endorsement”:

§ 11.703 Service requirements.

(a) The minimum service required to qualify an applicant for an endorsement as first-class pilot is predicated upon the nature of the waters for which pilotage is desired.

* * * * *

(c) Completion of a course of pilot training approved by the National Maritime Center under subpart C of this part may be substituted for a portion of the service requirements of this section in accordance with § 11.304. Additionally, round trips made during this training may apply toward the route familiarization requirements of § 11.705. An individual using substituted service must have at least nine months of shipboard service.

* * * * *

200. In newly redesignated § 11.705, revise paragraphs (b) and (c) to read as follows:

§ 11.705 Route familiarization requirements.

* * * * *

(b) An applicant holding no other deck officer endorsement seeking an endorsement as first-class pilot shall furnish evidence of having completed a minimum number of round trips, while serving as quartermaster, wheelsman, able seaman, apprentice pilot, or in an equivalent capacity, standing regular watches at the wheel or in the pilot house as part of routine duties, over the route sought. Evidence of having completed a minimum number of round trips while serving as an observer, properly certified by the master and/or pilot of the vessel, is also acceptable. The range of round trips for an endorsement is a minimum of 12 round trips and a maximum of 20 round trips. An applicant may have additional routes added to the first-class pilot endorsement by meeting the requirements in paragraph (c) of this section.

(c) An applicant who currently holds a deck officer license or MMC endorsement seeking an endorsement as first-class pilot for a particular route shall furnish evidence of having completed the number of round trips over the route, specified by the OCMI, within the range limitations of this paragraph, for the particular grade of existing license or MMC endorsement held. The range of round trips for an endorsement is a minimum of eight round trips and a maximum of 15 round trips.

* * * * *

201. Revise newly redesignated § 11.707 to read as follows:

§ 11.707 Examination requirements.

(a) An applicant for an endorsement as first-class pilot, except as noted in paragraph (b) of this section, is required to pass the examination described in subpart I of this part.

(b) An applicant for an extension of route, or an applicant holding a license or MMC endorsement as master or mate authorized to serve on vessels of over 1,600 gross tons seeking an endorsement as first-class pilot, is required to pass those portions of the examination described in subpart I of this part that concern the specific route for which endorsement is sought.

202. Revise newly redesignated § 11.709, paragraphs (b), (c), (d) and (e) to read as follows:

§ 11.709 Annual physical examination requirements.

* * * * *

(b) Every person holding a license or MMC endorsement as first-class pilot shall have a thorough physical examination each year.

(c) Each annual physical examination must meet the requirements specified in § 10.215.

(d) An individual's first class pilot credential becomes invalid on the first day of the month following the first anniversary of the individual's most recent physical examination satisfactorily completed; the individual may not operate under the authority of that credential until a physical examination has been satisfactorily completed.

(e) A first class pilot must provide the Coast Guard with a copy of his or her most recent physical examination.

§ 11.711 [Amended]

203. In newly redesignated § 11.711—

a. In paragraphs (a) and (d), after the words “first class pilot”, remove the words “license or”; and

b. In paragraph (b), after the words “1,600 gross tons, the” remove the words “license or” and, after the words “contained in § ” remove the number “10.705” and add, in its place, the number “11.705”.

§ 11.713 [Amended]

204. In newly redesignated § 11.713—

a. In paragraphs (a) and (b), wherever the phrase “license or endorsement” appears, insert the word “MMC” before the word “endorsement”; and

b. In paragraph (b), after the words “of the renewed” remove the words “license or”.

§ 11.803 [Removed and Reserved]

205. Remove and reserve newly redesignated § 11.803.

206. Revise newly redesignated § 11.805 to read as follows:

§ 11.805 General requirements.

(a) The applicant for an endorsement as staff officer is not required to take any examination; however, the applicant shall present to the OCMI a letter justifying the need for the endorsement.

(b) [RESERVED]

(c) An applicant for a higher grade in the staff department shall apply in the same manner as for an original endorsement and shall surrender the previous Coast Guard-issued credentials upon issuance of the new MMC. A staff officer may serve in a lower grade of service for which he or she is registered.

(d) Title 46 U.S.C. 8302 addresses uniforms for staff officers who are members of the Naval Reserve.

(e) A duplicate MMC may be issued by the OCMI. (See § 10.229.)

(f) An MMC is valid for a term of five years from the date of issuance. Procedures for renewing endorsements are found in § 10.227.

(g) Each applicant for an original or a higher grade of endorsement, as described by paragraph (c) of this section, shall produce evidence of having passed a chemical test for dangerous drugs or of qualifying for an exception from testing in § 16.220 of this subchapter. An applicant who fails a chemical test for dangerous drugs will not be issued an MMC.

207. In newly redesignated § 11.807—

a. In paragraph (a) introductory text, after the words “The applicant for” remove the words “a certificate of registry” and add, in their place, the words “an endorsement”;

b. In paragraph (c), after the words “an applicant for” remove the words “a certificate of registry” and add, in their place, the words “an endorsement”;

c. In paragraph (d), after the words “an applicant for” remove the words “a certificate of registry” and add, in their place, the words “an endorsement”, and after the words “may issue the” remove the words “certificate of registry” and add, in their place, the word “MMC”; and

d. Add new paragraphs (a)(7) and (8) to read as follows:

§ 11.807 Experience requirements for registry.

(a) * * *

* * * * *

(7) Marine physician assistant. Successful completion of an accredited course of instruction for a physician's assistant or nurse practitioner program.

(8) Hospital corpsman. A rating of at least hospital corpsman or health services technician, first class in the U.S. Navy, U.S. Coast Guard, U.S. Marine Corps, or an equivalent rating in the U.S. Army (not less than staff sergeant, Medical Department, U.S.A.), or in the U.S. Air Force (not less than technical sergeant, Medical Department, U.S.A.F.), and a period of satisfactory service of at least one month in a military hospital or U.S. Public Health Service Hospital.

* * * * *

§ 11.809 [Removed and Reserved]

208. Remove and reserve newly redesignated § 11.809.

Subpart I—[Amended]

209. In the heading for subpart I, remove the word “License”.

210. In newly redesignated § 11.901—

a. In paragraph (a), remove the word “license” and add, in its place, the word “endorsement”, and remove the words “10.903(b)” and add, in its place, the words “11.903(b)”;

b. Revise paragraph (b) to read as set out below; and

c. In paragraph (c) introductory text, after the words “as provided in §§ ” remove the words “10.202 and 10.209” and add, in their place, the words “11.202 and 10.227”; and after the words “reference in” remove the number “10.102” and add, in its place, the number “11.102”:

§ 11.901 General provisions

* * * * *

(b) If the endorsement is to be limited in a manner which would render any of the subject matter unnecessary or inappropriate, the examination may be amended accordingly by the OCMI. Limitations which may affect the examination content are:

(1) MMCs endorsed for restricted routes for reduced service (master or mate of vessels of not more than 200 gross tons, OUPV or master or mate (pilot) of towing vessels); or

(2) Engineer endorsements with horsepower restrictions.

* * * * *

§ 11.903 [Amended]

211. In newly redesignated § 11.903—

a. In the section heading, remove the word “Licenses” and add, in its place, the word “Endorsements”;

b. In paragraph (a) introductory text, remove the word “licenses” and add, in its place, the word “endorsements”;

c. In paragraph (b) introductory text, remove the word “licenses” and add, in its place, the word “endorsements”;

d. In paragraphs (b)(2) and (3), remove the word “license”;

e. In paragraph (c) introductory text, remove the word “licenses” and add, in its place, the word “endorsements”; remove the number “10.102” and add, in its place, the number “11.102”; and remove the words “table 903-1” and add, in their place, the words “table 11.903(c)”;

f. In paragraph (d), remove the words “After July 31, 1998, any” and add, in their place, the word “Any”; remove the words “a license” and add, in their place, the words “an endorsement”; remove the words “table 10.903-1” and add in their place the words “table 11.903(c)”; remove the number “10.102” and add, in its place, the number “11.102”; and remove the words “10.910, or 10.950” and add, in their place, the words “11.910, or 11.950”; and

g. Redesignate table 10.903-1 as table 11.903(c).

212. In newly redesignated § 11.910—

a. Revise the section heading and introductory text as set out below;

b. Redesignate table 10.910-1 as table 11.910-1 and revise the heading and subheading to read as set out below; and

c. In table 10.910-2—

i. Redesignate table 10.910-2 as table 11.910-2;

ii. In the subheading for newly redesignated table 11.910-2, remove the word “License” and add, in its place, the word “Endorsement”;

iii. In the first column entitled “Examination topics”, on line 182, remove the words “Licensing & Certification” and add, in their place, the word “Credentialing”;

iv. In footnotes 6 and 7, remove the word “licenses” wherever it appears and add, in its place, the words “officer endorsements”; and

v. In footnote 8, remove the word “licenses”:

§ 11.910 Subjects for deck officer endorsements.

Table 11.910-1 gives the codes used in table 11.910-2 for all deck officers. Table 11.910-2 indicates the examination subjects for each endorsement, by code number. Figures in the body of the table, in place of the letter “x”, refer to notes.

Table 11.910-1 Codes for Deck Officer Endorsements

Deck Officer Endorsements:

* * * * *

213. In newly redesignated § 11.920—

a. Revise the section heading and introductory text to read as set out below;

b. Redesignate table 10.920-1 as table 11.920-1 and revise it to read as set out below; and

c. Redesignate table 10.920-2 as table 11.920-2 and in the first column entitled “Examination topics”, under the entry for “National maritime law”, remove the words “Licensing and certification” and add, in their place, the word “Credentialing”:

§ 11.920 Subjects for MODU endorsements.

Table 11.920-1 gives the codes used in table 11.920-2 for MODU endorsements. Table 11.920-2 indicates the examination subjects for each endorsement by the code number.

Table 11.920-1 Codes for MODU Endorsements

* * * * *

214. In newly redesignated § 11.950, revise the section heading and redesignate table 10.950 as table 11.950 and revise the heading to read as follows:

§ 11.950 Subjects for engineer endorsements.

Table 11.950 Subjects for Engineer Endorsements

* * * * *

215. Revise newly redesignated § 11.1005 to read as follows:

§ 11.1005 General requirements for officers.

To serve on a Ro-Ro passenger ship after January 31, 1997, a person endorsed as master, chief mate, mate, chief engineer, or engineer shall meet the appropriate requirements of STCW Regulation V/2 and Section A-V/2 of the STCW Code (incorporated by reference in § 11.102) and shall hold documentary evidence to show his or her meeting these requirements.

216. Revise newly redesignated § 11.1105 introductory text and paragraph (a) to read as follows:

§ 11.1105 General requirements for officer's endorsements.

If you are a master, mate, chief mate, engineer, or chief engineer, then, before you may serve on a passenger ship, you must—

(a) Meet the appropriate requirements of the STCW Regulation V/3 and of section A-V/3 of the STCW Code (incorporated by reference in § 11.102); and

* * * * *

PART 12—CERTIFICATION OF SEAMEN

217. Revise the title of part 12 to read as follows:

PART 12—REQUIREMENTS FOR RATING ENDORSEMENTS

218. The authority citation for part 12 is revised to read as follows:

Authority: 31 U.S.C. 9701; 46 U.S.C. 2101, 2103, 2110, 7301, 7302, 7503, 7505, 7701, and 70105; Department of Homeland Security Delegation No. 0170.1.

§ 12.01-1 [Amended]

219. In § 12.01-1—

a. In paragraph (a)(2), after the words “and to receive the”, remove the words “certificate or”; and

b. Remove paragraphs (a)(3) and (c).

220. Revise § 12.01-3 to read as follows:

§ 12.01-3 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-3PSO), 2100 Second Street SW., Washington, DC 20593-0001, and is available from the sources indicated in this section.

(b) International Maritime Organization (IMO), 4 Albert Embankment, London, SE1 7SR, England.

(1) The International Convention on Standards of Training, Certification and Watchkeeping for Seafarers, 1978, as amended (the STCW Convention or the STCW) , incorporation by reference approved for §§ 12.01-1, 12.02-7, 12.02-11, 12.03-1, 12.05-3, 12.05-7, 12.05-11, 12.10-3; 12.10-5, 12.10-7, 12.10-9, 12.15-3, 12.15-7, 12.25-45, 12.30-5, and 12.35-5.

(2) The Seafarers' Training, Certification and Watchkeeping Code (the STCW Code), incorporation by reference approved for §§ 12.01-1, 12.02-7, 12.02-11, 12.03-1, 12.05-3, 12.05-7, 12.05-11, 12.10-3, 12.10-5, 12.10-7, 12.10-9, 12.15-3, 12.15-7, 12.25-45, 12.30-5, and 12.35-5.

§ 12.01-6 [Removed and Reserved]

221. Remove and reserve § 12.01-6.

§ 12.01-7 [Removed and Reserved]

222. Remove and reserve § 12.01-7.

§ 12.01-11 [Removed and Reserved]

223. Remove and reserve § 12.011.

§ 12.02-3 [Removed and Reserved]

224. Remove and reserve § 12.02-3.

§ 12.02-4 [Removed and Reserved]

225. Remove and reserve § 12.02-4.

§ 12.02-5 [Removed and Reserved]

226. Remove and reserve § 12.02-5.

227. Revise § 12.02-7, paragraphs (a) through (e) and (f) introductory text to read as follows:

§ 12.02-7 When documents are required.

(a) Every seaman employed on any merchant vessel of the United States of 100 gross tons or upward, except vessels employed exclusively in trade on the navigable rivers of the United States, must carry a valid merchant mariner credential (MMC) or merchant mariner's document (MMD) with all appropriate endorsements for the position served and a valid Transportation Worker Identification Credential (TWIC). Provisions of this section are not applicable to unrigged vessels except seagoing barges and certain tank barges.

(b) Every seaman, as referred to in paragraph (a) of this section, shall produce a valid MMC or MMD with all applicable rating endorsements for the position sought and a valid TWIC to the master of the vessel at the time of his or her employment before signing articles of agreement. Seamen who do not possess one of these credentials may be employed at a foreign port or place.

(c) * * *

(1) Every person employed on any merchant vessel of the United States of 100 gross tons and upward, except those navigating rivers exclusively and the smaller inland lakes, below the grades of officer and staff officer, must possess a valid MMC or MMD with all appropriate endorsements for the positions served;

(2) No endorsements are required of any person below the rank of officer employed on any unrigged vessel except seagoing barges and certain tank barges.

(3) No endorsements are required of any person below the rank of officer employed on any sail vessel of less than 500 net tons while not carrying passengers for hire and while not operating outside the line dividing inland waters from the high seas, as defined in section 2 of the act of February 19, 1895, as amended (33 U.S.C. 151) and in 33 CFR part 82.

(d) Each person serving as an able seaman or a rating forming part of a navigational watch on a seagoing ship of 500 gross tonnage (200 GRT) or more shall hold an STCW endorsement certifying him or her as qualified to perform the navigational function at the support level, in accordance with STCW (incorporated by reference in § 12.01-3).

(e) Each person serving as a qualified member of the engine department (QMED) or a rating forming part of a watch in a manned engine-room or designated to perform duties in a periodically unmanned engine-room, on a seagoing ship driven by main propulsion machinery of 750 kW [1,000 hp] of propulsion power or more, shall hold an STCW endorsement certifying him or her as qualified to perform the marine-engineering function at the support level, in accordance with STCW.

(f) Notwithstanding any other rule in this part, no person subject to this part serving on any of the following vessels needs hold an STCW endorsement, either because he or she is exempt from application of the STCW, or because the vessels are not subject to further obligation under STCW, on account of their special operating conditions as small vessels engaged in domestic voyages:

* * * * *

§ 12.02-9 [Removed and Reserved]

228. Remove and reserve § 12.02-9.

§ 12.02-10 [Removed and Reserved]

229. Remove and reserve § 12.02-10.

230. Revise § 12.02-11 to read as follows:

§ 12.02-11 General provisions respecting rating endorsements.

(a) (1) An MMC with a deck officer endorsement will also be endorsed for “any rating in the deck department, except able seaman”, and will authorize the holder to serve in any rating capacity in the deck department, except able seaman. If a deck officer qualifies as able seaman, the MMC will be endorsed, “any rating in the deck department, including able seaman”, and such endorsement will be deemed to include an endorsement as lifeboatman.

(2) An MMC issued to an engineer officer endorsed for inspected vessels of over 2,000 horsepower will be endorsed for “any rating in the engine department”, and will authorize the holder to serve in any rating capacity in the engine department. If an engineer officer qualifies as a lifeboatman, the further endorsement, “lifeboatman” will be placed on the MMC.

(b) The authorized holder of any valid rating endorsement may serve in any capacity in the staff department of a vessel, except in those capacities requiring a staff officer; except that whenever the service includes the handling of food, no person may be so employed unless his or her credential bears the food handler's endorsement “(F.H.)”.

(c) A rating endorsement as able seaman or lifeboatman authorizes service as lifeboatman.

(d) When a rating endorsement is issued, renewed, or endorsed, the OCMI will determine whether the holder of the credential is required to hold an STCW endorsement for service on a seagoing vessel, and then, if the holder is qualified, the OCMI will issue the appropriate endorsement. The OCMI will also issue an STCW endorsement at other times, if circumstances so require and if the holder of the document is qualified to hold the endorsement. The OCMI will issue an STCW endorsement for the following ratings:

(1) A rating forming part of a navigational watch on a seagoing ship of 500 GT or more if the holder of the credential is qualified according to STCW Regulation II/4 of the STCW Code (incorporated by reference, see § 12.01-3) to perform the navigational function at the support level.

(2) A rating forming part of a watch in a manned engineroom, or designated to perform duties in a periodically unmanned engineroom, on a seagoing ship driven by main propulsion machinery of 750 kW (1,000 hp) of propulsion power or more, if the holder is qualified in according to STCW Regulation III/4 and Section A-III/4 of the STCW Code, to perform the marine-engineering function at the support level.

(e) At the request of the holder of the document, the OCMI may add an endorsement to indicate that a qualified holder has received basic-safety training or instruction required under Chapter VI of STCW.

§ 12.02-12 [Removed and Reserved]

231. Remove and reserve § 12.02-12.

§ 12.02-13 [Removed and Reserved]

232. Remove and reserve § 12.02-13.

§ 12.02-14 [Removed and Reserved]

233. Remove and reserve § 12.02-14.

§ 12.02-15 [Removed and Reserved]

234. Remove and reserve § 12.02-15.

§ 12.02-17 [Amended]

235. In § 12.02-17—

a. In the section heading, remove the words “Preparation and issuance of documents” and add, in their place, the words “Examination procedures and denial of rating endorsements”;

b. In paragraph (a), remove the words “of a person for a merchant mariner's document” and add, in their place, the words “for a rating endorsement”;

c. Remove paragraphs (b), (c), (d), (e), and (h);

d. Redesignate paragraph (f) as paragraph (b); remove the words “certificate of service or efficiency” and add, in their place, the words “rating endorsement”; and after the words “examined and refused”, remove the words “a certificate” and add, in their place, the words “the endorsement”; and

e. Redesignate paragraph (g) as paragraph (c); remove the word “certificate” and add, in its place, the words “rating endorsement”.

§§ 12.02-18 through 12.02-27 [Removed and Reserved]

236. Remove and reserve §§ 12.02-18 through 12.02-27.

§ 12.03-1 [Amended]

237. In § 12.03-1—

a. In paragraph (a) introductory text, after the words “part 10 of this”, remove the word “chapter” and add, in its place, the word “subchapter”; remove the text “§ 10.302” and add, in its place, the text “§ 11.302”; after the words “used to qualify”, add the words “an applicant”; after the words “hold an STCW”, remove the words “certificate or” and add, in their place, the words “or rating”; and remove the words “for service on or after February 1, 2002,”;

b. In paragraph (a)(3)(iii), remove the words “license, endorsement,” and add, in their place, the words “Coast Guard credential”;

c. In paragraph (a)(4), remove the words “maritime license or document” and add, in their place, the words “Coast Guard credential”;

d. In paragraph (b), after the words “training necessary for”, remove the word “licenses” and add, in its place, the words “both officer”.

e. In paragraph (c) introductory text, before the words “particular training does”, add the word “the”; and

f. In paragraph (c)(2), remove the words “Commanding Officer,”; and after the words “National Maritime Center”, add the text “(NMC)”.

§ 12.05-1 [Amended]

238. In § 12.05-1—

a. In paragraph (a), remove the words “employed in a rating” and add, in their place, the words “serving under the authority of a rating endorsement”; and remove the words “a merchant mariner's document” and add, in their place, the words “an MMC or MMD endorsement”; and

b. In paragraph (b), remove the word “certificate” and add, in its place, the words “MMD or MMC endorsed”.

§ 12.05-3 [Amended]

239. In § 12.05-3—

a. In paragraph (a) introductory text, remove the word “certification” and add, in its place, the words “an endorsement”;

b. In paragraph (a)(2), remove the word “examination” and add, in its place, the words “and medical examination in § 10.215 of this subchapter”;

c. In paragraph (b) introductory text, remove the words “valid for any period on or after February 1, 2002,”; and

d. In paragraph (c), remove the word “certification” and add, in its place, the words “an endorsement”.

§ 12.05-5 [Removed and Reserved]

240. Remove and reserve § 12.05-5.

§ 12.05-7 [Amended]

241. In § 12.05-7—

a. In paragraph (a) introductory text, after the words “categories of” remove the words “able seaman is as” and add, in their place, the words “endorsement as able seaman are”; and,

b. Remove paragraphs (c), (d), and (e).

§ 12.05-9 [Amended]

242. In § 12.05-9—

a. In paragraph (a) introductory text, remove the word “certified” and add, in its place, the words “issued an endorsement”; and

b. In paragraph (e), remove the words “is in valid possession of a certificate as able seaman endorsed” and add, in their place, the words “holds a valid MMC or MMD endorsed as able seaman”; after the words “service to qualify for”, remove the words “a certificate as able seaman endorsed” and add, in their place, the words “an endorsement as able seaman”; after the words “issued a new”, remove the word “document” and add, in its place, the word “MMC”; after the words “for cancellation the” remove the word “document” and add, in its place, the word “credential”; remove the words “by a medical officer of the Public Health Service”; and after the words “determine his competency”, add the words “as set forth in § 10.215 of this chapter”.

§ 12.05-11 [Amended]

243. In § 12.05-11—

a. In the section heading, remove the words “merchant mariner's document endorsed” and add, in their place, the words “endorsements”;

b. In paragraph (a), remove the words “a merchant mariner's document” and add, in their place, the words “an MMC or MMD”; remove the word “unlicensed”; and after the words “when serving”, remove the words “in as a “rating forming part of a navigational watch”” and add, in their place, the words “as a rating forming part of a navigational watch (RFPNW)”; and

c. In paragraph (b), remove the words “A merchant mariner's document” and add, in their place, the words “An MMC or MMD”; remove the words “a certificate of efficiency” and add, in their place, the words “an endorsement”; and remove the words “without further endorsement”.

§ 12.10-1 [Amended]

244. In § 12.10-1—

a. In the section heading, remove the word “Certification” and add, in its place, the word “Credentials”; and

b. In the text, remove the words “employed in a rating” and add, in their place, the words “serving under the authority of a rating endorsement”; remove the words “certificated lifeboatmen shall produce a certificate as lifeboatman or merchant mariner's document endorsed as lifeboatman or able seaman to the shipping commissioner,” and add, in their place, the words “lifeboatmen must produce an MMC or MMD endorsed as lifeboatman or able seaman to the”; and remove the words “certificate of efficiency” and add, in their place, the word “endorsement”.

§ 12.10-3 [Amended]

245. In § 12.10-3—

a. In paragraph (a) introductory text, remove the word “certification” and add, in its place, the words “an endorsement”;

b. In paragraph (a)(5), after the words “National Maritime Center,”, remove the word “and” and add, in its place, the word “or”;

c. In paragraph (b), remove the word “certification” and add, in its place, the words “an endorsement”; and

d. In paragraph (c), remove the word “certified” and add, in its place, the words “eligible for an endorsement”.

§ 12.10-5 [Amended]

246. In § 12.10-5—

a. In paragraph (a) introductory text, remove the word “certified” and add, in its place, the words “issued an endorsement”; and

b. In paragraph (d), remove the words “After July 31, 1998, each” and add, in their place, the word “Each”; and remove the words “certificate endorsed for” and add, in their place, the words “endorsement with an STCW endorsement for”.

§ 12.10-7 [Amended]

247. In § 12.10-7—

a. In the section heading, after the words “provisions respecting”, remove the words “merchant mariner's documents” and add, in their place, the words “an MMC or MMD” ; and

b. In the text, before the words “endorsed as able seaman”, remove the words “A merchant mariner's document” and add, in their place, the words “An MMC or MMD”; after the words “equivalent of”, remove the words “a certificate as lifeboatman or of”; after the words “will be accepted” remove the words “as either of these wherever either is” and add, in their place, the words “wherever a lifeboatman is”; after the words “that, when”, remove the words “the holder documented as”; and remove the word “certificated” and add, in its place, the word “endorsed”.

248. In § 12.10-9, revise the heading, paragraph (a), and paragraph (b) introductory text to read as follows:

§ 12.10-9 Endorsement for proficiency in fast rescue boats.

(a) Each person engaged or employed as a lifeboatman proficient in fast rescue boats must hold an appropriately endorsed MMC or MMD.

(b) To be eligible for an MMC endorsed for proficiency in fast rescue boats, an applicant must:

* * * * *

§ 12.13-3 [Amended]

249. In § 12.13-3 text, remove the words “license or document” and add, in their place, the word “MMC”.

§ 12.15-1 [Amended]

250. In § 12.15-1—

a. In the section heading, remove the word “Certification” and add, in its place, the word “Credentials”;

b. In paragraph (a), remove the words “employed in a rating” and add, in their place, the words “serving under the authority of a rating endorsement”; after the words “vessel requiring”, remove the word “certificated”; and after the words “shall produce”, remove the words “a certificate” and add, in their place, the words “an endorsement”; and c. In paragraph (b), remove the word “certificate” and add, in its place, the word “endorsement”.

§ 12.15-3 [Amended]

251. In § 12.15-3—

a. In paragraph (a), after the words “any person below”, remove the words “the rating of licensed”; after the words “who holds”, remove the words “a certificate of service as such” and add, in their place, the words “an MMC or MMD endorsed as”; and after the words “Coast Guard”, remove the words “or predecessor authority”;

b. In paragraph (b), after the words “considered a rating”, remove the words “not above that of” and add, in their place, the words “equal to”; and after the words “passer or wiper”, remove the words “, but equal thereto”;

c. In paragraph (c), remove the word “certification” and add, in its place, the words “an endorsement”;

d. In paragraph (d) introductory text, remove the words “After July 31, 1998, an” and add, in their place, the word “An”; and remove the word “certification” and add, in its place, the word “endorsement”; and

e. In paragraph (e), remove the words “After July 31, 1998, an” and add, in their place, the word “An”; remove the words “valid for any period on or after February 1, 2002,”; and remove the word “certification” and add, in its place, the word “endorsement”.

252. Revise § 12.15-5 to read as follows:

§ 12.15-5 Physical and medical requirements.

The physical and medical requirements for an endorsement as QMED are found in § 10.215 of this chapter.

§ 12.15-7 [Amended]

253. In § 12.15-7—

a. In paragraph (a), after the words “applicant for”, remove the words “a certificate of service” and add, in their place, the words “an endorsement”;

b. In paragraph (b)(1), after the words “graduate of a school ship may”, remove the words “be rated” and add, in their place, the words “qualify for a rating endorsement”; and

c. In paragraph (c), after the words “qualified rating”, add the words “in the engineer department”.

§ 12.15-9 [Amended]

254. In § 12.15-9—

a. In paragraph (a), remove the word “certification” and add, in its place, the word “endorsement”; and b.

In paragraphs (c) and (d), remove the word “certification” wherever it appears and add, in its place, the words “an endorsement”.

§ 12.15-11 [Amended]

255. In § 12.15-11—

a. In the section heading, remove the words “merchant mariner's documents endorsed” and add, in their place, the words “an endorsement”; and

b. In the introductory text, after the words “The holder of ”, remove the words “a merchant mariner's document endorsed”, and add, in their place, the words “an endorsement”; after the words “Each qualified member of the engine department rating”, remove the words “for which a holder of a merchant mariner's document is qualified must be endorsed separately” and add, in their place, the words “must be a separate endorsement”; and after the words “all ratings covered by”, remove the words “a certificate as a qualified member of the engine department, the certification” and add, in their place, the words “an endorsement as a QMED, the endorsement”.

§ 12.15-13 [Amended]

256. In § 12.15-13—

a. In paragraph (a) introductory text, remove the words “a certificate” and add, in their place, the words “an endorsement”; and remove the words “a merchant mariner's document” and add, in their place, the words “an MMC or MMD”;

b. In paragraph (b), remove the words “merchant mariner's document” and add, in their place, the word “MMC”; and

c. In paragraph (c), remove the words “a merchant mariner's document” and add, in their place, the words “an MMC or MMD”; remove the word “unlicensed”; and after the words “entered on his”, remove the word “document” and add, in its place, the words “or her credential”.

§ 12.15-15 [Amended]

257. In § 12.15-15—

a. In paragraph (a) introductory text, remove the words “a certificate” and add, in their place, the words “an endorsement”; remove the words “a merchant mariner's document” and add, in their place, the words “an MMC or MMD”; and remove the word “certification” and add, in its place, the word “endorsement”;

b. In paragraph (b), remove the words “current merchant mariner's document held by the applicant”, and add, in their place, the words “applicant's MMC”; and

c. In paragraph (c), remove the words “a merchant mariner's document”, and add, in their place, the words “an MMC or MMD”; and remove the word “unlicensed”; and after the words “entered on his”, remove the word “document” and add, in its place, the words “or her credential”.

§ 12.25-1 [Amended]

258. In § 12.25-1—

a. In the section heading, remove the word “Certification” and add, in its place, the word “Credentials”; and

b. In the text, remove the word “certificated”; and remove the words “a merchant mariner's document” and add, in their place, the words “an MMC or MMD with the appropriate endorsement”.

259. Revise § 12.25-10 to read as follows:

§ 12.25-10 General requirements.

(a) Rating endorsements shall be issued without professional examination to applicants in capacities other than able seaman, lifeboatman, tankerman, or QMED. For example, ordinary seaman—wiper—steward's department (F.H.). Holders of MMCs or MMDs endorsed as ordinary seaman may serve in any unqualified rating in the deck department. Holders of MMCs or MMDs endorsed as wiper may serve in any unqualified rating in the engine department. MMCs or MMDs endorsed as steward's department (F.H.) will authorize the holder's service in any capacity in the steward's department. (See § 12.02-11(b) for unqualified ratings in the staff department.)

(b) When the holder of an endorsement is qualified as a food handler, the steward's department endorsement will be followed by the further endorsement (F.H.).

260. Revise § 12.25-20 to read as follows:

§ 12.25-20 Physical and medical requirements.

The physical and medical requirements for this subpart are found in part 10.

261. Revise § 12.15-25 to read as follows:

§ 12.25-25 Members of Merchant Marine Cadet Corp.

No ratings other than cadet (deck) or cadet (engine), as appropriate, and lifeboatman will be shown on an MMC issued to a member of the U.S. Merchant Marine Cadet Corps. The MMC will also indicate that it is valid only while the holder is a cadet in the U.S. Maritime Administration training program. The MMC must be surrendered upon the holder being endorsed in any other rating or upon being issued an officer's endorsement and the rating of cadet (deck) or cadet (engine) will be omitted.

§ 12.25-30 [Amended]

262. In § 12.25-30 text, remove the words “merchant mariner's document” and add, in their place, the words “MMC endorsed”; and remove the words “documents or certificates” and add, in their place, the word “endorsements”.

§ 12.25-35 [Amended]

263. In § 12.25-35—

a. In paragraph (a), remove the words “a merchant mariner's document” and add, in their place, the words “an endorsement”; and

b. In paragraph (b), remove the words “merchant mariner's document with”.

§ 12.25-40 [Amended]

264. In § 12.25-40, remove the words “a merchant mariner's document” and add, in their place, the words “an endorsement”.

§ 12.25-45 [Amended]

265. In § 12.25-45, remove the words “certificates or”.

§ 12.30-1 [Amended]

266. In § 12.30-1, remove the words “certification of” and add, in their place, the words “endorsements for”.

§ 12.30-3 [Removed and Reserved]

267. Remove and reserve § 12.30-3.

§ 12.30-5 [Amended]

268. In § 12.30-5, remove the words “after January 31, 1997,”; and remove the word “MMD” and add, in its place, the word “endorsement”.

§ 12.35-1 [Amended]

269. In § 12.35-1, remove the word “certification” and add, in its place, the word “qualification”; and remove the word “§ 12.35-3” and add, in its place, the words “part 10”.

§ 12.35-3 [Removed and Reserved]

270. Remove and reserve § 12.35-3.

§ 12.35-5 [Amended]

271. In § 12.35-5—

a. In the introductory text, remove the words “If you are an unlicensed person, then, before you” and add, in their place, the words “A mariner with no endorsements,”; and remove the words “you must” and add, in their place, the words “only after meeting the following conditions”; and

b. In paragraph (b), remove the words “you do meet”, and add, in their place, the words “the mariner meets”.

PART 13—CERTIFICATION OF TANKERMEN

272. The authority citation for part 13 continues to read as follows:

Authority: 46 U.S.C. 3703, 7317, 8105, 8703, 9102; Department of Homeland Security Delegation No. 0170.1.

§ 13.101 [Amended]

273. In § 13.101, remove the words “to a merchant mariner's document” and add, in their place, the words “on a merchant mariner credential”.

§ 13.103 [Removed and Reserved]

274. Remove and reserve § 13.103.

275. Add new § 13.106 to read as follows:

§ 13.106 Requirement to hold an MMC.

An applicant for any endorsement in this part must also meet the requirements for the MMC on which the endorsement would appear. These requirements are set out in part 10 of this chapter.

§ 13.107 [Amended]

276. In § 13.107—

a. In paragraphs (a), (b), (c), (d), (e), and (f), remove the word “MMD” wherever it appears, and add, in its place, the word “MMC”;

b. In paragraph (a), remove the words “engineer's license” and add, in its place, the words “engineer license or engineer endorsement”;

c. In paragraph (d), place quotation marks (“”) before and after the words “Tankerman-Engineer”; after the words “No person licensed”, add the words “or credentialed”; and remove the number “10.105”, and add, in its place, the number “11.105”;

d. In paragraph (e), remove the text “13.103” and add, in its place, the text “10.107”; and

e. In paragraph (f), remove the text “10.105”, and add, in its place, the text “10.217”; and remove the word “chapter” and add, in its place, the word “title”.

§ 13.109 [Amended]

277. In § 13.109(c), remove the text “10.105” and add, in its place, the text “10.217”; and remove the word “MMD” and add, in its place, the word “MMC”.

§ 13.111 [Amended]

278. In § 13.111—

a. In the section heading, after the word “Restricted”, add the word “tankerman”;

b. In paragraph (a), remove the words “46 CFR 10.105” and add, in their place, the words “§ 10.217 of this chapter”;

c. In paragraph (d)(3), after the words “passing a physical”, add the words “and medical”; and remove the words “in accordance with § 13.125” and add, in their place, the words “according to § 10.215 of this chapter”; and

d. In paragraph (f), after the words “Seafarers, 1978”, add the words “, as amended”.

§ 13.119 [Amended]

279. In § 13.119 text, remove the word “MMD” and add, in its place, the words “merchant mariner's document or merchant mariner credential on which the endorsement appears”.

§ 13.120 [Amended]

280. In § 13.120, in the section heading, before the word “endorsement”, add the word “tankerman”; remove the number “12.02-27” and add, in its place, the number “10.227”; and remove the word “MMD” and add, in its place, the word “MMC”.

§ 13.121 [Amended]

281. In § 13.121—

a. In the section heading, remove the word “training” and after the word “tankerman”, add the word “endorsements”; and

b. In paragraph (a), remove the text “10.203 and 10.304” and add, in its place, the text “11.302 and 11.304”.

§ 13.125 [Amended]

282. In § 13.125—

a. In the section heading, after the word “Physical” add the words “and medical”.

b. In the text, remove the words “10.205(d) of this chapter, excluding paragraph (d)(2) of that section” and add, in their place, the words “10.215 of this chapter”.

§ 13.129 [Amended]

283. In § 13.129—

a. In the section heading, after the word “tankerman”, add the word “endorsements”.

b. In table 13.129, in the column “Physical required”, remove the numbers “13.125”, “13.111(b)”, “13.111(c)”, and “13.111(d)(3)” wherever they appear and add, in their place, the number “10.215”.

§ 13.201 [Amended]

284. In paragraph (c), after the word “physical” add the words “and medical”; and remove the words “in accordance with § 13.125” and add, in their place, the words “according to § 10.215 of this chapter”.

§ 13.203 [Amended]

285. In § 13.203—

a. In paragraph (a)(1), after the words “service as a”, remove the word “licensed”; after the words “deck officer or”, remove the words “a licensed”; and before the word “engineering”, add the word “an”;

b. In paragraph (a)(2), remove the word “unlicensed” and add, in its place, the word “rating”; and

c. In paragraph (c) introductory text, after the word “MMD”, add the words “or MMC”.

§ 13.207 [Amended]

286. In § 13.207 text, remove the words “license or a tankerman endorsement” and add, in their place, the words “license, tankerman endorsement, or officer endorsement on an MMC”.

§ 13.301 [Amended]

287. In § 13.301(c), after the word “physical” add the words “and medical”; and remove the words “in accordance with § 13.125” and add, in their place, the words “according to § 10.215 of this chapter”.

§ 13.303 [Amended]

288. In § 13.303(c) introductory text, after the word “MMD” add the words “or MMC”.

§ 13.307 [Amended]

289. In § 13.307(a), remove the words “license or a tankerman endorsement” and add, in their place, the words “license, tankerman endorsement on an MMD or MMC, or an officer endorsement on an MMC”.

§ 13.401 [Amended]

290. In § 13.401(c), after the word “physical” add the words “and medical”; and remove the words “in accordance with § 13.125” and add, in their place, the number “according to § 10.215 of this chapter”.

§ 13.403 [Amended]

291. In § 13.403(b) introductory text, after the word “MMD” add the words “or MMC”.

§ 13.407 [Amended]

292. In § 13.407, remove the words “for a license or endorsement” and add, in their place, the words “to the Coast Guard for any other endorsement or credential”.

§ 13.501 [Amended]

293. In § 13.501(c), after the word “physical” add the words “and medical”; and remove the words “in accordance with § 13.125” and add, in their place, the words “according to § 10.215 of this chapter”.

§ 13.503 [Amended]

294. In § 13.503—

a. In paragraph (a)(1), remove the words “a licensed” and add, in their place, the word “an”; and after the words “engineering officer”, remove the word “of” and add, in its place, the word “on”;

b. In paragraph (a)(2), remove the word “unlicensed” and add, in its place, the word “rating”; and

c. In paragraph (b), after the word “MMD”, add the words “or MMC”.

§ 13.505 [Amended]

295. In § 13.505(a)(2), remove the words “licensed and unlicensed” and add, in their place, the words “officer, rating, and cadet”.

§ 13.507 [Amended]

296. In § 13.507, remove the words “license or tankerman endorsement” and add, in their place, the words “license, tankerman endorsement, or officer endorsement on an MMC”.

PART 14—SHIPMENT AND DISCHARGE OF MERCHANT MARINERS

297. The authority citation for part 14 is revised to read as follows:

Authority: 5 U.S.C. 552; 46 U.S.C. Chapters 103 and 104; 46 U.S.C. 70105.

§ 14.205 [Amended]

298. In § 14.205, after the words “every document, certificate,” add the word “ credential,”.

§ 14.207 [Amended]

299. In § 14.207(a)(1), after the words “specify at least the name, the”, remove the words “number of the license or merchant mariner's document” and add the words “TWIC number (if the mariner is required by law to hold a TWIC) and license, MMD, or MMC number,”.

§ 14.307 [Amended]

300. In § 14.307(a), remove the words “and merchant mariner's document number” and add, in their place, the words “TWIC number, and MMD or MMC number”.

PART 15—MANNING REQUIREMENTS

301. The authority citation for part 15 is revised to read as follows:

Authority: 46 U.S.C. 2101, 2103, 3306, 3703, 8101, 8102, 8104, 8105, 8301, 8304, 8502, 8503, 8701, 8702, 8901, 8902, 8903, 8904, 8905(b), 8906, 9102, and 70105; and Department of Homeland Security Delegation No. 0170.1.

§ 15.103 [Amended]

302. In § 15.103—

a. In paragraph (b), remove the words “of licensed individuals and members of the crew” and add, in their place, the words “number of officers and rated crew”; and after the words “minimum qualifications concerning licenses”, add the words “and MMC endorsements”;

b. In paragraph (c), remove the words “licensed individuals” and add, in their place, the word “officers”; and

c. In paragraph (g), remove the words “Licensed personnel” and add, in their place, the word “Personnel”; after the words “an appropriate STCW”, remove the words “certificate or endorsement” and add, in their place, the words “endorsement on their license or MMC”; and before the words “endorsement will be expressly limited”, remove the words “certificate or”.

Subpart B [Removed and Reserved]

303. Remove and reserve subpart B, consisting of § 15.301.

304. Revise § 15.401 to read as follows:

§ 15.401 Employment and service within restrictions of credential.

A person may not employ or engage an individual, and an individual may not serve, in a position in which an individual is required by law or regulation to hold a license, certificate of registry, merchant mariner's document, transportation worker identification credential, and/or merchant mariner credential, unless the individual holds all credentials required, as appropriate, authorizing service in the capacity in which the individual is engaged or employed and the individual serves within any restrictions placed on the credential. All mariners holding an active license, certificate of registry, MMD, or MMC issued by the Coast Guard must also hold a valid TWIC issued by the Transportation Security Administration under 49 CFR part 1572.

§ 15.405 [Amended]

305. In § 15.405, remove the words “licensed, registered, or certificated” and add, in their place, the word “credentialed”.

§ 15.410 [Amended]

306. In § 15.410—

a. In the section heading, remove the word “Licensed” and add, in its place, the word “Credentialed”; and

b. In the text, remove the words “a licensed individual authorized” and add, in their place, the words “an individual holding a license or MMC authorizing them”.

§ 15.415 [Removed and Reserved]

307. Remove and reserve § 15.415.

§ 15.515 [Amended]

308. In § 15.515(b) introductory text, remove the words “issued by the Coast Guard” and add, in their place, the words “or appropriate officer endorsement on their MMC”.

§ 15.520 [Amended]

309. In § 15.520—

a. In paragraph (b), remove the words “licensed individuals” and add, in their place, the word “officers”;

b. In paragraph (c), after the words “A license”, add the words “or officer endorsement on an MMC”; and after the words “operation specified on the”, remove the word “license” and add, in its place, the word “credential”;

c. In paragraph (d), after the words “endorsed as an OIM”, add the words “or an MMC with master and OIM officer endorsements”;

d. In paragraph (e), after the words “who holds a license”, add the words “or MMC officer endorsement”; and after the words “as master endorsed as OIM”, add the words “or an MMC with master and OIM officer endorsements”;

e. In paragraph (f), after the words “holds a license or” add the words “MMC officer”;

f. In paragraph (g), after the words “appropriate license”, add the words “or MMC officer endorsement”; and after the words “holding a license or”, add the words “MMC officer”; and

g. In paragraphs (h), (i), and (l), after the words “holding a license or” wherever they appear, add the words “MMC officer”.

§ 15.605 [Amended]

310. In § 15.605—

a. In the section heading, remove the word “Licensed” and add, in its place, the word “Credentialed”;

b. In the introductory text, remove the word “licensed” and add, in its place, the word “credentialed”;

c. In paragraph (a), remove the words “, carrying not more than six passengers,”; and after the words “holding a license”, add the words “or MMC endorsed”; and after the words “as operator”, add the words “of uninspected passenger vessels”; and

d. In paragraph (b), remove the word “licensed” and add, in its place, the word “credentialed”.

§ 15.610 [Amended]

311. In § 15.610—

a. In paragraph (a), after the words “and control of a person”, remove the word “licensed” and add, in its place, the words “holding a license or MMC officer endorsement”; and after the words “endorsement on his or her license”, add the words “or MMC”;

b. Remove paragraphs (b) and (c);

c. Redesignate paragraph (d) as paragraph (b); and

d. In newly redesignated paragraph (b) introductory text, remove the words “who holds a first-class pilot's license or endorsement for that route, or” and add, in their place, the words “meeting the requirements of paragraph (a) of this section who holds either a first-class pilot's endorsement for that route, MMC officer endorsement for the Western Rivers, or meets the requirements of paragraph (a) and “; and remove the words “paragraph (d)(1) or paragraph (d)(2)” and add, in their place, the words “paragraphs (b)(1) or (b)(2)”.

§ 15.701 [Amended]

312. In § 15.701(b), after the words “must hold a license”, add the words “or MMC officer endorsement”; and remove the words “part 10” and add, in their place, the words “parts 10 and 11”.

§ 15.705 [Amended]

313. In § 15.705—

a. In paragraph (b), remove the words “licensed individuals” and add, in their place, the word “officers”; and after the words “deck department other than”, remove the word “licensed”;

b. In paragraph (c) introductory text, remove the words “licensed individuals” and add, in their place, the word “officers”; and

c. In paragraphs (d) and (e)(1) and (2), remove the word “licensed” wherever it appears.

§ 15.710 [Amended]

314. In § 15.710 introductory text, after the words “on the working hours of”, remove the words “licensed individuals” and add, in their place, the words “credentialed officers”; and after the words “master or other”, remove the words “licensed individual” and add, in their place, the words “credentialed officer”.

§ 15.720 [Amended]

315. In § 15.720—

a. In the section heading, remove the words “licensed and/or documented” and add, in their place, the word “credentialed”;

b. In paragraph (a), remove the words “utilize non-U.S. licensed and documented personnel” and add, in their place, the words “use non-U.S. credentialed personnel without a TWIC,”;

c. In paragraph (b) introductory text, after the words “8103 (a) and (b)” add the following words “and the TWIC requirement of 46 U.S.C. 70105”; and after the words “U.S. citizen”, add the words “holding a TWIC.”; and

d. In paragraph (d), remove the words “license or document” wherever they appear and add, in their place, the word “credential”.

§ 15.725 [Amended]

316. In § 15.725, remove the words “licensed or documented” and add, in their place, the word “credentialed”.

§ 15.730 [Amended]

317. In § 15.730(d), remove the words “licensed individuals” wherever they appear and add, in their place, the word “officers”; and after the words “spoken directly by the”, remove the words “licensed individual” and add, in their place, the word “officer”.

§ 15.805 [Amended]

318. In § 15.805—

a. In paragraph (a) introductory text, after the words “license as”, add the words “or a valid MMC with endorsement as master”;

b. In paragraph (a)(5) introductory text, remove the word “licensed” and add, in its place, the words “holding a license or MMC endorsed”; and

c. In paragraph (a)(5)(ii), remove the word “endorsed” and add, in its place, the words “or MMC with officer endorsement”.

§ 15.810 [Amended]

319. In § 15.810—

a. In paragraph (a), remove the word “licensed”;

b. In paragraph (b) introductory text, remove the word “licensed mates” and add, in its place, the words “mariners holding a license or MMC officer endorsement as mate”;

c. In paragraph (b), remove the word “licensed” wherever it appears;

d. In paragraph (c), after the words “appropriate license”, add the words “or MMC”;

e. In paragraph (d) introductory text, remove the words “hold a license” and add, in their place, the words “satisfy the requirements of § 15.805(a)(5) or hold a license or MMC”;

f. In paragraph (d)(2) introductory text, after the words “officer's license”, add the words “or MMC”; and

g. In paragraph (d)(2)(ii), remove the word “endorsed” and add, in its place, the words “or MMC with officer endorsement”.

320. In § 15.812—

a. In table 15.812(e)(1), in the heading to the second column, after the words “First Class Pilot's licenses”, add the words “or MMC officer endorsements”;

b. In table 15.812(e)(2), in the heading to the second column, after the words “First Class Pilot's licenses”, add the words “or MMC officer endorsements”; and remove the word “Operator” wherever it appears and add, in its place, the words “Master, Mate (Pilot) of towing vessels”;

c. Revise paragraphs (b), (c), (f)(1) introductory text, (f)(1)(i), and (f)(2) introductory text to read as follows:

§ 15.812 Pilots.

* * * * *

(b) The following individuals may serve as a pilot for a vessel subject to paragraph (a) of this section, when underway on the navigable waters of the United States that are designated areas:

(1) An individual holding a valid first class pilot's license or MMC officer endorsement, operating within the restrictions of his or her credential, may serve as pilot on any vessel to which this section applies.

(2) An individual holding a valid license or MMC officer endorsement as master or mate, employed aboard a vessel within the restrictions of his or her credential, may serve as pilot on a vessel of not more than 1,600 gross tons propelled by machinery, described in paragraphs (a)(1) and (a)(3) of this section, provided he or she:

(i) Is at least 21 years old;

(ii) Complies with the currency of knowledge provisions of § 11.713 of this chapter; and

(iii) Has completed a minimum of four round trips over the route to be traversed while in the wheelhouse as watchstander or observer. At least one of the round trips must be made during the hours of darkness if the route is to be traversed during darkness.

(3) An individual holding a valid license or MMC officer endorsement as master, mate, or operator employed aboard a vessel within the restrictions of his or her credential, may serve as pilot on a tank barge or tank barges totaling not more than 10,000 gross tons, described in paragraphs (a)(1) and (a)(3) of this section, provided he or she:

(i) Is at least 21 years old;

(ii) Complies with the currency of knowledge provisions of § 11.713 of this chapter;

(iii) Has a current physical examination in accordance with the provisions of § 11.709 of this chapter;

(iv) Has at least six-months service in the deck department on towing vessels engaged in towing operations; and

(v) Has completed a minimum of twelve round trips over the route to be traversed, as an observer or under instruction in the wheelhouse. At least three of the round trips must be made during the hours of darkness if the route is to be traversed during darkness.

(c) An individual holding a valid license or MMC officer endorsement as master, mate, or operator, employed aboard a vessel within the restrictions of his or her credential, may serve as a pilot for a vessel subject to paragraphs (a)(1) and (a)(2) of this section, when underway on the navigable waters of the United States that are not designated areas of pilotage waters, provided he or she:

(1) Is at least 21 years old;

(2) Complies with the currency of knowledge provisions of § 11.713 of this chapter; and

(3) Has a current physical examination in accordance with the provisions of § 11.709 of this chapter.

* * * * *

(f) * * *

(1) When operating from 60°49′ north latitude to the Port of Valdez be under the direction and control of an individual holding a valid license or MMC endorsed as pilot who:

(i) Is operating under the authority of a license or MMC;

* * * * *

(2) Navigate with either two credentialed deck officers on the bridge or an individual holding a valid license or MMC endorsed as pilot when operating south of 60°49′ north latitude and in the approaches through Hinchinbrook Entrance and in the area bounded:

* * * * *

321. In § 15.815—

a. In paragraph (a), remove the words “licensed deck individuals” and add, in their place, the words “deck officers”; and

b. In paragraph (c), remove the words “be licensed” and add, in their place, the words “hold a license or MMC officer endorsement”; and after the words “service as master”, remove the words “, mate, or operator” and add, in their place, the words “or mate”.

c. Add new paragraphs (d) and (e) to read as follows:

§ 15.815 Radar observers.

* * * * *

(d) Each person who is required to hold a radar endorsement must have their certificate of training readily available to demonstrate that the endorsement is still valid.

(e) For this section, readily available means that the documentation must be provided to the Coast Guard or other appropriate federal agency, within 48 hours. The documentation may be provided by the individual or his or her company representative electronically, by facsimile, or physical copy.

§ 15.820 [Amended]

322. In § 15.820—

a. In paragraph (a) introductory text, remove the words “appropriate license” and add, in their place, the words “MMC or license endorsed”; and after the words “as chief engineer or”, remove the words “a license” and add, in their place, the words “other credential”;

b. In paragraph (a)(3), remove the words “a licensed individual” and add, in their place, the words “an individual with a license or the appropriate MMC officer endorsement”; and

c. In paragraph (b), remove the words “appropriate license” and add, in their place, the words “appropriately endorsed license or MMC”.

§ 15.825 [Amended]

323. In § 15.825—

a. In paragraph (a), remove the words “appropriate license” and add, in their place, the words “appropriately endorsed license or MMC”; and

b. In paragraph (b), remove the word “licensed” and add, in its place, the word “credentialed”.

§ 15.835 [Amended]

324. In § 15.835 text, remove the number “10” and add, in its place, the number “11”.

§ 15.840 [Amended]

325. In § 15.840(a), remove the words “licensed individuals” and add, in their place, the words “individuals serving as officers”.

§ 15.860 [Amended]

326. In § 15.860—

a. In paragraph (a), after the words “merchant mariner's documents” add the words “or MMCs”;

b. In paragraph (f) introductory text, after the words “merchant mariner's documents”, add the words “or MMCs”;

c. In paragraph (f)(3), remove the words “licensed person” and add, in their place, the words “credentialed officer”;

d. In paragraph (f)(4), remove the words “licensed or unlicensed person” and add, in their place, the words “officer or crewmember”; and

e. In table 15.860(a)(2), in the first column, sixth row, remove the words “Licensed Person” and add, in their place, the words “Credentialed Officer”; and in the first column, seventh row, remove the words “Licensed or Unlicensed Person” and add, in their place, the words “Credentialed Officer or Crewmember”.

§ 15.901 [Amended]

327. In § 15.901, paragraphs (a), (b), (c), and (d), after the words “holding a license” wherever they appear, add the words “or MMC endorsed”; after the words “on the individual's license” wherever they appear, add the words “or MMC”; and remove the words “authorizing service” wherever they appear.

§ 15.905 [Amended]

328. In § 15.905 (a), (b), and (c), after the words “holding a license” wherever they appear, add the words “or MMC endorsed”; and after the words “on the individual's license” wherever they appear, add the words “or MMC”.

329. Revise § 15.910 to read as follows:

§ 15.910 Towing vessels.

No person may serve as a master or mate (pilot) of any towing vessel without meeting the requirements of §§ 15.805(a)(5) or 15.810(d).

§ 15.915 [Amended]

330. In § 15.915—

a. In the introductory text, after the words “following licenses”, add the words “and MMC officer endorsements”; and after the words “on the license”, add the words “or MMC”; and

b. In paragraphs (a) introductory text, (b), (c), and (d), after the word “license” wherever it appears, add the words “or endorsement”.

§ 15.1001 [Amended]

331. In § 15.1001 remove the words “an appropriately endorsed Federal first class pilot's license issued by the Coast Guard” and add, in their place, the words “a valid MMC or license with appropriate endorsement as a first-class pilot”.

§ 15.1103 [Amended]

332. In § 15.1103—

a. In the section heading, remove the words “restrictions of a license, document, and” and add, in their place, the words “the restrictions of an”;

b. In paragraph (c), remove the words “After January 31, 2002, on” and add, in their place, the word “On”;

c. In paragraph (d), remove the words “§ 10.1005 (if licensed) or § 12.30-5 (if unlicensed) of this chapter” and add, in their place, the words “§§ 11.1005 or 12.30-5 of this chapter, as appropriate,”;

d. In paragraph (e) introductory text, remove the words “§ 10.1105 (if licensed) or § 12.35-5 (if unlicensed) of this chapter” and add, in their place, the words “§§ 11.1005 or 12.35-5 of this chapter, as appropriate,”;

e. In paragraph (f), remove the words “After January 31, 2002, on” and add, in their place, the word “On”; and after the words “appropriate certificate”, add the words “or endorsement”; and

f. In paragraph (h), remove the words “After January 31, 2002, on” and add, in their place, the word “On”; and remove the words “in accordance with § 10.205 or § 10.209” and add, in their place, the words “according to §§ 11.205 or 11.209”.

§ 15.1105 [Amended]

333. In § 15.1105(a) introductory text, (b), and (c) introductory text, remove the words “After January 31, 1997, on” wherever they appear and add, in their place, the word “On”.

§ 15.1107 [Amended]

335. In § 15.1107—

a. In the introductory text, after the words “mariner holding a license”, add the words “, MMC,”; and

b. In paragraph (c), remove the words “licenses, documents, or endorsements” and add, in their place, the word “credentials”.

§ 15.1111 [Amended]

334. In § 15.1111, paragraph (a), remove the words “After January 31, 1997, each” and add, in their place, the word “Each”.

PART 16—CHEMICAL TESTING

335. The authority citation for part 16 continues to read as follows:

Authority: 46 U.S.C. 2103, 3306, 7101, 7301, and 7701; Department of Homeland Security Delegation No. 0170.1.

336. In § 16.105, add, in alphabetical order, a definition for “credential” and in the definition for “crewmember”, redesignate paragraphs (a), (b), (b)(1), (b)(2), (b)(3), and (b)(4) as paragraphs (1), (2), (2)(i), (2)(ii), (2)(iii), and (2)(iv) respectively and revise the introductory text and newly redesignated paragraphs (1) and (2) introductory text to read as follows:

§ 16.105 Definitions of terms used in this part.

* * * * *

Credential is a term used to refer to any or all of the following:

(1) Merchant mariner's document.

(2) Merchant mariner's license.

(3) STCW endorsement.

(4) Certificate of registry.

(5) Merchant mariner credential.

Crewmember means an individual who is—

(1) Onboard a vessel acting under the authority of a credential issued under this subchapter, whether or not the individual is a member of the vessel's crew; or

(2) Engaged or employed onboard a vessel owned in the United States that is required by law or regulation to engage, employ, or be operated by an individual holding a credential issued under this subchapter, except for the following:

* * * * *

§ 16.113 [Amended]

337. In § 16.113(a), remove the words “documented and licensed” and add, in their place, the word “credentialed”.

§ 16.201 [Amended]

338. In § 16.201—

a. In paragraph (c), after the words “If an individual holding”, remove the words “a license, certificate of registry, or merchant mariner's document” and add, in their place, the words “a credential”; and, after the words “against his or her”, remove the words “license, certificate of registry, or merchant mariner's document” and add, in their place, the word “credential”; and

b. In paragraph (d), remove the words “a license, certificate of registry, or merchant mariner's document” and add, in their place, the words “a credential”.

339. Revise § 16.220(a) and (b) to read as follows:

§ 16.220 Periodic testing requirements.

(a) Except as provided by paragraph (c) of this section and § 10.227(e) of this chapter, an applicant must pass a chemical test for dangerous drugs for—

(1) An original issuance of a license, COR, MMD, or MMC;

(2) The first issuance, raise of grade, or renewal of an officer endorsement on a merchant mariner credential;

(3) A raise of grade of a license or COR;

(4) The first endorsement as an able seaman, lifeboatman, qualified member of the engine department, or tankerman; or

(5) A reissuance of a credential with a new expiration date. The applicant must provide the results of the test to the Coast Guard Regional Examination Center (REC) at the time of submitting an application. The test results must be completed and dated not more than 185 days before submission of the application.

(b) Unless excepted under paragraph (c) of this section, each pilot required by this subchapter to receive an annual physical examination must pass a chemical test for dangerous drugs as a part of that examination, and provide the results to the Coast Guard. Applicants need not submit additional copies of their annual chemical test for dangerous drugs pursuant to paragraph (a) if the applicant submitted passing results of a chemical test for dangerous drugs to the Coast Guard within 12 months of the date of application.

* * * * *

§ 16.230 [Amended]

340. In § 16.230—

a. In paragraph (b)(1), remove the words “issued by the Coast Guard hold a license” and add, in their place the words “hold a license or MMC endorsed as master, mate, or operator”; and

b. In paragraph (k), remove the words “license or merchant mariner's document” and add, in their place, the word “credential”.

§ 16.250 [Amended]

341. In § 16.250, in paragraph (a), remove the words “license, certificate of registry, or merchant mariner's document” and add, in their place, the word “credential”.

PART 26—OPERATIONS

342. The authority citation for part 26 continues to read as follows:

Authority: 46 U.S.C. 3306, 4104, 6101, 8105; Pub. L. 103-206, 107 Stat. 2439; E.O. 12234, 45 FR 58801, 3 CFR, 1980 Comp., p. 277; Department of Homeland Security Delegation No. 0170.1.

Subpart 26.20—[Amended]

343. In the heading to subpart 26.20, remove the word “License” and add, in its place, the word “Credential”.

§ 26.20-1 [Amended]

344. In § 26.20-1, after the words “valid Coast Guard license” add the words “or MMC officer endorsement”; and after the words “must have the license” add the words “or MMC”.

PART 28—REQUIREMENTS FOR COMMERCIAL FISHING INDUSTRY VESSELS

345. The authority citation for part 28 continues to read as follows:

Authority: 46 U.S.C. 3316, 4502, 4505, 4506, 6104, 10603; Department of Homeland Security Delegation No. 0170.1.

§ 28.275 [Amended]

346. In § 28.275—

a. In paragraph (a)(2) introductory text, remove the words “merchant mariner's license” and add, in their place, the words “license or officer endorsement”; and remove the words “64 CFR” and add, in their place, the text “§ ”; and

b. In paragraph (a)(3) introductory text, remove the words “merchant mariner's license” and add, in their place, the words “license or officer endorsement”; and remove the words “46 CFR” and add, in their place, the text “§ ”.

PART 30—GENERAL PROVISIONS

347. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.10-71 [Amended]

348. In § 30.10-71 introductory text, remove the words “merchant mariners' documents” and add, in their place, the word “endorsements”.

PART 31—INSPECTION AND CERTIFICATION

349. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.15-1 [Amended]

350. In § 31.15-1, in the section heading, remove the words “Licensed officers” and add, in their place, the word “Officers”.

PART 35—OPERATIONS

351. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.05-1 [Amended]

352. In § 35.05-1—

a. In the section heading, remove the words “Licensed officers” and add, in their place, the word “Officers”; and

b. In the text, remove the words “licensed” and “certificated” wherever they appear.

PART 42—DOMESTIC AND FOREIGN VOYAGES BY SEA

353. The authority citation for part 42 continues to read as follows:

Authority: 46 U.S.C. 5101-5116; Department of Homeland Security Delegation No. 0170.1; section 42.01-5 also issued under the authority of 44 U.S.C. 3507.

354. Add new § 42.05-70 to read as follows:

§ 42.05-70 Credential.

As used in this subchapter, credential means any or all of the following:

(a) Merchant mariner's document.

(b) Merchant mariner's license.

(c) STCW endorsement.

(d) Certificate of registry.

(e) Merchant mariner credential.

§ 42.07-50—[Amended]

355. In § 42.07-50(b)(5), remove the words “license or merchant mariner's document” and add, in their place, the word “credential”.

PART 58—MAIN AND AUXILIARY MACHINERY AND RELATED SYSTEMS

356. The authority citation for part 58 continues to read as follows:

Authority: 43 U.S.C. 1333; 46 U.S.C. 3306, 3703; E.O. 12234, 45 FR 58801, 3 CFR, 1980 Comp., p. 277; Department of Homeland Security Delegation No. 0170.1.

§ 58.16-19—[Amended]

357. In § 58.16-19(b), remove the word “licensed” and add, in its place, the word “credentialed”.

PART 61—PERIODIC TESTS AND INSPECTIONS

358. The authority citation for part 61 continues to read as follows:

Authority: 43 U.S.C. 1333; 46 U.S.C. 2103, 3306, 3307, 3703; E.O. 12234, 45 FR 58801, 3 CFR 1980 Comp., p. 277; Department of Homeland Security Delegation No. 0170.1.

§ 61.15-10 [Amended]

359. In § 61.15-10(a), remove the words “a licensed” and add, in their place, the words “an appropriately credentialed”.

PART 78—OPERATIONS

360. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

Subpart 78.65—[Amended]

361. In the heading to subpart 78.65, remove the word “License” and add, in its place, the words “Merchant Mariner Credential”;

362. Revise § 78.65-1 to read as follows:

§ 78.65-1 Officers.

All officers on a vessel must have their merchant mariner credentials conspicuously displayed.

PART 97—OPERATIONS

363. The authority citation for part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; Department of Homeland Security Delegation No. 0170.1.

Subpart 97.53—[Amended]

364. In the heading to subpart 97.53, remove the word “License” and add, in its place, the words “Merchant Mariner Credential”;

365. Revise § 97.53-1 to read as follows:

§ 97.53-1 Officers.

All officers on a vessel must have their merchant mariner credentials conspicuously displayed.

PART 98—SPECIAL CONSTRUCTION, ARRANGEMENT, AND OTHER PROVISIONS FOR CERTAIN DANGEROUS CARGOES IN BULK

366. The authority citation for part 98 continues to read as follows:

Authority: 33 U.S.C. 1903; 46 U.S.C. 3306, 3307, 3703; 49 U.S.C. App. 1804; E.O. 12234, 45 FR 58801, 3 CFR, 1980 Comp., p. 277; Department of Homeland Security Delegation No. 0170.1.

§ 98.30-17 [Amended]

367. In § 98.30-17—

a. In paragraph (b)(1), before the words “merchant mariner's document”, add the words “endorsement on his or her merchant mariner credential or”; and

b. In paragraph (b)(2), remove the words “license or certificate” and add, in their place, the words “merchant mariner credential, license, or certificate”; and remove the words “on his or her MMD”.

PART 105—COMMERCIAL FISHING VESSELS DISPENSING PETROLEUM PRODUCTS

368. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.05-10 [Amended]

369. In § 105.05-10(c)(2), remove the word “licensed”.

§ 105.45-1 [Amended]

370. In § 105.45-1—

a. In paragraph (a)(1), remove the word “documents” and add, in its place, the words “merchant mariner credentials or merchant mariner's documents”;

b. In paragraph (b)(1), before the words “merchant mariner's document”, add the words “merchant mariner credential or”; and

c. In paragraph (b)(2), after the word “license”, add the words “or merchant mariner credential”.

PART 114—GENERAL PROVISIONS

371. The authority citation for part 114 continues to read as follows:

Authority: 46 U.S.C. 2103, 3306, 3703; Pub. L. 103-206, 107 Stat. 2439; 49 U.S.C. App. 1804; Department of Homeland Security No. 0170.1; § 114.900 also issued under 44 U.S.C. 3507.

§ 114.400 [Amended]

372. In § 114.400(b), in the definition for “Master”, after the word “license”, add the words “or merchant mariner credential”.

PART 115—INSPECTION AND CERTIFICATION

373. The authority citation for part 115 is revised to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 115.113 [Amended]

374. In § 115.113(b)(1)(iii), remove the word “licensed” and add, in its place, the word “credentialed”.

PART 122—OPERATIONS

375. The authority citation for part 122 continues to read as follows:

Authority: 46 U.S.C. 2103, 3306, 6101; E.O. 12234, 45 FR 58801, 3 CFR, 1980 Comp., p. 277; Department of Homeland Security Delegation No. 0170.1.

§ 122.402 [Amended]

376. In § 122.402—

a. In the section heading, remove the word “Licenses” and add, in its place, the word “Officers”; and

b. In the text, remove the words “licensed individual” and add, in their place, the word “officer”; and remove the words “shall have his or her “license” and add, in their place, the words “must have his or her license or merchant mariner credential”.

§ 122.910 [Amended]

377. In § 122.910, after the words “An individual holding a” add the words “merchant mariner credential,”; and after the words “suspension or revocation of a” remove the words “license, certificate, or document” and add, in their place, the word “credential”.

PART 125—GENERAL

378. The authority for part 125 continues to read as follows:

Authority: 46 U.S.C. 2103, 3306, 3307; 49 U.S.C. App. 1804; Department of Homeland Security Delegation No. 0170.1.

379. In § 125.160 add, in alphabetical order, a definition for the term “credential” to read as follows:

§ 125.160 Definitions.

* * * * *

Credential means any or all of the following:

(1) Merchant mariner's document.

(2) Merchant mariner's license.

(3) STCW endorsement.

(4) Certificate of registry.

(5) Merchant mariner credential.

* * * * *

PART 131—OPERATIONS

380. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

§ 131.410 [Amended]

381. In § 131.410, before the words “merchant mariner's document” wherever they appear, add the words “merchant mariner credential or”.

§ 131.905 [Amended]

382. In § 131.905(b), after the words “the suspension or revocation of” add the words “credentials”.

383. Revise § 131.955 to read as follows:—

§ 131.955 Display of merchant mariner credential.

Each officer on a vessel must conspicuously display his or her license or merchant mariner credential as required by 46 U.S.C. 7110.

PART 151—BARGES CARRYING BULK LIQUID HAZARDOUS MATERIAL CARGOES

384. The authority citation for part 151 continues to read as follows:

Authority: 33 U.S.C. 1903; 46 U.S.C. 3703; Department of Homeland Security Delegation No. 0170.1.

§ 151.03-53 [Amended]

385. In § 151.03-53 introductory text, before the words “merchant mariner's documents”, add the words “merchant mariner credentials or”.

PART 166—DESIGNATION AND APPROVAL OF NAUTICAL SCHOOL SHIPS

386. The authority citation for part 166 continues to read as follows:

Authority: 46 U.S.C. 2103, 3306, 8105; 46 U.S.C. App. 1295g; Department of Homeland Security Delegation No. 0170.1.

§ 166.01 [Amended]

387. In § 166.01(a), before the words “or merchant mariner's documents” add the words “on merchant mariner credentials”.

PART 169—SAILING SCHOOL VESSELS

388. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.107 [Amended]

389. In § 169.107, in the definition for “Master”, remove the word “licensed” and add, in its place, the word “credentialed”.

§ 169.805 [Amended]

390. In § 169.805—

a. In the section heading, remove the word “licenses” and add, in its place, the words “merchant mariner credentials”; and

b. In the text, remove the words “Licensed personnel” and add, in their place, the word “Officers”; and remove the words “shall have their licenses” and add, in their place, the words “must have their license or merchant mariner credential”.

PART 175—GENERAL PROVISIONS

391. The authority citation for part 175 continues to read as follows:

Authority: 46 U.S.C. 2103, 3205, 3306, 3703; Pub. L. 103-206, 107 Stat. 2439; 49 U.S.C. App. 1804; Department of Homeland Security Delegation No. 0170.1; 175.900 also issued under authority of 44 U.S.C. 3507.

§ 175.118 [Amended]

392. In § 175.118(c)(3), after the words “All officers must be”, remove the word “licensed” and add, in its place, the word “endorsed”; remove the words “licensed engineer” and add, in their place, the words “an appropriately endorsed engineer officer”; before the words “merchant mariner documents”, add the words “merchant mariner credentials or”; and remove the words “unlicensed deck crew must be rated as” and add, in their place, the words “rated deck crew must be”.

§ 175.400 [Amended]

393. In § 175.400, in the definition for “Master”, remove the word “license” and add, in its place, the words “merchant mariner credential”.

PART 176—INSPECTION AND CERTIFICATION

394. The authority citation is revised to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 176.113 [Amended]

395. In § 176.113(b)(1)(iii), remove the word “licensed”.

PART 185—OPERATIONS

396. The authority citation continues to read as follows:

Authority: 46 U.S.C. 2103, 3306, 6101; E.O. 12234, 45 FR 58801, 3 CFR, 1980 Comp., p. 277; Department of Homeland Security Delegation No. 0170.1.

397. Revise § 185.402 to read as follows:

§ 185.402 Officers.

Each officer employed on any vessel subject to this subchapter must have his or her license or merchant mariner credential onboard and available for examination at all times when the vessel is operating.

§ 185.910 [Amended]

398. In § 185.910, after the words “individual holding a”, add the words “merchant mariner credential,”; and after the words “suspension or revocation of a”, add the words “merchant mariner credential”.

PART 196—OPERATIONS

399. The authority citation for part 196 continues to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; Department of Homeland Security Delegation No. 0170.1.

Subpart 196.53—[Amended]

400. In the heading to subpart 196.53, remove the word “License” and add, in its place, the word “Credential”.

401. Revise § 196.53-1 to read as follows:

§ 196.53-1 Officers.

All officers on a vessel must have their licenses or merchant mariner credentials conspicuously displayed.

PART 199—LIFESAVING SYSTEMS FOR CERTAIN INSPECTED VESSELS

402. The authority citation for part 199 continues to read as follows:

Authority: 46 U.S.C. 3306, 3703; Pub. L. 103-206, 107 Stat. 2439; Department of Homeland Security Delegation No. 0170.1.

§ 199.30 [Amended]

403. In § 199.30, in the definition for “Certificated person”, after the words “merchant mariner's document”, add the words “or merchant mariner credential”.

PART 401—GREAT LAKES PILOTAGE REGULATIONS

404. The authority citation for part 401 continues to read as follows:

Authority: 46 U.S.C. 2104(a), 6101, 7701, 8105, 9303, 9304 and 70105; Department of Homeland Security Delegation No. 0170.1; 46 CFR 401.105 also issued under the authority of 44 U.S.C. 3507.

405. In § 401.110—

a. In paragraph (a)(8), after the word “license”, add the words “or merchant mariner credential”; and

b. In paragraph (a)(12), after the words “who holds a license”, add the words “or merchant mariner credential endorsed”.

c. Add a new paragraph (a)(17) to read as follows:

§ 401.110 Definitions.

(a) * * *

(17) Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 401.210 [Amended]

406. In § 401.210—

a. In paragraph(a)(1), after the words “individual holds a”, remove the word “license” and add, in its place, the words “MMC endorsed”.

b. In paragraph (a)(6), after the words “Coast Guard”, add the words “or a valid Transportation Worker Identification Credential”.

§ 401.220 [Amended]

407. In § 401.220(d), remove the word “license” and add, in its place, the word “endorsement”.

§ 401.230 [Amended]

408. In § 401.230(a), remove the word “license” and add, in its place, the word “endorsement”.

§ 401.250 [Amended]

409. In § 401.250(d), after the words “whenever his or her license”, add the words “or MMC officer endorsement”; after the words “simultaneously with his or her license”, add the words “and/or MMC”; after the words “If the license”, add the words “or officer endorsement”; and after the words “with the suspended license”, add the words “or officer endorsement”.

PART 402—GREAT LAKES PILOTAGE RULES AND ORDERS

410. The authority citation for part 402 continues to read as follows:

Authority: 46 U.S.C. 2104(a), 8105, 9303, 9304; 49 CFR 1.46 (mmm).

§ 402.220 [Amended]

411. In § 402.220(a)(1), (a)(2), and (a)(3), remove the word “license” wherever it appears and add, in its place, the word “endorsement”.

Dated: December 29, 2006.
Brian M. Salerno,
Rear Admiral, U.S. Coast Guard, Assistant Commandant for Prevention, Acting.

[FR Doc. 07-18 Filed 1-24-07; 8:45 am]

BILLING CODE 4910-15-P